OFFICE OF THE UNITED STATES TRADE REPRESENTATIVE

[Docket Number USTR-2019-0004]

Request for Comments Concerning Proposed Modification of Action Pursuant to Section 301: China's Acts, Policies, and Practices Related to Technology Transfer, Intellectual Property, and Innovation

AGENCY: Office of the United States Trade Representative.

ACTION: Request for comments and notice of public hearing.

SUMMARY: In accordance with the direction of the President, the U.S. Trade Representative (Trade Representative) proposes a modification of the action being taken in this Section 301 investigation of the acts, policies, and practices of the Government of China related to technology transfer, intellectual property, and innovation. The proposed modification is to take further action in the form of an additional ad valorem duty of up to 25 percent on products of China with an annual trade value of approximately $300 billion. The products subject to this proposed modification are classified in the HTSUS subheadings set out in the Annex to this notice. The Office of the U.S. Trade Representative (USTR) is seeking public comment and will hold a public hearing regarding this proposed modification.

DATES: To be assured of consideration, you must submit comments and responses in accordance with the following schedule:

June 10, 2019: Due date for filing requests to appear and a summary of expected testimony at the public hearing.

June 17, 2019: Due date for submission of written comments.

June 17, 2019: The Section 301 Committee will convene a public hearing in the main hearing room of the U.S. International Trade Commission, 500 E Street SW, Washington, DC 20436, that begins at 9:30 a.m.

Seven days after the last day of the public hearing: Due date for submission of post-hearing rebuttal comments.

FOR FURTHER INFORMATION CONTACT: For questions about this proposed action, contact Assistant General Counsels Arthur Tsao or Megan Grimball, or Director of Industrial Goods Justin Hoffmann at (202) 395-5725. For questions on customs classification, contact traderemedy@cbp.dhs.gov.

SUPPLEMENTARY INFORMATION:

A. Prior Determinations in the Investigation

For background on the proceedings in this investigation, please see the prior notices issued in the investigation, including 82 FR 40213 (August 24, 2017), 83 FR 14906 (April 6, 2018), 83 FR 28710 (June 20, 2018), 83 FR 33608 (July 17, 2018), 83 FR 38760 (August 7, 2018), 83 FR 40823 (August 16, 2018), 83 FRN 47974 (September 21, 2018), and 84 FRN 20459 (May 9, 2019).

On August 18, 2017, USTR initiated an investigation into certain acts, policies, and practices of the Government of China related to technology transfer, intellectual property, and innovation (82 FR 40213). During the investigation, the Trade Representative determined that the acts, policies, and practices of China under investigation are unreasonable or discriminatory and burden or restrict U.S. commerce, and are thus actionable under Section 301(b) of the Trade Act of 1974, as amended (Trade Act).

At the direction of the President, the Trade Representative determined to take actions resulting in the imposition of an additional 25 percent duty on products of China with an annual trade value of approximately $250 billion. The additional duties were imposed in three tranches. Tranche 1 covered 818 tariff subheadings, with an approximate annual trade value of $34 billion. See 83 FR 28710 (June 20, 2018). Tranche 2 covered 279 tariff subheadings, with an approximate annual trade value of $16 billion. See 83 FR 40823 (August 16, 2018). Tranche 3 covered 5733 tariff subheadings, with an approximate annual trade value of $200 billion. See 83 FR 47974 (September 21, 2018); 83 FR 49153 (September 28, 2018); and 84 FR 20459 (May 9, 2019).

B. Proposed Modification of Action

The United States is engaging with China with the goal of obtaining the elimination of the acts, policies, and practices covered in the investigation. The leaders of the United States and China met on December 1, 2018, and agreed to hold negotiations on a range of issues, including those covered in this Section 301 investigation. See https://www.whitehouse.gov/briefings-statements/statement-press-secretary-regarding-presidents-working-dinner-china/. Since the meeting on December 1, the United States and China have engaged in additional rounds of negotiation on these issues, including meetings in March, April, and May of 2019. Shortly in advance of the last scheduled round, China retreated from specific commitments made in previous rounds. China also has announced further retaliatory action against U.S. commerce. The United States and China intend to continue further discussions.

Section 301(b) of the Trade Act provides that “the Trade Representative shall take all appropriate and feasible action authorized under [section 301(c)], subject to the specific direction, if any, of the President regarding any such action . . . to obtain the elimination of [the] act, policy, or practice” covered in the investigation. Section 307 of the Trade Act provides that “[t]he Trade Representative may modify or terminate any action, subject to the specific direction, if any, of the President with respect to such action, that is being taken under [section 301] if . . . the burden or restriction on United States commerce . . . of the acts, policies, and practices that are the subject of such action has increased or decreased or if such action is being taken under section 301(b) of this title and is no longer appropriate.” In light of China's failure to meaningfully address the acts, policies, and practices that are subject to this investigation and its response to the current action being taken in this investigation, and at the direction of the President, the Trade Representative proposes to modify the action being taken in this investigation.

In particular, in accordance with the direction of the President, the Trade Representative is proposing to modify the action being taken in this investigation by taking further action in the form of an additional ad valorem duty of up to 25 percent on products of China covered in the list of 3,805 full and partial tariff subheadings set out in the Annex to this notice. The proposed product list has an approximate annual trade value of $300 billion. The proposed product list covers essentially all products not currently covered by action in this investigation. The proposed product list excludes pharmaceuticals, certain pharmaceutical inputs, select medical goods, rare earth materials, and critical minerals. Product exclusions granted by the Trade Representative on prior tranches from this investigation will not be affected.

Any merchandise subject to the increased tariffs admitted into a U.S. foreign trade zone on or after the effective date of the increased tariffs, except those eligible for admission under “domestic status” as defined in 19 CFR 146.43, would have to be admitted as “privileged foreign status” as defined in 19 CFR 146.41, and would be subject upon entry for consumption to the additional duty.

D. Request for Public Comments

USTR invites comments from interested persons with respect to the proposed action to be taken in the investigation. To be assured of consideration, you must submit written comments by June 17, 2019. Post-hearing rebuttal comments, which should be limited to rebutting or supplementing testimony at the hearing, must be submitted within seven days after the last day of the public hearing. USTR requests comments with respect to any aspect of the proposed action, including:

• The specific tariff subheadings to be subject to increased duties, including whether the subheadings listed in the Annex should be retained or removed, or whether subheadings not currently on the list should be added.

• The level of the increase, if any, in the rate of duty.

• The appropriate aggregate level of trade to be covered by additional duties.

In commenting on the inclusion or removal of particular tariff subheadings listed in the Annex, USTR requests that commenters address specifically whether imposing increased duties on a particular product would be practicable or effective to obtain the elimination of China's acts, policies, and practices, and whether imposing additional duties on a particular product would cause disproportionate economic harm to U.S. interests, including small- or medium-size businesses and consumers.

E. Hearing Participation

The Section 301 Committee will convene a public hearing in the main hearing room of the U.S. International Trade Commission, 500 E Street SW, Washington, DC 20436, beginning at 9:30 a.m. on June 17, 2019. You must submit requests to appear at the hearing by June 10, 2019. The request to appear must include a summary of testimony, and may be accompanied by a pre-hearing submission. Remarks at the hearing may be no longer than five minutes to allow for possible questions from the Section 301 Committee.

All requests to appear at the hearing must be in English and sent electronically via www.regulations.gov. To submit a request to appear at the hearing via www.regulations.gov, enter docket number USTR-2019-0004 on the home page and click `search.' The site will provide a search-results page listing all documents associated with this docket. Find a reference to this notice and click on the link titled `comment now!'. In the `comment' field, include the name, address, email address, and telephone number of the person presenting the testimony. Attach a summary of the proposed testimony, and a pre-hearing submission if provided, by using the `upload file' field. The file name should include both the name of the person who will be presenting testimony and the entity they represent. In addition, please submit a request to appear and a PDF of the summary of proposed testimony by email to 301investigation@ustr.eop.gov. In the subject line of the email, please include the name of the person who will be presenting testimony, followed by `request to appear.' Please also include the name, address, email address, and telephone number of the person presenting testimony in the body of the email message.

F. Procedures for Written Submissions

All submissions must be in English and sent electronically via www.regulations.gov. To submit comments via www.regulations.gov, enter docket number USTR-2019-0004 on the home page and click `search.' The site will provide a search-results page listing all documents associated with this docket. Find a reference to this notice and click on the link titled `comment now!' For further information on using the www.regulations.gov website, please consult the resources provided on the website by clicking on `How to Use Regulations.gov' on the bottom of the home page. We will not accept hand-delivered submissions.

The www.regulations.gov website allows users to submit comments by filling in a `comment' field or by attaching a document using an `upload file' field. USTR prefers that you submit comments in an attached document. If you attach a document, it is sufficient to type `see attached' in the `comment' field. USTR prefers submissions in Microsoft Word (.doc) or searchable Adobe Acrobat (.pdf). If you use an application other than those two, please indicate the name of the application in the `comment' field.

File names should reflect the name of the person or entity submitting the comments. Please do not attach separate cover letters to electronic submissions; rather, include any information that might appear in a cover letter in the comments themselves. Similarly, to the extent possible, please include any exhibits, annexes, or other attachments in the same file as the comment itself, rather than submitting them as separate files.

For any comments submitted electronically that contain business confidential information, the file name of the business confidential version should begin with the characters `BC'. Any page containing business confidential information must be clearly marked `BUSINESS CONFIDENTIAL' on the top of that page and the submission should clearly indicate, via brackets, highlighting, or other means, the specific information that is business confidential. If you request business confidential treatment, you must certify in writing that disclosure of the information would endanger trade secrets or profitability, and that the information would not customarily be released to the public. Filers of submissions containing business confidential information also must submit a public version of their comments. The file name of the public version should begin with the character `P'. The `BC' and `P' should be followed by the name of the person or entity submitting the comments or rebuttal comments. If these procedures are not sufficient to protect business confidential information or otherwise protect business interests, please contact the USTR Tech Transfer Section 301 line at (202) 395-5725 to discuss whether alternative arrangements are possible.

USTR will post submissions in the docket for public inspection, except business confidential information. You can view submissions on the www.regulations.gov website by entering docket number USTR-2019-0004 in the search field on the home page.

Joseph Barloon,
General Counsel, Office of the U.S. Trade Representative.

Annex—Proposed Product List
Section 1
[All products that are classified in the 8-digit subheadings of the Harmonized Tariff Schedule of the United States (HTS) that are listed in Section 1 of this Annex are covered by the proposed action. The product descriptions that are contained in Section 1 of this Annex are provided for informational purposes only, and are not intended to delimit in any way the scope of the proposed action. Any questions regarding the scope of a particular HTS subheading should be referred to U.S. Customs and Border Protection. In the product descriptions, the abbreviation “nesoi” means “not elsewhere specified or included”.]
HTS subheading | Product description
0101.21.00 | Live purebred breeding horses.
0101.29.00 | Live horses other than purebred breeding horses.
0101.30.00 | Live asses.
0101.90.30 | Mules and hinnies imported for immediate slaughter.
0101.90.40 | Mules and hinnies not imported for immediate slaughter.
0102.21.00 | Live purebred breeding cattle.
0102.29.20 | Cows imported specially for dairy purposes.
0102.29.40 | Live cattle other than purebred or those imported for dairy purposes.
0102.31.00 | Live purebred breeding buffalo.
0102.39.00 | Live buffalo, other than purebred breeding animals.
0102.90.00 | Live bovine animals, other than cattle and buffalo.
0103.10.00 | Live purebred breeding swine.
0103.91.00 | Live swine, other than purebred breeding swine, weighing less than 50 kg each.
0103.92.00 | Live swine, other than purebred breeding swine, weighing 50 kg or more.
0104.10.00 | Live sheep.
0104.20.00 | Live goats.
0105.11.00 | Live chickens weighing not over 185 g each.
0105.12.00 | Live turkeys weighing not more than over 185 g each.
0105.13.00 | Live ducks, weighing not more than 185 g each.
0105.14.00 | Live geese, weighing not more than 185 g each.
0105.15.00 | Live guinea fowls, weighing not more than 185 g each.
0105.94.00 | Live Poultry; Chickens.
0105.99.00 | Live ducks, geese, turkeys and guineas, weighing over 185 g each.
0106.11.00 | Live primates.
0106.12.01 | Live whales, dolphins and porpoises; manatees and dugongs, seals, sea lions, and walruses.
0106.13.00 | Live camels and other camelids (Camelidae).
0106.14.00 | Live rabbits and hares.
0106.19.30 | Live foxes.
0106.19.91 | Live mammals, not elsewhere specified or included.
0106.20.00 | Live reptiles (including snakes and turtles).
0106.31.00 | Live birds of prey.
0106.32.00 | Live psittaciforme birds (including parrots, parakeets, macaws and cockatoos).
0106.33.00 | Ostriches; emus.
0106.39.01 | Live birds, other than poultry, birds of prey or psittaciforme birds.
0106.41.00 | Bees.
0106.49.00 | Live insects other than bees.
0106.90.01 | Live animals other than mammals, reptiles, insects, and birds.
0201.10.05 | Bovine carcasses and halves, fresh or chld., descr. in gen. note 15 of the HTS.
0201.10.10 | Bovine carcasses and halves, fresh or chld., descr. in add. US note 3 to Ch. 2.
0201.10.50 | Bovine carcasses and halves, fresh or chld., other than descr. in gen. note 15 or add. US note 3 to Ch. 2.
0201.20.02 | High-qual. beef cuts w/bone in, processed, fresh or chld., descr in gen. note 15 of the HTS.
0201.20.04 | Bovine meat cuts (except high-qual. beef cuts), w/bone in, processed, fresh or chld., descr in gen. note 15 of the HTS.
0201.20.06 | Bovine meat cuts, w/bone in, not processed, fresh or chld., descr in gen. note 15 of the HTS.
0201.20.10 | High-qual. beef cuts, w/bone in, processed, fresh or chld., descr in add. US note 3 to Ch. 2.
0201.20.30 | Bovine meat cuts (except high-qual. beef cuts), w/bone in, processed, fresh or chld., descr in add. US note 3 to Ch. 2.
0201.20.50 | Bovine meat cuts, w/bone in, not processed, fresh or chld., descr in add. US note 3 to Ch. 2.
0201.20.80 | Bovine meat cuts, w/bone in, fresh or chld., not descr in gen. note 15 or add. US note 3 to Ch. 2.
0201.30.02 | High-qual. beef cuts, boneless, processed, fresh or chld., descr in gen. note 15 of the HTS.
0201.30.04 | Bovine meat cuts (except high-qual. beef cuts), boneless, processed, fresh or chld., descr in gen. note 15 of the HTS.
0201.30.06 | Bovine meat cuts, boneless, not processed, fresh or chld., descr in gen. note 15 of the HTS.
0201.30.10 | High-qual. beef cuts, boneless, processed, fresh or chld., descr in add. US note 3 to Ch. 2.
0201.30.30 | Bovine meat cuts (except high-qual. beef cuts), boneless, processed, fresh or chld., descr in add. US note 3 to Ch. 2.
0201.30.50 | Bovine meat cuts, boneless, not processed, fresh or chld., descr in add. US note 3 to Ch. 2.
0201.30.80 | Bovine meat cuts, boneless, fresh or chld., not descr in gen. note 15 or add. US note 3 to Ch. 2.
0202.10.05 | Bovine carcasses and halves, frozen, descr. in gen. note 15 of the HTS.
0202.10.10 | Bovine carcasses and halves, frozen, descr. in add. US note 3 to Ch. 2.
0202.10.50 | Bovine carcasses and halves, frozen, other than descr. in gen. note 15 or add. US note 3 to Ch. 2.
0202.20.02 | High-qual. beef cuts w/bone in, processed, frozen, descr in gen. note 15 of the HTS.
0202.20.04 | Bovine meat cuts (except high-qual. beef cuts), w/bone in, processed, frozen, descr in gen. note 15 of the HTS.
0202.20.06 | Bovine meat cuts, w/bone in, not processed, frozen, descr in gen. note 15 of the HTS.
0202.20.10 | High-qual. beef cuts, w/bone in, processed, frozen, descr in add. US note 3 to Ch. 2.
0202.20.30 | Bovine meat cuts (except high-qual. beef cuts), w/bone in, processed, frozen, descr in add. US note 3 to Ch. 2.
0202.20.50 | Bovine meat cuts, w/bone in, not processed, frozen, descr in add. US note 3 to Ch. 2.
0202.20.80 | Bovine meat cuts, w/bone in, frozen, not descr in gen. note 15 or add. US note 3 to Ch. 2.
0202.30.02 | High-qual. beef cuts, boneless, processed, frozen, descr in gen. note 15 of the HTS.
0202.30.04 | Bovine meat cuts (except high-qual. beef cuts), boneless, processed, frozen, descr in gen. note 15 of the HTS.
0202.30.06 | Bovine meat cuts, boneless, not processed, frozen, descr in gen. note 15 of the HTS.
0202.30.10 | High-qual. beef cuts, boneless, processed, frozen, descr in add. US note 3 to Ch. 2.
0202.30.30 | Bovine meat cuts (except high-qual. beef cuts), boneless, processed, frozen, descr in add. US note 3 to Ch. 2.
0202.30.50 | Bovine meat cuts, boneless, not processed, frozen, descr in add. US note 3 to Ch. 2.
0202.30.80 | Bovine meat cuts, boneless, frozen, not descr in gen. note 15 or add. US note 3 to Ch. 2.
0203.11.00 | Carcasses and half-carcasses of swine, fresh or chilled.
0203.12.10 | Fresh or chilled retail cuts of ham, shoulders and cuts thereof, with bone in.
0203.12.90 | Fresh or chilled hams, shoulders and cuts thereof, with bone in, other than processed.
0203.19.20 | Meat of swine nesoi, retail cuts, fresh or chilled.
0203.19.40 | Meat of swine, nesoi, non retail cuts, fresh or chilled.
0203.21.00 | Carcasses and half-carcasses of swine, frozen.
0203.22.10 | Frozen retail cuts of hams, shoulders and cuts thereof, with bone in.
0203.22.90 | Frozen hams, shoulders and cuts thereof, with bone in, other than retail cuts.
0204.10.00 | Carcasses and half-carcasses of lamb, fresh or chilled.
0204.21.00 | Carcasses and half-carcasses of sheep, other than lamb, fresh or chilled.
0204.22.20 | Cuts of lamb meat with bone in, fresh or chilled.
0204.22.40 | Cuts of sheep meat with bone in, nesoi, fresh or chilled.
0204.23.20 | Boneless meat of lamb, fresh or chilled.
0204.23.40 | Boneless meat of sheep, nesoi, fresh or chilled.
0204.30.00 | Carcasses and half-carcasses of lamb, frozen.
0204.41.00 | Carcasses and half-carcasses of sheep, other than lamb, frozen.
0204.42.20 | Cuts of lamb meat with bone in, frozen.
0204.42.40 | Cuts of sheep meat with bone in, nesoi, frozen.
0204.43.20 | Boneless meat of lamb, frozen.
0204.43.40 | Boneless meat of sheep, nesoi, frozen.
0204.50.00 | Meat of goats, fresh, chilled or frozen.
0205.00.00 | Meat of horses, asses, mules or hinnies, fresh, chilled or frozen.
0206.21.00 | Tongues of bovine animals, frozen.
0206.22.00 | Livers of bovine animals, frozen.
0206.29.00 | Edible offal of bovine animals, except tongues or livers, frozen.
0206.30.00 | Edible offal of swine, fresh or chilled.
0206.41.00 | Livers of swine, frozen.
0206.49.00 | Edible offal of swine, except liver, frozen.
0206.80.00 | Edible offal of sheep, goats, horses, asses, mules or hinnies, fresh or chilled.
0206.90.00 | Edible offal of sheep, goats, horses, asses, mules or hinnies, frozen.
0207.11.00 | Chickens, not cut in pieces, fresh or chilled.
0207.12.00 | Chickens, not cut in pieces, frozen.
0207.13.00 | Cuts and offal of chickens, fresh or chilled.
0207.14.00 | Cuts and offal of chickens, frozen.
0207.24.00 | Turkeys, not cut in pieces, fresh or chilled.
0207.25.20 | Turkeys, not cut in pieces, valued less than 88 cents/kg, frozen.
0207.25.40 | Turkeys, not cut in pieces, valued 88 cents or more per kg, frozen.
0207.26.00 | Cuts and offal of turkeys, fresh or chilled.
0207.27.00 | Cuts and offal of turkeys, frozen.
0207.41.00 | Ducks, not cut in pieces, fresh or chilled.
0207.42.00 | Ducks, not cut in pieces, frozen.
0207.43.00 | Fatty livers of ducks, fresh or chilled.
0207.44.00 | Cuts and offal, other than fatty livers, of ducks, fresh or chilled.
0207.45.00 | Cuts and offal of ducks, frozen.
0207.51.00 | Geese, not cut in pieces, fresh or chilled.
0207.52.00 | Geese, not cut in pieces, frozen.
0207.53.00 | Fatty livers of geese, fresh or chilled.
0207.54.00 | Cuts and offal, other than fatty livers, of geese, fresh or chilled.
0207.55.00 | Cuts and offal of geese, frozen.
0207.60.10 | Guinea fowls, not cut in pieces, fresh or chilled.
0207.60.20 | Guinea fowls, not cut in pieces, frozen.
0207.60.30 | Fatty livers of guinea fowls, fresh or chilled.
0207.60.40 | Cuts and offal, other than fatty livers, of guinea fowls, fresh or chilled.
0207.60.60 | Cuts and offal of guinea fowls, frozen.
0208.30.00 | Meat and edible meat offal of primates, fresh, chilled or frozen.
0208.40.01 | Meat and edible meat offal of whales, dolphins, porpoises, manatees, dugongs, seals, seal lions or walruses, fresh, chilled or frozen.
0208.50.00 | Meat and edible meat offal of reptiles, fresh, chilled or frozen.
0208.60.00 | Meat and edible meat offal of camels and other camelids, fresh, chilled or frozen.
0208.90.30 | Fresh, chilled or frozen quail, eviscerated, not in pieces.
0208.90.91 | Other meat and edible meat offal not elsewhere specified or included, fresh, chilled or frozen.
0209.10.00 | Pig fat, free of lean meat, fresh, chilled, frozen, salted, in brine, dried or smoked.
0209.90.00 | Poultry fat, not rendered or otherwise extracted, fresh, chilled, frozen, salted, in brine, dried or smoked.
0210.11.00 | Hams, shoulders and cuts thereof with bone in, salted, in brine, dried or smoked.
0210.12.00 | Bellies (streaky) and cuts thereof of swine, salted, in brine, dried or smoked.
0210.20.00 | Meat of bovine animals, salted, in brine, dried or smoked.
0210.91.00 | Meat and edible offal of primates, salted, in brine, dried or smoked; edible flours and meals thereof.
0210.92.01 | Meat, edible offal, & meals of whales, dolphins, porpoises, manatees, dugongs, seals, sea lions, walruses, salted, in brine, dried or smoked.
0210.93.00 | Meat and edible offal of reptiles, salted, in brine, dried or smoked; edible flours and meals thereof.
0210.99.20 | Meat and edible offal of poultry of heading 0105, in brine, dried or smoked; edible flours and meals thereof.
0210.99.91 | Meat and edible offal not elsewhere specified or included, salted, in brine, dried or smoked; edible flours and meals thereof.
0303.69.00 | Other fish in Bregmacerotidae et al,etc. frozen, excluding fillets, other meat portions, livers and roes.
0304.71.10 | Frozen cod fillets, skinned, in blocks weighing over 4.5 kg, to be minced, ground or cut into pieces of uniform weight and dimension.
0304.71.50 | Fillets, frozen, of cod, other than above.
0304.72.10 | Frozen haddock fillets, skinned, in blocks weighing over 4.5 kg, to be minced, ground or cut into pieces of uniform weight and dimension.
0304.75.10 | Frozen Alaska pollack fillets, skinned, in blocks weighing over 4.5 kg, to be minced, ground or cut.
0304.75.50 | Fillets, frozen, of Alaska pollock, other than above.
0304.81.10 | Frozen salmon fillets, skinned, in blocks weighing over 4.5 kg, to be minced, ground or cut into pieces of uniform weight.
0304.81.50 | Other frozen salmon fillets.
0304.94.10 | Alaska pollack chilled or frozen fillets,in bulk or in immediate containers weighing with their contents over 6.8 kg each.
0304.95.90 | Bregamacerotidae other fish, other than Alaska pollack, nesoi, chilled or frozen fillets,nesoi.
0401.10.00 | Milk and cream, unconcentrated, with no added sweeteners, fat content, by weight, not more than 1 percent.
0401.20.20 | Milk and cream, unconcentrated, unsweetened, fat content over 1% but n/o 6%, for not over 11,356,236 liters entered in any calendar year.
0401.20.40 | Milk and cream, unconcentrated, unsweetened, fat content over 1% but not over 6%, for over 11,356,236 liters entered in any calendar year.
0401.40.02 | Milk and cream, not concentrated, not sweetened, fat content o/6% but not o/10%, subject to gen. note 15 of the HTS.
0401.40.05 | Milk and cream, not concentrated, not sweetened, fat content o/6% but not o/10%, subject to add. US note 5 to Ch. 4.
0401.40.25 | Milk and cream, not concentrated, not sweetened, fat content o/6% but not o/10%, not subject to gen. nte 15 or add. nte 5 to Ch. 4.
0401.50.02 | Milk and cream, not concentrated, not sweetened, fat content o/10% but not o/45%, subject to gen. note 15 of the HTS.
0401.50.05 | Milk and cream, not concentrated, not sweetened, fat content o/10% but not o/45%, subject to add. US note 5 to Ch. 4.
0401.50.25 | Milk and cream, not concentrated, not sweetened, fat content o/10% but not o/45%, not subject to gen. nte 15 or add. nte 5 to Ch. 4.
0401.50.42 | Milk and cream, not concentrated, not sweetened, fat content o/45%, subject to gen. note 15 of the HTS.
0401.50.50 | Milk and cream, not concentrated, not sweetened, fat content o/45%, subject to add. US note 6 to Ch. 4.
0401.50.75 | Milk and cream, not concentrated, not sweetened, fat content o/45%, not subject to gen. nte 15 or add. nte 6 to Ch. 4.
0402.10.05 | Milk & cream, concen or sweetened, in powder, granules or other solid forms, w/fat content by weight not o/1.5%, subj to GN15.
0402.10.10 | Milk & cream in powder granules/other solid forms fat content by weight not exceeding 1.5% whether/not sweetened, described in addl note 7.
0402.10.50 | Milk & cream in powder granules/other solid forms fat content by weight not exceeding 1.5% whether/not sweetened, nesoi.
0402.21.02 | Milk & cream, concen, not sweetened, in powder, granules or other solid forms, w/fat content o/1.5% but not o/3%, subj to GN15.
0402.21.05 | Milk & cream, concen, not sweetened, in powder, granules or other solid forms, w/fat content o/1.5% but not o/3%, subj Ch4 US note 7.
0402.21.25 | Milk & cream, concen, not sweetened, in powder, granules or other solid forms, w/fat content o/1.5% but not o/3%, not subj GN15/Ch4 US note7.
0402.21.27 | Milk & cream, concen, not sweetened, in powder, granules or other solid forms, w/fat content o/3% but not o/35%, subject to gen. note 15.
0402.21.30 | Milk & cream, concen, not sweetened, in powder/granules/oth solid forms, fat cont o/3% but not o/35%, subj to Ch 4 US note 7.
0402.21.50 | Milk & cream, concen, not sweetened, in powder/granules/oth solid forms, fat cont o/3% but not o/35%, not subj to GN15 or Ch 4 US.S. note 7.
0402.21.73 | Milk & cream, concen, not sweetened, in powder, granules or other solid forms, w/fat content o/35%, subject to gen. note 15.
0402.21.75 | Milk & cream, concen, not sweetened, in powder, granules or other solid forms, w/fat content o/35%, subject to add. US note 9 to Ch.4.
0402.21.90 | Milk & cream, concen, not sweetened, in powder, granules or other solid forms, w/fat content o/35%, not subj to GN15 or Ch4 US note 9.
0402.29.05 | Milk & cream, concen, sweetened, in powder, granules or other solid forms, w/fat content o/1.5%, subject to gen. note 15.
0402.29.10 | Milk & cream, concen, sweetened, in powder, granules or other solid forms, w/fat content o/1.5%, subject to add. US note 10 to Ch.4.
0402.29.50 | Milk & cream, concen, sweetened, in powder, granules or other solid forms, w/fat content o/1.5%, not subj to GN15 or Ch4 US note 10.
0402.91.03 | Milk & cream, concen, in non-solid forms, not sweetened, in airtight containers, subject to gen. note 15 of the HTS.
0402.91.06 | Milk & cream, concen in non-solid forms, not sweetened, not in airtight containers, subject to gen. note 15 of the HTS.
0402.91.10 | Milk & cream, concen in non-solid forms, not sweetened, in airtight containers, subject to add. US note 11 to Ch.4.
0402.91.30 | Milk & cream, concen in non-solid forms, not sweetened, not in airtight containers, subject to add. US note 11 to Ch. 4.
0402.91.70 | Milk & cream, concen in non-solid forms, not sweetened, in airtight containers, not subject to gen. note 15 or add. US note 11 to Ch.4.
0402.91.90 | Milk and cream, concentrated, in other than powder, granules or other solid forms, unsweetened, other than in airtight containers.
0402.99.03 | Condensed milk, sweetened, in airtight containers, subject to gen. note 15 of the HTS.
0402.99.06 | Condensed milk, sweetened, not in airtight containers, subject to gen. note 15 of the HTS.
0402.99.10 | Condensed milk, sweetened, in airtight containers, subject to add. US note 11 to Ch.4.
0402.99.30 | Condensed milk, sweetened, not in airtight containers, subject to add. US note 11 to Ch. 4.
0402.99.45 | Condensed milk, sweetened, in airtight containers, not subject to gen. note 15 or add. US note 11 to Ch.4.
0402.99.55 | Condensed milk, sweetened, not in airtight containers, not subject to gen. note 15 or add. US note 11 to Ch.4.
0402.99.68 | Milk & cream (except condensed milk), concentrated in non-solid forms, sweetened, subject to gen. note 15 of the HTS.
0402.99.70 | Milk & cream (except condensed milk), concentrated in non-solid forms, sweetened, subject to add. US note 10 to Ch. 4.
0402.99.90 | Milk & cream (except condensed milk), concentrated in non-solid forms, sweetened, not desc. gen. note 15 or add. US note 10 to Ch. 4.
0403.10.05 | Yogurt, in dry form, whether or not flavored or containing add fruit or cocoa, subject to gen. note 15 of the HTS.
0403.10.10 | Yogurt, in dry form, whether or not flavored or containing add fruit or cocoa, subject to add. US note 10 to Ch. 4.
0403.10.50 | Yogurt, in dry form, whether or not flavored or containing add fruit or cocoa, not subject to gen nte 15 or add. US nte 10 to Ch.4.
0403.10.90 | Yogurt, not in dry form, whether or not flavored or containing add fruit or cocoa.
0403.90.02 | Sour cream, fluid, n/o 45% by wt. butterfat, subject to gen. note 15 of the HTS.
0403.90.04 | Sour cream, fluid, n/o 45% by wt. butterfat, subject to add. US note 5 to Ch.4.
0403.90.16 | Sour cream, fluid, n/o 45% by wt. butterfat, not subject to gen nte 15 or add US note 5 to Ch.4.
0403.90.20 | Fluid buttermilk.
0403.90.37 | Sour cream, dried, n/o 6% by wt. butterfat, subject to gen. note 15 of the HTS.
0403.90.41 | Sour cream, dried, n/o 6% by wt. butterfat, subject to add. US note 12 to Ch. 4.
0403.90.45 | Sour cream, dried, n/o 6% by wt. butterfat, not subject to gen nte 15 or add. US note 12 to Ch. 4.
0403.90.47 | Sour cream, dried, o/6% but n/o 35% by wt. butterfat, subject to gen. note 15 of the HTS.
0403.90.51 | Sour cream, dried, o/6% but n/o 35% by wt. butterfat, subject to add. US note 8 to Ch. 4.
0403.90.55 | Sour cream, dried, o/6% but n/o 35% by wt. butterfat, not subject to gen nte 15 or add. US note 8 to Ch. 4.
0403.90.57 | Sour cream, dried, o/35% but n/o 45% by wt. butterfat, subject to gen. note 15 of the HTS.
0403.90.61 | Sour cream, dried, o/35% but n/o 45% by wt. butterfat, subject to add. US note 9 to Ch. 4.
0403.90.65 | Sour cream, dried, o/35% but n/o 45% by wt. butterfat, not subject to gen nte 15 or add. US note 9 to Ch. 4.
0403.90.72 | Sour cream, o/45% by wt. butterfat, subject to gen. note 15 of the HTS.
0403.90.74 | Sour cream, o/45% by wt. butterfat, subject to add. US note 6 to Ch. 4.
0403.90.78 | Sour cream, o/45% by wt. butterfat, not subject to gen nte 15 or add. US note 6 to Ch. 4.
0403.90.85 | Fermented milk o/than dried fermented milk or o/than dried milk with added lactic ferments.
0403.90.87 | Curdled milk/cream/kephir & other fermentd or acid. milk/cream descr.in gen. note 15.
0403.90.90 | Curdled milk/cream/kephir & other fermentd or acid. milk/cream subject to add US note 10 to Ch.4.
0403.90.95 | Curdled milk/cream/kephir & other fermentd or acid. milk/cream subj to GN 15 or Ch4 US note 10.
0404.90.10 | Milk protein concentrates.
0404.90.28 | Dairy products of nat. milk constituents (except protein conc.), descr. in add. US nte 1 to Ch. 4 and subj to GN 15.
0404.90.30 | Dairy products of nat. milk constituents (except protein conc.), descr. in add. US nte 1 to Ch. 4 and sub to Ch4 US note 10.
0404.90.50 | Dairy products of nat. milk constituents (except protein conc.), descr. in add. US nte 1 to Ch. 4 & not subj to GN15 or Ch4 US note 10.
0404.90.70 | Products consisting of natural milk constituents (except protein conc.), whether or not sweetened, not descr. in add US note 1 to Ch. 4.
0405.20.10 | Butter substitute dairy spreads, over 45% butterfat weight, subject to general note 15 (outside quota).
0405.20.20 | Butter substitute dairy spreads, over 45% butterfat weight, subject to quota pursuant to chapter 4 additional US note 14.
0405.20.30 | Butter substitute dairy spreads, over 45% butterfat weight, not subj to gen note 15 and in excess of quota in ch. 4 additional US note 14.
0405.20.40 | Butter substitute dairy spreads, containing 45% or less butterfat by weight.
0405.20.50 | Other dairy spreads of a type provided in chapter 4 additional US note 1, subject to general note 15 (outside quota).
0405.20.60 | Other dairy spreads of a type provided in ch. 4 add. US note 1, subject to quota pursuant to chapter 4 additional US note 10.
0405.20.70 | Other dairy spreads of a type provided in ch. 4 add. US note 1, not subject to gen note 15 and in excess of quota in ch. 4 add. US note 10.
0405.20.80 | Other dairy spreads, not butter substitutes or of a type provided for in chapter 4 additional US note 1.
0405.90.05 | Fats and oils derived from milk, other than butter or dairy spreads, subject to general note 15 (outside quota).
0405.90.10 | Fats and oils derived from milk, other than butter or dairy spreads, subject to quota pursuant to chapter 4 additional US note 14.
0405.90.20 | Fats and oils derived from milk, other than butter or dairy spreads, not subject to gen note 15 and excess of quota in ch 4 add US note 14.
0406.10.02 | Chongos, unripened or uncured cheese, including whey cheese and curd, subject to gen. note 15 of the HTS.
0406.10.04 | Chongos, unripened or uncured cheese, including whey cheese and curd, subject to add. US note 16 to Ch. 4.
0406.10.08 | Chongos, unripened or uncured cheese, including whey cheese and curd, not subject to gen note 15 or add. US note 16 to Ch. 4.
0406.10.12 | Fresh (unripened/uncured) cheese (ex chongos), incl whey cheese and curd, subj to gen. note 15 of the HTS, not GN15.
0406.10.14 | Fresh (unripened/uncured) blue-mold cheese, cheese/subs for cheese cont or procd fr blue-mold cheese, subj to Ch4 US note 17, not GN15.
0406.10.18 | Fresh (unripened/uncured) blue-mold cheese, cheese/subs for cheese cont or proc fr blue-mold cheese, not subj to Ch4 US note 17 or GN15.
0406.10.24 | Fresh (unripened/uncured) cheddar cheese, cheese/subs for cheese cont or proc from cheddar cheese, subj to Ch 4 US note 18, not GN15.
0406.10.28 | Fresh (unripened/uncured) cheddar cheese, cheese/subs for cheese cont or proc from cheddar cheese, not subj to Ch4 US note 18, not GN15.
0406.10.34 | Fresh (unripened/uncured) american-type cheese, cheese cont or proc. fr american-type, subj to add. US note 19 to Ch.4, not GN15.
0406.10.38 | Fresh (unripened/uncured) american-type cheese, cheese cont or proc. fr american-type, not subj to add. US note 19 to Ch.4, not GN15.
0406.10.44 | Fresh (unripened/uncured) edam and gouda cheeses, cheese/subs for cheese cont or processed therefrom, subj to Ch4 US note 20, not GN15.
0406.10.48 | Fresh (unripened/uncured) edam and gouda cheeses, cheese/subs for cheese cont or processed therefrom, not sub to Ch4 US note 20, not GN15.
0406.10.54 | Fresh (unripened/uncured) Italian-type cheeses from cow milk, cheese/substitutes cont or proc therefrom, subj to Ch4 US nte 21, not GN15.
0406.10.58 | Fresh (unrip./uncured) Italian-type cheeses from cow milk, cheese/substitutes cont or proc therefrom, not subj to Ch4 US note 21 or GN15.
0406.10.64 | Fresh (unrip./uncured) Swiss/emmentaler cheeses w/o eyes, gruyere-process and cheese cont/proc. from, subj to Ch4 US note 22, not GN15.
0406.10.68 | Fresh (unripened/uncured) Swiss/emmentaler cheeses exc eye formation, gruyere-process cheese and cheese cont or proc. from such, not subj ...
0406.10.74 | Fresh cheese, and substitutes for cheese,neosi, w/0.5% or less by wt. of butterfat, descr in add US note 23 to Ch 4, not GN15.
0406.10.78 | Fresh cheese, and substitutes for cheese,neosi, w/0.5% or less by wt. of butterfat, not descr in add US note 23 to Ch 4, not GN15.
0406.10.84 | Fresh cheese, and substitutes for cheese, cont. cows milk, neosi, o/0.5% by wt. of butterfat, descr in add US note 16 to Ch 4, not GN15.
0406.10.88 | Fresh cheese, and substitutes for cheese, cont. cows milk, neosi, o/0.5% by wt. of butterfat, not descr in add US note 16 to Ch 4, not GN 15.
0406.10.95 | Fresh cheese, and substitutes for cheese, not cont. cows milk, neosi, o/0.5% by wt. of butterfat.
0406.20.10 | Roquefort cheese, grated or powdered.
0406.20.15 | Stilton cheese, grated or powdered, subject to add. US note 24 to Ch. 4.
0406.20.22 | Blue-veined cheese (except Roquefort or Stilton), grated or powdered, subject to gen. note 15 of the HTS.
0406.20.24 | Blue-veined cheese (except Roquefort or Stilton), grated or powdered, subject to add. US note 17 to Ch.4.
0406.20.28 | Blue-veined cheese (except Roquefort or Stilton), grated or powdered, not subject to gen nte 15 or add. US note 17 to Ch.4.
0406.20.29 | Cheddar cheese, grated or powdered, subject to gen. note 15 of the HTS.
0406.20.31 | Cheddar cheese, grated or powdered, subject to add. US note 18 to Ch. 4.
0406.20.33 | Cheddar cheese, grated or powdered, not subject to gen. note 15 or add. US note 18 to Ch. 4.
0406.20.34 | Colby cheese, grated or powdered, subject to gen. note 15 of the HTS.
0406.20.36 | Colby cheese, grated or powdered, subject to add. US note 19 to Ch. 4.
0406.20.39 | Colby cheese, grated or powdered, not describ. in gen. note 15 or add. US note 19 to Ch. 4.
0406.20.43 | Edam and gouda cheese, grated or powdered, subject to gen. note 15 of the HTS.
0406.20.44 | Edam and gouda cheese, grated or powdered, subject to add. US note 20 to Ch. 4.
0406.20.48 | Edam and gouda cheese, grated or powdered, not subject to gen note 15 or add. US nte 20 to Ch. 4.
0406.20.49 | Romano (cows milk), reggiano, provolone, provoletti, sbrinz and goya, grated or powdered, subject to gen. note 15 to HTS.
0406.20.51 | Romano, reggiano, provolone, provoletti, sbrinz and goya, made from cow's milk, grated or powdered, subject to add US note 21 to Ch.4.
0406.20.53 | Romano, reggiano, provolone, provoletti, sbrinz and goya, made from cow's milk, grated or powdered, not subj to Ch4 US nte 21 or GN15.
0406.20.54 | Reggiano, provolone, provoletti, sbrinz and goya cheeses, not made from cow's milk, grated or powdered.
0406.20.55 | Cheeses made from sheep's milk, including mixtures of such cheeses, grated or powdered.
0406.20.56 | Cheese (including mixtures) nesoi, grated or powdered, subject to gen. note 15 of the HTS.
0406.20.57 | Cheese containing or processed from bryndza, gjetost, gammelost, nokkelost or roquefort cheeses, grated or powdered.
0406.20.61 | Cheese containing or processed from blue-veined cheese (except roquefort), grated/powdered, subject to add US note 17 to Ch.4.
0406.20.63 | Cheese containing or processed from blue-veined cheese (except roquefort), grated/powdered, not subject to add US note 17 to Ch.4.
0406.20.65 | Cheese containing or processed from cheddar cheese, grated or powdered, subject to add US note 18 to Ch. 4.
0406.20.67 | Cheese containing or processed from cheddar cheese, grated or powdered, not subject to add US note 18 to Ch. 4.
0406.20.69 | Cheese containing or processed from american-type cheese (except cheddar), grated or powdered, subject to add US note 19 to Ch. 4.
0406.20.71 | Cheese containing or processed from american-type cheese (except cheddar), grated or powdered, not subject to add US note 19 to Ch. 4.
0406.20.73 | Cheese containing or processed from edam or gouda cheeses, grated or powdered, subject to add US note 20 to Ch.4.
0406.20.75 | Cheese containing or processed from edam or gouda cheeses, grated or powdered, not subject to add US note 20 to Ch. 4.
0406.20.77 | Cheese containing or processed from italian-type cheeses made from cow's milk, grated or powdered, subject to add US note 21 to Ch. 4.
0406.20.79 | Cheese containing or processed from italian-type cheeses made from cow's milk, grated or powdered, not subject to add US note 21 to Ch. 4.
0406.20.81 | Cheese containing or processed from swiss, emmentaler or gruyere-process cheeses, grated or powdered, subject to add US nte 22 to Ch.4.
0406.20.83 | Cheese containing or processed from swiss, emmentaler or gruyere-process cheeses, grated or powdered, not subject to add US nte 22 to Ch. 4.
0406.20.85 | Cheese (including mixtures), nesoi, n/o 0.5% by wt. of butterfat, grated or powdered, subject to add US note 23 to Ch. 4.
0406.20.87 | Cheese (including mixtures), nesoi, n/o 0.5% by wt. of butterfat, grated or powdered, not subject to add US note 23 to Ch. 4.
0406.20.89 | Cheese (including mixtures), nesoi, o/0.5% by wt of butterfat, w/cow's milk, grated or powdered, subject to add US note 16 to Ch. 4.
0406.20.91 | Cheese (including mixtures), nesoi, o/0.5% by wt of butterfat, w/cow's milk, grated or powdered, not subject to add US note 16 to Ch. 4.
0406.20.95 | Cheese (including mixtures), nesoi, o/0.5% by wt of butterfat, not containing cow's milk, grated or powdered.
0406.30.05 | Stilton cheese, processed, not grated or powdered, subject to add US note 24 to Ch. 4.
0406.30.12 | Blue-veined cheese (except roquefort), processed, not grated or powdered, subject to gen. note 15 of the HTS.
0406.30.14 | Blue-veined cheese (except roquefort), processed, not grated or powdered, subject to add. US note 17 to Ch. 4.
0406.30.18 | Blue-veined cheese (except roquefort), processed, not grated or powdered, not subject to gen. note 15 or add. US note 17 to Ch. 4.
0406.30.22 | Cheddar cheese, processed, not grated or powdered, subject to gen. note 15 of the HTS.
0406.30.24 | Cheddar cheese, processed, not grated or powdered, subject to add US note 18 to Ch. 4.
0406.30.28 | Cheddar cheese, processed, not grated or powdered, not subject to gen note 15 or in add US note 18 to Ch. 4.
0406.30.32 | Colby cheese, processed, not grated or powdered, subject to gen. note 15 of the HTS.
0406.30.34 | Colby cheese, processed, not grated or powdered, subject to add US note 19 to Ch. 4.
0406.30.38 | Colby cheese, processed, not grated or powdered, not subject to gen note 15 or add US note 19 to Ch. 4.
0406.30.42 | Edam and gouda cheese, processed, not grated or powdered, subject to gen. note 15 of the HTS.
0406.30.44 | Edam and gouda cheese, processed, not grated or powdered, subject to add. US note 20 to Ch. 4.
0406.30.48 | Edam and gouda cheese, processed, not grated or powdered, not subject to gen note 15 or add. US note 20 to Ch. 4.
0406.30.49 | Gruyere-process cheese, processed, not grated or powdered, subject to gen. note 15 of the HTS.
0406.30.51 | Gruyere-process cheese, processed, not grated or powdered, subject to add. US note 22 to Ch. 4.
0406.30.53 | Gruyere-process cheese, processed, not grated or powdered, not subject to gen note 15 or add. US note 22 to Ch. 4.
0406.30.55 | Processed cheeses made from sheep's milk, including mixtures of such cheeses, not grated or powdered.
0406.30.56 | Cheese (including mixtures) nesoi, processed, not grated or powdered, subject to gen. note 15 of the HTS.
0406.30.57 | Processed cheese containing or processed from bryndza, gjetost, gammelost, nokkelost or roquefort, not grated or powdered, not GN15.
0406.30.61 | Processed cheese cont/procd fr blue-veined cheese (ex roquefort), not grated/powdered, subject to add US note 17 to Ch. 4, not GN15.
0406.30.63 | Processed cheese cont/procd fr blue-veined cheese (ex roquefort), not grated/powdered, not subject to add US note 17 to Ch. 4, not GN15.
0406.30.65 | Processed cheese cont/procd fr cheddar cheese, not grated/powdered, subject to add US note 18, not GN15.
0406.30.67 | Processed cheese cont/procd fr cheddar cheese, not grated/powdered, not subject to add US note 18, not GN15.
0406.30.69 | Processed cheese cont/procd fr american-type cheese (ex cheddar), not grated/powdered, subject to add US note 19 to Ch. 4, not GN15.
0406.30.71 | Processed cheese cont/procd fr american-type cheese (ex cheddar), not grated/powdered, not subject to add US note 19 to Ch. 4, not GN15.
0406.30.73 | Processed cheese cont/procd fr edam or gouda, not grated/powdered, subject to add US note 20 to Ch. 4, not GN15.
0406.30.75 | Processed cheese cont/procd from edam or gouda, not grated/powdered, not subject to add US note 20 to Ch. 4, not GN15.
0406.30.77 | Processed cheese cont/procd from italian-type, not grated/powdered, subject to add US note 21 to Ch. 4, not GN15.
0406.30.79 | Processed cheese cont/procd from italian-type, not grated/powdered, not subject to add US note 21 to Ch. 4, not GN15.
0406.30.81 | Processed cheese cont/procd from swiss, emmentaler or gruyere-process, n/grated/powdered, subject to add US note 22 to Ch. 4, not GN15.
0406.30.83 | Processed cheese cont/procd from swiss/emmentaler/gruyere-process, n/grated/powdered, not subject to add US note 22 to Ch. 4, not GN15.
0406.30.85 | Processed cheese (incl. mixtures), nesoi, n/o 0.5% by wt. butterfat, not grated or powdered, subject to Ch4 US note 23, not GN15.
0406.30.87 | Processed cheese (incl. mixtures), nesoi, n/o 0.5% by wt. butterfat, not grated or powdered, not subj to Ch 4 US note 23 or not GN15.
0406.30.89 | Processed cheese (incl. mixtures), nesoi, w/cow's milk, not grated or powdered, subject to add US note 16 to Ch. 4, not GN15.
0406.30.91 | Processed cheese (incl. mixtures), nesoi, w/cow's milk, not grated or powdered, not subject to add US note 16 to Ch. 4, not GN15.
0406.30.95 | Processed cheese (incl. mixtures), nesoi, w/o cows milk, not grated or powdered, not GN15.
0406.40.20 | Roquefort cheese in original loaves, not grated or powdered, not processed.
0406.40.40 | Roquefort cheese, other than in original loaves, not grated or powdered, not processed.
0406.40.44 | Stilton cheese, nesoi, in original loaves, subject to add. US note 24 to Ch. 4.
0406.40.48 | Stilton cheese, nesoi, not in original loaves, subject to add. US note 24 to Ch. 4.
0406.40.51 | Blue-veined cheese, nesoi, in original loaves, subject to gen. note 15 of the HTS.
0406.40.52 | Blue-veined cheese, nesoi, not in original loaves, subject to gen. note 15 of the HTS.
0406.40.54 | Blue-veined cheese, nesoi, in original loaves, subject to add. US note 17 to Ch. 4.
0406.40.58 | Blue-veined cheese, nesoi, not in original loaves, subject to add. US note 17 to Ch. 4.
0406.40.70 | Blue-veined cheese, nesoi, not subject to gen. note 15 of the HTS or to add. US note 17 to Ch. 4.
0406.90.05 | Bryndza cheese, not grated or powdered, not processed.
0406.90.06 | Cheddar cheese, neosi, subject to gen. note 15 of the & entered pursuant to its provisions.
0406.90.08 | Cheddar cheese, neosi, subject to add. US note 18 to Ch. 4.
0406.90.12 | Cheddar cheese, nesoi, not subject to gen. note 15 of the HTS or to add. US note 18 to Ch. 4.
0406.90.14 | Edam and gouda cheese, nesoi, subject to gen. note 15 of the HTS.
0406.90.16 | Edam and gouda cheese, nesoi, subject to add. US note 20 to Ch. 4.
0406.90.18 | Edam and gouda cheese, nesoi, not subject to gen. note 15 of the HTS or to add. US note 20 to Ch. 4.
0406.90.20 | Gjetost cheese from goat's milk, whey or whey obtained from a mixture of goat's & n/o 20% cow's milk, not grated, powdered or processed.
0406.90.25 | Gjetost cheese, made from goats' milk, whey or whey obtained from a mixture of goats' & n/o 20% cows milk, not grated, powdered or processed.
0406.90.28 | Goya cheese, nesoi, subject to gen. note 15 of the HTS.
0406.90.31 | Goya cheese from cow's milk, not in original loaves, nesoi,subject to add. US note 21 to Ch. 4.
0406.90.32 | Goya cheese from cow's milk, not in original loaves, nesoi, not subject to gen. note 15 or to add. US note 21 to Ch. 4.
0406.90.33 | Goya cheese not from cow's milk, nesoi, not subject to gen. note 15 or to add. US note 21 to Ch. 4.
0406.90.34 | Sbrinz cheese, nesoi, subject to gen. note 15 of the HTS.
0406.90.36 | Sbrinz cheese from cow's milk, nesoi, subject to add. US note 21 to Ch. 4.
0406.90.37 | Sbrinz cheese from cow's milk, nesoi, not subject to gen. note 15 or to add. US note 21 to Ch. 4.
0406.90.38 | Sbrinz cheese not from cow's milk, nesoi, not subject to gen. note 15 or to add. US note 21 to Ch. 4.
0406.90.39 | Romano from cows milk, Reggiano, Parmesan, Provolone, and Provoletti cheese, nesoi, subject to gen. note 15 of the HTS.
0406.90.41 | Romano, Reggiano, Parmesan, Provolone, and Provoletti cheese, nesoi, from cow's milk, subject to add. US note 21 to Ch. 4.
0406.90.42 | Romano, Reggiano, Parmesan, Provolone, and Provoletti cheese, nesoi, from cow's milk, not subj to to GN 15 or Ch4 US note 21.
0406.90.43 | Reggiano, Parmesan, Provolone, and Provoletti cheese, nesoi, not from cow's milk, not subject to gen. note 15.
0406.90.44 | Swiss or Emmentaler cheese with eye formation, nesoi, subject to gen. note 15 of the HTS.
0406.90.46 | Swiss or Emmentaler cheese with eye formation, nesoi, subject to add. US note 25 to Ch. 4.
0406.90.48 | Swiss or Emmentaler cheese with eye formation, nesoi, not subject to gen. note 15 or to add. US note 25 to Ch. 4.
0406.90.49 | Gammelost and nokkelost cheese, nesoi.
0406.90.51 | Colby cheese, nesoi, subject to gen. note 15 of the HTS and entered pursuant to its provisions.
0406.90.52 | Colby cheese, nesoi, subject to add. US note 19 to Ch. 4 and entered pursuant to its provisions.
0406.90.54 | Colby cheese, nesoi, not subject to gen. note 15 or to add. US note 19 to Ch. 4.
0406.90.56 | Cheeses, nesoi, from sheep's milk in original loaves and suitable for grating.
0406.90.57 | Pecorino cheese, from sheep's milk, in original loaves, not suitable for grating.
0406.90.59 | Cheeses, substitute for cheese (including mixtures of cheeses), nesoi, made from sheep's milk.
0406.90.61 | Cheeses & substitutes for cheese (incl.mixtures) w/romano/reggiano/parmesan/provolone/etc from cows milk, subj. to gen. note 15.
0406.90.63 | Cheeses & substitutes for cheese (incl.mixtures) not cont.romano/reggiano/parmesan/provolone/etc from cows milk, subj. to gen. note 15.
0406.90.66 | Cheeses & subst. for cheese(incl. mixt.), nesoi, w/romano/reggiano/parmesan/provolone/etc, f/cow milk, subj. Ch4 US note 21, not GN15.
0406.90.68 | Cheeses & subst. for cheese(incl. mixt.), nesoi, w/romano/reggiano/parmesan/provolone/etc, f/cow milk, not subj. Ch4 US note 21, not GN15.
0406.90.72 | Cheeses & subst. for cheese (incl. mixt.), nesoi, w/or from blue-veined cheese, subj. to add. US note 17 to Ch.4, not GN15.
0406.90.74 | Cheeses & subst. for cheese (incl. mixt.), nesoi, w/or from blue-veined cheese, not subj. to add. US note 17 to Ch.4, not GN15.
0406.90.76 | Cheeses & subst. for cheese (incl. mixt.), nesoi, w/or from cheddar cheese, subj. to add. US note 18 to Ch.4, not GN15.
0406.90.78 | Cheeses & subst. for cheese (incl. mixt.), nesoi, w/or from cheddar cheese, not subj. to add. US note 18 to Ch.4, not GN15.
0406.90.82 | Cheeses & subst. for cheese (incl. mixt.), nesoi, w/or from Am. cheese except cheddar, subj. to add. US note 19 to Ch.4, not GN15.
0406.90.84 | Cheeses & subst. for cheese (incl. mixt.), nesoi, w/or from Am. cheese except cheddar, not subj. to add. US note 19 to Ch.4, not GN15.
0406.90.86 | Cheeses & subst. for cheese (incl. mixt.), nesoi, w/or from edam or gouda cheese, subj. to add. US note 20 to Ch.4, not GN15.
0406.90.88 | Cheeses & subst. for cheese (incl. mixt.), nesoi, w/or from edam or gouda cheese, not subj. to add. US note 20 to Ch.4, not GN15.
0406.90.90 | Cheeses & subst. for cheese (incl. mixt.), nesoi, w/or from swiss, emmentaler or gruyere, subj. to add. US note 22 to Ch.4, not GN15.
0406.90.92 | Cheeses & subst. for cheese (incl. mixt.), nesoi, w/or from swiss, emmentaler or gruyere, not subj. Ch4 US note 22, not GN15.
0406.90.93 | Cheeses & subst. for cheese (incl. mixt.), nesoi, w/butterfat n/o 0.5% by wt, subject to add. US note 23 to Ch. 4, not GN15.
0406.90.94 | Cheeses & subst. for cheese (incl. mixt.), nesoi, w/butterfat n/o 0.5% by wt, not subject to add. US note 23 to Ch. 4, not GN15.
0406.90.95 | Cheeses & subst. for cheese (incl. mixt.), nesoi, w/cows milk, w/butterfat o/0.5% by wt, subject to Ch 4 US note 16 (quota).
0406.90.97 | Cheeses & subst. for cheese (incl. mixt.), nesoi, w/cows milk, w/butterfat o/0.5% by wt, not subject to Ch4 US note 16, not GN15.
0406.90.99 | Cheeses & subst. for cheese (incl. mixt.), nesoi, w/o cows milk, w/butterfat o/0.5% by wt, not GN15.
0407.11.00 | Birds' eggs, in shell, fertilized eggs for incubation, Gallus domesticus.
0408.91.00 | Birds' eggs, not in shell, dried, whether or not containing added sweeteners.
0501.00.00 | Human hair, unworked, whether or not washed and scoured; waste of human hair.
0502.10.00 | Pigs', hogs' or boars' bristles and hair and waste thereof.
0502.90.00 | Badger hair and other brushmaking hair, nesoi, and waste thereof.
0504.00.00 | Guts, bladders and stomachs of animals (other than fish), whole and pieces thereof.
0505.10.00 | Feathers of a kind used for stuffing, and down.
0507.10.00 | Ivory, ivory powder and waste.
0510.00.20 | Ambergris, castoreum, civet, and musk used in the preparation of pharmaceutical products.
0601.10.15 | Tulip bulbs, dormant.
0601.10.30 | Hyacinth bulbs, dormant.
0601.10.45 | Lily bulbs, dormant.
0601.10.60 | Narcissus bulbs, dormant.
0601.10.75 | Crocus corms, dormant.
0601.10.85 | Lily of the valley pips, dormant.
0601.10.90 | Bulbs, tubers, tuberous roots, corms, crowns and rhizomes, nesoi, dormant.
0601.20.10 | Hyacinth bulbs, without soil attached, in growth or in flower.
0601.20.90 | Bulbs nesoi, tubers, tuberous roots, corms, crowns and rhizomes, in growth or in flower; chicory plants and roots.
0602.10.00 | Unrooted cuttings and slips of live plants.
0602.20.00 | Trees, shrubs, and bushes, grafted or not of kinds which bear edible fruits or nuts.
0602.30.00 | Rhododendron and azalea plants, grafted or not.
0602.40.00 | Rose plants, grafted or not.
0602.90.20 | Live orchid plants.
0602.90.30 | Live herbaceous perennials, other than orchid plants, with soil attached to roots.
0602.90.40 | Live herbaceous perennials, other than orchid plants, without soil attached to roots.
0602.90.50 | Live mushroom spawn.
0602.90.60 | Other live plants nesoi, with soil attached to roots.
0602.90.90 | Other live plants nesoi, other than those with soil attached to roots.
0603.11.00 | Sweetheart, Spray and other Roses, fresh cut.
0603.12.30 | Miniature (spray) carnations, fresh cut.
0603.12.70 | Other Carnations, fresh cut.
0603.13.00 | Orchids, fresh cut.
0603.14.00 | Chrysanthemums, fresh cut.
0603.15.00 | Fresh cut Lilies (Lillium spp.).
0603.19.01 | Fresh cut, Anthuriums, Alstroemeria, Gypsophilia, Lilies, Snapdragons and flowers, nesoi.
0603.90.00 | Cut flowers and flower buds, suitable for bouquets or ornamental purposes, dried, dyed, bleached, impregnated or otherwise prepared.
0604.20.00 | Fresh foliage, branches, and other parts of plants for ornamental purposes.
0604.90.10 | Mosses and lichens.
0604.90.30 | Dried or bleached foliage, branches, and other parts of plants for ornamental purposes, except mosses and lichens.
0604.90.60 | Other than fresh, bleached or dried: Foliage, branches, parts of plants and grasses, suitable for ornamental purposes,except mosses & lichen.
0701.10.00 | Seed potatoes, fresh or chilled.
0701.90.10 | Yellow (Solano) potatoes, excluding seed.
0701.90.50 | Fresh potatoes, other than yellow (Solano) potatoes or seed potatoes.
0702.00.20 | Tomatoes, fresh or chilled, entered during Mar. 1 to July 14, or the period Sept. 1 to Nov. 14 in any year.
0702.00.40 | Tomatoes, fresh or chilled, entered during July 15 to Aug.31 in any year.
0702.00.60 | Tomatoes, fresh or chilled, entered from Nov. 15 thru the last day of Feb. of the following year.
0704.20.00 | Brussels sprouts, fresh or chilled.
0705.11.20 | Head lettuce (cabbage lettuce), fresh or chilled, if entered June 1 to October 31, inclusive, in any year.
0705.11.40 | Head lettuce (cabbage lettuce), fresh or chilled, if entered Nov. 1 through May 30, inclusive, in any year.
0705.19.20 | Lettuce, other than head lettuce, fresh or chilled, if entered June 1 to October 31, inclusive, in any year.
0705.19.40 | Lettuce, other than head lettuce, fresh or chilled, if entered Nov. 1 through May 30, inclusive, in any year.
0705.21.00 | Witloof chicory, fresh or chilled.
0705.29.00 | Chicory, other than witloof chicory, fresh or chilled.
0707.00.20 | Cucumbers, including gherkins, fresh or chilled, if entered December 1 in any year to the last day of the following February, inclusive.
0707.00.40 | Cucumbers, including gherkins, fresh or chilled, if entered March 1 to April 30, inclusive, in any year.
0707.00.60 | Cucumbers, including gherkins, fresh or chilled, if entered July 1 to August 31, inclusive, in any year.
0708.20.10 | Lima beans, fresh or chilled, shelled or unshelled, if entered November 1 through the following May 31, inclusive.
0708.90.05 | Chickpeas (garbanzos), fresh or chilled, shelled or unshelled.
0708.90.25 | Pigeon peas, fresh or chilled, shelled or unshelled, if entered from July 1 to September 30, inclusive, in any year.
0708.90.30 | Pigeon peas, fresh or chilled, shelled or unshelled, if entered Oct. 1 through the following June 30, inclusive.
0709.20.10 | Asparagus, fresh or chilled, not reduced in size, if entered September 15 to November 15, inclusive, and transported to the U.S. by air.
0709.20.90 | Asparagus, nesoi, fresh or chilled.
0709.30.20 | Eggplants (aubergines), fresh or chilled, if entered April 1 to November 30, inclusive, in any year.
0709.30.40 | Eggplants (aubergines), fresh or chilled, if entered December 1 through the following March 31, inclusive.
0709.70.00 | Spinach, New Zealand spinach and orache spinach (garden spinach), fresh or chilled.
0709.91.00 | Globe artichokes, fresh or chilled.
0709.92.00 | Olives, fresh or chilled.
0709.93.10 | Pumpkins, fresh or chilled.
0709.93.30 | Gourds (Cucurbita spp.), fresh or chilled.
0710.29.15 | Lentils, uncooked or cooked by steaming or boiling in water, frozen.
0710.80.60 | Fiddlehead greens, uncooked or cooked by steaming or boiling in water, frozen, not reduced in size.
0710.80.85 | Brussels sprouts, uncooked or cooked by steaming or boiling in water, frozen, reduced in size.
0711.20.18 | Olives, n/pitted, green, in saline sol., in contain. > 8 kg, drained wt, for repacking or sale, subject to add. US note 5 to Ch. 7.
0711.20.28 | Olives, n/pitted, green, in saline sol., in contain. > 8 kg, drained wt, for repacking or sale, not subject to add. US note 5 to Ch. 7.
0711.20.38 | Olives, n/pitted, nesoi.
0711.20.40 | Olives, pitted or stuffed, provisionally preserved but unsuitable in that state for immediate consumption.
0711.59.90 | Truffles, provisionally preserved but unsuitable in that state for immediate consumption.
0711.90.30 | Capers, provisionally preserved but unsuitable in that state for immediate consumption.
0713.34.10 | Dried seeds of Bambara beans, of a kind used for sowing.
0713.60.10 | Dried pigeon pea seeds, of a kind used for sowing.
0714.10.10 | Cassava (manioc), frozen, whether or not sliced or in the form of pellets.
0714.30.50 | Dried yams (Dioscorea spp.), in the form of pellets.
0801.12.00 | Coconuts, fresh, in the inner shell (endocarp).
0801.21.00 | Brazil nuts, fresh or dried, in shell.
0801.22.00 | Brazil nuts, fresh or dried, shelled.
0802.21.00 | Hazelnuts or filberts, fresh or dried, in shell.
0802.61.00 | Macadamia nuts, in shell.
0802.70.10 | Kola nuts (Cola spp.), fresh or dried, in shell.
0802.70.20 | Kola nuts (Cola spp.), fresh or dried, shelled.
0802.80.10 | Areca nuts, fresh or dried, in shell.
0802.90.20 | Pignolias, fresh or dried, in shell.
0802.90.25 | Pignolias, fresh or dried, shelled.
0802.90.82 | Nuts, nesoi, fresh or dried, in shell.
0802.90.98 | Nuts nesoi, fresh or dried, shelled.
0803.10.10 | Plantains, fresh.
0804.40.00 | Avocados, fresh or dried.
0805.40.40 | Grapefruit, fresh or dried, entered during the period August 1 through September 30, inclusive.
0805.40.60 | Grapefruit, fresh or dried, if entered during the month of October.
0805.40.80 | Grapefruit, fresh or dried, if entered during the period November 1 through the following July 31, inclusive.
0805.50.20 | Lemons, fresh or dried.
0805.50.30 | Tahitian limes, Persian limes and other limes of the Citrus latifolia variety, fresh or dried.
0805.50.40 | Limes of the Citrus aurantifolia variety, fresh or dried.
0805.90.01 | Citrus fruit, not elsewhere specified or included, fresh or dried, including kumquats, citrons and bergamots.
0806.10.20 | Grapes, fresh, if entered during the period February 15 through March 31, inclusive.
0806.10.40 | Grapes, fresh, if entered during the period April 1 through June 30, inclusive.
0806.10.60 | Grapes, fresh, if entered during the period July 1 through the following February 14, inclusive.
0807.11.30 | Watermelons, fresh, if entered during the period from December 1, in any year, to the following March 31, inclusive.
0807.11.40 | Watermelons, fresh, if entered during the period April 1 through November 30, inclusive.
0807.19.10 | Cantaloupes, fresh, if entered during the period from August 1 through September 15, inclusive.
0807.19.20 | Cantaloupes, fresh, if entered during the periods from January 1 through July 31 or September 16 to December 31, inclusive.
0807.19.50 | Ogen and Galia melons, fresh, if entered during the period from December 1, in any year, to the following May 31, inclusive.
0807.19.60 | Ogen and Galia melons, fresh, if entered during the period from June 1 through November 30, inclusive.
0807.19.70 | Other melons nesoi, fresh, if entered during the period from December 1, in any year, to the following May 31, inclusive.
0807.19.80 | Other melons nesoi, fresh, if entered during the period from June 1 through November 30, inclusive.
0807.20.00 | Papayas (papaws), fresh.
0809.10.00 | Apricots, fresh.
0809.21.00 | Sour cherries (Prunus cerasus), fresh.
0809.40.20 | Plums, prunes and sloes, fresh, if entered during the period from January 1 through May 31, inclusive.
0809.40.40 | Plums, prunes and sloes, fresh, if entered during the period from June 1 through December 31, inclusive.
0810.20.90 | Raspberries and loganberries, fresh, if entered July 1-August 31, inclusive; blackberries & mulberries, fresh, entered any time.
0810.50.00 | Kiwi fruit, fresh.
0810.60.00 | Durians, fresh.
0812.10.00 | Cherries, provisionally preserved, but unsuitable in that state for immediate consumption.
0901.11.00 | Coffee, not roasted, not decaffeinated.
0901.12.00 | Coffee, not roasted, decaffeinated.
0901.21.00 | Coffee, roasted, not decaffeinated.
0901.22.00 | Coffee, roasted, decaffeinated.
0901.90.10 | Coffee husks and skins.
0901.90.20 | Coffee substitutes containing coffee.
0902.10.10 | Green tea in packages not over 3 kg, flavored.
0902.10.90 | Green tea in packages not over 3 kg, not flavored.
0902.20.10 | Green tea in packages over 3 kg, flavored.
0902.20.90 | Green tea in packages over 3 kg, not flavored.
0902.30.00 | Black tea (fermented) and partly fermented tea, in immediate packings of a content not exceeding 3 kg.
0902.40.00 | Black tea (fermented) and partly fermented tea, other than in immediate packings of a content not exceeding 3 kg.
0903.00.00 | Mate.
0904.11.00 | Pepper of the genus Piper, neither crushed nor ground.
0904.12.00 | Pepper of the genus Piper, crushed or ground.
0904.21.20 | Paprika, dried neither crushed nor ground.
0904.21.40 | Anaheim and ancho pepper, dried, neither crushed nor ground.
0904.21.60 | Fruits of the genus Capsicum, other than paprika or anaheim and ancho pepper, dried, not crushed or ground.
0904.21.80 | Fruits of the genus Pimenta (including allspice), dried.
0904.22.20 | Paprika, crushed or ground.
0904.22.40 | Anaheim and ancho pepper, crushed or ground.
0904.22.73 | Mixtures of mashed or macerated hot red peppers and salt, nesoi.
0904.22.76 | Fruits of the genus capsicum, crushed or ground, nesoi.
0904.22.80 | Fruits of the genus Pimenta (including allspice), crushed or ground.
0905.10.00 | Vanilla beans, neither crushed nor ground.
0905.20.00 | Vanilla beans, crushed or ground.
0906.11.00 | Cinnamon (Cinnamomum zeylanicum Blume) neither crushed nor ground.
0906.19.00 | Cinnamon and cinnamon-tree flowers,nesoi, neither crushed nor ground.
0906.20.00 | Cinnamon and cinnamon-tree flowers, crushed or ground.
0907.10.00 | Cloves (whole fruit, cloves and stems), neither crushed nor ground.
0907.20.00 | Cloves (whole fruit, cloves and stems), crushed or ground.
0908.11.00 | Nutmeg, neither crushed nor ground.
0908.12.00 | Nutmeg, crushed or ground.
0908.21.00 | Mace, neither crushed nor ground.
0908.22.20 | Mace, crushed or ground, Bombay or wild.
0908.22.40 | Mace, crushed or ground, other than Bombay or wild mace.
0908.31.00 | Cardamoms, neither crushed nor ground.
0908.32.00 | Cardamoms, crushed or ground.
0909.21.00 | Seeds of coriander, neither crushed nor ground.
0909.22.00 | Seeds of coriander, crushed or ground.
0909.31.00 | Seeds of cumin, neither crushed nor ground.
0909.32.00 | Seeds of cumin, crushed or ground.
0909.61.00 | Seeds of anise,badian, caraway or fennel; juniper berries; neither crushed nor ground.
0909.62.00 | Seeds of anise, badian, caraway or fennel; juniper berries; crushed or ground.
0910.11.00 | Ginger, neither crushed nor ground.
0910.12.00 | Ginger, crushed or ground.
0910.20.00 | Saffron.
0910.30.00 | Turmeric (curcuma).
0910.91.00 | Mixtures of spices.
0910.99.05 | Thyme; bay leaves, crude or not manufactured.
0910.99.06 | Thyme, other than crude or not manufactured.
0910.99.07 | Bay leaves, other than crude or not manufactured.
0910.99.10 | Curry.
0910.99.20 | Origanum, crude or not manufactured.
0910.99.40 | Origanum, other than crude or not manufactured.
0910.99.50 | Dill.
0910.99.60 | Spices, nesoi.
1001.19.00 | Durum wheat, other than seed.
1001.91.00 | Seed of wheat and meslin, other than durum wheat.
1002.10.00 | Rye, seed.
1002.90.00 | Rye, other than seed.
1005.10.00 | Seed corn (maize).
1006.10.00 | Rice in the husk (paddy or rough).
1008.40.00 | Fonio (Digitaria spp.).
1008.60.00 | Triticale.
1202.30.05 | Peanuts (ground-nuts), seed, not roasted or cooked, shelled, subject to gen note 15 of the HTS.
1202.30.80 | Peanuts (ground-nuts), seed, not roasted or cooked, shelled, not subject to gen note 15 or add. US note 2 to Ch.12.
1202.41.05 | Peanuts (ground-nuts), not seed, not roasted or cooked, in shell, subject to gen note 15 of the HTS.
1202.41.40 | Peanuts (ground-nuts), not seed, not roasted or cooked, in shell, subject to add. US note 2 to Ch.12.
1202.41.80 | Peanuts (ground-nuts), not seed, not roasted or cooked, in shell, not subject to gen note 15 or add. US note 2 to Ch.12.
1202.42.05 | Peanuts (ground-nuts), not seed, not roasted or cooked, shelled, subject to gen note 15 of the HTS.
1202.42.40 | Peanuts (ground-nuts), not seed, not roasted or cooked, shelled, subject to add. US note 2 to Ch.12.
1202.42.80 | Peanuts (ground-nuts), not seed, not roasted or cooked, shelled, not subject to gen note 15 or add. US note 2 to Ch.12.
1203.00.00 | Copra.
1207.10.00 | Palm nuts and kernels.
1207.21.00 | Cotton seeds, whether or not broken, seed for sowing.
1207.29.00 | Cotton seeds, whether or not broken, other than seed for sowing.
1207.30.00 | Castor oil seeds.
1209.22.20 | White and ladino clover seeds of a kind used for sowing.
1209.22.40 | Clover seeds, other than white and ladino, of a kind used for sowing.
1209.23.00 | Fescue seeds of a kind used for sowing.
1209.24.00 | Kentucky blue grass seeds of a kind used for sowing.
1210.20.00 | Hop cones, fresh or dried, ground, powdered or in the form of pellets; lupulin.
1211.90.60 | Tonka beans, of a kind used in perfumery, in pharmacy or for insecticidal, fungicidal or similar purposes.
1212.91.00 | Sugar beet, fresh, chilled, frozen or dried, whether or not ground.
1212.93.00 | Sugar cane, fresh, chilled, frozen or dried, whether or not ground.
1212.94.00 | Chicory roots.
1301.20.00 | Gum Arabic.
1301.90.40 | Turpentine gum (oleoresinous exudate from living trees).
1301.90.91 | Lac,natural gums, resins, gum-resins and oleoresins (e.g., balsams), nesoi.
1302.11.00 | Saps and extracts of opium.
1302.12.00 | Saps and extracts of licorice.
1302.13.00 | Saps and extracts of hops.
1302.14.01 | Vegetable saps and extracts of ephedra.
1302.19.21 | Poppy straw extract.
1302.19.41 | Ginseng and other substances having prophylatic or therapeutic properties.
1302.19.91 | Vegetable saps and extracts nesoi.
1302.20.00 | Pectic substances, pectinates and pectates.
1302.31.00 | Agar-agar.
1302.32.00 | Mucilages and thickeners, whether or not modified, derived from locust beans, locust bean seeds or guar seeds.
1302.39.00 | Mucilages and thickeners derived from vegetable products other than locust beans, locust bean seeds or guar seeds, and excluding agar-agar.
1401.20.20 | Rattans, in the rough or cut transversely into sections, of a kind used primarily for plaiting.
1401.20.40 | Rattans, other than those in the rough or cut transversely into sections, of a kind used primarily for plaiting.
1404.90.20 | Broomcorn (Sorghum vulgare var. technicum) of a kind used primarily in brooms or brushes.
1501.10.00 | Lard, other than heading 0209 or 1503.
1501.20.00 | Other pig fat other than heading 0209 or 1503.
1501.90.00 | Poultry fat, other than that of head 0209 or 1503.
1502.10.00 | Fats of bovine animals, sheep or goats, other than those of heading 1503: tallow.
1502.90.00 | Fats of bovine animals, sheep or goats, other than those of heading 1503, other than tallow.
1503.00.00 | Lard stearin, lard oil, oleostearin, oleo-oil, and tallow oil, not emulsified or mixed or otherwise prepared.
1504.30.00 | Fats and oils and their fractions, of marine mammals.
1507.10.00 | Crude soybean oil, whether or not degummed.
1507.90.20 | Pharmaceutical grade soybean oil meeting FDA requirements for use in intravenous fat emulsions, valued over $5 per kg.
1507.90.40 | Soybean oil, other than crude, and its fractions, whether or not refined, but not chemically modified, nesoi.
1508.10.00 | Crude peanut (ground-nut) oil.
1508.90.00 | Peanut (ground-nut) oil, other than crude, and its fractions, whether or not refined, but not chemically modified.
1509.10.20 | Virgin olive oil and its fractions, whether or not refined, not chemically modified, weighing with the immediate container under 18 kg.
1509.10.40 | Virgin olive oil and its fractions, whether or not refined, not chemically modified, weighing with the immediate container 18 kg or over.
1509.90.20 | Olive oil, other than virgin olive oil, and its fractions, not chemically modified, weighing with the immediate container under 18 kg.
1509.90.40 | Olive oil, other than virgin olive oil, and its fractions, not chemically modified, weighing with the immediate container 18 kg or over.
1510.00.20 | Olive oil, including blends, and their fractions, not chemically modified, rendered unfit for use as food.
1510.00.40 | Edible oil including blends, and their fractions, nesoi, not chemically modified, weighing under 18 kg.
1510.00.60 | Edible oil including blends, and their fractions, nesoi, not chemically modified, weighing 18 kg or over.
1511.10.00 | Palm oil, crude, and its fractions, whether or not refined, not chemically modified.
1511.90.00 | Palm oil, other than crude, and its fractions, whether or not refined, but not chemically modified.
1512.11.00 | Sunflower-seed or safflower oil, crude, and their fractions, whether or not refined, not chemically modified.
1512.19.00 | Sunflower seed or safflower oil, other than crude, and their fractions, whether or not refined, but not chemically modified.
1512.21.00 | Cottonseed oil, crude, and its fractions, whether or not gossypol has been removed.
1512.29.00 | Cottonseed oil, other than crude, and its fractions, whether or not refined, but not chemically modified.
1513.11.00 | Coconut (copra) oil, crude, and its fractions, not chemically modified.
1513.19.00 | Coconut (copra) oil, other than crude, and its fractions, whether or not refined, but not chemically modified.
1513.21.00 | Palm kernel or babassu oil, crude, and their fractions, not chemically modified.
1513.29.00 | Palm kernel oil or babassu oil, other than crude, and their fractions, whether or not refined, but not chemically modified.
1514.11.00 | Low erucic acid rapeseed or colza oil, crude, but not chemically modified.
1514.19.00 | Low erucic acid rapeseed or colza oil, other than crude, and their fractions, whether or not refined, but not chemically modified.
1514.91.10 | Rapeseed/colza (not low erucic) or mustard oil, for use in manufacture of rubber substitutes or lubricating oil, crude, not chem modified.
1514.91.90 | Rapeseed or colza (not low erucic acid) or mustard oil, crude, not chemically modified, nesoi.
1514.99.10 | Rapeseed/colza (not low erucic) or mustard oil, for use manufacture rubber substitute or lube oil, not crude, & its fractions,not chem modified.
1514.99.50 | Denatured rapeseed or colza (not low erucic acid) or mustard oil, other than crude, and their fractions, whether or not refined, nesoi.
1514.99.90 | Rapeseed/colza (not low erucic) or mustard oil, other than crude, & their fractions, whether or not refined, not chemically modified, nesoi.
1515.11.00 | Linseed oil, crude, and its fractions, not chemically modified.
1515.19.00 | Linseed oil, other than crude, and its fractions, whether or not refined, not chemically modified.
1515.21.00 | Corn (maize) oil, crude, and its fractions, not chemically modified.
1515.29.00 | Corn (maize) oil, other than crude, and its fractions, whether or not refined, not chemically modified.
1515.30.00 | Castor oil and its fractions, whether or not refined, but not chemically modified.
1515.50.00 | Sesame oil and its fractions, whether or not refined, not chemically modified.
1515.90.21 | Nut oils, whether or not refined, not chemically modified.
1515.90.60 | Jojoba oil and its fractions, whether or not refined, not chemically modified.
1515.90.80 | Fixed vegetable fats and oils and their fractions nesoi, whether or not refined, not chemically modified.
1516.10.00 | Animal fats and oils, partly or wholly hydrogenated, interesterified, reesterified or elaidinized, not further prepared.
1516.20.10 | Rapeseed oil, hydrogenated or hardened.
1516.20.90 | Vegetable fats and oils nesoi, partly or wholly hydrogenated, interesterified, reesterified or elaidinized, not further prepared.
1517.10.00 | Margarine, excluding liquid margarine.
1517.90.10 | Edible artificial mixtures of products provided for in headings 1501 to 1515, cont. 5% or more by weight of soybean oil or fraction thereof.
1517.90.20 | Edible artificial mixtures of products provided for in headings 1501 to 1515, nesoi.
1517.90.45 | Edible mixt. & preps, dairy products described in add. US note 1 to Ch 4: subject to gen. note 15 of the HTS.
1517.90.50 | Edible mixt. & preps, dairy products described in add. US note 1 to Ch 4: subject to add. US note 10 to Ch. 4.
1517.90.60 | Edible mixt. & preps, dairy products described in add. US note 1 to Ch 4: not subj. to gen. note 15 or add. US note 10 to Ch. 4.
1517.90.90 | Edible mixt. & preps (ex. dairy products descr. in add. US note 1 to Ch. 4), nesoi.
1518.00.20 | Linseed or flaxseed oil, and their fractions, boiled, oxidized, dehydrated, sulfurized, blown or otherwise chemically modified.
1518.00.40 | Animal or vegetable fats and oils, nesoi, oxidized, dehydrated or otherwise chemically modified; inedible mixtures of fats and oils nesoi.
1520.00.00 | Glycerol, crude; glycerol waters and glycerol lyes.
1521.10.00 | Vegetable waxes (other than triglycerides), whether or not refined or colored.
1521.90.20 | Bleached beeswax.
1521.90.40 | Insect waxes, other than bleached beeswax, and spermaceti, whether or not refined or colored.
1522.00.00 | Degras; residues resulting from the treatment of fatty substances or animal or vegetable waxes.
1601.00.20 | Pork sausages and similar products of pork, pork offal or blood; food preparations based on these products.
1601.00.40 | Sausages and similar products of beef, beef offal or blood; food preparations based on these products, in airtight containers.
1601.00.60 | Sausage and similar products of meats, meat offal or blood nesoi; food preparations based on these products.
1602.10.10 | Homogenized preparations of prepared or preserved meat, meat offal or blood, put up for retail sale as food for infants or for dietetic purposes.
1602.10.50 | Homogenized preparations of prepared or preserved meat, meat offal or blood, put up for retail sale as food for children.
1602.20.20 | Prepared or preserved liver of goose.
1602.20.40 | Prepared or preserved liver of any animal other than of goose.
1602.31.00 | Prepared or preserved meat or meat offal of turkeys, nesoi.
1602.39.00 | Prepared or preserved meat or meat offal of ducks, geese or guineas, nesoi.
1602.41.10 | Prepared or preserved pork ham and cuts thereof, containing cereals or vegetables.
1602.41.20 | Pork hams and cuts thereof, not containing cereals or vegetables, boned and cooked and packed in airtight containers.
1602.41.90 | Prepared or preserved pork hams and cuts thereof, not containing cereals or vegetables, nesoi.
1602.42.20 | Pork shoulders and cuts thereof, boned and cooked and packed in airtight containers.
1602.42.40 | Prepared or preserved pork shoulders and cuts thereof, other than boned and cooked and packed in airtight containers.
1602.49.10 | Prepared or preserved pork offal, including mixtures.
1602.49.20 | Pork other than ham and shoulder and cuts thereof, not containing cereals or vegetables, boned and cooked and packed in airtight containers.
1602.49.40 | Prepared or preserved pork, not containing cereals or vegetables, nesoi.
1602.49.60 | Prepared or preserved pork mixed with beef.
1602.49.90 | Prepared or preserved pork, nesoi.
1602.50.05 | Prepared or preserved offal of bovine animals.
1602.50.07 | Corned beed in airtight containers.
1602.50.08 | Of bovine animals, cured or pickled, not corned beef, not in airtight containers.
1602.50.21 | Of bovine animals, other, in airtight containers.
1602.50.60 | Prepared or preserved meat of bovine animals, not containing cereals or vegetables, nesoi.
1602.50.90 | Prepared or preserved meat of bovine animals, containing cereals or vegetables.
1602.90.10 | Prepared or preserved frog meat.
1602.90.91 | Prepared or preserved meat, meat offal or blood, whether or not canned, nesoi.
1701.12.05 | Beet sugar, raw, in solid form, w/o added flavoring or coloring, subject to gen. note 15 of the HTS.
1701.12.10 | Beet sugar, raw, in solid form, w/o added flavoring or coloring, subject to add. US 5 to Ch.17.
1701.12.50 | Beet sugar, raw, in solid form, w/o added flavoring or coloring, nesoi, not subject to gen. note 15 or add. US 5 to Ch.17.
1701.13.05 | Cane sugar, raw, specified in subheading 2 to chapter 17, in solid form, w/o added flavoring or coloring, subject to gen. note 15 of the HTS.
1701.13.10 | Cane sugar, raw, specified in subheading 2 and subject to add'l note 5 to this chapter, in solid form, w/o added flavoring or coloring.
1701.13.20 | Cane sugar, raw, specified in subheading 2 to chapter 17, to be used for certain polyhydric alcohols.
1701.13.50 | Cane sugar, raw, specif in subhead 2 to chapt 17,solid, w/o added flavor or color, not subject gen. note 15 of the HTS or chapter note 5.
1701.14.05 | Other cane sugar, raw, in solid form, w/o added flavoring or coloring, subject to gen. note 15 of the HTS.
1701.14.10 | Other cane sugar, raw, in solid form, w/o added flavoring or coloring, subject to add. US 5 to Ch.17.
1701.14.20 | Other cane sugar, raw, in solid form, to be used for certain polyhydric alcohols.
1701.14.50 | Other cane sugar, raw solid form, w/o flavoring or coloring, nesoi, not subject to gen. note 15 or add. US 5 to Ch.17.
1701.91.05 | Cane/beet sugar & pure sucrose, refined, solid, w/added coloring but not flav., subject to gen. note 15 of the HTS.
1701.91.10 | Cane/beet sugar & pure sucrose, refined, solid, w/added coloring but not flav., subject to add. US 5 to Ch.17.
1701.91.30 | Cane/beet sugar & pure sucrose, refined, solid, w/added coloring but not flav., not subject to gen. note 15 or add. US 5 to Ch.17.
1701.91.42 | Cane/beet sugar & pure sucrose, refined, solid, w/added flavoring, o/65% by wt. sugar, descr. in Ch17 US note 2, subj. to gen nte 15.
1701.91.44 | Cane/beet sugar & pure sucrose, refined, solid, w/added flavoring, o/65% by wt. sugar, descr. in Ch17 US note 2, subj. to Ch17 US nte 7.
1701.91.48 | Cane/beet sugar & pure sucrose, refined, solid, w/added flavoring, o/65% by wt. sugar, descr. in Ch17 US note 2, not GN 15/Ch 17 US nte 7.
1701.91.52 | Cane/beet sugar & pure sucrose, refined, solid, w/added flavoring, o/10% by wt. sugar, descr. in Ch17 US note 3, subj. to gen nte 15.
1701.91.54 | Cane/beet sugar & pure sucrose, refined, solid, w/added flavoring, o/10% by wt. sugar, descr. in Ch17 US note 3, subj. to Ch17 US nte 8.
1701.91.58 | Cane/beet sugar & pure sucrose, refined, solid, w/added flavoring, o/10% by wt. sugar, descr. in Ch17 US note 3, not GN15/Ch.17 US nte 8.
1701.91.80 | Cane/beet sugar & pure sucrose, refined, solid, w/added flavoring, nesoi.
1701.99.05 | Cane/beet sugar & pure sucrose, refined, solid, w/o added coloring or flavoring, subject to gen. note 15 of the HTS.
1702.11.00 | Lactose and lactose syrup containing by weight 99% or more lactose, calculated on the dry matter.
1702.19.00 | Lactose and lactose syrup containing by weight less than 99% lactose, calculated on the dry matter.
1702.20.22 | Maple syrup, blended, described in add. US note 4 to Ch.17: subject to gen. note 15 of the HTS.
1702.20.24 | Maple syrup, blended, described in add. US note 4 to Ch.17: subject to add. US note 9 to Ch.17.
1702.20.28 | Maple syrup, blended, described in add. US note 4 to Ch.17: not subject to gen note 15 or add. US note 9 to Ch.17.
1702.20.40 | Maple sugar and maple syrup, nesoi.
1702.30.22 | Glucose & glucose syrup nt containing or containing in dry state less than 20% fructose; blended, see gen. note 15 of the schedule & prov..
1702.30.24 | Glucose & glucose syrup nt containing or containing in dry state less than 20% fructose; blended, see add'l U.S. note 9 (chap. 17) & Prov..
1702.30.28 | Glucose & glucose syrup not containing or containing in dry state less than 20% fructose; blended syrups (chap 17-note 4), nesoi.
1702.30.40 | Glucose and glucose syrup, not containing fructose or in the dry state less than 20 percent by weight of fructose, nesoi.
1702.40.22 | Blended syrup desc. in add'l U.S. note 4(chap.17) Contng in dry state 20%-50% by weight of fructose, see gen. note 15 of the HTS & prov..
1702.40.24 | Blended syrup desc. in add'l U.S. note 4(chap.17) Contng in dry state 20%-50% by weight of fructose, see add'l U.S. note 9 (chap.17) & Prov..
1702.40.28 | Blended syrup desc. in add'l U.S. note 4(chap.17) Contng in dry state 20%-50% by weight of fructose, nesoi.
1702.40.40 | Glucose in solid form & glucose syrup, containing in dry state at least 20% but less than 50% by weight of fructose, nesoi.
1702.50.00 | Chemically pure fructose.
1702.60.22 | Oth fructose & fruc. syrup contng in dry state >50% by wt. of fructose, blended syrup(see add'l U.S. note 4-chap 17) & see gen. note 15.
1702.60.24 | Oth fructose & fruc. syrup contng in dry state >50% by wt. of fructose, blended syrup(see add'l U.S. note 4-chap 17) & see add'l U.S. note 9.
1702.60.28 | Oth fructose & fruc. syrup contng in dry state >50% by wt. of fructose, blended syrup(see add'l U.S. note 4-chap 17), nesoi.
1702.60.40 | Glucose and glucose syrup, w/50% or more fructose, other than blended syrups described in add. US note 4 to Ch.17.
1702.90.05 | Cane/beet sugars & syrups (incl. invert sugar); nesoi, w/soluble non-sugar solids 6% or less soluble solids, subj to GN 15.
1702.90.10 | Cane/beet sugars & syrups (incl. invert sugar); nesoi, w/soluble non-sugar solids 6% or less soluble solids, subj Ch17 US note 5.
1702.90.20 | Cane/beet sugars & syrups (incl. invert sugar); nesoi, w/soluble non-sugar solids 6% or less soluble solids, not subj to GN15/Ch17 US nte 5.
1702.90.35 | Invert molasses.
1702.90.40 | Other cane/beet syrups nesoi.
1702.90.52 | Sugar syrups, artificial honey, caramel, nesoi, subject to gen. note 15 of the HTS.
1702.90.54 | Blended syrups described in add. US note 4 to chap. 17, nesoi, subject to add. US note 9 to Ch. 17.
1702.90.58 | Blended syrups described in add. US note 4 to chap. 17, nesoi, not subject to add. US note 9 to Ch. 17.
1702.90.64 | Sugars nesoi w/o 65% by dry wt. sugar, described in add. U.S note 2 to Ch.17: and subj. to add. US note 7 to Ch.17.
1702.90.68 | Sugars nesoi w/o 65% by dry wt. sugar, described in add. U.S note 2 to Ch.17: and not subj. to add. US note 7 to Ch.17.
1703.10.30 | Cane molasses imported for (a) the commercial extraction of sugar or (b) human consumption.
1703.10.50 | Cane molasses nesoi.
1703.90.30 | Molasses, other than cane, imported for (a) the commercial extraction of sugar or (b) human consumption.
1703.90.50 | Molasses nesoi.
1704.10.00 | Chewing gum, not containing cocoa, whether or not sugar-coated.
1704.90.10 | Candied nuts, not containing cocoa.
1704.90.25 | Sugar confectionary cough drops, not containing cocoa.
1704.90.52 | Sugar confectionery nesoi, not containing cocoa, subject to gen. note 15 of the HTS.
1704.90.54 | Sugar confectionery nesoi, w/o cocoa, dairy products subject to add. US note 1 to chap. 4: subject to add US note 10 to chapter 4.
1704.90.58 | Sugar confectionery nesoi, w/o cocoa, dairy products subject to add. US note 1 to chap. 4: not subject to add US note 10 to chapter 4.
1704.90.64 | Sugar confectionery nesoi o/65% by dry wt. of sugar described in add. US note 2 to Ch. 17, w/o cocoa, subj. to add. US note 7 to Ch.17.
1704.90.68 | Sugar confectionery nesoi o/65% by dry wt. of sugar described in add. US note 2 to Ch. 17, w/o cocoa, not subj. to Ch17 US note 7.
1704.90.74 | Sugar confectionery nesoi o/10% by dry wt. of sugar described in add. US note 3 to Ch. 17, w/o cocoa, subj. to add. US note 8 to Ch.17.
1704.90.78 | Sugar confectionery nesoi o/10% by dry wt. of sugar described in add. US note 3 to Ch. 17, w/o cocoa, not subj. to Ch17 US note 8.
1801.00.00 | Cocoa beans, whole or broken, raw or roasted.
1802.00.00 | Cocoa shells, husks, skins and other cocoa waste.
1803.10.00 | Cocoa paste, not defatted.
1803.20.00 | Cocoa paste, wholly or partly defatted.
1804.00.00 | Cocoa butter, fat and oil.
1805.00.00 | Cocoa powder, not containing added sugar or other sweetening matter.
1806.10.05 | Cocoa powder, sweetened, w/less than 65% by dry wt. sugar, subject to gen. note 15 of the HTS.
1806.10.10 | Cocoa powder, sweetened, w/less than 65% by dry wt. sugar, subject to add US note 1 to Ch. 18.
1806.10.15 | Cocoa powder, sweetened, w/less than 65% by dry wt. sugar, not subject to gen note 15 or add US note 1 to Ch. 18.
1806.10.22 | Cocoa powder, o/65% but less than 90% by dry wt of sugar, subject to gen. note 15 of the HTS.
1806.10.24 | Cocoa powder, o/65% but less than 90% by dry wt of sugar, described in add US note 2 to Ch.17: subj. to add US note 7 to Ch. 17.
1806.10.28 | Cocoa powder, o/65% but less than 90% by dry wt of sugar, described in add US note 2 to Ch.17: not subj. to add US note 7 to Ch. 17.
1806.10.34 | Cocoa powder, sweetened, neosi, subject to add US note 1 to Ch. 18.
1806.10.38 | Cocoa powder, sweetened, neosi, not subject to add US note 1 to Ch. 18.
1806.10.43 | Cocoa powder, o/90% by dry wt of sugar, subject to gen. note 15 of the HTS.
1806.10.45 | Cocoa powder, o/90% by dry wt of sugar, described in add US note 2 to Ch. 17: subject to add US note 7 to Ch. 17.
1806.10.55 | Cocoa powder, o/90% by dry wt of sugar, described in add US note 2 to Ch. 17: not subject to add US note 7 to Ch. 17.
1806.10.65 | Cocoa powder, o/90% by dry wt of sugar, neosi, subject to add. US note 1 to Ch. 18.
1806.10.75 | Cocoa powder, o/90% by dry wt of sugar, neosi.
1806.20.20 | Preparation consist wholly of ground cocoa beans, cont. n/o 32% butterfat and 60% sugar, in blocks or slabs 4.5 kg or more each.
1806.20.22 | Chocolate, ov 2kg, cont. milk solids, not in blocks 4.5 kg or more, subj. to gen. note 15 of the HTS.
1806.20.24 | Chocolate, ov 2kg, cont. milk solids, not in blocks 4.5 kg or more, subj. to add US note 2 to Ch. 18, not GN15, ov 5.5 pc bf.
1806.20.26 | Chocolate, ov 2kg, cont. milk solids, not in blocks 4.5 kg or more, not subj. Ch18 US note 2/GN15, ov 5.5 pc bf, less th 21% milk solids.
1806.20.28 | Chocolate, ov 2kg, cont. milk solids, not in blocks 4.5 kg or more, not GN15, ov 5.5 pc bf ov 21% milk solids.
1806.20.34 | Chocolate, ov 2kg, cont. milk solids, not in blocks 4.5 kg or more, not ov 5.5 pc bf, subj. to add US note 3 to Ch. 18, not GN15.
1806.20.36 | Chocolate, ov 2kg, cont. milk solids, not in blocks 4.5 kg or more, less than 21% milk solids, not subj. to Ch18 US note 3/GN15.
1806.20.38 | Chocolate, ov 2kg, cont. milk solids, not in blocks 4.5 kg or more, 21% or more milk solids, not GN15.
1806.20.50 | Chocolate, ov 2kg, cont. milk solids, not in blocks 4.5 kg or more, no milk solids, not GN15.
1806.20.60 | Confectioners' coatings & other products, not less than 6.8% non-fat solids of the cocoa bean nib and not less than 15% vegetable fats.
1806.20.67 | Chocolate/oth preps with cocoa, ov 2kg but n/o 4.5 kg, o/65% by wt of sugar, subject to gen. note 15 of the HTS.
1806.20.71 | Chocolate/oth preps with cocoa, ov 2kg but n/o 4.5 kg, o/65% by wt of sugar, desc in add US nte 2 to Ch. 17: subj. to add note 7 to Ch. 17.
1806.20.73 | Chocolate/oth preps with cocoa, ov 2kg but n/o 4.5 kg, o/65% by wt of sugar, desc in Ch17 US nte 2, not subj. to Ch17 US note 7.
1806.20.75 | Chocolate/oth preps with cocoa, ov 2kg but n/o 4.5 kg, o/65% by wt of sugar, desc in add US nte 3 to Ch. 17: subj. to Ch17 US note 8.
1806.20.77 | Chocolate/oth preps with cocoa, ov 2kg but n/o 4.5 kg, o/65% by wt of sugar, desc in add US nte 3 to Ch. 17: not subj. to Ch17 US note 8.
1806.20.78 | Chocolate/oth preps with cocoa, ov 2kg but n/o 4.5 kg, o/65% by wt of sugar, neosi.
1806.20.79 | Chocolate/oth preps with cocoa, ov 2kg but n/o 4.5 kg, n/o 65% by wt of sugar, not in blocks 4.5 kg or more, subj to GN 15.
1806.20.81 | Chocolate/oth preps with cocoa, ov 2kg but n/o 4.5 kg, (dairy prod. descr. in Ch.4 US note 1), n/o 65% sugar, subj to Ch.4 nte 10, not GN15.
1806.20.82 | Chocolate/oth preps w/cocoa, o/2kg but n/o4.5 kg (dairy prod. of Ch4 US note 1), n/o 65% sugar, less th 21% milk solid, not GN15.
1806.20.83 | Chocolate/oth preps w/cocoa, o/2kg but n/o4.5 kg (dairy prod. of Ch4 US note 10), n/o 65% sugar, 21% or more milk solids, not GN15.
1806.20.85 | Low-fat chocoate crumb, n/o 65% by wt of sugar, ov 2kg but n/o 4.5 kg, subject to add US note 3 to Ch. 18, not GN15.
1806.20.87 | Low-fat chocolate crumb, n/o 65% by wt of sugar, ov 2kg but n/o 4.5 kg, less than 21% milk solids, not GN15, not subj to ch 18 US note 3.
1806.20.89 | Low-fat chocolate crumb, n/o 65% by wt of sugar, 21% or more milk solids, not ov 2kg, not GN15, not subj to ch 18 US note 3.
1806.20.91 | Blended syrups w/chocolate or cocoa, o/2kg but n/o 4.5 kg, n/o 65% sugar, descr in Ch17 US note 4, subj. to Ch17 US note 9, not GN15.
1806.20.94 | Blended syrups w/chocolate or cocoa, o/2kg but n/o 4.5 kg, n/o 65% sugar, descr in Ch 17 US note 4, not subj. to Cha7 US note 9, not GN15.
1806.20.95 | Chocolate and preps w/cocoa, nesoi, o/2kg but n/o 4.5 kg, n/o 65% sugar, desc in Ch17 US note 3, subj. to Ch17 US note 8, not GN15.
1806.20.98 | Chocolate and preps w/cocoa, neosi, o/2kg but n/o 4.5 kg, n/o 65% sugar, desc in Ch17 US note 3, not subj to Ch.17 US note 8, not GN15.
1806.20.99 | Chocolate and preps with cocoa, nesoi, ov 2kg but n/o 4.5 kg, n/o 65% sugar, nesoi.
1806.31.00 | Chocolate and other cocoa preparations, in blocks, slabs or bars, filled, not in bulk.
1806.32.01 | Chocolate, nt filled, in blocks/slabs/bars 2kg or less, subj. to GN15.
1806.32.04 | Chocolate, nt filled, in blocks/slabs/bars 2kg or less, subj. to add US note 2 to Ch. 18.
1806.32.06 | Chocolate, not filled, less than 21% milk solids, >5.5% butterfat, in blocks/slabs/bars 2kg or less.
1806.32.08 | Chocolate, not filled, 21% or more milk solids, >5.5% butterfat, in blocks/slabs/bars 2kg or less.
1806.32.14 | Chocolate, not filled, in blocks/slabs/bars 2kg or less, subj. to add US note 3 to Ch. 18.
1806.32.16 | Chocolate, not filled, less than 21% milk solids, <= 5.5% butterfat, in blocks/slabs/bars 2kg or less.
1806.32.18 | Chocolate, not filled, 21% or more milk solids, <=5.5% butterfat, in blocks/slabs/bars 2kg or less.
1806.32.30 | Chocolate, not filled, w/o butterfat/milk solids, in blocks/slabs/bars 2kg or less.
1806.32.55 | Cocoa preps, not filled, in blocks, slabs or bars weighing 2 kg or less, subject to gen. note 15 of the HTS.
1806.32.60 | Cocoa preps, (dairy prod. of Ch4 US note 1), not filled, in blocks, slabs or bars, w/wt 2 kg or less, subj. to add. US note 10 to Ch 4.
1806.32.70 | Cocoa preps, (dairy prod. of Ch4 US note 1), less than 21% milk solids, not filled, in blocks/slabs/bars, 2 kg or less, not Ch.4 US nte 10.
1806.32.80 | Cocoa preps, (dairy prod. of Ch4 US note 1), 21% or more milk solids, not filled, in blocks/slabs/bars, 2 kg or less, not Ch.4 US nte 10.
1806.32.90 | Cocoa preps, not filled, in blocks, slabs or bars weighing 2kg or less,.
1806.90.01 | Cocoa preps, not in blocks/slabs/bars, subj. to gen. note 15 of the HTS.
1806.90.05 | Cocoa preps, (dairy prod. descr. in add US note 1 to Ch.4), not in blocks, slabs or bars, subj. to add. US note 10 to Ch 4, not GN15.
1806.90.08 | Cocoa preps, (dairy prod. descr. in add US note 1 to Ch.4), less than 21% milk solids, not in blocks, slabs or bars, not GN15.
1806.90.10 | Cocoa preps, (dairy prod. descr. in Ch4 US note 1), 21% or more milk solids, not in blocks, slabs or bars, not Ch4 USNote 10, not GN15.
1806.90.15 | Cocoa preps, o/5.5% butterfat by wt, not in blocks/slabs/bars, subj. to add US note 2 to Ch. 18, not GN15.
1806.90.18 | Cocoa preps, o/5.5% butterfat by wt, w/less than 21% milk solids, not in blocks/slabs/bars, not GN15.
1806.90.20 | Cocoa preps, o/5.5% butterfat by wt, 21% or more milk solids, not in blocks/slabs/bars, not GN15.
1806.90.25 | Cocoa preps, cont. milk solids, n/o 5.5% butterfat by wt, not in blocks/slabs/bars, subj. to add US note 3 to Ch. 18, not GN15.
1806.90.28 | Cocoa preps, cont. milk solids, n/o 5.5% butterfat by wt, w/less than 21% milk solids, not blocks/slabs/bars, not Ch18 US note 3, not GN15.
1806.90.30 | Cocoa preps, cont. milk solids, n/o 5.5% butterfat by wt, 21% or more milk solids, not in blocks/slabs/bars, not Ch18 US note 3, not GN15.
1806.90.35 | Blended syrups w/chocolate or cocoa, nesoi, described in add US note 4 to Ch.17: subj. to add US note 9 to Ch. 17, not GN15.
1806.90.39 | Blended syrups w/chocolate or cocoa, nesoi, described in add US note 4 to Ch.17: not subj. to add US note 9 to Ch. 17, not GN15.
1806.90.45 | Chocolate and preps w/cocoa, nesoi, o/65% by dry wt of sugar, described in add US note 2 to Ch.17: subj. to Ch17 US note 7, not GN15.
1806.90.49 | Chocolate and preps w/cocoa, nesoi, o/65% by dry wt of sugar, described in add US note 2 to Ch.17: not subj to Ch17 US note 7, not GN15.
1806.90.55 | Chocolate and preps w/cocoa, nesoi, o/10% by dry wt of sugar, described in add US note 3 to Ch.17: subj to Ch17 US note 8, not GN15.
1806.90.59 | Chocolate and preps w/cocoa, nesoi, o/10% by dry wt of sugar, described in add US note 3 to Ch.17: not subj to Ch17 US note 8, not GN15.
1806.90.90 | Chocolate and preps w/cocoa, nesoi, not put up for retail sale.
1901.10.05 | Preps for infant use, for retail sale, o/10% milk solids, subject to gen. note 15.
1901.10.11 | Preps for infant use, infant formula containing Oligossaccharides and >10% milk solid by weight, described in US note 2.
1901.10.16 | Preps for infant use, infant formula containing Oligossaccharides and > 10% milk solid by weight, nesoi.
1901.10.21 | Pre[s for infant use containing >10% milk solids, dairy products described in additional note 10 to chap: provisional.
1901.10.26 | Preps for infant use, containing >10% weight of milk solids, dairy products described in additional note 1 to chapter 4, nesoi.
1901.10.29 | Preps for infant use, containing >10% by weight of milk solids, nesoi.
1901.10.31 | Preps for infant use, nesoi, described in general note 15 of USHTS and entered pursuant to its provisions.
1901.10.33 | Preps for infant use, nesoi, containing Oligosaccharides described in additional US note 2: provisional.
1901.10.36 | Preps for infant use, nesoi, formula containing Oligosaccharides, nesoi.
1901.10.41 | Preps for infant use, nesoi, dairy products described in additional US note 10 to chatper 4: provisional.
1901.10.44 | Preps for infant use, dairy products described in additional US note 1 to chapter 4.
1901.10.49 | Preps for infant use, nesoi.
1901.10.52 | Preps for young children, containing >10% milk solids by weight, described in general note 15 of USHTS: provisional.
1901.10.54 | Preps suitable for young children, containing >10% milk solids by weight, described in additional US note 10 to chapter 4.
1901.10.56 | Preps for young children, dairy preps containing > 10% by weight of milk solids, nesoi.
1901.10.62 | Preps for young children, nesoi, described in general note 15: provisional.
1901.10.64 | Preps for young children, nesoi, described in additional US note 10 to chapter 4.
1901.10.66 | Preps for young children, nesoi.
1901.10.72 | Preps for young children, other excl dairy, described in general note 15 of USHTS and entered pursuant to its provisions.
1901.10.74 | Preps for young children, nesoi, described in additional US note 8 to chapter 17 and entered pursuant to its provisions.
1901.10.76 | Preps for young children, nesoi, containing >10% by dry weight of sugar described in additional US note 3 to Chapter 17: provisional.
1901.10.91 | Preps for young children, nesoi.
1901.20.02 | Mixes for bakers wares, o/25% butterfat, not retail, subject to gen. note 15 of the HTS.
1901.20.05 | Mixes for bakers wares (dairy prod. of Ch4 US note 1), o/25% by wt butterfat, not retail, subj. to add. US nte 10 to Ch.4, not GN15.
1901.20.15 | Mixes for bakers wares (dairy prod. of Ch4 US note 1), o/25% by wt butterfat, not retail, not subj. to add. US nte 10 to Ch.4, not GN15.
1901.20.20 | Mixes for bakers wares, o/65% sugar, o/25% bf, not retail, descr in add US note 2 to Ch. 17: subj. to add. US nte 7 to Ch.17, not GN15.
1901.20.25 | Mixes and doughs for the prep of bakers wares of heading 1905, containing over 25% by weight of butterfat, not put up for retail sale, nesoi.
1901.20.30 | Mixes for bakers wares, o/25% bf, not retail, descr in add US note 1 to Ch. 19: subj. to add. US nte 3 to Ch.19, not GN15.
1901.20.35 | Mixes for bakers wares, o/25% bf, not retail, descr in add US note 1 to Ch. 19: not subj. to add. US nte 3 to Ch.19, not GN15.
1901.20.40 | Mixes for bakers wares, o/25% bf, not retail, nesoi.
1901.20.42 | Mixes for bakers wares, n/o 25% bf, not retail, subject to gen. note 15 of the HTS.
1901.20.45 | Mixes for bakers wares (dairy prod. of Ch4 US note 1), n/o 25% bf, not retail, subj. to add. US nte 10 to Ch.4, not GN15.
1901.20.50 | Mixes for bakers wares (dairy prod. of Ch4 US note 1), n/o 25% bf, not retail, not subj. to add. US nte 10 to Ch.4, not GN15.
1901.20.55 | Mixes for bakers wares, o/65% sugar, n/o 25% bf, not retail, descr in add US note 2 to Ch. 17: subj. to Ch17 US nte 7, not GN15.
1901.20.60 | Mixes for bakers wares, o/65% sugar, n/o 25% bf, not retail, descr in add US note 2 to Ch. 17: not subj. to Ch17 US nte 7, not GN15.
1901.20.65 | Mixes for bakers wares, n/o 25% bf, not retail, descr in add US note 1 to Ch. 19: subj. to add. US nte 3 to Ch.19, not GN15.
1901.20.70 | Mixes for bakers wares, n/o 25% bf, not retail, descr in add US note 1 to Ch. 19: not subj. to add. US nte 3 to Ch.19, not GN15.
1901.20.80 | Mixes for bakers wares, n/o 25% bf, not retail, nesoi.
1901.90.10 | Malt extract, fluid.
1901.90.20 | Malt extract, solid or condensed.
1901.90.25 | Puddings, ready for immediate consumption without further preparation.
1901.90.28 | Dry mix. w/less than 31% bf & 17.5% or more sodium caseinate, bf, whey solids o/5.5% b'fat & dry whole milk, n/cntng dry milk/whey/b'fat.
1901.90.32 | Cajeta not made from cow's milk.
1901.90.33 | Margarine cheese subject to gen. note 15 of the HTS and entered pursuant to its provisions.
1901.90.34 | Margarine cheese subject to add. US note 23 to Ch. 4 and entered pursuant to its provisions.
1901.90.36 | Margarine cheese not subject to gen. note 15 or add US note 23 to Ch. 4.
1901.90.60 | Malted milk described in general note 15 of USHTS and entered pursuant to its provisions.
1901.90.61 | Malted milk described in additional US note 10 to chapter 4: provisional.
1901.90.62 | Malted milk containing >10% by weight of milk solids, nesoi.
1901.90.63 | Articles of milk or cream, nesoi, preps containing >10% by weight of milk solids, described in general note 15: provisional.
1901.90.64 | Articles of milk or cream, nesoi, preps containing >10% by weight of milk solids, described in additional US note 10 to chapter 4.
1901.90.65 | Articles of milk or cream, nesoi, preps containing >10% by weight of milk solids, nesoi.
1901.90.66 | Malted milk, nesoi, described in general note 15 of USHTS and entered pursuant to its provisions.
1901.90.67 | Articles of milk or cream, nesoi, containing >65% by dry weight of sugar described in additional US note 7 to Chapter 17: provisional.
1901.90.68 | Articles of milk or cream, nesoi, containing >65% by dry weight of sugar described in additional US note 2 to Chapter 17: provisional.
1901.90.69 | Articles of milk or cream, nesoi, described I n additional US note 8 to chapter 17 and entered pursuant to its provisions.
1901.90.71 | Articles of milk or cream, nesoi, containing >10% by dry weight of sugar described in additional US note 3 to chapter 17: provisional.
1901.90.72 | Food preps, nesoi, containing >5.5% by weight of butterfat and not packaged for retail sale, nesoi.
1902.11.20 | Uncooked pasta, not stuffed or otherwise prepared, containing eggs, exclusively pasta.
1902.11.40 | Uncooked pasta, not stuffed or otherwise prepared, containing eggs, nesoi, including pasta packaged with sauce preparations.
1902.40.00 | Couscous, whether or not prepared.
1903.00.20 | Tapioca and substitutes prepared from arrowroot, cassava or sago, in the form of flakes, grains, pearls, siftings or in similar forms.
1903.00.40 | Tapioca and substitutes, prepared from starch nesoi, in the form of flakes, grains, pearls, siftings or in similar forms.
1904.10.00 | Prepared foods obtained by the swelling or roasting of cereals or cereal products.
1904.20.10 | Prep food in airtght cont., of unroast cereal flake/mixture of unroasted/roasted cereal flake/swelled cereal, no apricot/citrus/peach/pear.
1904.20.90 | Prepared foods obtained from unroasted cereal flakes or from mixtures of unroasted and roasted cereal flakes or swelled cereals, nesoi.
1904.30.00 | Bulgur wheat, in grain form or in form of flakes or other worked grain (except flour, groats & meal), pre-cooked or otherwise prepared, nesoi.
1904.90.01 | Cereals, other than corn, in grain form or form flakes or other worked grain (not flour, groat & meal), pre-cooked or otherwise prepared, nesoi.
1905.10.00 | Crispbread.
1905.20.00 | Gingerbread and the like.
1905.31.00 | Sweet biscuits.
1905.32.00 | Waffles and wafers.
1905.40.00 | Rusks, toasted bread and similar toasted products.
1905.90.90 | Bakers' wares communion wafers, empty capsules suitable for pharmaceutical use, sealing wafers, rice paper and similar products, nesoi.
2001.90.10 | Capers, prepared or preserved by vinegar or acetic acid, in immediate containers holding more than 3.4 kg.
2001.90.33 | Nopalitos, preserved by vinegar.
2001.90.45 | Mangoes, prepared or preserved by vinegar or acetic acid.
2004.10.40 | Yellow (Solano) potatoes, prepared or preserved otherwise than by vinegar or acetic acid, frozen.
2004.90.10 | Antipasto, prepared or preserved otherwise than by vinegar or acetic acid, frozen.
2005.10.00 | Homogenized vegetables, prepared or preserved otherwise than by vinegar or acetic acid, not frozen.
2005.70.02 | Olives, green, not pitted, in saline, ripe, in containers holding 13 kg or less, aggregate quantity not to exceed 730 m ton/yr.
2005.70.04 | Olives, green, not pitted, in saline, ripe, in containers holding 13 kg or less, aggregate quantity exceeding 730 m ton/yr.
2005.70.06 | Olives, green, not pitted, in saline, not ripe, in containers holding o/8 kg for repkg, subject to add. US note 4 to Ch. 20.
2005.70.08 | Olives, green, not pitted, in saline, not ripe, in containers holding o/8 kg for repkg, not subject to add. US note 4 to Ch. 20.
2005.70.12 | Olives, green, not pitted, in saline, not ripe.
2005.70.16 | Olives, green, in saline, place packed, stuffed, in containers holding n/o 1 kg, aggregate quantity n/o 2700 m ton/yr.
2005.70.18 | Olives, green, in saline, place packed, stuffed, in containers holding n/o 1 kg, aggregate quantity o/2700 m ton/yr.
2005.70.23 | Olives, green, in saline, place packed, stuffed, not in containers holding 1 kg or less.
2005.70.50 | Olives (not green), in a saline solution, canned, not pitted.
2005.70.91 | Olives, green, container less 13 kg, quota of 550 m tons/year, prepared or preserved otherwise than by vinegar/acetic acid, not in saline.
2005.70.93 | Olives, green, container less than 13 kg, exceed 550 m tons/year, prepared or preserved otherwise than by vinegar/acetic acid, not in saline.
2007.91.90 | Citrus jams, fruit jellies, and marmalades (other than orange).
2007.99.30 | Guava jam.
2007.99.55 | Papaya pastes and purees, being cooked preparations.
2008.11.35 | Blanched peanuts, nesoi, not subject to gen note 15 or add US note 2 to Ch. 12.
2008.11.60 | Peanuts, otherwise prepared or preserved, nesoi, not subject to gen note 15 or add US note 2 to Ch. 12.
2008.30.35 | Orange pulp, otherwise prepared or preserved, nesoi.
2008.30.37 | Citrus fruit pulp other than orange, otherwise prepared or preserved, nesoi.
2008.30.60 | Lemons (other than peel or pulp), otherwise prepared or preserved, nesoi.
2008.30.66 | Limes (other than peel or pulp), otherwise prepared or preserved, not elsewhere specified or included.
2008.30.85 | Citron (other than peel or pulp), otherwise prepared or preserved, nesoi.
2008.91.00 | Palm hearts, otherwise prepared or preserved, nesoi.
2008.99.10 | Avocados, otherwise prepared or preserved, nesoi.
2008.99.13 | Banana pulp, otherwise prepared or preserved, nesoi.
2008.99.45 | Papaya pulp, otherwise prepared or preserved, nesoi.
2008.99.65 | Yucca, otherwise prepared or preserved, nesoi.
2009.12.25 | Orange juice, not frozen, Brix value not exceed 20, not concentrate & not made from juice degree concentration of 1.5 or >, unfermented.
2009.12.45 | Orange juice, not frozen, of a Brix value not exceeding 20, concentrated, unfermented.
2009.19.00 | Orange juice, not frozen, of a Brix value exceeding 20, unfermented.
2009.21.20 | Grapefruit juice, Brix value not exceeding 20, not concentrated and not made from a juice degree of concentration of 1.5 or >, unfermented.
2009.21.40 | Grapefruit juice, of a Brix value not exceeding 20, concentrated, unfermented.
2009.31.10 | Lime juice, of a Brix value not exceeding 20, unfit for beverage purposes, unfermented.
2009.39.10 | Lime juice, of a Brix value exceeding 20, unfit for beverage purposes, unfermented.
2009.39.20 | Lime juice, of a Brix value exceeding 20, fit for beverage purposes, unfermented.
2009.41.20 | Pineapple juice, of a Brix value not exceeding 20, not concentrated, or not having a degree of concentration of > 3.5, unfermented.
2009.49.20 | Pineapple juice, of a Brix value exceeding 20, not concentrated, or not having a degree of concentration of > 3.5, unfermented.
2009.61.00 | Grape juice (including grape must), of a Brix value not exceeding 30, unfermented.
2009.81.00 | Cranberry juice, concentrated or not concentrated.
2009.89.40 | Prune juice, concentrated or not concentrated.
2009.90.20 | Mixtures of vegetable juices, concentrated or not concentrated.
2101.11.21 | Instant coffee, not flavored.
2101.11.29 | Extracts, essences and concentrates of coffee other than unflavored instant coffee.
2101.12.32 | Preparations with a basis of extracts, essences or concentrates or with a basis of coffee, subject to general note 15 (outside quota).
2101.12.34 | Blend syrup (Ch17 add US note 4) preparation w/basis of extract,essence or concentrate or w/basis of coffee, subj. quota of Ch17 add US nte 9.
2101.12.38 | Blend syrup (Ch17 add US note 4) preparation w/basis of extract, essence or concentrate or w/basis of coffee, over Ch17 add US note 9 quota.
2101.12.44 | Preparation ov 65% sugar (Ch17 add US nte 2) w/basis of extract,essence or concentrate or w/basis of coffee, subj. quota of Ch17 add US nte 7.
2101.12.48 | Preparation ov 65% sugar (Ch17 add US note 2) w/basis of extract, essence or concentrate or w/basis of coffee, ov Ch17 add US note 9 quota.
2101.12.54 | Preparation ov 10% sugar (Ch17 add US nte 3) w/basis of extract,essence or concentrate or w/basis of coffee, subj. quota of Ch17 add US nte 8.
2101.12.58 | Preparation ov 10% sugar (Ch17 add US note 3) w/basis of extract, essence or concentrate or w/basis of coffee, ov Ch17 add US note 8 quota.
2101.12.90 | Preparations nesoi, with a basis of extracts, essences or concentrates or with a basis of coffee.
2101.20.20 | Extracts, essences or concentrates of tea or mate.
2101.20.32 | Preparations with a basis of extracts, essences or concentrates or with a basis of tea or mate, subject to general note 15 (outside quota).
2101.20.34 | Blend syrup (Ch17 add US nte 4) preparation w/basis extract/essence/concentrate or w/basis of tea or mate, subj. quota of Ch17 add US nte 9.
2101.20.38 | Blend syrup (Ch17 add US note 4) preparation w/basis of extract/essence/concentrate or w/basis of tea or mate, over Ch17 add US note 9 quota.
2101.20.44 | Preparation ov 65% sugar (Ch17 add US nte 2) w/basis extract/essence/concentrate or w/basis of tea or mate, subj. quota of Ch17 add US note 7.
2101.20.48 | Preparation ov 65% sugar (Ch17 add US note 2) w/basis of extract/essence/concentrate or w/basis of tea or mate, ov Ch17 add US note 9 quota.
2101.20.54 | Preparation ov 10% sugar (Ch17 add US nte 3) w/basis extract/essence/concentrate or w/basis of tea or mate,subj. quota of Ch17 add US note 8.
2101.20.58 | Preparation ov 10% sugar (Ch17 add US note 3) w/basis of extract/essence/concentrate or w/basis of tea or mate, ov Ch17 add US note 8 quota.
2101.20.90 | Preparations nesoi, with a basis of extracts, essences or concentrates or with a basis of tea or mate.
2101.30.00 | Roasted chicory and other roasted coffee substitutes and extracts, essences and concentrates thereof.
2102.10.00 | Active yeasts.
2102.20.20 | Inactive yeasts (except dried brewers' yeast).
2102.20.40 | Dried brewers' yeast, crude.
2102.20.60 | Single-cell micro-organisms, dead, excluding yeasts, (but not including vaccines of heading 3002).
2102.30.00 | Prepared baking powders.
2103.20.20 | Tomato ketchup.
2103.20.40 | Tomato sauces, nesoi.
2103.30.20 | Mustard flour and meal.
2103.30.40 | Prepared mustard.
2103.90.20 | Sauces derived or prepared from fish.
2103.90.40 | Nonalcoholic preparations of yeast extract (other than sauces).
2103.90.72 | Mixed condiments and mixed seasonings (described in add US note 3 to Ch. 21), subject to gen. note 15 of the HTS.
2103.90.74 | Mixed condiments and mixed seasonings (described in add US note 3 to Ch. 21), subject to add. US note 8(a) to Ch.17, not GN15.
2103.90.78 | Mixed condiments and mixed seasonings (described in add US note 3 to Ch. 21), not subject to gen note 15 or add. US note 8(a) to Ch.17.
2103.90.90 | Sauces and preparations therefor, neosi.
2104.10.00 | Soups and broths and preparations therefor.
2104.20.10 | Homogenized composite food preps put up for retail sale for infants or for dietectic purposes.
2104.20.50 | Homogenized composite food preps put up for retail sale for young children.
2105.00.05 | Ice cream, whether or not w/cocoa, subject to gen. note 15 of the HTS.
2105.00.10 | Ice cream, whether or not w/cocoa, subject to add. US note 5 to Ch. 21, not GN15.
2105.00.20 | Ice cream, whether or not containing cocoa, not subject to gen note 15 or add. US note 5 to Ch.21.
2105.00.25 | Edible ice (dairy prod. described in add US note 1 to Ch. 4), subject to gen note 15 of the HTS.
2105.00.30 | Edible ice (dairy prod. described in add US note 1 to Ch. 4), subject to add US note 10 to Ch. 4, not GN15.
2105.00.40 | Edible ice except ice cream, dairy products described in add'l U.S. note 1 to chap. 4, nesoi.
2105.00.50 | Edible ice, except ice cream, not described in add US note 1 to Ch. 4, nesoi.
2106.90.03 | Food preps, nesoi, n/o 5.5% bf, mixed w/other ingred. if o/16% milk solids capable of being further proc., subj. to GN15.
2106.90.06 | Food preps, nesoi, n/o 5.5% bf, mixed w/other ingred. if o/16% milk solids capable of being further proc., subj. to Ch4 US nte 10, not GN15.
2106.90.09 | Food preps, nesoi, n/o 5.5% b'fat, mixed w/other ingredi., if o/16% milk solids by wt, capable of being further proc, bulk, nesoi, not GN15.
2106.90.12 | Compound alcoholic preparations of a kind used for the manufacture of beverages, over 20% weight alcohol but not over 0.5% vol alcohol.
2106.90.15 | Compound alcoholic preparations used in the manufacture of beverages, cont. over 20% not over 50% of alcohol by weight.
2106.90.18 | Compound alcoholic preparations of a kind used for the manufacture of beverages, containing over 50% of alcohol by weight.
2106.90.22 | Butter substitutes o/10% by wt of milk solids, o/45% butterfat, subject to gen. note 15 to the HTS.
2106.90.24 | Butter substitutes o/10% by wt of milk solids, o/45% butterfat, subject to add US note 14 to Ch.4, not GN15.
2106.90.26 | Butter substitutes o/10% by wt of milk solids, o/45% butterfat, not subject to gen note 15 or add US note 14 to Ch.4.
2106.90.28 | Butter substitutes o/10% by wt of milk solids, n/o 45% butterfat, neosi.
2106.90.32 | Butter substitutes n/o 10% by wt of milk solids, o/45% butterfat, subject to gen. note 15 to the HTS.
2106.90.34 | Butter substitutes n/o 10% by wt of milk solids, o/45% butterfat, subject to add US note 14 to Ch.4, not GN15.
2106.90.36 | Butter substitutes n/o 10% by wt of milk solids, o/45% butterfat, not subject to gen note 15 or add US note 14 to Ch.4.
2106.90.38 | Butter substitutes n/o 10% by wt of milk solids, n/o 45% butterfat, neosi.
2106.90.42 | Syrups from cane/beet sugar, neosi, w/added coloring but not added flavoring, subject to gen. note 15 of the HTS.
2106.90.44 | Syrups from cane/beet sugar, neosi, w/added coloring but not added flavoring, subject to add US note 5 to Ch. 17, not GN15.
2106.90.46 | Syrups from cane/beet sugar, neosi, w/added coloring but not added flavoring, not subject to gen note 15 or add US note 5 to Ch. 17.
2106.90.48 | Orange juice, fortified with vitamins or minerals.
2106.90.52 | Juice of any single fruit or vegetables juices (o/t orange), concentrated, fortified with vitamins or minerals.
2106.90.54 | Mixtures of fruit or vegetable juices, fortified with vitamins or minerals, nesoi, mixtures of juices in concentrated form.
2106.90.58 | Food preparations of gelatin, neosi.
2106.90.62 | Food preps, nesoi, o/10% by wt of milk solids, subject to gen. note 15 of the HTS.
2106.90.64 | Food preps, nesoi, o/10% by wt of milk solids, dairy prods, descr. in add US note 1 to Ch.4: subject to add US note 10 to Ch.4, not GN15.
2106.90.66 | Food preps, nesoi, o/10% by wt of milk solids, dairy prods, descr. in add US note 1 to Ch.4: not subject to Ch4 US note 10, not GN15.
2106.90.68 | Blended syrups, neosi, o/10% milk solids, descr. in add US note 4 to Ch 17: subject to add US note 9 to Ch. 17, not GN15.
2106.90.72 | Blended syrups, neosi, o/10% milk solids, descr. in add US note 4 to Ch 17: not subject to add US note 9 to Ch. 17, not GN15.
2106.90.74 | Food preps, nesoi, o/10% milk solids, o/65% sugar, descr. in add US note 2 to Ch.17, subject to add US note 7 to Ch. 17, not GN15.
2106.90.76 | Food preps, nesoi, o/10% milk solids, o/65% sugar, descr. in add US note 2 to Ch.17, not subject to add US note 7 to Ch. 17, not GN15.
2106.90.78 | Food preps, nesoi, o/10% milk solids, o/10% sugar, descr. in add US note 3 to Ch.17, subject to add US note 8 to Ch. 17, not GN15.
2106.90.80 | Food preps, nesoi, o/10% milk solids, o/10% sugar, descr. in add US note 3 to Ch.17, not subject to add US note 8 to Ch. 17, not GN15.
2106.90.82 | Food preps, nesoi, o/10% milk solids, neosi.
2106.90.83 | Food preps, nesoi, n/o 10% by wt of milk solids, subject to gen. note 15 of the HTS.
2106.90.85 | Food preps, nesoi, n/o 10% by wt of milk solids, dairy prods, descr. in add US note 1 to Ch.4: subject to add US note 10 to Ch.4, not GN15.
2106.90.87 | Food preps, nesoi, n/o 10% by wt of milk solids, dairy prods, descr. in add US note 1 to Ch.4: n/subject to add US note 10 to Ch. 4, n/GN15.
2106.90.89 | Blended syrups, neosi, n/o 10% milk solids, descr. in add US note 4 to Ch 17: subject to add US note 9 to Ch. 17, not GN15.
2106.90.91 | Blended syrups, neosi, n/o/10% milk solids, descr. in add US note 4 to Ch 17: not subject to add US note 9 to Ch. 17, not GN15.
2106.90.92 | Food preps, nesoi, n/o 10% milk solids, o/65% sugar, descr. in add US note 2 to Ch.17, subject to add US note 7 to Ch. 17, not GN15.
2106.90.94 | Food preps, nesoi, n/o 10% milk solids, o/65% sugar, descr. in add US note 2 to Ch.17, not subject to add US note 7 to Ch. 17, not GN15.
2106.90.95 | Food preps, nesoi, n/o 10% milk solids, o/10% sugar, descr. in add US note 3 to Ch.17, subject to add US note 8 to Ch. 17, not GN15.
2106.90.97 | Food preps, nesoi, n/o 10% milk solids, o/10% sugar, descr. in add US note 3 to Ch.17, not subject to add US note 8 to Ch. 17, not GN15.
2106.90.98 | Other food preps nesoi, incl preps for the manufacture of beverages, non-dairy coffee whiteners, herbal teas and flavored honey.
2202.91.00 | Nonalcoholic beer.
2202.99.10 | Chocolate milk drink.
2202.99.22 | Milk-based drinks described in general note 15 of USHTS and entered pursuant to its provisions, nonalcoholic, nesoi.
2202.99.24 | Milk-based drinks described in additional US note 10 to chapter 4 and entered pursuant to its provisions, nonalcoholic, nesoi.
2202.99.28 | Milk-based drinks, nonalcoholic, nesoi.
2204.22.20 | Wine of fresh grapes of an alcoholic strength by volume <=14% in containers holding <2 liters but not >10 liters.
2204.22.40 | Wine of fresh grapes of an alcoholic strength by volume >14%, in containers holding <2 liters but not >10 liters.
2204.22.60 | Wine of fresh grapes of an alcoholic strength by volume <=14% in containers holding >10 liters.
2204.22.80 | Wine of fresh grapes of an alcoholic strength by volume >14% I n containers holding >10 liters.
2204.29.61 | Wine of fresh grapes of an alcoholic strength by volume <=14% in containers holding >10 liters.
2204.29.81 | Wine of fresh grapes of an alcoholic strength by volume >14% in containers holding >10 liters.
2204.30.00 | Grape must, nesoi, in fermentation or with fermentation arrested otherwise than by addition of alcohol.
2205.10.30 | Vermouth in containers holding 2 liters or less.
2205.10.60 | Wine of fresh grapes flavored with plants or aromatic substances, other than vermouth, in containers holding 2 liters or less.
2205.90.20 | Vermouth in containers each holding over 2 liters but not over 4 liters.
2205.90.40 | Vermouth in containers each holding over 4 liters.
2205.90.60 | Wine of fresh grapes flavored with plants or aromatic substances, other than vermouth, in containers holding over 2 liters.
2206.00.15 | Cider, fermented, whether still or sparkling.
2206.00.30 | Prune wine.
2206.00.60 | Effervescent wine, nesoi.
2207.20.00 | Ethyl alcohol and other spirits, denatured, of any strength.
2208.20.10 | Pisco and singani.
2208.20.20 | Grape brandy, excluding pisco and singani, in containers not over 4 liters, not over $2.38/liter.
2208.20.30 | Grape brandy, excluding pisco and singani, in containers not over 4 liters, valued over $2.38 to $3.43/liter.
2208.20.40 | Grape brandy, excluding pisco and singani, in containers not over 4 liters, valued over $3.43/liter.
2208.20.50 | Grape brandy, excluding pisco and singani, in containers over 4 liters, not over $2.38/liter.
2208.20.60 | Grape brandy, excluding pisco and singani, in containers over 4 liters, over $2.38/liter.
2208.30.30 | Irish and Scotch whiskies.
2208.30.60 | Whiskies, other than Irish and Scotch whiskies.
2208.40.20 | Rum and tafia, in containers each holding not over 4 liters, valued not over $3/proof liter.
2208.40.40 | Rum and tafia, in containers each holding not over 4 liters, valued over $3/proof liter.
2208.40.60 | Rum and tafia, in containers each holding over 4 liters, valued not over $0.69/proof liter.
2208.40.80 | Rum and tafia, in containers each holding over 4 liters, valued over $0.69/proof liter.
2208.50.00 | Gin and Geneve.
2208.60.10 | Vodka, in containers each holding not over 4 liters, valued not over $2.05/liter.
2208.60.20 | Vodka, in containers each holding not over 4 liters, valued over $2.05/liter.
2208.60.50 | Vodka, in containers each holding over 4 liters.
2208.70.00 | Liqueurs and cordials.
2208.90.01 | Aquavit.
2208.90.05 | Bitters, not fit for use as beverages.
2208.90.10 | Bitters, fit for use as beverages.
2208.90.12 | Slivovitz brandy, valued not over $3.43/liter, in containers each holding not over 4 liters.
2208.90.14 | Slivovitz brandy, valued not over $3.43/liter, in containers each holding over 4 liters.
2208.90.15 | Slivovitz brandy, valued over $3.43/liter.
2208.90.20 | Brandy, except slivovitz, in containers each holding not over 4 liters, valued not over $2.38/liter.
2208.90.25 | Brandy, except grape brandy and slivovitz, in containers each holding not over 4 liters, valued over $2.38 but not over $3.43/liter.
2208.90.30 | Brandy, except grape brandy and slivovitz, in containers each holding not over 4 liters, valued over $3.43/liter.
2208.90.35 | Brandy, except grape brandy and slivovitz, in containers each holding over 4 liters, valued not over $2.38/liter.
2208.90.40 | Brandy, except grape brandy and slivovitz, in containers each holding over 4 liters, valued over $2.38/liter.
2208.90.46 | Kirschwasser and ratafia.
2208.90.50 | Tequila, in containers each holding not over 4 liters.
2208.90.55 | Tequila, in containers each holding over 4 liters.
2208.90.71 | Imitations of brandy and other spirituous beverages containing alcohol.
2208.90.72 | Mescal in containers each holding not over 4 liters.
2208.90.75 | Spirits nesoi, fit for use as beverages or for beverage purposes.
2208.90.80 | Undenatured ethyl alcohol of an alcoholic strength by volume of less than 80 percent vol., nesoi.
2302.10.00 | Bran, sharps (middlings) and other residues, derived from the sifting, milling or other working of corn (maize).
2306.10.00 | Oilcake and other solid residues, resulting from the extraction of vegetable fats or oils, of cotton seeds.
2306.50.00 | Oilcake and other solid residues, resulting from the extraction of vegetable fats or oils, of coconut or copra.
2306.60.00 | Oilcake and other solid residues, resulting from the extraction of vegetable fats or oils, of palm nuts or kernels.
2307.00.00 | Wine lees; argol.
2308.00.10 | Acorns and horse-chestnuts, of a kind used in animal feeding, not elsewhere specified or included.
2308.00.93 | Screenings, scalpings, chaff or scourings, ground or not ground of flaxseed (linseed), of a kind used in animal feeding, nesoi.
2309.90.22 | Animal feeds w/milk or milk derivatives, o/10% by wt of milk solids, subject to gen. note 15 of the HTS.
2309.90.24 | Animal feeds w/milk or milk derivatives, o/10% by wt of milk solids, subject to add note 2 to Ch. 23, not GN15.
2309.90.28 | Animal feeds w/milk or milk derivatives, o/10% by wt of milk solids, not subject to gen note 15 or add note 2 to Ch. 23.
2309.90.42 | Animal feeds w/milk or milk derivatives, n/o 10% by wt of milk solids, subject to gen. note 15 of the HTS.
2309.90.44 | Animal feeds w/milk or milk derivatives, n/o 10% by wt of milk solids, subject to add note 2 to Ch. 23, not GN15.
2309.90.48 | Animal feeds w/milk or milk derivatives, n/o 10% by wt of milk solids, not subject to gen note 15 or add note 2 to Ch. 23.
2309.90.60 | Animal feeds containing egg, other than mixed feeds or mixed feed ingredients, not containing milk or milk derivatives.
2401.10.21 | Wrapper tobacco, not stemmed/stripped.
2401.10.29 | Tobacco (o/t wrapper tobacco), cont ov 35% wrapper tobacco, not stemmed/stripped.
2401.10.48 | Tobacco, not stemmed or stripped, not or not over 35% wrapper tobacco, oriental or turkish type, other than cigarette leaf.
2401.10.53 | Tobacco, not stemmed or stripped, not or not over 35% wrapper tobacco, cigar binder and filler.
2401.10.61 | Tobacco, not stemmed or stripped, not or not over 35% wrapper tobacco, flue-cured burley etc, not for cigarettes.
2401.10.63 | Tobacco, not stemmed or stripped, not or not over 35% wrapper tobacco, flue-cured burley, etc., described in addl US note 5 to chap 24.
2401.10.65 | Tobacco, not stemmed or stripped, not or not over 35% wrapper tobacco, flue-cured burley, etc., other nesoi.
2401.10.95 | Tobacco, not stemmed or stripped, not or not over 35% wrapper tobacco, not flue-cured burley, etc., other nesoi.
2403.91.20 | “Homogenized” or “reconstituted” tobacco suitable for use as wrapper tobacco.
2403.91.45 | “Homogenized” or “reconstituted” tobacco, not suitable for use as wrapper tobacco, to be used in cigarettes, des. in addl US note 5 to chap.
2403.91.47 | “Homogenized” or “reconstituted” tobacco, not suitable for use as wrapper tobacco, to be used in cigarettes, other nesoi.
2511.10.10 | Natural barium sulfate (barytes), ground.
2511.10.50 | Natural barium sulfate (barytes), not ground.
2621.10.00 | Ash and residues from the incineraction of municipal waste.
2707.99.51 | Phenols > 50% by wt hydroxybenzene.
2710.91.00 | Waste oils from petro oils/bitum minerals/preps 70%+ by wt. fr. petro oils/bitum minerals containing PCBs, PCTs or PBBs.
2710.99.05 | Wastes of distillate and residual fuel oil (including blends) derived from petroleum oil/bituminous minerals, testing under 25 degree A.P.I..
2710.99.10 | Wastes of distillate and residual fuel oil (including blends) derived from petroleum oil/bituminous minerals, testing 25 degrees A.P.I. or >.
2710.99.16 | Waste motor fuel or motor fuel blending stock from petro oils and bitumin. minerals (o/than crude) or preps. 70%+ by wt. from petro oils.
2710.99.21 | Waste kerosene or naphthas from petro oils and bitumin minerals (o/than crude) or preps. 70%+ by wt. From petro oils/bitumin minerals.
2710.99.31 | Waste lubricating oils, w/or w/o additives, from petro oils and bitumin minerals (o/than crude) or preps. 70%+ by wt. from petro oils.
2710.99.32 | Waste lubricating greases from petro oil/bitum min/70%+ by wt. fr petro oils but n/o 10% by wt. of fatty acid salts animal/vegetable origin.
2710.99.39 | Waste lubricating greases from petro oil/bitum min/70%+ by wt. fr petro oils but over 10% by wt. of fatty acid salts animal/vegetable origin.
2710.99.45 | Waste mixtures of hydrocarbons from petro oils & bitum. min. or preps.70%+ by wt. fr. petro oils, nesoi, n/o 50% any single hydrocarbon.
2710.99.90 | Waste petroleum oils & oils from bitum. min. or preps nesoi 70%+ by wt. from petro. oils or bitum. min., nesoi.
2712.20.00 | Paraffin wax (whether or not colored), obtained by synthesis or other process and less than 0.75% oil by wt..
2811.19.10 | Arsenic acid.
2816.40.20 | Oxides, hydroxides and peroxides of barium.
2818.10.10 | Artificial corundum, crude.
2818.10.20 | Artificial corundum, in grains, or ground, pulverized or refined.
2818.20.00 | Aluminum oxide, other than artificial corundum.
2826.90.90 | Other complex fluorine salts, nesoi.
2827.39.10 | Vanadium chlorides.
2827.49.50 | Chloride oxides and chloride hydroxides other than of copper or of vanadium.
2829.90.25 | Sodium bromate.
2837.19.01 | Cyanides and cyanide oxides, except those of sodium.
2844.20.00 | Uranium enriched in U235 and plutonium and their compounds; alloys, dispersions, ceramic products and mixtures containing these products.
2844.40.00 | Radioactive elements, isotopes, compounds nesoi; alloys, dispersions, ceramic products and mixtures of these products; radioactive residues.
2844.50.00 | Spent (irradiated) fuel elements (cartridges) of nuclear reactors.
2903.21.00 | Vinyl chloride (Chloroethylene).
2903.39.20 | Fluorinated, brominated or iodinated derivatives of acyclic hydrocarbons, nesoi.
2903.77.00 | Other acyclic hydrocarbon derivatives, perhalogenated only with flourine and chlorine.
2903.79.10 | Bromochloromethane.
2903.89.05 | Dibromoethyldibromocyclohexane.
2903.89.11 | Halogenated pesticides derived in whole or in part from benzene or other aromatic hydrocarbon, nesoi.
2903.89.31 | Chlorinated, but not otherwise halogenated derivatives of cyclanic, cyclenic or cycloterpenic hydrocarbons.
2903.93.00 | Halogenated derivatives of aromatic hydrocarbons, pentachlorobenzene.
2903.99.05 | 3-Bromo-alpha,alpha,alpha-trifluorotoluene; and other specified halogenated derivatives of aromatic hydrocarbons.
2903.99.08 | p-Chlorobenzotrifluoride; and 3,4-Dichlorobenzotrifluoride.
2903.99.15 | Triphenylmethyl chloride.
2903.99.80 | Other halogenated derivatives of aromatic hydrocarbons, nesoi.
2905.43.00 | Mannitol.
2905.44.00 | D-glucitol (Sorbitol).
2905.45.00 | Glycerol.
2907.29.10 | Pyrogallic acid.
2908.19.15 | 3-Hydroxy-alpha,alpha,alpha-trifluorotoluene.
2908.99.06 | 4-Hydroxy-1-naphthalenesulfonic acid.
2908.99.25 | Nitrophenols, except p-nitrophenol.
2909.30.07 | Decabromodiphenyl oxide; and octabromodiphenyl oxide.
2909.30.09 | Bis-(tribromophenoxy)ethane; pentabromodiphenyl oxide; and tetradecabromodiphenoxy benzene.
2909.30.10 | 6-tert-Butyl-3-methyl-2,4-dinitroanisole (Musk ambrette) and other artificial musks.
2909.30.30 | Pesticides, of aromatic ethers and their halogenated, sulfonated, nitrated or nitrosated derivatives.
2912.19.40 | Isobutanal.
2912.41.00 | Vanillin (4-Hydroxy-3-methoxybenzaldehyde).
2914.69.60 | 1,4-Dihydroxyanthraquinone; and 2-ethylanthraquinone.
2914.69.90 | Quinones, nesoi.
2914.79.40 | Other halogenated, sulfonated, nitrated, etc derivatives of aromatic ketones and quinones whether or not with other oxygen function.
2915.39.35 | Aromatic esters of acetic acid, nesoi.
2915.40.20 | Aromatic salts and esters of chlorocetic acids, described in additional U.S. note 3 to section VI.
2916.34.15 | Odoriferous or flavoring compounds of phenylacetic acid and its salts.
2916.34.25 | Phenylacetic acid salts, nesoi, described in additional US note 3 to section VI.
2916.39.08 | 4-Chloro-3-nitrobenzoic acid.
2916.39.12 | 4-Chloro-3,5-dinitrobenzoic acid and its esters.
2916.39.79 | Other aromatic monocarboxylic acids, their anhydrides, halides, peroxides, peroxyacids and their derivatives.
2917.19.30 | Ethylene brassylate.
2917.19.70 | Acyclic polycarboxylic acids and derivative (excluding plasticizers).
2917.39.08 | Naphthalic anhydride.
2917.39.17 | Tetrabromophthalic anhydride.
2918.19.20 | Aromatic carboxylic acids with alcohol function, w/o other oxygen functions, and their derivatives, described in add. U.S. note 3 to sec. VI.
2918.19.31 | Aromatic carboxylic acids with alcohol function, without other oxygen functions, and their derivatives, nesoi.
2918.29.25 | 3-Hydroxy-2-naphthoic acid.
2918.99.06 | 1-Hydroxy-6-octadecyloxy-2-naphthalenccarboxylic acid; and 1-hydroxy-6-docosyloxy-2-naphthalene carboxylic acid.
2918.99.20 | Aromatic pesticides, derived from carboxylic acids with additional oxygen function, and their derivatives, nesoi.
2918.99.35 | Odoriferous or flavoring compounds of carboxylic acids with additional oxygen function, and their derivatives, nesoi.
2918.99.47 | Other aromatic carboxylic acids with add'l oxygen function and their anhydrides, halide, etc deriv (exclud goods in add US note 3 to sec VI).
2918.99.50 | Nonaromatic carboxylic acids with additional oxygen function, and their derivatives, nesoi.
2920.22.00 | Diethyl phosphite.
2920.90.51 | Nonaromatic esters of inorganic acids of nonmetals and their salts and derivatives, excluding esters of hydrogen halides, nesoi.
2921.12.01 | 2-(N,N-Dimethylamino)ethyl chloride hydrochloride.
2921.42.10 | N,N-Dimethylaniline.
2921.42.18 | o-Aminobenzenesulfonic acid; 6-chlorometanilic acid; 2-chloro-5-nitroaniline; 4-chloro-3-nitroaniline; dichloroanilines; and other specified.
2921.42.55 | Fast color bases of aniline derivatives and their salts.
2921.42.65 | Aniline derivatives and their salts of products in additional U.S. note 3 to section VI.
2921.45.60 | Aromatic monoamines and their derivatives and salts described in additional US note 3 to section VI, nesoi.
2921.49.15 | m-Nitro-p-toluidine.
2921.51.20 | Photographic chemicals of o-, m-, p-phenylenediamine, diaminotoluenes, and their derivatives, and salts thereof.
2922.21.40 | Aminohydroxynaphthalene sulfonic acids and their salts of products described in additional US note 3 to section VI.
2922.29.06 | m-Nitro-p-anisidine and m-nitro-o-anisidine as fast color bases.
2922.29.15 | m-Diethylaminophenol; m-dimethylaminophenol; 3-ethylamino-p-cresol; and 5-methoxy-m-phenylenediamine.
2922.39.10 | 2'-Aminoacetophenone & other specified aromatic amino-aldehydes, -ketones and -quinones, other than those with more than one oxygen function.
2924.21.18 | sym-Diethyldiphenylurea.
2924.29.03 | 3,5-Dinitro-o-toluamide.
2924.29.23 | 4-Aminoacetanilide; 2-2-oxamidobis[ethyl-3-(3,5-di-tert-butyl-4-hydroxyphenyl)propionate]; and other specified cyclic amide chemicals.
2924.29.26 | 3-Aminomethoxybenzanilide.
2925.19.10 | Ethylenebistetrabromophthalimide.
2925.29.70 | Tetramethylguanidine.
2926.90.08 | Benzonitrile.
2926.90.12 | Other dichlorobenzonitriles.
2926.90.19 | N,N-Bis(2-cyanoethyl)aniline; and 2,6-diflourobenzonitrile.
2926.90.21 | Aromatic fungicides of nitrile-function compounds.
2926.90.23 | 3,5-Dibromo-4-hydroxybenzonitrile (Bromoxynil).
2929.10.30 | 3,4-Dichlorophenylisocyanate.
2929.10.80 | Other isocyanates, nesoi.
2930.20.70 | S-(2,3,3-trichloroallyl)diisopropylthiocarbamate.
2930.30.30 | Tetramethylthiuram monosulfide.
2930.70.00 | Bis(2-hydroxyethyl)sulfide (thiodiglycol (INN)).
2930.80.00 | Aldicarb (ISO), captafol (ISO) and methamidophos (ISO).
2930.90.24 | N-Cyclohexylthiophthalimide.
2930.90.71 | Dibutylthiourea.
2931.33.00 | Diethyl ethylphosphonate.
2931.39.00 | Other organo-phosphorous derivatives, nesoi.
2931.90.05 | Diphenyldichlorosilane; and phenyltrichlorosilane.
2931.90.15 | Sodium tetraphenylboron.
2931.90.26 | Pesticides of aromatic organo-inorganic (except organo-sulfur) compounds.
2932.14.00 | Sucralose.
2932.91.00 | Isosafrole.
2932.99.04 | 2,2-Dimethyl-1,3-benzodioxol-4-yl methylcarbamate (Bendiocarb).
2932.99.55 | Bis-O-[(4-methylphenyl)methylene]-D-glucitol (Dimethylbenzylidene sorbitol); and Rhodamine 2C base.
2933.19.04 | Aminoethylphenylpyrazole (phenylmethylaminopyrazole); 3-methyl-1-(p-tolyl)-2-pyrazolin-5-one (p-tolylmethylpyrazolone).
2933.69.60 | Other compounds containing an unfused triazine ring (whether or not hydrogenated) in the structure.
2934.10.70 | 4,5-Dichloro-2-n-octyl-4-isothiazolin-3-one; thiothiamine hydrochloride; and 4 other specified chemicals.
2934.20.05 | N-tert-Butyl-2-benzothiazolesulfenamide.
2934.20.80 | Other compounds containing a benzothiazole ring system (whether or not hydrogenated), not further fused.
2940.00.20 | D-Arabinose.
3204.11.15 | Disperse blue 30 and preparations based thereon.
3204.15.10 | Vat blue 1 (synthetic indigo) dye, “Colour Index No. 73000” and preparations based thereon.
3204.15.80 | Vat dyes (including those usable in that state as pigments) and preparations based thereon, nesoi.
3204.19.40 | Synthetic organic coloring matter and preparations based thereon, nesoi, described in additional U.S. note 3 to section VI.
3204.20.40 | Benzoxazol.
3301.12.00 | Essential oils of orange.
3301.19.10 | Essential oils of grapefruit.
3301.19.51 | Essential oils of citrus fruit, other, nesoi.
3301.24.00 | Essential oils of peppermint (Mentha piperita).
3301.25.00 | Essential oils of mints, other than peppermint.
3301.29.10 | Essential oils of eucalyptus.
3301.29.20 | Essential oils of orris.
3301.29.51 | Essential oils other than those of citrus fruit, other, nesoi.
3301.30.00 | Resinoids.
3301.90.10 | Extracted oleoresins consisting essentially of nonvolatile components of the natural raw plant.
3301.90.50 | Concentrates of essential oils; terpenic by-product of the deterpenation of essential oils; aqueous distillates& solutions of essential oils.
3302.10.10 | Mixtures of odoriferous substances, mixtures with a basis of these substances, used in the food or drink industries, not containing alcohol.
3302.10.20 | Mixtures of or with a basis of odoriferous substances, used in the food or drink industries, not over 20 percent alcohol by weight.
3302.10.40 | Mixtures of/with basis of odoriferous substances,with 20% to 50% alcohol by weight, needs only addn of ethyl alcohol or water to be beverage.
3302.10.50 | Mixtures of/with basis of odoriferous substances,over 50% of alcohol by weight, requiring only addn of ethyl alcohol or water to be beverage.
3302.10.90 | Mixtures of or with a basis of odoriferous substances, used in the food or drink industries, over 20 percent of alcohol by weight, nesoi.
3306.20.00 | Yarn used to clean between the teeth (dental floss).
3401.19.00 | Soap; organic surface-active products used as soap, in bars, cakes, pieces; soap-impregnated paper, wadding, felt, not for toilet use.
3406.00.00 | Candles, tapers and the like.
3501.10.10 | Casein, milk protein concentrate.
3501.10.50 | Casein, other than milk protein concentrate.
3501.90.20 | Casein glues.
3501.90.60 | Caseinates and other casein derivatives, nesoi.
3502.19.00 | Egg albumin, other than dried.
3502.20.00 | Milk albumin, including concentrates of two or more whey proteins.
3503.00.10 | Fish glue.
3503.00.20 | Inedible gelatin and animal glue valued under 88 cents per kg.
3503.00.40 | Inedible gelatin and animal glue valued 88 cents or more per kg.
3503.00.55 | Gelatin sheets and derivatives, nesoi; isinglass; other glues of animal origin, nesoi.
3504.00.10 | Protein isolates.
3504.00.50 | Peptones and their derivatives; protein substances and their derivatives, nesoi; hide powder.
3505.10.00 | Dextrins and other modified starches.
3505.20.00 | Glues based on starches or on dextrins or other modified starches.
3601.00.00 | Propellant powders.
3602.00.00 | Prepared explosives, other than propellant powders.
3603.00.30 | Safety fuses or detonating fuses.
3603.00.60 | Percussion caps.
3603.00.90 | Detonating caps, igniters or electric detonators.
3604.10.10 | Display or special fireworks (Class 1.3G).
3604.10.90 | Fireworks, nesoi.
3604.90.00 | Signaling flares, rain rockets, fog signals and other pyrotechnic articles, excluding fireworks.
3605.00.00 | Matches, other than pyrotechnic articles of heading 3604.
3606.90.30 | Ferrocerium and other pyrophoric alloys in all forms.
3606.90.40 | Metaldehyde.
3606.90.80 | Articles of combustible materials as specified in note 2 of chap. 36, nesoi.
3808.52.00 | DDT (ISO) (clofenatone (INN)), in packings of a net weight content not exceeding 300 g.
3808.59.10 | Pesticides containing any aromatic or modified aromatic specified in note 1 to chapter 38.
3808.59.50 | Pesticides, nesoi specified in note 1 to chapter 38.
3808.61.50 | Pesticides, nesoi , not exceeding 300g, specified in note 2 to chapter 38.
3809.10.00 | Finishing agents, dye carriers and like products, nesoi, with a basis of amylaceous substances.
3820.00.00 | Antifreezing preparations and prepared de-icing fluids.
3823.11.00 | Stearic acid.
3823.12.00 | Oleic acid.
3823.13.00 | Tall oil fatty acids.
3823.19.20 | Industrial monocarboxylic fatty acids or acid oils from refining derived from coconut, palm-kernel, or palm oil.
3823.19.40 | Industrial monocarboxylic fatty acids or acid oils from refining, nesoi.
3823.70.20 | Oleyl alcohol derived from fatty substances of animal or vegetable origin.
3823.70.40 | Industrial fatty alcohols, other than oleyl, derived from fatty substances of animal or vegetable origin.
3823.70.60 | Industrial fatty alcohols other than derived from fatty substances of animal or vegetable origin.
3824.60.00 | Sorbitol other than that of subheading 2905.44.
3824.99.36 | Mixture of vanadium.
3825.10.00 | Municipal waste.
3825.20.00 | Sewage sludge.
3825.30.00 | Clinical waste.
3913.10.00 | Alginic acid, and its salts and esters, in primary forms.
3922.10.00 | Baths, shower baths and washbasins, of plastics.
3922.20.00 | Lavatory seats and covers, of plastics.
3924.10.10 | Salt, pepper, mustard and ketchup dispensers and similar dispensers, of plastics.
3924.10.20 | Plates, cups, saucers, soup bowls, cereal bowls, sugar bowls, creamers, gravy boats, serving dishes and platters, of plastics.
3924.10.30 | Trays, of plastics.
3924.10.40 | Tableware and kitchenware articles, nesoi, of plastics.
3924.90.05 | Nursing nipples and finger cots.
3924.90.10 | Curtains and drapes, incl. panels and valances, napkins, table covers, mats, scarves, runners, doilies, and like furnishings, of plastics.
3924.90.20 | Picture frames of plastics.
3924.90.56 | Household articles and toilet articles, nesoi, of plastics.
3925.20.00 | Doors, windows, and their frames and thresholds for doors, of plastics.
3925.30.10 | Blinds (including venetian blinds), of plastics.
3925.30.50 | Shutters and similar articles and parts thereof, nesoi, of plastics.
3926.10.00 | Office or school supplies, of plastics.
3926.20.10 | Gloves, seamless, of plastics.
3926.20.40 | Gloves, nesoi, of plastics.
3926.30.10 | Handles and knobs for furniture, coachwork or the like, of plastics.
3926.30.50 | Fittings for furniture, coachwork or the like, other than handles and knobs, of plastics.
3926.40.00 | Statuettes and other ornamental articles, of plastics.
3926.90.10 | Buckets and pails, of plastics , nesoi.
3926.90.16 | Pacifiers.
3926.90.21 | Specified sanitary, invalid and nursing products, and fittings therefor, of plastics.
3926.90.25 | Handles and knobs, not used as fittings for furniture, coachwork or the like, of plastics.
3926.90.33 | Handbags made of beads, bugles and spangles, of plastics.
3926.90.35 | Beads, bugles and spangles, not strung or set; articles thereof, nesoi, of plastics.
3926.90.40 | Imitation gemstones, of plastics.
3926.90.48 | Photo albums.
3926.90.50 | Frames or mounts for photographic slides, of plastics.
3926.90.65 | Clothespins, spring type, of plastics.
3926.90.70 | Clothespins, other than spring type, of plastics.
3926.90.75 | Pneumatic mattresses and other inflatable articles, nesoi, of plastics.
3926.90.77 | Waterbed mattresses and liners and parts of the foregoing, of plastics.
3926.90.85 | Fasteners, in clips suitable for use in a mechanical attaching device, of plastics.
3926.90.99 | Other articles of plastic, nesoi.
4006.10.00 | “Camel-back” strips of unvulcanized rubber, for retreading rubber tires.
4009.12.00 | Tubes, pipes and hoses of vulcanized rubber other than hard rubber, not reinforced or combined w/other materials, with fittings.
4009.42.00 | Tubes, pipes and hoses of vulcanized rubber other than hard rubber, reinforced or combined with other materials nesoi, with fittings.
4010.11.00 | Conveyor belts or belting of vulcanized rubber reinforced only with metal.
4012.19.80 | Retreaded pneumatic tires (nonradials), of rubber, not elsewhere specified or included.
4015.19.05 | Medical gloves of vulcanized rubber other than hard rubber.
4016.92.00 | Erasers, of noncellular vulcanized rubber other than hard rubber.
4016.95.00 | Inflatable articles nesoi, of noncellular vulcanized rubber other than hard rubber.
4016.99.05 | Household articles nesoi, of noncellular vulcanized rubber other than hard rubber.
4016.99.10 | Handles and knobs, of noncellular vulcanized rubber other than hard rubber.
4016.99.15 | Caps, lids, seals, stoppers and other closures, of noncellular vulcanized rubber other than hard rubber.
4016.99.20 | Toys for pets made of noncellular vulcanized rubber other than hard rubber.
4101.20.10 | Whole raw hide/skin of bovine/equines (n/o 8 kg when dried, 10 kg when dry salted or 16 kg when fresh/otherwise preserved), not pretanned.
4101.20.20 | Whole bovine hides/skin upper/lining (n/o 8 kg when dried, 10 kg when dry salted or 16 kg when fresh/otherwise preserved), n/o 2.6 m2, nesoi.
4101.20.30 | Whole bovine hides/skin nesoi (n/o 8 kg when dried, 10 kg when dry salted or 16 kg when fresh/otherwise preserved), n/o 2.6 m2, nesoi.
4101.20.35 | Whole raw buffalo hides/skins (n/o 8 kg when dried, 10 kg when dry salted or 16 kg when fresh/otherwise preserved), over 2.6 m2, nesoi.
4101.20.40 | Whole bovine hides/skins (not buffalo) (n/o 8 kg dried, 10 kg dry salted or 16 kg fresh/otherwise preserved), ov 2.6 m2, vegetable pretanned.
4101.20.50 | Whole bovine hide/skin (not buffalo) (n/o 8 kg dried, 10 kg dry salted or 16 kg fresh/otherwise preserved), ov 2.6 m2, not vegetable pretann.
4101.20.70 | Whole equine hides and skins (n/o 8 kg when dried, 10 kg when dry salted or 16 kg when fresh/otherwise preserved), other than not pretanned.
4101.50.10 | Whole raw hides and skins of bovine or equine animals, of a weight exceeding 16 kg, not pretanned.
4101.50.20 | Whole raw bovine hides and skins upper/lining, of a weight over 16 kg, unit surface area n/o 2.6 m2, pretanned but not further prepared.
4101.50.30 | Whole raw bovine hides and skins, of a weight over 16 kg, unit surface area n/o 2.6 sq m, pretanned but not further prepared.
4101.50.35 | Whole raw buffalo hidess and skins, of a weight over 16 kg, surface area over 2.6 sq m, pretanned but not further prepared,.
4101.50.40 | Whole raw bovine hides and skins (not buffalo), weight over 16 kg, surface area over 2.6 m2, vegetable pretanned but not further prepared.
4101.50.50 | Whole raw bovine hides/skins (not buffalo), weight over 16 kg, surface area over 2.6 m2, pretanned (not vegetable) but not further prepared.
4101.50.70 | Whole raw equine hides and skins, of a weight exceeding 16 kg, pretanned but not further prepared.
4101.90.10 | Raw hides and skins (other than whole) of bovine or equine animals, not pretanned.
4101.90.35 | Raw buffalo hides and skins (other than whole), pretanned but not further prepared.
4101.90.40 | Raw bovine hides and skins (other than whole), vegetable pretanned but not further prepared.
4101.90.50 | Raw bovine hides and skins (other than whole), pretanned (other than vegetable pretanned) but not further prepared.
4101.90.70 | Raw equine hides and skins (other than whole), pretanned but further prepared.
4102.10.10 | Raw skins of sheep or lambs (not excluded by note 1(c) to chapter 41), with wool on, not pretanned.
4102.10.20 | Raw skins of sheep or lamb (not excluded by note 1(c) to chapter 41), with wool on, vegetable pretanned but not further prepared.
4102.10.30 | Raw skins of sheep or lamb (not excluded by note 1(c) to chapter 41), with wool on, pretanned other than vegetable but not further prepared.
4102.21.00 | Raw skins of sheep or lambs, without wool on, pickled, other than those excluded by note 1(c) to chapter 41.
4102.29.10 | Raw skins of sheep or lamb (not excluded by note 1(c) to chapter 41), without wool on, not pretanned.
4102.29.20 | Raw sheep or lamb skins (not excluded by note 1(c) to chapter 41), without wool on, vegetable pretanned but not further prepared.
4102.29.30 | Raw sheep or lamb skins (not excluded by note 1(c) to chapter 41), without wool on, pretanned other than vegetable but not further prepared.
4103.20.10 | Raw hides and skins of reptiles, not pretanned.
4103.20.20 | Raw hides and skins of reptiles, vegetable pretanned but not further prepared.
4103.20.30 | Raw hides and skins of reptiles, pretanned other than vegetable pretanned but not further prepared.
4103.30.10 | Raw hides and skins of swine, not pretanned.
4103.30.20 | Raw hides and skins of swine, pretanned but not further prepared.
4103.90.11 | Raw hides and skins of deer, goats, kids and animals nesoi (other than those excluded by note 1(b) or 1(c) to chapter 41), not pretanned.
4103.90.12 | Raw hides and skins of goats or kids (not excluded by note 1(c) to chapter 41), vegetable pretanned but not further prepared.
4103.90.13 | Raw hides and skins of goat or kid (not excluded by note 1(c) to chapter 41), pretanned (other than vegetable) but not prepared.
4103.90.20 | Raw hides and skins of animals nesoi (other than those excluded by note 1(b) or 1(c) to chapter 41), pretanned but not further prepared.
4115.20.00 | Parings & other waste of leather or composition leather, not suitable for the manufacture of leather articles; leather dust, powder & flour.
4301.10.00 | Raw furskins of mink, whole, with or without head, tail or paws.
4301.30.00 | Raw lamb furskins of Astrakhan, Broadtail, Caracul, Persian, Indian, Chinese, Mongolian, Tibetan, whole.
4301.60.30 | Raw furskins of silver, black or platinum fox (including mutations of these), whole, with or without head, tail or paws.
4301.60.60 | Raw furskins of fox, other than of silver, black or platinum fox, whole, with or without head, tail or paws.
4301.80.02 | Other furskins, whole, with or without head, tail, or paws.
4301.90.00 | Heads, tails, paws and other pieces or cuttings of raw furskins, suitable for furriers' use.
4414.00.00 | Wooden frames for paintings, photographs, mirrors or similar objects.
4417.00.20 | Wooden broom and mop handles, 1.9 cm or more in diameter and 97 cm or more in length.
4417.00.40 | Wooden paint brush and paint roller handles.
4419.11.00 | Bread boards, chopping boards and similar boards of bamboo.
4419.12.00 | Chopsticks of bamboo.
4419.19.10 | Forks and spoons of bamboo.
4419.19.90 | Tableware and kitchenware of bamboo, other than bread boards, chopping boards and similar boards, chopsticks , forks, spoons.
4419.90.10 | Forks and spoons of wood, other than of bamboo.
4419.90.90 | Tableware and kitchenware of wood other than of bamboo, other than bread boards, chopping boards and similar boards, chopsticks , forks, spoons.
4420.10.00 | Wooden statuettes and other wood ornaments.
4420.90.20 | Wooden cigar and cigarette boxes.
4421.10.00 | Wooden clothes hangers.
4421.91.30 | Blinds, shutters, screens and shades of bamboo, with wooden frames having fixed louver boards or slats in the center.
4421.91.40 | Blinds, shutters, screens and shades of bamboo, with wooden frames w/o fixed louver boards or slats in the center.
4421.91.50 | Toothpicks of bamboo.
4421.91.60 | Skewers, candy sticks, ice cream sticks, tongue depressors, drink mixers and similar wares, other than toothpicks, of bamboo.
4421.91.80 | Spring-type clothespins of bamboo.
4421.91.85 | Clothespins other than spring-type, of bamboo.
4421.91.88 | Canoe paddles of bamboo.
4421.99.30 | Blinds, shutters, screens and shades of wood other than bamboo, with wooden frames having fixed louver boards or slats in the center.
4421.99.40 | Blinds, shutters, screens and shades of wood other than bamboo, with wooden frames w/o fixed louver boards or slats in the center.
4421.99.50 | Toothpicks of wood other than of bamboo.
4421.99.60 | Skewers, candy sticks, ice cream sticks, tongue depressors, drink mixers and similar wares, other than toothpicks, of wood other than bamboo.
4421.99.80 | Spring-type clothespins of wood other than of bamboo.
4421.99.85 | Clothespins other than spring-type, of wood other than of bamboo.
4421.99.88 | Canoe paddles of wood other than of bamboo.
4814.20.00 | Wallpaper and similar wallcoverings of paper, coated or covered on the face side with a layer of plastics.
4814.90.02 | Other wallpaper and similar wallcoverings, nesoi; window transparencies of paper, nesoi.
4818.90.00 | Bedsheets and similar household, sanitary or hospital articles of paper, cellulose wadding or webs of cellulose fibers, nesoi.
4901.10.00 | Printed books, brochures, leaflets and similar printed matter in single sheets, whether or not folded.
4901.91.00 | Printed dictionaries and encyclopedias and serial installments thereof.
4901.99.00 | Printed books, brochures, leaflets and similar printed matter, other than in single sheets.
4902.10.00 | Newspapers, journals and periodicals, appearing at least four times a week.
4902.90.10 | Newspaper supplements printed by a gravure process.
4902.90.20 | Newspaper, journals and periodicals, except those appearing at least four times a week.
4903.00.00 | Children's picture, drawing or coloring books.
4904.00.00 | Music, printed or in manuscript, whether or not bound or illustrated.
4905.10.00 | Globes, printed.
4905.91.00 | Maps and hydrographic or similar charts of all kinds, including atlases and topographical plans, printed in book form.
4905.99.00 | Maps and hydrographic or similar charts of all kinds, including atlases, wall maps and topographical plans, printed, in other than book form.
4906.00.00 | Hand-drawn original plans and drawings; hand-written texts; photo reproductions on sensitized paper and carbon copies of the foregoing.
4907.00.00 | Unused stamps of current or new issue in country to which destined; stamp-impressed paper; check forms; documents of title, etc.
4908.10.00 | Transfers (decalcomanias), vitrifiable.
4908.90.00 | Transfers (decalcomanias), not vitrifiable.
4909.00.20 | Postcards, printed or illustrated.
4909.00.40 | Printed cards (except postcards) bearing personal greetings, messages or announcements, with or without envelopes or trimmings.
4910.00.20 | Calendars printed on paper or paperboard in whole or in part by a lithographic process, not over 0.51 mm in thickness.
4910.00.40 | Calendars printed on paper or paperboard in whole or in part by a lithographic process, over 0.51 mm in thickness.
4910.00.60 | Printed calendars, including calendar blocks, printed on paper or paperboard by other than a lithographic process.
4911.10.00 | Printed trade advertising material, commercial catalogs and the like.
4911.91.10 | Pictures, designs and photographs, printed over 20 years at time of importation.
4911.91.15 | Pictures, designs and photographs printed not over 20 years at time of importation, used in production of articles of heading 4901.
4911.91.20 | Lithographs on paper or paperboard, not over 0.51 mm in thickness, printed not over 20 years at time of importation.
4911.91.30 | Lithographs on paper or paperboard, over 0.51 mm in thickness, printed not over 20 years at time of importation.
4911.91.40 | Pictures, designs and photographs, excluding lithographs on paper or paperboard, printed not over 20 years at time of importation.
4911.99.20 | Printed international customs forms (carnets), and parts thereof, in English or French, (whether or not in additional languages).
4911.99.60 | Printed matter, nesoi, printed on paper in whole or in part by a lithographic process.
4911.99.80 | Printed matter, nesoi.
5210.11.40 | Unbleached plain weave fabrics of cotton, < 85% cotton, mixed mainly/solely with man-made fibers, wt < 200 g/m2, of number 42 or lower.
5210.11.60 | Unbleached plain weave fabrics of cotton, < 85% cotton, mixed mainly/solely with man-made fibers, wt < 200 g/m2, of numbers 43-68.
5210.19.10 | Unbleached 3- or 4-thread twill fabrics of cotton, incl. cross twill, < 85% cotton by wt, mixed mainly/solely with mm fibers, n/o 200 g/m2.
5308.90.90 | Yarn of other vegetable textile fibers, nesoi.
5402.20.60 | Multiple (folded) or cabled high tenacity yarn (except sewing thread) of polyesters, not put up for retail sale.
5407.54.00 | Woven fabrics, containing 85 percent or more by weight of textured polyester filaments, printed.
5504.10.00 | Artificial staple fibers, not carded, combed or otherwise processed for spinning, of viscose rayon.
5513.21.00 | Woven fabrics of polyester staple fibers, < 85% polyester staple fibers, mixed mainly/solely w/cotton, not over 170 g/m2, plain weave, dyed.
5801.31.00 | Uncut weft pile fabrics of man-made fibers, other than fabrics of heading 5802 or 5806.
5801.32.00 | Cut corduroy of man-made fibers, other than fabrics of heading 5802 or 5806.
5801.33.00 | Weft pile fabrics of man-made fibers, cut, other than fabrics of heading 5802 or 5806, nesoi.
5801.36.00 | Chenille fabrics of man-made fibers, other than fabrics of heading 5802 or 5806.
5903.10.15 | Textile fabric spec in note 9 to sect XI, of man-made fibers, impreg, coated, covered or laminated w/polyvinyl chloride, over 60% plastics.
6001.22.00 | Knitted or crocheted looped pile fabrics of man-made fibers.
6005.35.00 | Wrap knit fabrics of synthetic fibers,specified in subheading note 1 to this chapter excluding headings 6001 to 6004.
6005.41.00 | Unbleached or bleached warp knit fabrics (including made on galloon knitting machines) of artificial fiber, other than headings 6001 to 6004.
6006.24.90 | Printed knitted or crocheted fabrics of cotton, nesoi.
6006.41.00 | Unbleached or bleached knitted or crocheted fabrics of artificial fibers, nesoi.
6101.20.00 | Men's or boys' overcoats, carcoats, capes, cloaks, anoraks, windbreakers and similar articles, knitted or crocheted, of cotton.
6101.30.10 | Men's or boys' overcoats, carcoats, capes and like articles knitted or crocheted, of man-made fibers, 25% or more by weight of leather.
6101.30.15 | Men's or boy's overcoat,etc.,knitted or crocheted, of manmade fibers, containing 23% or more wool or fine animal hair, nesoi.
6101.30.20 | Men's or boy's overcoats, carcoats, capes, cloaks, windbreakers and similar articles, knitted or crocheted, of man-made fibers, nesoi.
6101.90.05 | Men's or boys' overcoats, carcoats, capes, cloaks, windbreakers and similar articles, knitted or crocheted, of wool or fine animal hair.
6101.90.10 | Men's or boys' overcoats, carcoats, etc., of tex mats (other than wool, cotton or mmf), cont 70% or more wt of silk, knitted or crocheted.
6101.90.90 | Men's or boys' overcoats, carcoats, etc., of tex mats (other than wool, cotton or mmf), cont less than 70% wt silk, knitted or crocheted.
6102.10.00 | Women's or girls' overcoats, carcoats, capes, windbreakers and similar articles, knitted or crocheted, of wool or fine animal hair.
6102.20.00 | Women's or girls' overcoats, carcoats, capes, cloaks, anoraks, windbreakers and similar articles, knitted or crocheted, of cotton.
6102.30.05 | Women's or girls' overcoats, carcoats, etc., knitted or crocheted, of manmade fibers, cont. 25% or more by weight of leather.
6102.30.10 | Women's or girls' overcoats, carcoats, etc., knitted or crocheted, of manmade fibers, containing 23% or more of wool or fine animal hair.
6102.30.20 | Women's or girls' overcoats, carcoats, capes, windbreakers and similar articles, knitted or crocheted, of manmade fibers, nesoi.
6102.90.10 | Women's or girls' overcoats, carcoats, etc., of tex mats (other than wool, cotton or mmf), cont 70% or more wt of silk, knitted or crochet.
6102.90.90 | Women's or girls' overcoats, carcoats, etc., of tex mats (other than wool, cotton or mmf), cont less than 70% wt of silk, knitted/crocheted.
6103.10.10 | Men's or boys' suits, knitted or crocheted, of wool or fine animal hair.
6103.10.20 | Men's or boys' suits, knitted or crocheted, of synthetic fibers, containing 23 percent or more of wool or fine animal hair.
6103.10.30 | Men's or boys' suits, knitted or crocheted, of synthetic fibers, nesoi.
6103.10.40 | Men's or boys' suits, knitted or crocheted, of artificial fibers, containing 23 percent or more of wool or fine animal hair.
6103.10.50 | Men's or boys' suits, knitted or crocheted, of artificial fibers, nesoi.
6103.10.60 | Men's or boys' suits, knitted or crocheted, of cotton.
6103.10.70 | Men's or boys' suits, of tex mats(ex wool, cotton or mmf), containing 70% or more by weight of silk or silk waste, knitted or crocheted.
6103.10.90 | Men's or boys' suits, of tex mats (ex wool, cotton or mmf), containing under 70% by weight of silk or silk waste, knitted or crocheted.
6103.22.00 | Men's or boys' ensembles, knitted or crocheted, of cotton.
6103.23.00 | Men's or boys' ensembles, knitted or crocheted, of synthetic fibers.
6103.29.05 | Men's or boys' ensembles, knitted or crocheted, of wool or fine animal hair.
6103.29.10 | Men's or boys' ensembles, knitted or crocheted, of artificial fibers.
6103.29.20 | Men's or boys' ensembles, knitted or crocheted, of textile materials nesoi.
6103.31.00 | Men's or boys' suit-type jackets and blazers, knitted or crocheted, of wool or fine animal hair.
6103.32.00 | Men's or boys' suit-type jackets and blazers, knitted or crocheted, of cotton.
6103.33.10 | Men's or boys' suit-type jackets and blazers, knitted or crocheted, of synthetic fibers, containing 23% or more of wool or fine animal hair.
6103.33.20 | Men's or boys' suit-type jackets and blazers, knitted or crocheted, of synthetic fibers, nesoi.
6103.39.10 | Men's or boys' suit-type jackets and blazers, knitted or crocheted, of artificial fibers.
6103.39.40 | Men's or boys' suit-type jackets and blazers, of textile mats, (except wool, cotton, or mmf), cont 70% or more by wt of silk, knitted/croc.
6103.39.80 | Men's or boys' suit-type jackets and blazers, of textile mats, (except wool, cotton, or mmf), cont less than 70% by wt of silk, knitted/croc.
6103.41.10 | Men's or boys' trousers, breeches and shorts, knitted or crocheted, of wool or fine animal hair.
6103.41.20 | Men's or boys' bib and brace overalls, knitted or crocheted, of wool or fine animal hair.
6103.42.10 | Men's or boys' trousers, breeches and shorts, knitted or crocheted, of cotton.
6103.42.20 | Men's or boys' bib and brace overalls, knitted or crocheted, of cotton.
6103.43.10 | Men's or boys' trousers, breeches and shorts, knitted or crocheted, of syn. fibers, cont. 23 percent or more of wool or fine animal hair.
6103.43.15 | Men's or boys' trousers, breeches and shorts, knitted or crocheted, of synthetic fibers, nesoi.
6103.43.20 | Men's and boys' bib and brace overalls of synthetic fibers, knitted or crocheted.
6103.49.10 | Men's or boys' trousers, breeches and shorts, knitted or crocheted, of artificial fibers.
6103.49.20 | Men's or boys' bib and brace overalls, knitted or crocheted, of artificial fibers.
6103.49.40 | Men's or boys' trousers, bib and brace overalls, breeches and shorts, of tex mat (except wool, cot or mmf), con 70% or more wt of silk, k/c.
6103.49.80 | Men's or boys' trousers, bib and brace overalls, breeches and shorts, of tex mat (except wool, cot or mmf), con under 70% by wt of silk, k/c.
6104.13.10 | Women's or girls' suits, knitted or crocheted, of synthetic fibers, containing 23 percent or more of wool or fine animal hair.
6104.13.20 | Women's or girls' suits, knitted or crocheted, of synthetic fibers, nesoi.
6104.19.10 | Women's or girls' suits, knitted or crocheted, of artificial fibers, containing 23 percent or more of wool or fine animal hair.
6104.19.15 | Women's or girls' suits, knitted or crocheted, of artificial fibers, nesoi.
6104.19.40 | Women's or girls' suits, of tex mats (ex wool, cotton or mmf), containing 70% or more by weight of silk or silk waste, knitted or crocheted.
6104.19.50 | Women's or girls' suits, knitted or crocheted, of wool or fine animal hair.
6104.19.60 | Women's or girls' suits, knitted or crocheted, of cotton.
6104.19.80 | Women's or girls' suits, of tex mats (ex wool, cotton or mmf), containing under 70% by weight of silk or silk waste, knitted or crocheted.
6104.22.00 | Women's or girls' ensembles, knitted or crocheted, of cotton.
6104.23.00 | Women's or girls' ensembles, knitted or crocheted, of synthetic fibers.
6104.29.05 | Women's or girls' ensembles, knitted or crocheted, of wool or fine animal hair.
6104.29.10 | Women's or girls' ensembles, knitted or crocheted, of artificial fibers.
6104.29.20 | Women's or girls' ensembles, knitted or crocheted, of textile materials nesoi.
6104.31.00 | Women's or girls' suit-type jackets and blazers, knitted or crocheted, of wool or fine animal hair.
6104.32.00 | Women's or girls' suit-type jackets and blazers, knitted or crocheted, of cotton.
6104.33.10 | Women's or girls' suit-type jackets & blazers, knit or crocheted, of synthetic fibers, cont. 23% or more of wool or fine animal hair.
6104.33.20 | Women's or girls' suit-type jackets and blazers, knitted or crocheted, of synthetic fibers, nesoi.
6104.39.10 | Women's or girls' suit-type jackets, knitted or crocheted, of artificial fibers.
6104.39.20 | Women's or girls' suit-type jackets, knitted or crocheted, of textile materials nesoi.
6104.41.00 | Women's or girls' dresses, knitted or crocheted, of wool or fine animal hair.
6104.42.00 | Women's or girls' dresses, knitted or crocheted, of cotton.
6104.43.10 | Women's or girls' dresses, knitted or crocheted, of synthetic fibers, containing 23 percent or more of wool or fine animal hair.
6104.43.20 | Women's or girls' dresses, knitted or crocheted, of synthetic fibers, nesoi.
6104.44.10 | Women's or girls' dresses, knitted or crocheted, of artificial fibers, containing 23 percent or more of wool or fine animal hair.
6104.44.20 | Women's or girls' dresses, knitted or crocheted, of artificial fibers, nesoi.
6104.49.10 | Women's or girls' dresses, of textile mats (ex wool, cotton or mmf), containing 70% or more by weight of silk or silk waste, knitted or croc.
6104.49.90 | Women's or girls' dresses, of textile mats (ex wool, cotton or mmf), containing under 70% by weight of silk or silk waste, knitted or croc.
6104.51.00 | Women's or girls' skirts and divided skirts, knitted or crocheted, of wool or fine animal hair.
6104.52.00 | Women's or girls' skirts and divided skirts, knitted or crocheted, of cotton.
6104.53.10 | Women's or girls' skirts & divided skirts, knitted or crocheted, of synthetic fibers, cont. 23% or more of wool or fine animal hair.
6104.53.20 | Women's or girls' skirts and divided skirts, knitted or crocheted, of synthetic fibers, nesoi.
6104.59.10 | Women's or girls' skirts and divided skirts, knitted or crocheted, of artificial fibers.
6104.59.40 | Women's or girls' skirts & divided skirts, of textile mats (ex wool, cotton or mmf), containing 70% or more by wt of silk, knitted or croc.
6104.59.80 | Women's or girls' skirts and divided skirts, of textile mats (ex wool, cotton or mmf), containing under 70% by wt of silk, knitted or croc.
6104.61.00 | Women's or girls' trousers, bib and brace overalls, breeches and shorts, knitted or crocheted, of wool or fine animal hair.
6104.62.10 | Women's or girls' bib and brace overalls, knitted or crocheted, of cotton.
6104.62.20 | Women's or girls' trousers, breeches and shorts, knitted or crocheted, of cotton.
6104.63.10 | Women's or girls' bib and brace overalls, knitted or crocheted, of synthetic fibers.
6104.63.15 | Women's or girls' trousers, etc., knitted or crocheted, of synthetic fibers, containing 23 percent or more of wool or fine animal hair.
6104.63.20 | Women's or girls' trousers, breeches and shorts, knitted or crocheted, of synthetic fibers, nesoi.
6104.69.10 | Women's or girls' bib and brace overalls, knitted or crocheted, of artificial fibers.
6104.69.20 | Women's or girls' trousers, breeches and shorts, knitted or crocheted, of artificial fibers.
6104.69.40 | Women's or girls' trousers, bib & brace overalls, breeches & shorts, of tex mats (ex wool, cotton or mmf), cont 70% or more wt of silk, k/c.
6104.69.80 | Women's or girls' trousers, bib & brace overalls, breeches & shorts, of tex mats (ex wool, cotton or mmf), cont under 70% by wt of silk, k/c.
6105.10.00 | Men's or boys' shirts, knitted or crocheted, of cotton.
6105.20.10 | Men's or boys' shirts, knitted or crocheted, of manmade fibers, containing 23 percent or more of wool or fine animal hair.
6105.20.20 | Men's or boys' shirts, knitted or crocheted, of manmade fibers, nesoi.
6105.90.10 | Men's or boys' shirts, knitted or crocheted, of wool or fine animal hair.
6105.90.40 | Men's or boys' shirts, of textile materials (ex wool, cotton or mmf), containing 70% or more by weight of silk or silk waste, knitted/croch.
6105.90.80 | Men's or boys' shirts, of textile materials (ex wool, cotton or mmf), containing under 70% by weight of silk or silk waste, knitted/crochete.
6106.10.00 | Women's or girls' blouses and shirts, knitted or crocheted, of cotton.
6106.20.10 | Women's or girls' blouses and shirts, knitted or crocheted, of manmade fibers, containing 23 percent or more of wool or fine animal hair.
6106.20.20 | Women's or girls' blouses and shirts, knitted or crocheted, of man-made fibers, nesoi.
6106.90.10 | Women's or girls' blouses and shirts, knitted or crocheted, of wool or fine animal hair.
6106.90.15 | Women's or girls' blouses and shirts, of textile materials (ex wool, cotton or mmf), containing 70% or more weight of silk, knitted or croc.
6106.90.25 | Women's or girls' blouses and shirts, of textile materials (ex wool, cotton or mmf), containing under 70% by weight of silk, knitted or croc.
6106.90.30 | Women's or girls' blouses and shirts, knitted or crocheted, of textile materials nesoi.
6107.11.00 | Men's or boys' underpants and briefs, knitted or crocheted, of cotton.
6107.12.00 | Men's or boys' underpants and briefs, knitted or crocheted, of man-made fibers.
6107.19.10 | Men's or boys' underpants & briefs, of textile materials (ex cotton or mmf), containing 70% or more by weight of silk or silk waste, k/croc.
6107.19.90 | Men's or boys' underpants and briefs, of textile materials (except cotton or mmf), containing under 70% by weight of silk, knitted or croc.
6107.21.00 | Men's or boys' nightshirts and pajamas, knitted or crocheted, of cotton.
6107.22.00 | Men's or boys' nightshirts and pajamas, knitted or crocheted, of man-made fibers.
6107.29.20 | Men's or boys' nightshirts and pajamas, knitted or crocheted, of wool or fine animal hair.
6107.29.50 | Men's or boys' nightshirts and pajamas, of textile materials (ex cotton, mmf or wool), containing 70% or more by wt of silk, knitted or croc.
6107.29.90 | Men's or boys' nightshirts and pajamas, of textile materials (ex cotton, mmf or wool), containing under 70% by wt of silk, knitted or croc.
6107.91.00 | Men's or boys' bathrobes, dressing gowns and similar articles, knitted or crocheted, of cotton.
6107.99.10 | Men's or boys' bathrobes, dressing gowns and similar articles, knitted or crocheted, of man-made fibers.
6107.99.20 | Men's or boys' bathrobes, dressing gowns and similar articles, knitted or crocheted, of wool or fine animal hair.
6107.99.50 | Men's or boys' bathrobes, dressing gowns, & similar articles, of textile materials (except wool), containing 70% or more by wt of silk, k/c.
6107.99.90 | Men's or boys' bathrobes, dressing gowns, and similar articles, of textile materials (except wool), containing under 70% by wt of silk, k/c.
6108.11.00 | Women's or girls' slips and petticoats, knitted or crocheted, of man-made fibers.
6108.19.10 | Women's or girls' slips and petticoats, of textile materials (except mmf), containing 70% or more by weight of silk, knitted or crocheted.
6108.19.90 | Women's or girls' slips and petticoats, of textile materials (except mmf), containing under 70% by weight of silk, knitted or crocheted.
6108.21.00 | Women's or girls' briefs and panties, knitted or crocheted, of cotton.
6108.22.10 | Women's or girls' disposable briefs and panties designed for one-time use, of man-made fibers, knitted or crocheted.
6108.22.90 | Women's or girls' briefs and panties (other than disposable), of man-made fibers, knitted or crocheted.
6108.29.10 | Women's or girls' briefs and panties (other than disposable), of text materials (other than cotton or mmf) cont 70% or more wt of silk, k/c.
6108.29.90 | Women's or girls' briefs and panties (other than disposable), of text mats (other than cotton or mmf) cont under 70% by wt of silk, k/c.
6108.31.00 | Women's or girls' nightdresses and pajamas, knitted or crocheted, of cotton.
6108.32.00 | Women's or girls' nightdresses and pajamas, knitted or crocheted, of man-made fibers.
6108.39.10 | Women's or girls' nightdresses and pajamas, knitted or crocheted, of wool or fine animal hair.
6108.39.40 | Women's or girls' nightdresses & pajamas, con. 70% or more by wt of silk or silk waste, knitted or crocheted.
6108.39.80 | Women's or girls' nightdresses & pajamas, of textiles (except of cotton/mmf/wool), con. under 70% by wt of silk, knitted or crocheted.
6108.91.00 | Women's or girls' negligees, bathrobes, dressing gowns and similar articles, knitted or crocheted, of cotton.
6108.92.00 | Women's or girls' negligees, bathrobes, dressing gowns and similar articles, knitted or crocheted, of man-made fibers.
6108.99.20 | Women's or girls' negligees, bathrobes, dressing gowns and similar articles, knitted or crocheted, of wool or fine animal hair.
6108.99.50 | Women's or girls' bathrobes, negligees, & sim. articles, con. 70% or more by wt of silk or silk waste, knitted or crocheted.
6108.99.90 | Women's or girls' bathrobes, negligees, & sim. articles, of textiles (except of cotton/mmf/wool), con under 70% by wt of silk, k/c.
6109.10.00 | T-shirts, singlets, tank tops and similar garments, knitted or crocheted, of cotton.
6109.90.10 | T-shirts, singlets, tank tops and similar garments, knitted or crocheted, of man-made fibers.
6109.90.15 | T-shirts and similar garments, knitted or crocheted, of wool, with long sleeves.
6109.90.40 | T-shirts, singlets tanktops & sim garments, of text mat (except cotton, mmf or long sleeve wool garments), cont 70% or more wt of silk, k/c.
6109.90.80 | T-shirts, singlets tanktops and sim garments, of text mat (except cotton, mmf or long sleeve wool garments), cont under 70% wt of silk, k/c.
6110.11.00 | Sweaters, pullovers, sweatshirts, waistcoats (vests) and similar articles, knitted or crocheted, of wool.
6110.12.10 | Sweaters, pullovers, sweatshirts, waistcoats (vests) and similar articles, knitted or crocheted, of Kashmir goats, wholly of cashmere.
6110.12.20 | Sweaters, pullovers, sweatshirts, waistcoats (vests) and similar articles, knitted or crocheted, of Kashmir goats, not wholly of cashmere.
6110.19.00 | Sweaters, pullovers, sweatshirts, waistcoats (vests) and similar articles, knitted or crocheted, of fine animal hair.
6110.20.10 | Sweaters, pullovers and similar articles, knitted or crocheted, of cotton, containing 36 percent or more of flax fibers.
6110.20.20 | Sweaters, pullovers and similar articles, knitted or crocheted, of cotton, nesoi.
6110.30.10 | Sweaters, pullovers, sweatshirts and similar articles, knitted or crocheted, of man-made fibers, cont. 25% or more by weight of leather.
6110.30.15 | Sweaters, etc., knitted or crocheted, of manmade fibers, containing 23% or more of wool or fine animal hair.
6110.30.20 | Sweaters, pullovers & similar articles, knitted or crocheted, of manmade fibers, containing 30 percent or more of silk or silk waste.
6110.30.30 | Sweaters, pullovers and similar articles, knitted or crocheted, of manmade fibers, nesoi.
6110.90.10 | Sweaters, pullovers, sweatshirts, vests and similar articles, of text mat (except wool, cotton or mmf), cont 70% or more by wt of silk, k/c.
6110.90.90 | Sweaters, pullovers, sweatshirts, vests and sim articles, of text mat (except wool, cotton or mmf), containing under 70% by wt of silk, k/c.
6111.20.10 | Babies' blouses and shirts, except those imported as parts of sets, knitted or crocheted, of cotton.
6111.20.20 | Babies' T-shirts, singlets and similar garments, except those imported as parts of sets, of cotton.
6111.20.30 | Babies' sweaters, pullovers, sweatshirts and similar articles, except those imported as parts of sets, knitted or crocheted, of cotton.
6111.20.40 | Babies' dresses, knitted or crocheted, of cotton.
6111.20.50 | Babies' trousers, breeches and shorts, except those imported as parts of sets, knitted or crocheted, of cotton.
6111.20.60 | Babies' garments and clothing accessories, knitted or crocheted, of cotton, nesoi.
6111.30.10 | Babies' trousers, breeches and shorts, except those imported as parts of sets, knitted or crocheted, of synthetic fibers.
6111.30.20 | Babies' blouses and shirts, except those imported as parts of sets, knitted or crocheted, of synthetic fibers.
6111.30.30 | Babies' T-shirts, singlets and similar garments, except those imported as parts of sets, knitted or crocheted, of synthetic fibers.
6111.30.40 | Babies' sweaters, pullovers and similar articles, except those imported as parts of sets, knitted or crocheted, of synthetic fibers.
6111.30.50 | Babies' garments and clothing accessories, knitted or crocheted, of synthetic fibers, nesoi.
6111.90.05 | Babies' garments and clothing accessories, knitted or crocheted, of wool or fine animal hair.
6111.90.10 | Babies' trousers, breeches and shorts, except those imported as parts of sets, knitted or crocheted, of artificial fibers.
6111.90.20 | Babies' blouses and shirts, except those imported as parts of sets, knitted or crocheted, of artificial fibers.
6111.90.30 | Babies' T-shirts, singlets and similar garments, except those imported as parts of sets, knitted or crocheted, of artificial fibers.
6111.90.40 | Babies' sweaters, sweatshirts, and similar articles, except those imported as parts of sets, knitted or crocheted, of artificial fibers.
6111.90.50 | Babies' garments and clothing accessories, knitted or crocheted, of artificial fibers, nesoi.
6111.90.70 | Babies garments and clothing accessories, of textile materials (except wool, cotton or mmf), containing 70% or more by weight of silk, k/c.
6111.90.90 | Babies garments and clothing accessories, of textile materials (except wool, cotton or mmf), containing under 70% by weight of silk, k/c.
6112.11.00 | Track suits, knitted or crocheted, of cotton.
6112.12.00 | Track suits, knitted or crocheted, of synthetic fibers.
6112.19.10 | Track suits, knitted or crocheted, of artificial fibers.
6112.19.40 | Track suits, of textile materials (except cotton or mmf), containing 70% or more by weight of silk or silk waste, knitted or crocheted.
6112.19.80 | Track suits, of textile materials (except cotton or mmf), containing less than 70% by weight of silk or silk waste, knitted or crocheted.
6112.20.10 | Ski-suits, knitted or crocheted, of man-made fibers.
6112.20.20 | Ski-suits, knitted or crocheted, of textile materials other than man-made fibers.
6112.31.00 | Men's or boys' swimwear, knitted or crocheted, of synthetic fibers.
6112.39.00 | Men's or boys' swimwear, knitted or crocheted, of textile materials other than synthetic fibers.
6112.41.00 | Women's or girls' knitted or crocheted swimwear of synthetic fibers.
6112.49.00 | Women's or girls' swimwear, knitted or crocheted, of textile materials other than synthetic fibers.
6113.00.10 | Garments nesoi, made up of k/c fabrics of 5903, 5906 or 5907, w an outer surf impreg, coated, cov, or lam w rub/p mat which obscures the fab.
6113.00.90 | Garments nesoi, made up of k/c fabrics of 5903, 5906 or 5907, not impreg, coated, covered, or laminated w rubber or plastics materials.
6114.20.00 | Garments nesoi, knitted or crocheted, of cotton.
6114.30.10 | Tops, knitted or crocheted, of man-made fibers.
6114.30.20 | Bodysuits and bodyshirts, knitted or crocheted, of man-made fibers.
6114.30.30 | Garments nesoi, knitted or crocheted, of man-made fibers.
6114.90.05 | Garments nesoi, knitted or crocheted, of wool or fine animal hair.
6114.90.10 | Other garments nesoi, of textile materials (except wool, cotton or mmf), contain 70% or more by weight of silk or silk waste, knitted/croch.
6114.90.90 | Other garment, nesoi, of textile materials (except wool, cotton or mmf), containing under 70% by wt of silk or silk waste, knitted/crocheted.
6115.10.10 | Graduated compression panty hose and tights (not for orthopedic treatment), of synthetic fibers.
6115.10.15 | Graduated compression panty hose and tights (not for orthopedic treatment), of textile materials except synthetic fibers.
6115.10.30 | Graduated compression hosiery (except pantyhose and tights) (not for orthopedic treatment), of cotton.
6115.10.40 | Graduated compression hosiery (except pantyhose and tights) (not for orthopedic treatment), of synthetic fibers.
6115.10.55 | Graduated compression hosiery (except pantyhose and tights) (not for orthopedic treatment), of artificial fibers.
6115.10.60 | Graduated compression hosiery (except pantyhose and tights) (not for orthopedic treatment), nesoi.
6115.21.00 | Panty hose and tights (not graduated compression), knitted or crocheted, of synthetic fibers, measuring per single yarn less than 67 decitex.
6115.22.00 | Panty hose and tights (not graduated compression), knitted or crocheted, of synthetic fibers, measuring per single yarn 67 decitex or more.
6115.29.40 | Panty hose (not graduated compressoin) and tights, containing 70% or more by weight of silk or silk waste, knitted or crocheted.
6115.29.80 | Panty hose (not surgical) and tights, of textile materials nesoi, knitted or crocheted.
6115.30.10 | Women's full-length or knee-length hosiery, measuring per single yarn less than 67 decitex containing 70% or more by wt of silk, knit/croc.
6115.30.90 | Women's full-length or knee-length hosiery, measuring per single yarn less than 67 decitex containing under 70% by wt of silk, knitted/croc.
6115.94.00 | Hosiery nesoi, knitted or crocheted, of wool or fine animal hair.
6115.95.60 | Stockings, socks, etc. (not surgical), knitted or crocheted, of cotton, containing lace or net.
6115.95.90 | Stockings, socks, etc. nesoi (not surgical and not containing lace or net), knitted or crocheted, of cotton.
6115.96.60 | Stockings, socks, etc. nesoi, knitted or crocheted, of synthetic fibers, containing lace or net.
6115.96.90 | Stockings, socks, etc. nesoi, knitted or crocheted, of synthetic fibers (not containing lace or net).
6115.99.14 | Hosiery nesoi, of artificial fibers, containing lace or net.
6115.99.19 | Hosiery nesoi, knitted or crocheted, of artificial fibers, other than those containing lace or net.
6115.99.40 | Stockings and other hosiery, including footwear without applied soles, of textile materials (except mmf), cont 70% or more by wt of silk, k/c.
6115.99.90 | Stockings and other hosiery, including footwear without applied soles, of textile materials (except mmf), cont under 70% by wt of silk, knitt.
6116.10.05 | Ice hockey and field hockey gloves, knitted or crocheted, impregnated, coated or covered with plastics or rubber.
6116.10.08 | Other gloves, mittens and mitts, the foregoing specially designed for sports use, incl. ski and snowmobile gloves, mittens and mitts.
6116.10.13 | Gloves, mittens & mitts, w/o four., k/c, coated w. plastics/rubber nesoi, cut & sewn, of veg. fibers, cont. > 50% by wt. of plastics/rubber.
6116.10.17 | Gloves, mittens & mitts, w/o four., k/c, coated w. plastics/rubber, nesoi, cut & sewn, of veg. fibers, cont. 50% or less wt. of plas./rub.
6116.10.44 | Gloves, mittens & mitts (excl sports), impreg etc, cut & sewn from pre-exist non-veg fib impreg fab, w/o fourch, con ov 50% wt plast/rub k/c.
6116.10.48 | Gloves, mittens & mitts (excl sports), impreg etc, cut & sewn from pre-exist non-veg fib impreg fab, w/o fourch, con < 50% wt pla/rub k/c.
6116.10.55 | Gloves, mittens & mitts (excl ports), impreg etc, not cut & sewn from pre-existing fabric, w/o fourch, con 50% or more wt of tex fibers, k/c.
6116.10.65 | Gloves, mittens & mitts (excl sports), impreg etc, not cut & sewn from pre-existing fabric, w/o fourch, cont < 50% by wt of text fib, k/c.
6116.10.75 | Gloves, mittens & mitts (excl sports), impreg etc, not cut & sewn from pre-existing fabric, with fourch, con 50% or more wt of text fib, k/c.
6116.10.95 | Gloves, mittens & mitts (excl sports), impreg etc, not cut & sewn from pre-existing fab, w fourch, cont < 50% by wt of textile fiber, k/c.
6116.91.00 | Gloves, mittens and mitts, knitted or crocheted, of wool or fine animal hair.
6116.92.05 | Ice hockey and field hockey gloves, knitted or crocheted, of cotton, not impregnated, coated or covered with plastics or rubber.
6116.92.08 | Gloves, etc., specially designed for sports, including ski and snowmobile gloves, mittens and mitts, knitted or crocheted, of cotton.
6116.92.64 | Gloves, mittens & mitts, (excl. ski or snowmobile), knitted or crocheted, of cotton, made from a pre-existing machine knit fabric, w/o four.
6116.92.74 | Gloves, mittens & mitts (excl. ski or snowmobile), k/c, of cotton, from a pre-existing machine knit fabric, with fourchettes.
6116.92.88 | Gloves, mittens & mitts, (excl. ski or snowmobile), k/c, of cotton, not made from a pre-existing machine knit fabric, w/o fourchettes.
6116.92.94 | Gloves, mittens & mitts, of cotton, k/c, not impreg. etc. with plas./rub., not from pre-ex. mach. knit fabric, not for sports, with four.
6116.93.05 | Ice hockey and field hockey gloves, knitted or crocehted, of synthetic fibers, not impregnated, coated or covered with plastics or rubber.
6116.93.08 | Gloves, mittens & mitts, for sports use, (incl. ski and snowmobile gloves, etc.), of synthetic fibers.
6116.93.64 | Gloves, mittens & mitts (excl. those designed for sports etc.), k/c, of synthetic fiber, cont. 23% or more wt. of wool etc., w/o four.
6116.93.74 | Gloves, mittens & mitts (excl. those designed for sports etc.), k/c, of synthetic fibers, cont. 23% or more wt. of wool etc., with four.
6116.93.88 | Gloves, mittens & mitts (excl. those designed for sports etc.), k/c, of synthetic fibers, under 23% by wt. of wool etc., w/o fourchettes.
6116.93.94 | Gloves, mittens & mitts (excl. those designed for sports etc.), k/c, of synthetic fibers, under 23% by wt. of wool etc., with fourchettes.
6116.99.20 | Ice hockey and field hockey gloves, knitted or crocheted, of artificial fibers, not impregnated, coated or covered with plastics or rubber.
6116.99.35 | Gloves, mittens & mitts specially designed for sports, including ski and snowmobile gloves, mittens and mitts, of artificial fibers.
6116.99.48 | Gloves, mittens & mitts (excl. those designed for sports etc.), knitted/crocheted, of artificial fibers, without fourchettes.
6116.99.54 | Gloves, mittens & mitts (excl. those designed for sports etc.), knitted or crocheted, of artificial fibers, with fourchettes.
6116.99.75 | Gloves, mittens and mitts, of textile materials (except wool, cotton or mmf), containing 70% or more by wt of silk or silk waste, knit/croc.
6116.99.95 | Gloves, mittens and mitts, of textile materials (except wool, cotton or mmf), containing under 70% by weight of silk or silk waste, knit/croc.
6117.10.10 | Shawls, scarves, mufflers, mantillas, veils and the like, knitted or crocheted, of wool or fine animal hair.
6117.10.20 | Shawls, scarves, mufflers, mantillas, veils and the like, knitted or crocheted, of man-made fibers.
6117.10.40 | Shawls, scarves, etc., knitted or crocheted, containing 70% or more by weight of silk or silk waste.
6117.10.60 | Shawls, scarves, mufflers, mantillas, veils and the like, nesoi.
6117.80.20 | Ties, bow ties and cravats, containing 70% or more by weight of silk or silk waste, knitted or crocheted.
6117.80.30 | Made up clothing accessories (excl shawls, scarves, mufflers, mantillas, veils and the like; ties and cravat), containing >= 70% wt of silk.
6117.80.85 | Headbands, ponytail holders & similar articles, of textile materials other than containing 70% or more by weight of silk, knitted/crocheted.
6117.80.87 | Ties, bow ties and cravats, containing under 70% by weight of silk or silk waste, knitted or crocheted.
6117.80.95 | Made up clothing accessories (excl shawl, scarve, and like, tie, cravat, headband, ponytail holder and like), cont < 70% wt of silk, k/c.
6117.90.10 | Parts of garments or of clothing accessories, containing 70% or more by weight of silk or silk waste, knitted or crocheted.
6117.90.90 | Parts of garments or of clothing accessories, containing under 70% by weight of silk or silk waste, knitted or crocheted.
6201.11.00 | Men's or boys' overcoats, carcoats, capes, cloaks and similar coats of wool or fine animal hair, not knitted or crocheted.
6201.12.10 | Men's or boys' overcoats, carcoats, capes, & similar coats of cotton, not knit or crocheted, containing 15% or more by wt of down, etc.
6201.12.20 | Men's or boys' overcoats, carcoats, capes, & similar coats of cotton, not knit or crocheted, not containing 15% or more by wt of down, etc.
6201.13.10 | Men's or boys' overcoats, carcoats, capes, & like coats of man-made fibers, not knit or crocheted, cont. 15% or more by wt of down, etc.
6201.13.30 | Men's or boys' overcoats, carcoats, capes, & like coats of manmade fibers, not knit or crocheted, cont. 36 percent or more of wool, nesoi.
6201.13.40 | Men's or boys' overcoats, carcoats, capes, cloaks and similar coats, not knitted or crocheted, of manmade fibers, nesoi.
6201.19.10 | Men's or boys' overcoats, carcoats, capes, cloaks, & sim coats, of tex mats (except wool, cotton or mmf), cont > or = 70% by wt silk, not k/c.
6201.19.90 | Men's or boys' overcoats, carcoats, capes, cloaks, & sim coats, of tex mats (except wool, cotton or mmf), cont under 70% by wt silk, not k/c.
6201.91.03 | Rec. perf. outwear, men's/boys' padded, sleevels jackets, not knit/crochet, of wool or fine animal.
6201.91.05 | Rec perf outwear, men's or boys' anoraks, windbreakers and similar articles nesoi, not knitted or crocheted, of wool or fine animal hair.
6201.91.25 | Men's or boys' padded, sleeveless jackets, not knitted or crocheted, of wool or fine animal hair, o/than rec. perf outwear.
6201.91.40 | Men's or boys' anoraks, windbreakers and similar articles nesoi, not knitted or crocheted, of wool or fine animal hair, o/than rec perf outwear.
6201.92.05 | Rec perf outwear, men's/boys' anoraks, windbreakers & similar articles, not knit/crocheted, of cotton, containing 15% or more by weight of down, etc.
6201.92.17 | Rec perf outwear, men's or boys' anoraks, windbreakers and similar articles, nesoi, not knitted or crocheted, of cotton, water resistant.
6201.92.19 | Rec perf outwear, men's/boys' anoraks, windbreakers & similar articles nesoi, not knit/crochet, of cotton, not cont. 15% or more by wt of down, etc.
6201.92.30 | Men's/boys' anoraks, windbreakers & sim articles, not knit/crochet, cotton, containing 15% or more by weight down, etc, o/than rec perf outwear.
6201.92.35 | Men's or boys' anoraks, windbreakers and similar articles, nesoi, not knitted or crocheted, of cotton, water resistant, o/than rec perf outwear.
6201.92.45 | Men's or boys' anoraks, windbreakers & sim articles nesoi, not knit/crochet, cotton, not cont. 15% or more by wt of down, etc, o/than rec perf outwear.
6201.93.15 | Rec perf outwear, men's/boys' anoraks, windbreakers & similar articles, not knit/crochet, of man-made fibers, cont. 15% or more by wt of down, etc.
6201.93.18 | Rec perf outwear, men's/boys' padded, sleeveless jackets, not knit/crochet, man-made fibers, not containing 15% or more by weight of down, etc.
6201.93.45 | Rec perf outwear, men's/boys' anoraks, etc, nesoi, not knit/crochet, of manmade fibers, containing 36 percent or more of wool or fine animal hair.
6201.93.47 | Rec perf outwear, men's/boys' anoraks, windbreakers and similar articles, not knitted or crocheted, of manmade fibers, nesoi, water resistant.
6201.93.49 | Rec perf outwear, men's/boys' anoraks, windbreakers and similar articles, not knitted or crocheted, of manmade fibers, nesoi.
6201.93.50 | Men's/boys' anoraks, windbreakers & similar articles, not knit/crochet, man-made fibers, cont. 15% or more by wt of down, etc, o/than rec perf outwear.
6201.93.52 | Men's/boys' padded, sleeveless jackets, not knit/crochet, man-made fibers, not containing 15% or more by wt of down, etc, o/than rec perf outwear.
6201.93.55 | Men's/boys' anoraks, etc, nesoi, not knit/crochet, manmade fibers, containing 36 percent or more of wool or fine animal hair, o/than rec perf outwear.
6201.93.60 | Men's or boys' anoraks, windbreakers & similar articles, not knitted or crocheted, of manmade fibers, nesoi, water resistant, o/than rec perf outwear.
6201.93.65 | Men's or boys' anoraks, windbreakers and similar articles, not knitted or crocheted, of manmade fibers, nesoi, o/than rec perf outwear.
6201.99.05 | Rec perf outwear, men's/boys' anoraks, wind-breakers & sim articles, not k/c, of tex mats (except wool, cotton or mmf), cont 70% or more by wt silk.
6201.99.15 | Rec perf outwear, men's/boys' anoraks, wind-breakers & sim articles, not k/c, text mats (not wool, cotton or mmf), cont under 70% by wt of silk.
6201.99.50 | Men's/boys' anoraks, wind-breakers & sim articles, not k/c, tex mats (not wool, cotton or mmf), cont 70% or more by wt silk, o/than rec perf outwear.
6201.99.80 | men's/boys' anoraks, wind-breakers & similar articles, not k/c, of text mats (except wool, cotton or mmf), cont under 70% by wt of silk.
6202.11.00 | Women's or girls' overcoats, carcoats, capes, cloaks and similar coats, not knitted or crocheted, of wool or fine animal hair.
6202.12.10 | Women's or girls' overcoats, carcoats, etc, not knitted or crocheted, of cotton, containing 15% or more by weight of down, etc.
6202.12.20 | Women's or girls' overcoats, carcoats, etc, not knitted or crocheted, of cotton, not containing 15% or more by weight of down, etc.
6202.13.10 | Women's or girls' overcoats, carcoats, etc, not knitted or crocheted, of man-made fibers, containing 15% or more by weight of down, etc.
6202.13.30 | Women's or girls' overcoats, carcoats, etc, not knitted or crocheted, of m-m fibers, cont. 36% or more of wool or fine animal hair, nesoi.
6202.13.40 | Women's or girls' overcoats, carcoats, capes, cloaks and similar articles, not knitted or crocheted, of man-made fibers, nesoi.
6202.19.10 | Women's or girls' overcoats, carcoats, capes, cloaks & sim coats, of tex mats (except wool, cotton or mmf), con 70% or more wt silk, not k/c.
6202.19.90 | Women's or girls' overcoats, carcoats, capes, cloaks & sim coats, of tex mats (except wool, cotton or mmf), con under 70% wt silk, not k/c.
6202.91.03 | Rec perf outwear, women's or girls' padded, sleeveless jackets, not knitted or crocheted, of wool or fine animal hair.
6202.91.15 | Rec perf outwear, women's or girls' anoraks, windbreakers and similar articles nesoi, not knitted or crocheted, of wool or fine animal hair.
6202.91.60 | Women's or girls' padded, sleeveless jackets, not knitted or crocheted, of wool or fine animal hair, o/than rec perf outwear.
6202.91.90 | Women's or girls' anoraks, windbreakers and similar articles nesoi, not knitted or crocheted, of wool or fine animal hair, o/than rec pert outwear.
6202.92.03 | Rec perf outwear, women's/girls' anoraks, windbreakers 7 similar articles, not knitt/crochet, cotton, cont. 15% or more by weight of down.
6202.92.05 | Rec perf outwear, women's/girls' anoraks, windbreakers and similar articles, not knitted or crocheted, of cotton, nesoi, water resistant.
6202.92.12 | Rec perf outwear, women's/girls' anoraks, windbreakers & similar articles, nt knit/crochet, of cotton, nt cont. 15% or more by wt of down, etc.
6202.92.25 | Women's/girls' anoraks, windbreakers & similar articles, not knit/crochet, cotton, cont. 15% or more by weight of down, o/than rec perf outwear.
6202.92.30 | Women's or girls' anoraks, windbreakers and similar articles, not knitted or crocheted, of cotton, nesoi, water resistant, o/than rec perf outwear.
6202.92.90 | Women's/girls' anoraks, windbreakers & similar articles, nt knit/crochet, cotton, nt cont. 15% or more by wt of down, etc, o/than rec perf outwear.
6202.93.01 | Women's or girls' anoraks, windbreakers & like articles, not knitted or crocheted, of man-made fibers, cont. 15% or more by wt of down, etc.
6202.93.03 | Rec perf outwear, women's/girls' padded, sleeveless jackets, not knit/crochet, man-made fibers, not cont. 15% or more by weight of down, etc.
6202.93.05 | Rec perf outwear, women's/girls' anoraks, windbreakers, etc, nt knit/crochet, manmade fibers, cont. 36% or more of wool or fine animal hair, nesoi.
6202.93.07 | Rec perf outwear, women's/girls' anoraks, windbreakers & similar articles, not knit/crochet, manmade fibers, nesoi, water resistant.
6202.93.09 | Rec perf outwear, women's/girls' anoraks, windbreakers & similar articles, not knitted or crocheted, of man-made fibers, nesoi.
6202.93.15 | Women's/girls' anoraks, windbreakers & like articles, not knit/crochet, man-made fibers, cont. 15% or more by wt of down, etc, o/than rec perf outwear.
6202.93.25 | Women's/girls' padded, sleeveless jackets, not knit/crochet, man-made fibers, not cont. 15% or more by wt of down, etc, o/than rec perf outwear.
6202.93.45 | Women's/girls' anoraks, windbreakers, etc, nt knit/crochet, mm fibers, cont. 36% or more wool or fine animal hair, nesoi, o/than rec perf outwear.
6202.93.48 | Women's/girls' anoraks, windbreakers & similar articles, not knit/crochet, of manmade fibers, nesoi, water resistant, o/than rec perf outwer.
6202.93.55 | Women's or girls' anoraks, windbreakers and similar articles, not knitted or crocheted, of man-made fibers, nesoi, o/than rec perf outwear.
6202.99.03 | Rec perf outwear, women's/girls' anoraks, wind-breakers & similar articles, not k/c, tex mats (not wool, cotton or mmf), cont 70% or more by wt silk.
6202.99.15 | Rec perf outwear, women's/girls' anoraks, wind-breakers & similar articles, not k/c, tex mats (not wool, cotton or mmf), cont < 70% by wt of silk.
6202.99.60 | Women's/girls' anoraks, wind-breakers, etc, not k/c, tex mats (not wool, cotton or mmf), cont 70% or more by wt silk, o/than rec perf outwear.
6202.99.80 | Women's/girls' anoraks, wind-breakers & similar articles, not k/c, of tex mats (not wool, cotton or mmf), cont < 70% by wt of silk.
6203.11.15 | Men's/boys' suits of wool, not knitted or crocheted, 30% or more of silk or silk waste, of wool yarn w/avg fiber diameter 18.5 micron or <.
6203.11.30 | Men's or boys' suits of wool or fine animal hair, not knitted or crocheted, containing 30 percent or more of silk or silk waste, nesoi.
6203.11.60 | Men's or boys' suits of wool, not knitted or crocheted, nesoi, of wool yarn with average fiber diameter of 18.5 micron or less.
6203.11.90 | Men's or boys' suits of wool or fine animal hair, not knitted or crocheted, nesoi.
6203.12.10 | Men's or boys' suits, of synthetic fibers, not knitted or crocheted, containing 36 percent or more by weight of wool or fine animal hair.
6203.12.20 | Men's or boys' suits, of synthetic fibers, under 36% by weight of wool, not knitted or crocheted.
6203.19.10 | Men's or boys' suits, not knitted or crocheted, of cotton.
6203.19.20 | Men's or boys' suits, of artificial fibers, not knitted or crocheted, containing 36 percent or more of wool or fine animal hair.
6203.19.30 | Men's or boys' suits, of artificial fibers, nesoi, not knitted or crocheted.
6203.19.50 | Men's or boys' suits, of textile mats (except wool, cotton or mmf), containing 70% or more by weight of silk or silk waste, not knit or croch.
6203.19.90 | Men's or boys' suits, of textile mats (except wool, cotton or mmf), containing under 70% by weight of silk or silk waste, not knit or croch.
6203.22.10 | Men's or boys' judo, karate and other oriental martial arts uniforms, not knitted or crocheted, of cotton.
6203.22.30 | Men's or boys' ensembles, not knitted or crocheted, of cotton, other than judo, karate and other oriental martial arts uniforms.
6203.23.00 | Men's or boys' ensembles, not knitted or crocheted, of synthetic fibers.
6203.29.10 | Men's or boys' ensembles, not knitted or crocheted, of worsted wool fabric with wool yarn having average fiber diameter of 18.5 micron or <.
6203.29.15 | Men's or boys' ensembles, not knitted or crocheted, of wool or fine animal hair.
6203.29.20 | Men's or boys' ensembles, not knitted or crocheted, of artificial fibers.
6203.29.30 | Men's or boys' ensembles, not knitted or crocheted, of textile materials nesoi.
6203.31.50 | Men's or boys' suit-type jackets and blazers, of worsted wool fabric of wool yarn fiber avg diameter 18.5 micron or <, not knitt/crocheted.
6203.31.90 | Men's or boys' suit-type jackets and blazers, of wool or fine animal hair, not knitted or crocheted.
6203.32.10 | Men's or boys' suit-type jackets and blazers, not knitted or crocheted, of cotton, containing 36 percent or more of flax fibers.
6203.32.20 | Men's or boys' suit-type jackets and blazers, not knitted or crocheted, of cotton, under 36% by weight of flax.
6203.33.10 | Men's or boys' suit-type jackets and blazers, not knitted or crocheted, of synthetic fibers, cont. 36% or more of wool or fine animal hair.
6203.33.20 | Men's or boys' suit-type jackets and blazers, not knitted or crocheted, of synthetic fibers, under 36% by weight of wool.
6203.39.10 | Men's or boys' suit-type jackets and blazers, of artificial fibers, containing 36% or more by weight of wool or fine animal hair, not k/c.
6203.39.20 | Men's or boys' suit-type jackets and blazers, not knitted or crocheted, of artificial fibers, under 36% by weight of wool.
6203.39.50 | Men's or boys' suit-type jackets and blazers, of textile materials (except wool, cotton or mmf), cont 70% or more by weight of silk, not k/c.
6203.39.90 | Men's or boys' suit-type jackets and blazers, of text materials (except wool, cotton or mmf), containing under 70% by weight of silk, not k/c.
6203.41.01 | Rec perf outwear, men's/boys' trousers & breeches, wool or fine an. hair, cont elastomeric fib, water resist, w/o belt loops, weighing >9 kg/doz.
6203.41.03 | Rec perf outwear, men's/boys' trousers and breeches, other than of HTS 6203.41.05, of wool yarn having average fiber diameter of 18.5 micron or less.
6203.41.06 | Rec perf outwear, men's/boys' trousers and breeches, other than of HTS 6203.41.05, nesoi.
6203.41.08 | Rec perf outwear, men's/boys' bib and brace overalls, not knitted or crocheted, of wool or fine animal hair.
6203.41.25 | Men's/boys' trousers & breeches, wool or fine an. hair, cont elastomeric fib, water resist, w/o belt loops, wt >9 kg/doz, o/than rec perf outwear.
6203.41.30 | Men's/boys' trousers and breeches, o/than of HTS 6203.41.05, wool yarn w/average fiber diam of 18.5 micron or less, o/than rec perf outwear.
6203.41.60 | Men's or boys' trousers and breeches, other than of HTSA 6203.41.05, nesoi, o/than rec perf outwear.
6203.41.80 | Men's or boys' bib and brace overalls, not knitted or crocheted, of wool or fine animal hair, o/than rec perf outwear.
6203.42.03 | Rec perf outwear, men's/boys' trousers, overalls & shorts, not knit/crochet, of cotton, cont. 10 to 15% or more by weight of down.
6203.42.05 | Rec perf outwear, men's/boys' bib and brace overalls, not knitted or crocheted, of cotton, not containing 10 to 15% or more by weight of down, etc.
6203.42.07 | Rec perf outwear, men's/boys' trousers & shorts, not bibs, not knit/crochet, cotton, not containing 15% or more by weight of down, etc.
6203.42.17 | Men's or boys' trousers, overalls & shorts, not knitted or crocheted, of cotton, cont. 10 to 15% or more by weight of down. o/than rec perf outwear.
6203.42.25 | Men's/boys' bib & brace overalls, not knit/crochet, cotton, not containing 10 to 15% or more by weight of down, etc, o/than rec perf outwear.
6203.42.45 | Men's/boys' trousers & shorts, not bibs, not knit/crochet, cotton, not containing 15% or more by weight of down, etc, o/than rec perf outwear.
6203.43.01 | Rec perf outwear, men's/boys' trousers, bib & brace overalls, breeches & shorts, not knit/crochet, syn. fibers, cont. 15% or more of down, etc.
6203.43.03 | Rec perf outwear, men's/boys' bib and brace overalls, not knitted or crocheted, of synthetic fibers, water resistant, not down.
6203.43.05 | Rec perf outwear, men's/boys' bib and brace overalls, not knitted or crocheted, of synthetic fibers, not down, not water resistant.
6203.43.09 | Rec perf outwear, men's/boys' trousers, etc, not knit/crochet, of synthetic fibers, containing 36 percent or more of wool or fine animal hair.
6203.43.11 | Rec perf outwear, men's/boys' trousers and breeches, not knitted or crocheted, of synthetic fibers, nesoi, water resistant.
6203.43.13 | Rec perf outwear, men's/boys' trousers, breeches & shorts, not k/c, synth fibers, cont under 15% wt down etc, cont under 36% wt wool, n/water resist.
6203.43.45 | Men's/boys' trousers, bib & brace overalls, breeches & shorts, not knit/crochet, syn. fibers, cont. 15% or more down, etc, o/than rec perf outwear.
6203.43.55 | Men's or boys' bib and brace overalls, not knitted or crocheted, of synthetic fibers, water resistant, not down, o/than rec perf outwear.
6203.43.60 | Men's or boys' bib and brace overalls, not knitted or crocheted, of synthetic fibers, not down, not water resistant, o/than rec perf outwear.
6203.43.65 | Men's or boys' trousers, breeches and shorts, not knitted or crocheted, of synthetic fibers, certified hand-loomed and folklore products.
6203.43.70 | Men's/boys' trousers, etc, not knit/crochet, synthetic fibers, containing 36 percent or more of wool or fine animal hair, o/than rec perf outwear.
6203.43.75 | Men's or boys' trousers and breeches, not knitted or crocheted, of synthetic fibers, nesoi, water resistant, o/than rec perf outwear.
6203.43.90 | Men's/boys' trousers, breeches, shorts, not k/c, synth fibers, con under 15% wt down etc, cont und 36% wt wool, n/water resist, not rec perf outwear.
6203.49.01 | Rec perf outwear, men's/boys' bib and brace overalls, not knitted or crocheted, of artificial fibers.
6203.49.05 | Rec perf outwear, men's/boys' trousers, breeches and shorts, not knitted or crocheted, of artificial fibers, nesoi.
6203.49.07 | Rec perf outwear, men's/boys' trousers, bib & brace overalls, breeches & shorts, not k/c, tex mats (not wool, cotton, mmf), cont > or = 70% wt silk.
6203.49.09 | Rec perf outwear, men's/boys' trousers, bib/brace overalls, breeches & shorts, not k/c, tex mats (not wool, cotton, mmf), con < 70% by wt silk.
6203.49.25 | Men's or boys' bib and brace overalls, not knitted or crocheted, of artificial fibers, o/than rec perf outwear.
6203.49.35 | Men's or boys' trousers, breeches and shorts, not knitted or crocheted, of artificial fibers, certified hand-loomed and folklore products.
6203.49.50 | Men's or boys' trousers, breeches and shorts, not knitted or crocheted, of artificial fibers, nesoi, o/than rec perf outwear.
6203.49.60 | Men's/boys' trousers, bib/brace overalls, breeches & shorts, not k/c, tex mats (not wool, cotton, mmf), cont > or = 70% wt silk, not rec P outwear.
6203.49.90 | Men's/boys' trousers, bib/brace overalls, breeches & shorts, not k/c, tex mats (not wool, cotton, mmf), con < 70% by wt silk, o/than rec perf outwear.
6204.11.00 | Women's or girls' suits, not knitted or crocheted, of wool or fine animal hair.
6204.12.00 | Women's or girls' suits, not knitted or crocheted, of cotton.
6204.13.10 | Women's or girls' suits, not knitted or crocheted, of synthetic fibers, containing 36 percent or more of wool or fine animal hair.
6204.13.20 | Women's or girls' suits, not knitted or crocheted, of synthetic fibers, nesoi.
6204.19.10 | Women's or girls' suits, not knitted or crocheted, of artificial fibers, containing 36 percent or more of wool or fine animal hair.
6204.19.20 | Women's or girls' suits, not knitted or crocheted, of artificial fibers, nesoi.
6204.19.40 | Women's or girls' suits, of textile materials (except wool, cotton or mmf), containing 70% or more by weight of silk or silk waste, not k/c.
6204.19.80 | Women's or girls' suits, of textile material (except wool, cotton or mmf), containing under 70% by weight of silk or silk waste, not knit/croc.
6204.21.00 | Women's or girls' ensembles, not knitted or crocheted, of wool or fine animal hair.
6204.22.10 | Women's or girls' judo, karate and other oriental martial arts uniforms, not knitted or crocheted, of cotton.
6204.22.30 | Women's or girls' ensembles, not knitted or crocheted, of cotton, other than judo, karate and other oriental martial arts uniforms.
6204.23.00 | Women's or girls' ensembles, not knitted or crocheted, of synthetic fibers.
6204.29.20 | Women's or girls' ensembles, not knitted or crocheted, of artificial fibers.
6204.29.40 | Women's or girls' ensembles, not knitted or crocheted, of textile materials nesoi.
6204.31.10 | Women's or girls' suit-type jackets & blazers, of wool or fine animal hair, not knitted or crocheted, cont. 30% or more of silk/silk waste.
6204.31.20 | Women's or girls' suit-type jackets and blazers, of wool or fine animal hair, not knitted or crocheted, under 30% by weight of silk.
6204.32.10 | Women's or girls' suit-type jackets and blazers, of cotton, not knitted or crocheted, containing 36 percent or more of flax fibers.
6204.32.20 | Women's or girls' suit-type jackets and blazers, of cotton, not knitted or crocheted, under 36% flax.
6204.33.10 | Women's or girls' suit-type jackets and blazers, not knitted or crocheted, of synthetic fibers, cont. 30% or more of silk/silk waste.
6204.33.20 | Women's or girls' suit-type jackets and blazers, not knitted or crocheted, of synthetic fibers, containing 36 percent or more of flax fibers.
6204.33.40 | Women's or girls' suit-type jackets & blazers, not knitted or crocheted, of synthetic fibers, cont. 36% or more of wool or fine animal hair.
6204.33.50 | Women's or girls' suit-type jackets and blazers, not knitted or crocheted, of synthetic fibers, nesoi.
6204.39.20 | Women's or girls' suit-type jackets & blazers, not knitted or crocheted, of artificial fibers, cont. 36% or more of wool or fine animal hair.
6204.39.30 | Women's or girls' suit-type jackets and blazers, not knitted or crocheted, of artificial fibers, under 36% by weight of wool.
6204.39.60 | Women's or girls' suit-type jackets and blazers, not knitted/crocheted, of textile materials nesoi, cont. 70% + of silk or silk waste.
6204.39.80 | Women's or girls' suit-type jackets and blazers, not knitted or crocheted, of textile materials nesoi.
6204.41.10 | Women's or girls' dresses, not knitted or crocheted, of wool or fine animal hair, containing 30 percent of silk or silk waste.
6204.41.20 | Women's or girls' dresses, not knitted or crocheted, of wool or fine animal hair, under 30% by weight of silk.
6204.42.10 | Women's or girls' dresses, not knitted or crocheted, of cotton, certified hand-loomed and folklore products.
6204.42.20 | Women's or girls' dresses, not knitted or crocheted, of cotton, containing 36 percent or more of flax fibers, other than certified.
6204.42.30 | Women's or girls' dresses, not knitted or crocheted, of cotton, nesoi.
6204.43.10 | Women's or girls' dresses, not knitted or crocheted, of synthetic fibers, certified hand-loomed and folklore products.
6204.43.20 | Women's or girls' dresses, not knit or crocheted, of synthetic fibers, containing 30% or more of silk or silk waste, other than certified.
6204.43.30 | Women's or girls' dresses, of synthetic fibers, not knitted or crocheted, containing 36 percent or more of wool or fine animal hair, nesoi.
6204.43.40 | Women's or girls' dresses, not knitted or crocheted, of synthetic fibers, nesoi.
6204.44.20 | Women's or girls' dresses, not knitted or crocheted, of artificial fibers, nesoi, certified hand-loomed and folklore products.
6204.44.30 | Women's or girls' dresses, not knitted or crocheted, of artificial fibers, containing 36 percent or more of wool or fine animal hair.
6204.44.40 | Women's or girls' dresses, not knitted or crocheted, of artificial fibers, nesoi.
6204.49.10 | Women's or girls' dresses, not knitted or crocheted, containing 70% or more by weight of silk or silk waste.
6204.49.50 | Women's or girls' dresses, not knitted or crocheted, of textile materials nesoi.
6204.51.00 | Women's or girls' skirts and divided skirts, not knitted or crocheted, of wool or fine animal hair.
6204.52.10 | Women's or girls' skirts and divided skirts, not knitted or crocheted, of cotton, certified hand-loomed and folklore products.
6204.52.20 | Women's or girls' skirts and divided skirts, not knitted or crocheted, of cotton, nesoi.
6204.53.10 | Women's or girls' skirts and divided skirts, not knitted or crocheted, of synthetic fibers, certified hand-loomed and folklore products.
6204.53.20 | Women's or girls' skirts & divided skirts, nt knit or crocheted, of synthetic fibers, cont. 36% or more of wool or fine animal hair, nesoi.
6204.53.30 | Women's or girls' skirts and divided skirts, not knitted or crocheted, of synthetic fibers, nesoi.
6204.59.10 | Women's or girls' skirts and divided skirts, not knitted or crocheted, of artificial fibers, certified hand-loomed and folklore products.
6204.59.20 | Women's or girls' skirts & divided skirts, nt knit or crocheted, of artificial fibers, cont. 36% or more of wool or fine animal hair, nesoi.
6204.59.30 | Women's or girls' skirts and divided skirts, not knitted or crocheted, of artificial fibers, nesoi.
6204.59.40 | Women's or girls' skirts and divided skirts, not knitted or crocheted, of textile materials nesoi.
6204.61.05 | Rec perf outwear, women's/girls' trousers & breeches, not k/c, wool or f.a.h., cont elastomeric fib, water resist, w/o belt loops, wt > 6 kg/doz.
6204.61.15 | Rec perf outwear, women's/girls' trousers & breeches, not k/c, wool, w/o elastomeric fib, not water resist, w belt loops, weighing under 6 kg/doz.
6204.61.60 | Women's or girls' trousers & breeches, not k/c, wool or f.a.h., cont elastomeric fib, water resist, w/o belt loops, wt > 6 kg/doz, not rec perf outwr.
6204.61.80 | Women's or girls' trousers & breeches, not k/c, wool, w/o elastomeric fib, not water resist, w/belt loops, wt under 6 kg/doz, o/than rec perf outwear.
6204.62.03 | Rec perf outwear, women's/girls' trousers, bib/brace overalls, breeches & shorts, not knit/crochet, cotton, cont. 15% or more by wt of down, etc.
6204.62.05 | Rec perf outwear, women's/girls' bib and brace overalls, not knitted or crocheted, of cotton, not containing 15% or more by weight of down, etc.
6204.62.15 | Rec perf outwear, women's or girls' trousers, breeches and shorts, not knitted or crocheted, of cotton, nesoi.
6204.62.50 | Women's/girls' trousers, bib/brace overalls, breeches & shorts, not knit/crochet, cotton, cont. 15% or more by wt down, etc, o/than rec perf outwear.
6204.62.60 | Women's/girls' bib/brace overalls, not knit/crochet, cotton, not containing 15% or more by weight of down, etc. o/than rec perf outwear.
6204.62.70 | Women's or girls' trousers, breeches and shorts, not knitted or crocheted, of cotton, nesoi, certified hand-loomed and folklore products.
6204.62.80 | Women's or girls' trousers, breeches and shorts, not knitted or crocheted, of cotton, nesoi, o/than rec perf outwear.
6204.63.01 | Rec perf outwear, women's/girls' trousers, bib/brace overalls, breeches & shorts, not knit/crochet, syn. fibers, cont. 15% or more down, etc.
6204.63.02 | Rec perf outwear, women's/girls' bib/brace overalls, not knit/crochet, syn. fibers, water resistant, not cont. 15% or more by wt. of down, etc.
6204.63.03 | Rec perf outwear, women's/girls' bib/brace overalls of synthetic fibers, not knit/crochet, not cont. 15% or more by wt of down, etc, nesoi.
6204.63.08 | Rec perf outwear, women's/girls' trousers, breeches & shorts, not knit/crochet, syn. fibers, cont. 36% or more of wool or fine animal hair, nesoi.
6204.63.09 | Rec perf outwear, women's/girls' trousers, breeches and shorts, not knitted or crocheted, of synthetic fibers, nesoi, water resistant.
6204.63.11 | Rec perf outwear, women's or girls' trousers, breeches and shorts, not knitted or crocheted, of synthetic fibers, nesoi.
6204.63.50 | Women's/girls' trousers, bib/brace overalls, breeches & shorts, not knit/crochet, syn. fibers, cont. 15% or more down, etc., o/than rec perf outwear.
6204.63.55 | Women's/girls' bib/brace overalls, not knit/crochet, syn. fibers, water resistant, not cont. 15% or more by wt. of down, etc, o/than rec perf outwear.
6204.63.60 | Women's/girls' bib & brace overalls of synthetic fibers, not knit/crochet, not cont. 15% or more by wt of down, etc, nesoi, o/than rec perf outwear.
6204.63.65 | Women's or girls' trousers, breeches & shorts, not knit or crocheted, of synthetic fibers, nesoi, certified hand-loomed & folklore products.
6204.63.70 | Women's/girls' trousers, breeches & shorts, not knit/crochet, syn. fibers, cont. 36% or more wool or fine animal hair, nesoi, o/than rec perf outwear.
6204.63.75 | Women's or girls' trousers, breeches and shorts, not knitted or crocheted, of synthetic fibers, nesoi, water resistant, o/than rec perf outwear.
6204.63.90 | Women's or girls' trousers, breeches and shorts, not knitted or crocheted, of synthetic fibers, nesoi, o/than rec perf outwear.
6204.69.01 | Rec perf outwear, women's or girls' bib and brace overalls, not knitted or crocheted, of artificial fibers.
6204.69.02 | Rec perf outwear, women's/girls' trousers, breeches & shorts, not knit/crochet, artificial fibers, cont. 36% or more of wool or fine animal hair.
6204.69.03 | Rec perf outwear, women's/girls' trousers, breeches and shorts, not knitted or crocheted, of artificial fibers, nesoi.
6204.69.04 | Rec perf outwear, women's/girls' trousers, bib/brace overalls, breeches & shorts, not k/c, silk or silk waste, cont > or = 70% wt silk or silk waste.
6204.69.05 | Rec perf outwear, women's/girls' trousers, bib/brace overalls, breeches & shorts, not k/c, silk or silk waste, cont under 70% by wt silk/silk waste.
6204.69.06 | Rec perf outwear, women's or girls' trousers, bib and brace overalls, breeches and shorts, not knitted or crocheted, of textile materials nesoi.
6204.69.15 | Women's or girls' bib and brace overalls, not knitted or crocheted, of artificial fibers, o/than rec perf outwear.
6204.69.22 | Women's/girls' trousers, breeches & shorts, not knit/crochet, artificial fibers, cont. 36% or more wool or fine animal hair, o/than rec perf outwear.
6204.69.28 | Women's or girls' trousers, breeches and shorts, not knitted or crocheted, of artificial fibers, nesoi, o/than rec perf outwear.
6204.69.45 | Women's/girls' trousers, bib/brace overalls, breeches & shorts, not k/c, silk or silk waste, cont > or = 70% wt silk, silk waste, not rec perf outwear.
6204.69.65 | Women's/girls' trousers, bib/brace overalls, breeches & shorts, not k/c, silk or silk waste, cont under 70% by wt silk/silk waste, not rec perf outwr.
6204.69.80 | Women's/girls' trousers, bib/brace overalls, breeches & shorts, not knit/crochet, textile materials nesoi, o/than red perf outwear.
6205.20.10 | Men's or boys' shirts, not knitted or crocheted, of cotton, certified hand-loomed and folklore products.
6205.20.20 | Men's or boys' shirts, not knitted or crocheted, of cotton, nesoi.
6205.30.10 | Men's or boys' shirts, not knitted or crocheted, of manmade fibers, certified hand-loomed and folklore products.
6205.30.15 | Men's or boys' shirts, not knitted or crocheted, of manmade fibers, containing 36 percent or more of wool or fine animal hair, nesoi.
6205.30.20 | Men's or boys' shirts, not knitted or crocheted, of manmade fibers, nesoi.
6205.90.05 | Men's or boys' shirts, not knitted or crocheted, of wool or fine animal hair, certified hand-loomed and folklore products.
6205.90.07 | Men's or boys' shirts, not knitted or crocheted, of wool or fine animal hair, nesoi.
6205.90.10 | Men's or boys' shirts, of silk or silk waste, containing 70% or more by wt of silk or silk waste, not knitted or crocheted.
6205.90.30 | Men's or boys' shirts, of silk or silk waste, containing under 70% by wt of silk or silk waste, not knitted or crocheted.
6205.90.40 | Men's or boys' shirts, not knitted or crocheted, of textile materials, nesoi.
6206.10.00 | Women's or girls' blouses, shirts and shirt-blouses, not knitted or crocheted, of silk or silk waste.
6206.20.10 | Women's or girls' blouses and shirts, not knitted or crocheted, of wool or fine animal hair, certified hand-loomed and folklore products.
6206.20.20 | Women's or girls' blouses & shirts, not knitted or crocheted, of wool or fine animal hair, containing 30% or more of silk/silk waste, nesoi.
6206.20.30 | Women's or girls' blouses and shirts, not knitted or crocheted, of wool or fine animal hair, nesoi.
6206.30.10 | Women's or girls' blouses and shirts, not knitted or crocheted, of cotton, certified hand-loomed and folklore products.
6206.30.20 | Women's or girls' blouses and shirts, not knitted or crocheted, of cotton, containing 36 percent or more of flax fibers, nesoi.
6206.30.30 | Women's or girls' blouses and shirts, not knitted or crocheted, of cotton, nesoi.
6206.40.10 | Women's or girls' blouses and shirts, not knitted or crocheted, of manmade fibers, certified hand-loomed and folklore products.
6206.40.20 | Women's or girls' blouses and shirts, not knitted or crocheted, of manmade fibers, containing 30 percent or more of silk/silk waste, nesoi.
6206.40.25 | Women's or girls' blouses, shirts and shirt-blouses, not knitted or crocheted, of manmade fibers, containing 36% or more of wool, nesoi.
6206.40.30 | Women's or girls' blouses and shirts, not knitted or crocheted, of manmade fibers, nesoi.
6206.90.00 | Women's or girls' blouses, shirts and shirt-blouses, not knitted or crocheted, of textile materials nesoi.
6207.11.00 | Men's or boys' underpants and briefs, not knitted or crocheted, of cotton.
6207.19.10 | Men's or boys' underpants and briefs, of textile mats (except cotton), cont 70% or more wt of silk or silk waste, not knitted/crocheted.
6207.19.90 | Men's or boys' underpants and briefs, of textile mats (except cotton), cont under 70% by wt of silk or silk waste, not knitted/crocheted.
6207.21.00 | Men's or boys' nightshirts and pajamas, not knitted or crocheted, of cotton.
6207.22.00 | Men's or boys' nightshirts and pajamas, not knitted or crocheted, of man-made fibers.
6207.29.10 | Men's or boys' nightshirts and pajamas, of textile materials (except cotton or mmf), cont 70% or more by wt of silk or silk waste, not k/c.
6207.29.90 | Men's or boys' nightshirts and pajamas, of textile materials (except cotton or mmf), cont under 70% by weight of silk or silk waste, not k/c.
6207.91.10 | Men's or boys' bathrobes, dressing gowns and similar articles, not knitted or crocheted, of cotton.
6207.91.30 | Men's or boys' singlets and other undershirts, not knitted or crocheted, of cotton.
6207.99.20 | Men's or boys' bathrobes, dressing gowns and similar articles, not knitted or crocheted, of wool or fine animal hair.
6207.99.40 | Men's or boys' singlets and other undershirts, not knitted or crocheted, of wool or fine animal hair.
6207.99.70 | Men's or boys' undershirts, bathrobes, & sim art, cont 70% or more by wt of silk or silk waste, not knitted or crocheted.
6207.99.75 | Men's or boys' bathrobes, dressing gowns and similar articles, not knitted or crocheted, of man-made fibers.
6207.99.85 | Men's or boys' singlets and other undershirts, not knitted or crocheted, of man-made fibers, nesoi.
6207.99.90 | Men's or boys' undershirts, bathrobes, & sim art, of text mats (except of cotton, mmf, wool, silk), not knitted or crocheted.
6208.11.00 | Women's or girls' slips and petticoats, not knitted or crocheted, of man-made fibers.
6208.19.20 | Women's or girls' slips and petticoats, not knitted or crocheted, of cotton.
6208.19.50 | Women's or girls' slips and petticoats, of textile materials (except mmf or cotton), cont 70% or more by wt of silk or silk waste, not k/c.
6208.19.90 | Women's or girls' slips and petticoats, of textile materials (except mmf or cotton), cont under 70% by weight of silk or silk waste, not k/c.
6208.21.00 | Women's or girls' nightdresses and pajamas, not knitted or crocheted, of cotton.
6208.22.00 | Women's or girls' nightdresses and pajamas, not knitted or crocheted, of man-made fibers.
6208.29.10 | Women's or girls' nightdresses and pajamas, of textile materials (except cotton or mmf), cont > or = 70% by wt of silk or silk waste, not k/c.
6208.29.90 | Women's or girls' nightdresses and pajamas, of textile materials (except cotton or mmf), cont under 70% by wt of silk or silk waste, not k/c.
6208.91.10 | Women's or girls' bathrobes, dressing gowns and similar articles, not knitted or crocheted, of cotton.
6208.91.30 | Women's or girls' undershirts and underpants, not knitted or crocheted, of cotton.
6208.92.00 | Women's or girls' singlets & other undershirts, briefs, panties, bathrobes & similar articles, not knitted or crocheted, of man-made fibers.
6208.99.20 | Women's or girls' undershirts, underpants, bathrobes & like articles, not knitted or crocheted, of wool or fine animal hair.
6208.99.30 | Women's or girls' singlet & other undershirt, briefs, panties, negligees, dressing gowns & sim art, of silk, con > or = 70% wt silk, not k/c.
6208.99.50 | Women's or girls' singlets & other undershirts, briefs, panties, negligees, dressing gowns & sim art, of silk, con < 70% wt silk, not k/c.
6208.99.80 | Women's or girls' undershirts, underpants, bathrobes & like articles, not knitted or crocheted, of textile materials nesoi.
6209.20.10 | Babies' dresses, not knitted or crocheted, of cotton.
6209.20.20 | Babies' blouses and shirts, except those imported as parts of sets, not knitted or crocheted, of cotton.
6209.20.30 | Babies' trousers, breeches and shorts, except those imported as parts of sets, not knitted or crocheted, of cotton.
6209.20.50 | Babies' garments & clothing acc. nesoi, of cotton, incl. sunsuits & sim app, sets & parts of sets, & diapers, not knitted or crocheted.
6209.30.10 | Babies' blouses and shirts, except those imported as parts of sets, not knitted or crocheted, of synthetic fibers.
6209.30.20 | Babies' trousers, breeches and shorts, except those imported as parts of sets, not knitted or crocheted, of synthetic fibers.
6209.30.30 | Babies' garments and clothing accessories, not knitted or crocheted, nesoi, of synthetic fibers.
6209.90.05 | Babies' garments and clothing accessories, not knitted or crocheted, of wool or fine animal hair.
6209.90.10 | Babies' blouses and shirts, except those imported as parts of sets, not knitted or crocheted, of artificial fibers.
6209.90.20 | Babies' trousers, breeches and shorts, except those imported as parts of sets, not knitted or crocheted, of artificial fibers.
6209.90.30 | Babies' garments and clothing accessories, not knitted or crocheted, nesoi, of artificial fibers.
6209.90.50 | Babies' garments and clothing accessories, of text mats (except wool, cotton or mmf), cont 70% or more by wt of silk or silk waste, not k/c.
6209.90.90 | Babies' garments and clothing accessories, of textile mats (except wool, cotton or mmf), cont under 70% by wt of silk or silk waste, not k/c.
6210.10.20 | Garments, not knitted or crocheted, made up of fabrics of heading 5602 or 5603 formed on a base of paper or covered or lined with paper.
6210.10.50 | Nonwoven dispos apparel designed for hosps, clinics, labs or cont area use, made up of fab of 5602/5603, n/formed or lined w paper, not k/c.
6210.10.70 | Disposable briefs and panties designed for one time use, made up of fabrics of 5602 or 5603, not formed or lined w paper, not k/c.
6210.10.90 | Garments, nesoi, made up of fabrics of heading 5602 or 5603, not formed or lined w paper, not k/c.
6210.20.30 | Men's or boys' garments, sim to 6201.11-6201.19, of mmf, outer surf impreg, coated etc. w rub/plast, underlying fab completely obsc, not k/c.
6210.20.50 | Men's or boys' overcoats/carcoats/capes/etc. of mmf, other than with outer sur. impreg/coated/etc. w/rub/plast, n knitted/crocheted.
6210.20.70 | Men's or boys' overcoats/carcoats/capes/etc. of tx mat (excl mmf), outer sur. impreg/etc. w/rub/plast completely obscuring fab, n k/c.
6210.20.90 | Men's or boys' overcoats/carcoats/capes/etc. of tx mat (excl mmf), other than with outer sur. impreg/coated/etc. w/rub/plast, n k/c.
6210.30.30 | Women's or girls' overcoats/carcoats/capes/etc. of mmf, outer sur. impreg/coated/etc. w/rub/plast completely obscuring fab, n k/c.
6210.30.50 | Women's or girls' overcoats/carcoats/capes/etc. of mmf, other than with outer sur. impreg/coated/etc. w/rub/plast, n k/c.
6210.30.70 | Women's or girls' overcoats/carcoats/capes/etc. of tx mat(excl mmf), fabric impreg/coated w/rub/plast completely obscuring fab, n k/c.
6210.30.90 | Women's or girls' overcoats/carcoats/capes/etc. of tx mat(excl mmf), other than with outer sur. impreg/coated etc. w/rub/plast, n k/c.
6210.40.15 | Rec perf outwear, men's/boys' garm, nesoi, of fab 5903/5906/5907, not k/c, mmf, w/out sur. impreg/coatd/etc. w/rub/plast completely obscuring fab.
6210.40.25 | Rec perf outwear, men's/boys' garm, nesoi, of fab of 5903/5906/5907, not k/c, mmf, o/than w/outer sur. impreg/coated/etc. w/rub/plast.
6210.40.28 | Rec perf outwear, men's/boys' garm, nesoi, fab of 5903/5906/5907, not k/c, tex mat (excl mmf), w/out sur. impreg/etc. w/rub/plast compl obscuring fab.
6210.40.29 | Rec perf outwear, men's or boys' garm, nesoi, of fab of 5903/5906/5907, not k/c, tex mat (excl mmf), w/out sur. impreg/etc. w/rub/plast.
6210.40.35 | Men's/boys' garm, nesoi, fab of 5903/5906/5907, not k/c, mmf, w/out sur. impreg/coated/etc. w/rub/plast completely obscuring fab, not rec perf outwear.
6210.40.55 | Men's or boys' garm, nesoi, of fab of 5903/5906/5907, not k/c, mmf, o/than w/outer sur. impreg/coated/etc. w/rub/plast, o/than rec perf outwear.
6210.40.75 | Men's/boys' garm, nesoi, fab of 5903/5906/5907, n k/c, tex mat (excl mmf), w/oute sur. impreg/etc. w/rub/plast compl obscuring fab,not rec perf outwr.
6210.40.80 | Men's or boys' garm, nesoi, of fab of 5903/5906/5907, not k/c, tex mat (excl mmf), w/out sur. impreg/etc. w/rub/plast, o/than rec perf outwear.
6210.50.03 | Rec perf outwear, women's/girls' garm, nesoi, fab of 5903/5906/5907, not k/c, mmf, w/outer sur. impreg/coated/etc. w/rub/plast compl obscuring fab.
6210.50.05 | Rec perf outwear, women's/girls' garm, nesoi, fab of 5903/5906/5907, not k/c, mmf, o/than w/out sur. impreg/etc. w/rub/plast.
6210.50.12 | Rec perf outwear, women/girls' garm, nesoi, fab of 5903/5906/5907, n k/c, tex mat (excl mmf), w/out sur. impreg/etc. w/rub/plast comp obscuring fab.
6210.50.22 | Rec perf outwear, wom's/girls' garm, nesoi, fab of 5903/5906/5907, n k/c, tex mat (excpt mmf), o/than w/out sur. impreg/coated w/rub/plas.
6210.50.35 | Women's/girls' garm, nesoi, fab of 5903/5906/5907, n k/c, mmf, w/out sur. impreg/coated/etc. w/rub/plast compl obscuring fab, o/than rec perf outwear.
6210.50.55 | Women's or girls' garm, nesoi, of fab of 5903/5906/5907, n k/c, of mmf, other than w/outer sur. impreg/etc. w/rub/plast, o/than rec perf outwear.
6210.50.75 | Wom's/girls' garm, nesoi, fab of 5903/5906/5907, n k/c, of tex mat (excl mmf), w/o sur. impreg/etc. w/rub/plast comp obscur fab, not rec perf outwear.
6210.50.80 | Wom's/girls' garm, nesoi, fab of 5903/5906/5907, not k/c, tex mat (except mmf), o/than w/out sur. impreg/coated w/rub/plas, o/than rec perf outwear.
6211.11.10 | Men's or boys' swimwear, not knitted or crocheted, of man-made fibers.
6211.11.40 | Men's or boys' swimwear, of textile materials (except mmf), containing 70% or more by weight of silk or silk waste, not knit or crocheted.
6211.11.80 | Men's or boys' swimwear, of textile materials (except mmf), containing under 70% by weight of silk or silk waste, not knit or crocheted.
6211.12.10 | Women's or girls' swimwear, not knitted or crocheted, of man-made fibers.
6211.12.40 | Women's or girls' swimwear, of textile materials (except mmf), containing 70% or more by weight of silk or silk waste, not knit or crocheted.
6211.12.80 | Women's or girls' swimwear, of textile materials (except mmf), containing under 70% by weight of silk or silk waste, not knit or crocheted.
6211.20.04 | Anoraks, windbreakers and similar articles imported as parts of ski-suits, con 15% or more by wt of down & waterfowl plumage, etc, not k/c.
6211.20.08 | Anoraks, windbreakers and similar articles imported as parts of ski-suits, con under 15% by wt of down & waterfowl plumage, etc, not k/c.
6211.20.15 | Men's or boys' ski-suits, not knitted or crocheted, water resistant, not containing 15% or more by weight of down, etc.
6211.20.24 | Men's or boys' anoraks, windbreakers and sim art impted as pts of ski-suits, of wool, con < 15% wt of down etc, not water resist, not k/c.
6211.20.28 | Men's or boys' anoraks, etc. imported as parts of ski-suits, of tx mats (except wool), con 15% wt of down etc, not water resist, not k/c.
6211.20.34 | Men's or boys' trousers and breeches imported as parts of ski-suits, of wool, con under 15% by wt of down etc., not water resist, not k/c.
6211.20.38 | Men's or boys' trousers & breeches imported as pts of ski-suits, of tx mat (except wool), con 15% wt down etc, not water resist, not k/c.
6211.20.44 | Men's or boys' ski-suits nesoi, of wool or fine animal hair, con under 15% wt down etc, not water resist, not knitted/crocheted.
6211.20.48 | Men's or boys' ski-suits nesoi, of tx mats (except wool or fine animal hair), con under 15% wt down etc, not water resist, not knitted/croch.
6211.20.54 | Women's or girls' anoraks, windbreakers and sim art impted as pts of ski-suits, of wool, con 15% wt down etc, not water resist, not k/c.
6211.20.58 | Women's or girls' anoraks and sim art imported as pts of ski-suits, of tx mats (except wool), con < 15% wt down etc, not wat resist, n k/c.
6211.20.64 | Women's or girls' trousers and breeches imported as parts of ski-suits, of wool, cont under 15% by wt of down etc, not water resist, not k/c.
6211.20.68 | Women's or girls' trousers & breeches imp as pts of ski-suits, of tx mats (except wool), con < 15% wt of down etc, not wat resist, not k/c.
6211.20.74 | Women's or girls' ski-suits nesoi, of wool or fine animal hair, con under 15% by wt of down etc, not water resistant, not knit or crocheted.
6211.20.78 | Women's or girls' ski-suits nesoi, of tx mats (except wool), con under 15% by weight of down etc, not water resistant, not knit or crocheted.
6211.32.50 | Rec pref outwear, men's or boys' track suits or other garments nesoi, not knitted or crocheted, of cotton.
6211.32.90 | Men's or boys' track suits or other garments nesoi, not knitted or crocheted, of cotton, o/than rec perf outwear.
6211.33.50 | Rec perf outwear, men's or boys' track suits or other garments nesoi, not knitted or crocheted, of man-made fibers.
6211.33.90 | Men's or boys' track suits or other garments nesoi, not knitted or crocheted, of man-made fibers, o/than rec perf outwear.
6211.39.03 | Rec perf outwear, men's or boys' track suits or other garments nesoi, not knitted or crocheted, of wool or fine animal hair.
6211.39.07 | Rec pref outwear, men's/boys' garments (excl swimwear or ski-suits), nesoi, not k/c, tex mat (not wool, cotton,mmf), cont 70% or more wt of silk.
6211.39.15 | Rec perf outwear, men's/boys' garments (excl swimwr or ski-suits), nesoi, not k/c, tex mat (not wool, cotton, mmf), cont under 70% by wt of silk.
6211.39.30 | Men's or boys' track suits or other garments nesoi, not knitted or crocheted, of wool or fine animal hair, o/than rec perf outwear.
6211.39.60 | Men's/boys' garments (excl swimwr or ski-suits), nesoi, not k/c, tex mat (not wool, cotton or mmf), cont 70% or more wt of silk, not rec perf outwear.
6211.39.80 | Men's/boys' garments (excl swimwr or ski-suits), nesoi, not k/c, tex mat (not wool, cotton, mmf), cont under 70% by wt of silk, not rec perf outwear.
6211.42.05 | Rec perf outwear, women's or girls' track suits or other garments nesoi, not knitted or crocheted, of cotton.
6211.42.10 | Women's or girls' track suits or other garments nesoi, not knitted or crocheted, of cotton, o/than rec perf outwear.
6211.43.05 | Rec perf outwear, women's or girls' track suits or other garments nesoi, not knitted or crocheted, of man-made fibers.
6211.43.10 | Women's or girls' track suits or other garments nesoi, not knitted or crocheted, of man-made fibers, o/than rec perf outwear.
6211.49.03 | Rec perf outwear, women's/girls' garments (excl swimwr or ski-suits), nesoi, not k/c, tex mat (not wool, cotton,mmf), cont 70% or more wt of silk.
6211.49.15 | Rec perf outwear, women's or girls' track suits or other garments nesoi, not knitted or crocheted, of wool or fine animal hair.
6211.49.25 | Rec pref outwear, women's/girls' garments (excl swimwr or ski-suits), nesoi, not k/c, tex mat (not wool, cotton,mmf), cont under 70% by wt of silk.
6211.49.50 | Women's/girls' garms (excl swimwr or ski-suits), nesoi, not k/c, tex mat (not wool, cotton, mmf), cont 70% or more wt of silk,o/than rec perf outwear.
6211.49.60 | Women's or girls' track suits or other garments nesoi, not knitted or crocheted, of wool or fine animal hair, o/than rec perf outwear.
6211.49.80 | Women's/girls' garments (excl swimwr or ski-suits), nesoi, not k/c, tex mat (not wool, cotton, mmf), cont under 70% by wt of silk, not rec perf outwear.
6212.10.30 | Brassieres, containing lace, net or embroidery, containing 70% or more by weight of silk or silk waste, whether or not knitted or crocheted.
6212.10.50 | Brassieres containing lace, net or embroidery, containing under 70% by weight of silk or silk waste, whether or not knitted or crocheted.
6212.10.70 | Brassieres, not containing lace, net or embroidery, containing 70% or more by wt of silk or silk waste, whether or not knitted or crocheted.
6212.10.90 | Brassieres, not containing lace, net or embroidery, containing under 70% by wt of silk or silk waste, whether or not knitted or crocheted.
6212.20.00 | Girdles and panty-girdles.
6212.30.00 | Corsets.
6212.90.00 | Braces, suspenders, garters and similar articles and parts thereof.
6213.20.10 | Handkerchiefs, not knitted or crocheted, of cotton, hemmed, not containing lace or embroidery.
6213.20.20 | Handkerchiefs, not knitted or crocheted, of cotton, nesoi.
6213.90.05 | Handkerchiefs, not knitted or crocheted, containing 70% or more by weight of silk or silk waste.
6213.90.07 | Handkerchiefs, of silk or silk waste, containing less than 70 percent by weight of silk or silk waste.
6213.90.10 | Handkerchiefs, not knitted or crocheted, of man-made fibers.
6213.90.20 | Handkerchiefs, not knitted or crocheted, of textile materials, nesoi.
6214.10.10 | Shawls, scarves, mufflers, mantillas, veils and the like, not knitted or crocheted, containing 70% or more silk or silk waste.
6214.10.20 | Shawls, scarves, mufflers, mantillas, veils and the like, not knitted or crocheted, containing less than 70% silk or silk waste.
6214.20.00 | Shawls, scarves, mufflers, mantillas, veils and the like, not knitted or crocheted, of wool or fine animal hair.
6214.30.00 | Shawls, scarves, mufflers, mantillas, veils and the like, not knitted or crocheted, of synthetic fibers.
6214.40.00 | Shawls, scarves, mufflers, mantillas, veils and the like, not knitted or crocheted, of artificial fibers.
6214.90.00 | Shawls, scarves, mufflers, mantillas, veils and the like, not knitted or crocheted, of textile materials nesoi.
6215.10.00 | Ties, bow ties and cravats, not knitted or crocheted, of silk or silk waste.
6215.20.00 | Ties, bow ties and cravats, not knitted or crocheted, of man-made fibers.
6215.90.00 | Ties, bow ties and cravats, not knitted or crocheted, of textile materials nesoi.
6216.00.05 | Ice hockey and field hockey gloves, not knitted or crocheted, impregnated, coated or covered with plastics or rubber.
6216.00.08 | Gloves, mittens & mitts, for sports, including ski & snowmobile gloves, etc., not knitted/crocheted, impreg. or cov. with plastic/rubber.
6216.00.13 | Gloves etc. (excl. for sports etc.), not k/c, impreg. etc. with plas/rub, w/o four., cut & sewn, of veg. fibers, over 50% by wt. plas/rub.
6216.00.17 | Gloves etc. (excl. for sports), not k/c, impreg. etc. with plas/rub, w/o four., cut & sewn, of veg. fibers, cont. <50% by wt. plas./rubber.
6216.00.19 | Gloves, mittens and mitts (excl sports), w/o four, impreg etc, cut & sewn from pre-exist impreg fab, of non-veg fib, con > 50% wt plas/rub.
6216.00.21 | Gloves, mittens and mitts (excl sports), w/o four, impreg etc, cut & sewn from pre-exist impreg fab, of non-veg fib, con < 50% wt plas/rub.
6216.00.24 | Gloves, mittens and mitts (excl sports), w/o four, impreg etc, not cut & sewn from pre-exist fab, con 50% or more wt cotton/mmf, not k/c.
6216.00.26 | Gloves, mittens and mitts (excl sports), w/o four, impreg etc, not cut & sewn from pre-exist fab, con under 50% wt cotton or mmf, not k/c.
6216.00.29 | Gloves, mittens and mitts (excl sports), impreg, etc., with fourchettes, cont 50% or more by wt of coton, mmf or combo thereof, not knit/croc.
6216.00.31 | Gloves, mittens and mitts (excl sports), impreg, etc., with fourchettes, cont under 50% by wt of coton, mmf or combo thereof, not knit/croc.
6216.00.33 | Ice hockey and field hockey gloves, not knitted or crocheted, of cotton, not impregnated, coated or covered with plastics or rubber.
6216.00.35 | Gloves, mittens & mitts, all the foregoing for sports use, including ski & snowmobile gloves, mittens & mitts, of cotton.
6216.00.38 | Gloves, mittens & mitts (excl. for sports), not impregnated, coated or covered with plastics or rubber, of cotton, without fourchettes.
6216.00.41 | Gloves, mittens & mitts (excl. for sports), not impregnated, coated or covered with plastics or rubber, of cotton, with fourchettes.
6216.00.43 | Ice hockey and field hockey gloves, not knitted or crocheted, of man-made fibers, not impregnated etc. with plastics or rubber.
6216.00.46 | Gloves, mittens & mitts, for sports use, incl. ski & snowmobile, of man-made fibers, not impregnated/coated with plastics or rubber.
6216.00.54 | Gloves, mittens & mitts (excl. for sports), not impregnated, coated or covered with plastics or rubber, of man-made fibers, w/o fourchettes.
6216.00.58 | Gloves, mittens & mitts (excl. for sports), not impregnated, coated or covered with plastics or rubber, of mmf, with fourchettes.
6216.00.80 | Gloves, mittens and mitts, not knitted or crocheted, of wool or fine animal hair, nesoi.
6216.00.90 | Gloves, mittens and mitts, not knitted or crocheted, of textile materials nesoi.
6217.10.10 | Made up clothing accessories (excl those of heading 6212), containing 70% or more by weight of silk or silk waste, not knitted or crocheted.
6217.10.85 | Headbands, ponytail holders and similar articles, of textile materials containing < 70% by weight of silk, not knit/crochet.
6217.10.95 | Made up clothing accessories (excl of heading 6212 or headbands, ponytail holders & like), containing < 70% wgt of silk, not knit/crochet.
6217.90.10 | Parts of garments or of clothing accessories (excl those of heading 6212), containing 70% or more by weight of silk or silk waste, not k/c.
6217.90.90 | Parts of garments or of clothing accessories (excl those of heading 6212), containing under 70% by weight of silk or silk waste, n/knit/croc.
6301.10.00 | Electric blankets.
6301.20.00 | Blankets (other than electric blankets) and traveling rugs, of wool or fine animal hair.
6301.30.00 | Blankets (other than electric blankets) and traveling rugs, of cotton.
6301.40.00 | Blankets (other than electric blankets) and traveling rugs, of synthetic fibers.
6301.90.00 | Blankets and traveling rugs, nesoi.
6302.10.00 | Bed linen, knitted or crocheted.
6302.21.30 | Bed linen, not knitted or crocheted, printed, of cotton, cont any embroidery, lace, braid, edging, trimming, piping or applique work, napped.
6302.21.50 | Bed linen, not knit or crocheted, printed, of cotton, cont any embroidery, lace, braid, edging, trimming, piping or applique work, n/napped.
6302.21.70 | Bed linen, not knit or crocheted, printed, of cotton, not cont any embroidery, lace, braid, edging, trimming, piping or applique work, napped.
6302.21.90 | Bed linen, not knit or croc, printed, of cotton, not cont any embroidery, lace, braid, edging, trimming, piping or applique work, not napped.
6302.22.10 | Bed linen, not knitted or crocheted, printed, of manmade fibers, containing embroidery, lace, braid, etc or applique work.
6302.22.20 | Bed linen, not knitted or crocheted, printed, of manmade fibers, nesoi.
6302.29.00 | Bed linen, not knitted or crocheted, printed, of textile materials nesoi.
6302.31.30 | Bed linen, not knit/croc, not printed, of cotton, cont any embroidery, lace, braid, edging, trimming, piping or applique work, napped.
6302.31.50 | Bed linen, not knit/croc, not printed, of cotton, cont any embroidery, lace, braid, edging, trimming, piping or applique work, not napped.
6302.31.70 | Bed linen, not knit/croc, not printed, of cotton, not cont any embroidery, lace, braid, edging, trimming, piping or applique work, napped.
6302.31.90 | Bed linen, not knit/croc, not printed, of cotton, not cont any embroidery, lace, braid, edging, trimming, piping or applique work, not napped.
6302.32.10 | Bed linen, not knitted or crocheted, not printed, of manmade fiber, containing embroidery, lace, braid, etc or applique work.
6302.32.20 | Bed linen, not knitted or crocheted, not printed, of manmade fibers, nesoi.
6302.39.00 | Bed linen, not knitted or crocheted, not printed, of textile materials nesoi.
6302.40.10 | Table linen, knitted or crocheted, of vegetable fiber (except of cotton).
6302.40.20 | Table linen, knitted or crocheted, nesoi.
6302.51.10 | Damask tablecloths and napkins, not knitted or crocheted, of cotton.
6302.51.20 | Plain woven tablecloths and napkins, not knitted or crocheted, of cotton.
6302.51.30 | Tablecloths and napkins, other than plain woven or damask, not knitted or crocheted, of cotton.
6302.51.40 | Table linen, other than tablecloths and napkins, not knitted or crocheted, of cotton, nesoi.
6302.53.00 | Table linen of man-made fibers, not knitted or crocheted.
6302.59.10 | Tablecloths and napkins of flax, not knitted or crocheted.
6302.59.20 | Table linen of flax, other than tablecloths and napkins, not knitted or crocheted.
6302.59.30 | Table linen, of textile materials other than of cotton, flax or man-made fibers, not knitted or crocheted.
6302.60.00 | Toilet linen and kitchen linen, of terry toweling or similar terry fabrics, of cotton.
6302.91.00 | Toilet and kitchen linen, other than terry toweling or similar terry fabrics of cotton.
6302.93.10 | Toilet and kitchen linen, of manmade fibers, of pile or tufted construction.
6302.93.20 | Toilet and kitchen linen, of manmade fibers, nesoi.
6302.99.10 | Toilet and kitchen linen of textile materials nesoi, containing 85% or more by weight of silk or silk waste.
6302.99.15 | Toilet and kitchen linen of flax.
6302.99.20 | Toilet and kitchen linen of textile materials nesoi, containing less than 85% by weight of silk or silk waste.
6303.12.00 | Curtains (including drapes), interior blinds and valances of synthetic fibers, knitted or crocheted.
6303.19.11 | Curtains (including drapes), interior blinds and valances of cotton, knitted or crocheted.
6303.19.21 | Curtains (including drapes), interior blinds and valances of textile materials other than of cotton or synthetic fibers, knitted or crocheted.
6303.91.00 | Curtains (including drapes), interior blinds and valances of cotton, not knitted or crocheted.
6303.92.10 | Curtains/drapes, inter. blinds, etc. of syn fib, made up from fab of subh 5407.60.11/5407.60.21/5407.60.91, not knitted or crocheted.
6303.92.20 | Curtains (including drapes), interior blinds and valances, nesoi, of synthetic fibers, not knitted or crocheted.
6303.99.00 | Curtains (including drapes), interior blinds, valances of textile materials other than of cotton or of synthetic fibers, not knitted/crocheted.
6304.11.10 | Bedspreads of cotton, knitted or crocheted, excluding those of heading 9404.
6304.11.20 | Bedspreads of man-made fibers, knitted or crocheted, excluding those of heading 9404.
6304.11.30 | Bedspreads of textile materials other than of cotton or of man-made fibers, knitted or crocheted, excluding those of heading 9404.
6304.19.05 | Bedspreads, not knitted or crocheted, of cotton, containing any embroidery, lace, etc.
6304.19.10 | Bedspreads, not knitted or crocheted, of cotton, nesoi.
6304.19.15 | Bedspreads, not knitted or crocheted, of manmade fibers, containing any embroidery, lace, etc.
6304.19.20 | Bedspreads, not knitted or crocheted, of manmade fibers, nesoi.
6304.19.30 | Bedspreads, not knitted or crocheted, other than those of cotton or man-made fibers, excluding those of heading 9404.
6304.20.00 | Bed nets made from warp knit fabrics, impregneted or coated with chemicals specified in subheading note 1 to this chapter.
6304.91.01 | Furnishing articles, excluding those of heading 9404 and other than bedspreads and bed nets, knitted or crocheted.
6304.92.00 | Furnishing articles (excluding those of heading 9404 and other than bedspreads) not knitted or crocheted, of cotton.
6304.93.00 | Furnishing articles (excluding those of heading 9404 and other than bedspreads) not knitted or crocheted, of synthetic fibers.
6304.99.10 | Wall hangings, not knitted or crocheted, of wool or fine animal hair, the foregoing certified hand-loomed and folklore products.
6304.99.15 | Wall hangings, not knitted or crocheted, of wool or fine animal hair, nesoi.
6304.99.25 | Wall hangings of jute, excluding those of heading 9404.
6304.99.35 | Furnishing articles (excl. those of heading 9404 and other than bedspreads and jute wall hangings) of veg. fibers (excl. cotton), not k/c.
6304.99.40 | Certified hand-loomed and folklore pillow covers of wool or fine animal hair, not knitted or crocheted.
6304.99.60 | Furnishing articles (excluding those of heading 9404 and other than bedspreads) not knitted or crocheted, of textile materials, nesoi.
6305.10.00 | Sacks and bags of a kind used for the packing of goods, of jute or of other textile bast fibers of heading 5303.
6305.20.00 | Sacks and bags of a kind used for the packing of goods, of cotton.
6305.32.00 | Flexible intermed. bulk containers of a kind used for packing goods, of man-made textile materials.
6305.33.00 | Other sacks/bags for packing goods, of mm tex.mat. (not flex.intermed.bulk containers), of polyethylene or polypro. strip or the like.
6305.39.00 | Sacks and bags of a kind used for the packing of goods, of man-made textile materials, nesoi.
6305.90.00 | Sacks and bags of a kind used for the packing of goods, of textile materials, nesoi.
6306.12.00 | Tarpaulins, awnings and sunblinds, of synthetic fibers.
6306.19.11 | Tarpaulins, awnings and sunblinds, of cotton.
6306.19.21 | Tarpaulins, awnings and sunblinds, of textile materials other than of cotton or synthetic fibers.
6306.22.10 | Backpacking tents of synthetic fibers.
6306.22.90 | Tents other than backpacking tents, of synthetic fibers.
6306.29.11 | Tents of cotton.
6306.29.21 | Tents of textile materials other than of cotton or synthetic fibers.
6306.30.00 | Sails of textile materials.
6306.40.41 | Pneumatic mattresses of cotton.
6306.40.49 | Pneumatic mattresses of textile materials other than of cotton.
6306.90.10 | Camping goods, nesoi, of cotton.
6306.90.50 | Camping goods, nesoi, of textile materials other than of cotton.
6307.10.10 | Dustcloths, mop cloths and polishing cloths, of cotton.
6307.10.20 | Floor cloths, dishcloths and similar cleaning cloths of textile materials (except dustcloths, mops cloths and polishing cloths of cotton).
6307.20.00 | Lifejackets and lifebelts of textile materials.
6307.90.30 | Made-up labels of textile materials.
6307.90.40 | Cords and tassels of textile materials.
6307.90.50 | Corset lacings, footwear lacings or similar lacings of textile materials.
6307.90.60 | Surgical drapes of fabric formed on a base of paper or covered or lined with paper.
6307.90.68 | Surgical drapes of spunlaced or bonded fiber fabric disposable surgical drapes of man-made fibers.
6307.90.72 | Surgical drapes, nesoi, not spunlaced or bonded fiber fabric.
6307.90.75 | Toys for pets, of textile materials.
6307.90.85 | Wall banners, of man-made fibers.
6307.90.89 | Surgical towels; cotton towels of pile/tufted const.; pillow shells, of cotton; shells for quilts etc., and similar articles of cotton.
6307.90.98 | National flags and other made-up articles of textile materials, nesoi.
6308.00.00 | Needlecraft sets for making up into rugs, etc., consist of woven fabric and yarn, whether/not w/accessories, put up packings for retail sale.
6309.00.00 | Worn clothing and other worn articles.
6310.10.10 | Used or new rags, scrap and worn out articles of twine, cordage, rope or cables, of wool or fine animal hair, sorted.
6310.10.20 | Used or new rags, scrap and worn out articles of twine, cordage, rope or cables, of textile materials nesoi, sorted.
6310.90.10 | Used or new rags, scrap and worn out articles of twine, cordage, rope or cables, of wool or fine animal hair, not sorted.
6310.90.20 | Used or new rags, scrap and worn out articles of twine, cordage, rope or cables, of textile materials nesoi, not sorted.
6401.10.00 | Waterproof footwear, not mechanically assembled, w/outer soles & uppers of rubber or plastics, w/metal toecap.
6401.92.30 | Waterproof ski boots & snowboard boots, not mechanically asmbld., w/outer sole and uppers of rubb. or plast., cover/ankle but not knee.
6401.92.60 | Waterproof footwear, not mechanically asmbld., w/over 90% of ext. surf. area of soles & uppers PVC, covering/ankle but not knee.
6401.92.90 | Waterproof footwear, not mechanically asmbld., w/outer soles and upper of rubber or plastics, nesoi, covering ankle but not knee.
6401.99.10 | Waterproof footwear, not mechanically assembled, w/outer soles & uppers of rubber or plastics, covering the knee.
6401.99.30 | Waterproof protect. footwear, not mechanically asmbld., w/outer soles and uppers of rubber or plastics, not cover ankle, w/o closures.
6401.99.60 | Waterproof protect. footwear, not mechanically asmbld., w/outer soles and uppers of rubber or plastics, not cover ankle, w/closures.
6401.99.80 | Waterproof footwear, not mechanically asmbld, w/outer soles and 90% of ext. surf. area of uppers of rubber or plastics, not cover ankle.
6401.99.90 | Waterproof footwear, not mechanically asmbld, w/outer soles and uppers of rubber or plastics, nesoi, not cover ankle.
6402.12.00 | Ski-boots, cross-country ski footwear and snowboard boots, w/outer soles and uppers of rubber or plastics.
6402.19.05 | Golf shoes w/outer soles of rubber or plastics and uppers > 90% of ext. surface area rubber or plastics.
6402.19.15 | Sports footwear (o/than ski fwear & golf shoes), w/outer soles of rubber or plastics & uppers >90% ext. surf. area rubber or plast.
6402.19.30 | Sports footwear w/outer soles and uppers of rubber or plastics, nesoi, valued not over $3/pair.
6402.19.50 | Sports footwear w/outer soles and uppers of rubber or plastics, nesoi, valued over $3 but not over $6.50/pair.
6402.19.70 | Sports footwear w/outer soles and uppers of rubber or plastics, nesoi, valued over $6.50 but not over $12/pair.
6402.19.90 | Sports footwear w/outer soles and uppers of rubber or plastics, nesoi, valued over $12/pair.
6402.20.00 | Footwear w/outer soles & uppers of rubber/plastics, w/upper straps or thongs assembled to sole by means of plugs (zoris).
6402.91.05 | Footwear w/outer soles of rubber or plastics, o/than sports,covers ankle, w/metal toe-cap,w/ext. surf. uppers o/90% rubber or plastics.
6402.91.10 | Footwear, covers ankle, w/outer soles & uppers of rubber or plastics, nesoi, w/metal toe-cap, designed to protect liquids, chemicals, weather.
6402.91.16 | Footwear, covers ankle, w/outer soles & uppers of rubber or plastics, nesoi, w/metal toe-cap, not protective, valued n/o $3/pair.
6402.91.20 | Footwear, covers ankle, w/outer soles & uppers of rubber or plastics, nesoi, w/metal toe-cap, not protective, valued over $3 but n/o $6.50/pair.
6402.91.26 | Footwear, covers ankle, w/outer soles & uppers of rubber or plastics, nesoi, w/metal toe-cap, not protective, valued o/$6.50 but n/o $12/pair.
6402.91.30 | Footwear, covers ankle, w/outer soles & uppers of rubber or plastics, nesoi, w/metal toe-cap, not protective, valued over $12/pair.
6402.91.40 | Footwear w/outer soles & uppers of rubber or plastics, nesoi, covering ankle, w/ext. surf. of uppers o/90% rubber or plastics.
6402.91.42 | Protective active footwear w/outer soles & uppers of rubber or plastics, covered ankle, nesoi, valued over $24/pair.
6402.91.50 | Footwear w/outer soles & uppers of rubber or plastics, nesoi, covering ankle, designed as protection against liquids, chemicals, weather.
6402.91.60 | Footwear w/outer soles & uppers of rubber or plastics, nesoi, covering ankle, nesoi, valued n/o $3/pair.
6402.91.70 | Footwear w/outer soles & uppers of rubber or plastics, nesoi, covering ankle, nesoi, valued over $3 but n/o $6.50/pair.
6402.91.80 | Footwear w/outer soles & uppers of rubber or plastics, nesoi, covering ankle, nesoi, valued o/$6.50 but n/o $12/pair.
6402.91.90 | Footwear w/outer soles & uppers of rubber or plastics, nesoi, covering ankle, nesoi, valued over $12/pair.
6402.99.04 | Footwear not cov. ankle, w/outer soles of rubber or plastics, nesoi, w/metal toe-cap, w/ext. surf. uppers o/90% rubber or plastics.
6402.99.08 | Footwear not cov. ankle, w/outer soles & uppers of rubber or plastics, nesoi, w/metal toe-cap, to protect against liquids, chem, weather.
6402.99.12 | Footwear not cov. ankle, w/outer soles & uppers of rubber or plastics, nesoi, w/metal toe-cap, not protective, valued n/o $3/pair.
6402.99.16 | Footwear not cov. ankle, w/outer soles & uppers of rubber or plastics, nesoi, w/metal toe-cap, not protective, valued > $3 but n/o $6.50/pair.
6402.99.19 | Footwear not cov. ankle, w/outer soles & uppers of rubber or plastics, nesoi, w/metal toe-cap, not protective, valued o/$6.50 but n/o $12/pair.
6402.99.21 | Footwear not cov. ankle, w/outer soles & uppers of rubber or plastics, nesoi, w/metal toe-cap, not protective, valued over $12/pair.
6402.99.23 | Footwear w/outer soles & uppers of rubber or plastics, nesoi, n/cov. ankle, w/ext. surf. uppers o/90% rubber/plastics, w/base of wood.
6402.99.25 | Footwear w/outer soles & uppers of rubber or plastics, nesoi, n/cov. ankle, w/ext. surf. uppers o/90% rubber/plastics, w/base of cork.
6402.99.27 | Sandals w/outer soles & uppers of rubber or plastics, not cov. ankle, produced in one piece by molding.
6402.99.31 | Footwear w/outer soles & uppers of rubber or plastics, nesoi, n/cov. ankle, w/ext. surf. of uppers o/90% rubber or plastics, nesoi.
6402.99.32 | Protective active footwear w/outer soles & uppers of rubber or plastics, not covered ankle, nesoi, valued over $24/pair.
6402.99.33 | Footwear w/outer soles & uppers of rubber or plastics, nesoi, n/cov. ankle, nesoi, design. as protection against liquids/chemicals/weather.
6402.99.41 | Footwear, nesoi, w/outer soles & uppers of rubber or plastic, open toe or heel or slip-on, tex outersole.
6402.99.49 | Footwear w/outer soles & uppers of rubber or plastics, nesoi, n/cov. ankle, w/open toes or heels or of the slip-on type.
6402.99.61 | Footwear, nesoi, w/outer soles & uppers of rubber or plastics, o/than open toe or heel or slip-on, < $3, tex outersole, not subj C64 note 5.
6402.99.69 | Footwear w/outer soles & uppers of rubber or plastics, nesoi, n/cov. ankle, nesoi, valued n/o $3/pair.
6402.99.71 | Footwear, nesoi, w/outer soles and uppers of rubber or plastic, o/than open toe or heel or slip-on, $3-6.50, tex outersole, not subj C64 note 5.
6402.99.79 | Footwear w/outer soles & uppers of rubber or plastics, nesoi, n/cov. ankle, nesoi, valued o/$3 but n/o $6.50/pair.
6402.99.80 | Footwear w/outer soles & uppers of rubber or plastics, nesoi, n/cov. ankle, nesoi, valued o/$6.50 but n/o $12/pair.
6402.99.90 | Footwear w/outer soles & uppers of rubber or plastics, nesoi, n/cov. ankle, nesoi, valued over $12/pair.
6403.12.30 | Ski-boots, cross-country ski footwear and snowboard boots, w/outer soles of rubber/plastics/leather/comp. leather & uppers of leather, welt.
6403.12.60 | Ski-boots, cross-country ski footwear and snowboard boot, w/outer soles of rubber/plastics/leather/comp. leather & uppers of leather, n/welt.
6403.19.10 | Golf shoes, w/outer soles rubber/plastics/leather/comp. leather & uppers of leather, welt, for men/youths/boys.
6403.19.20 | Sports footwear, nesoi, w/outer soles of rubber/plastics/leather/comp. leather & uppers of leather, welt, for men/youths/boys.
6403.19.30 | Golf shoes, w/outer soles rubber/plastics/leather/comp. leather & uppers of leather, n/welt, for men/youths/boys.
6403.19.40 | Sports footwear, nesoi, w/outer soles rubber/plastics/leather/comp. leather & uppers of leather, n/welt, for men/youths/boys.
6403.19.50 | Golf shoes, w/outer soles rubber/plastics/leather/comp. leather & upper of leather, for persons other than men/youths/boys.
6403.19.70 | Sports footwear, nesoi, w/outer soles rubber/plastics/leather/comp.leather & uppers of leather, for persons other than men/youths/boys.
6403.20.00 | Footwear w/outer soles leather and uppers consist. of leather straps across the instep and around the big toe.
6403.40.30 | Footwear w/outer soles of rubber/plastics/leather/comp. leather & uppers of leather, w/protective metal toe-cap, welt.
6403.40.60 | Footwear w/outer soles of rubber/plastics/leather/comp. leather & uppers of leather, w/protective metal toe-cap, n/welt.
6403.51.11 | Footwear w/outer soles of leather & uppers of leather, covering ankle, made on a base or platform of wood, w/o insole or metal toe-cap.
6403.51.30 | Footwear w/outer soles and uppers of leather, nesoi, covering the ankle, welt.
6403.51.60 | Footwear w/outer soles and uppers of leather, nesoi, covering the ankle, n/welt, for men, youths and boys.
6403.51.90 | Footwear w/outer soles and uppers of leather, nesoi, covering the ankle, n/welt, for persons other than men, youths and boys.
6403.59.10 | Footwear w/outer soles of leather & uppers of leather, not covering ankle, made on a base or platform of wood, w/o insole or metal toe-cap.
6403.59.15 | Turn or turned footwear w/outer soles and uppers of leather, not covering the ankle.
6403.59.30 | Footwear w/outer soles and uppers of leather, not covering the ankle, welt, nesoi.
6403.59.60 | Footwear w/outer soles and uppers of leather, not cov. ankle, n/welt, for men, youths and boys.
6403.59.90 | Footwear w/outer soles and uppers of leather, not cov. ankle, n/welt, for persons other than men, youths and boys.
6403.91.11 | Footwear w/outer soles of rubber, plastics & uppers of leather, covering ankle, made on a base or platform of wood, w/o insole or metal toe.
6403.91.30 | Footwear w/outer soles of rubber/plastics/composition leather & uppers of leather, covering the ankle, welt.
6403.91.60 | Footwear w/outer soles of rubber/plastics/composition leather & uppers of leather, covering the ankle, n/welt, for men, youths and boys.
6403.91.90 | Footwear w/outer soles of rubber/plastics/comp. leather & uppers of leather, cov. ankle, n/welt, for persons other than men/youths/boys.
6403.99.10 | Footwear w/outer soles of rubber, plastics & uppers of leather, not covering ankle, made on a base or platform of wood, w/o insole or metal.
6403.99.20 | Footwear w/outer soles of rubber/plastics/comp. leather & uppers of leather, n/cov. ankle, made on a base wood.
6403.99.40 | Footwear w/outer soles of rubber/plastics/comp. leather & uppers of leather, n/cov. ankle, welt, nesoi.
6403.99.60 | Footwear w/outer soles of rubber/plastics/comp. leather & uppers of leather, n/cov. ankle, n/welt, for men, youths and boys, nesoi.
6403.99.75 | Footwear w/outer soles of rubber/plastics/comp. leather & uppers of leather, n/cov. ankle, for women/child./infants, val.n/o $2.50/pr.
6403.99.90 | Footwear w/outer soles of rubber/plastics/comp. leather & uppers of leather, n/cov. ankle, for women/child./infants, val. over $2.50/pair.
6404.11.20 | Sports & athletic footwear w/outer soles of rubber/plastics & uppers of textile, w/ext. surf. of uppers over 50% leather.
6404.11.41 | Sports ftwear w/outr sole rub/plast & upper textile val. < $3/pr, w/sole fixed w/adhesives w/o foxing not subj note 5 ch 64.
6404.11.49 | Sports ftwear, outer soles rubber/plastic & uppers textile, val. <$3/pr, soles fixed w/adhesives w/o foxing, subj note 5 ch 64.
6404.11.51 | Sports ftwear w/outer soles rubber/plastic & uppers textile, val. < $3/pair, not subj to note 5 ch 64.
6404.11.59 | Sports ftwear w/outer soles rubber/plastic, uppers textile, val <$3/pair, subj note 5 ch 64.
6404.11.61 | Sports ftwear w/outr sole rubber/plastic & upper textile, val. >$3 but < $6.50/pr, w/soles fixed w/adhesives, not subj note 5 ch 64.
6404.11.69 | Sports ftwear w/outr sole rubber/plastic & uppers textile, val. >$3 but <$6.50/pr, w/sole fixed w/adhesives subj note 5 ch 64.
6404.11.71 | Sports ftwear w/outer soles rubber/plastic & uppers veg fiber, val.>$3 but <$6.50/pr, not subj note 5 ch 64.
6404.11.75 | Sports ftwear w/outer soles rubber/plastic & uppers textile, val. >$3 but <$6.50/pr, not subj note 5 ch 64.
6404.11.79 | Sports ftwear w/outer soles rubber/plastic & uppers textile, val. >$3 but <$6.50/pr, subj note 5 ch 64.
6404.11.81 | Sports ftwear w/outer soles rubber/plastic & uppers veg fiber, val. >$6.50 but <$12/pr, not subj note 5 to ch 64.
6404.11.85 | Sports ftwear w/outer soles rubber/plastic & uppers textile, val. >$6.50 but <$12/pr, not subj to note 5 ch 64.
6404.11.89 | Sports ftwear w/outer soles rubber/plastics & uppers textile, val. >$6.50 but <$12/pr, subj note 5 ch 64.
6404.11.90 | Sports ftwear w/outer soles rubber/plastic & uppers textile, val. >$12/pair.
6404.19.15 | Ftwear w/outer soles rubber/plastic & uppers textile, nesoi, w/ext. surf. of uppers > 50% leather.
6404.19.20 | Ftwear w/outer soles rubber/plastic & uppers textile, nesoi, designed to protect agst liquids, chemicals & weather.
6404.19.25 | Ftwear w/outer soles rubber/plastic & upp. veg. fibers, nesoi, w/open toes/heels or slip-on, < 10% rub/plast by wt.
6404.19.30 | Ftwear w/outer soles rubber/plastic & upp. textile, nesoi, w/open toes/heels or slip-on, <10% rub/plast by wt.
6404.19.36 | Ftwear w/outer soles rub/plast & upp. veg fiber, nesoi, w/open toes/heels or slip-on, >10% by wt. rub./plast, subj note 5 ch 64.
6404.19.37 | Ftwear w/outr soles rubber/plastic & upp. textile, nesoi, w/open toes/heels or slip-on, >10% by wt. of rub/plast, subj note 5 ch 64.
6404.19.39 | Ftwear w/outr sole rub/plast & upp. textile, nesoi, w/open toes/heels or slip-on, >10% by wt. rub./plast not subj note 5 ch 64.
6404.19.42 | Ftwear w/outr sole rub/plast. & upp. veg fiber, nesoi, val. <$3/pr, w/sole fixed to upp. w/adhesives & w/o foxing, not subj note 5 ch 64.
6404.19.47 | Ftwear w/outr soles rub/plast & upp. textile, nesoi, val. <$3/pr, w/sole fixed to upper w/adhesives & w/o foxing, not subj note 5 ch 64.
6404.19.49 | Ftwear w/outr sole rub./plast. & upp. textile, nesoi, val. <$3/pr, w/soles fixed to upper w/adhesives & w/o foxing subj note 5 ch 64.
6404.19.52 | Ftwear w/outer soles rubber/plastic & upp. veg fiber, nesoi, val. <$3/pr, nesoi, not subj note 5 ch 64.
6404.19.57 | Ftwear w/outr sole rub/plast./leather & upp. not veg fiber textile, nesoi, not sports, val. <$3/pr, not subj note 5 ch 64.
6404.19.59 | Ftwear w/outr sole rub/plast./leather & upp. textile, nesoi, not sports, val. < $3/pr, subj note 5 ch 64.
6404.19.61 | Ftwear w/outr sole rub/plast. & upp. textile, nesoi, val. >/$3 but <$6.50/pr, w/sole fixed to upp. w/adhesives, not subj note 5 ch 64.
6404.19.69 | Ftwear w/outr sole rub/plast. & upp. textile, nesoi, val. >$3 but <$6.50/pr, w/sole fixed to upp. w/adhesives, subj note 5 ch 64.
6404.19.72 | Ftwear w/outr sole rub/plast. & upper veg fiber, nesoi, val. >$3 but <$6.50/pr, nesoi, not subj note 5 ch 64.
6404.19.77 | Footwear w/outer sole rub/plast. & upper textile, nesoi, val. o/$3 but n/o $6.50/pr, nesoi, not subj note 5 ch 64.
6404.19.79 | Footwear w/outr sole rub/plast. & upper. textile, nesoi, val. o/$3 but n/o $6.50/pr, nesoi, subj note 5 ch 64.
6404.19.82 | Footwear w/outer sole rub/plast. & upp. veg fiber, nesoi, val. o/$6.50 but n/o $12/pr, not subj note 5 ch 64.
6404.19.87 | Footwear w/outer sole rub/plast. & upp. textile, nesoi, val. o/$6.50 but n/o $12/pr, not subj note 5 ch 64.
6404.19.89 | Footwear w/outer soles rub/plast. & upp. textile, nesoi, val. o/$6.50 but n/o $12/pr, subj note 5 ch 64.
6404.19.90 | Footwear w/outer soles of rub./plast. & upp. of textile, nesoi, val. o/$12/pr.
6404.20.20 | Footwear w/outer soles of leather/comp. leath., n/o 50% by wt. rub./plast. or rub./plast./text. & 10%+ by wt. rub./plast., val. n/o $2.50/pr.
6404.20.40 | Footwear w/outer soles of leather/comp. leath., n/o 50% by wt. rub./plast. or rub./plast./text. & 10%+ by wt. rub./plast., val. o/$2.50/pr.
6404.20.60 | Footwear w/outer soles of leather/comp. leather & uppers of textile, nesoi.
6405.10.00 | Footwear, nesoi, w/outer soles of other than rubber/plastics/leather/comp.leather & uppers of leather/composition leather, nesoi.
6405.20.30 | Footwear, nesoi, w/outer soles of other than rubber/plastics/leather/comp.leather & uppers of vegetable fibers, nesoi.
6405.20.60 | Footwear, nesoi, with soles and uppers of wool felt.
6405.20.90 | Footwear, nesoi, w/outer sole other than rubber/plastics/leather/comp. leather & upper of text. material other than veg. fibers or wool felt.
6405.90.20 | Disposable footwear, nesoi, designed for one-time use.
6405.90.90 | Footwear, nesoi, w/outer soles and uppers o/than leather or comp. leather, not disposible.
6406.10.05 | Formed uppers for footwear, of leather/composition leather, for men, youths and boys.
6406.10.10 | Formed uppers for footwear, of leather/composition leather, for women, misses, children and infants.
6406.10.20 | Formed uppers for footwear, of textile materials, w/o 50% of external surface leather.
6406.10.25 | Formed uppers for footwear, of textile materials, nesoi, valued n/o $3/pr.
6406.10.30 | Formed uppers for footwear, of textile materials, nesoi, valued o/$3 but n/o $6.50/pr.
6406.10.35 | Formed uppers for footwear, of textile materials, nesoi, valued o/$6.50 but n/o $12/pr.
6406.10.40 | Formed uppers for footwear, of textile materials, nesoi, valued o/$12/pr.
6406.10.45 | Formed upper for footwear, of materials other than leather/comp.leather or textile, w/over 90% of ext. surf. rub./plast. not for fw w/foxing.
6406.10.50 | Formed uppers for footwear, of materials other than leather/comp.leather or textile materials, nesoi.
6406.10.60 | Uppers & pts. thereof for footwear, nesoi, of rubber or plastics.
6406.10.65 | Uppers & pts. thereof for footwear, nesoi, of leather.
6406.10.70 | Uppers & pts. thereof for footwear, nesoi, of textile materials w/external surface area over 50% leather.
6406.10.72 | Uppers for footwear, nesoi, of cotton, w/external surface area less than 50% textile materials.
6406.10.77 | Uppers & pts. thereof for footwear, nesoi, of cotton, w/external surface area 50% or more of textile materials.
6406.10.85 | Uppers for footwear, nesoi, of materials nesoi, w/external surface area less than 50% textile materials.
6406.10.90 | Uppers & pts. thereof for footwear, nesoi.
6406.20.00 | Outer soles and heels for footwear, of rubber or plastics.
6406.90.10 | Parts of footwear, nesoi, of wood.
6406.90.15 | Parts of footwear; nesoi, removable insoles, heel cushions, gaiters, leggings, etc, & pts. thereof; all the foregoing of textile materials.
6406.90.30 | Parts of footwear, nesoi; removable insoles, heel cushions, etc; gaiters, leggings, etc., & pts. thereof; all the foregoing of rubber/plastic.
6406.90.60 | Parts of footwear; nesoi, removable insoles, heel cushions, etc; gaiters, leggings, etc, & pts. thereof; all the foregoing of leather.
6406.90.90 | Parts of footwear, nesoi; removable insoles, heel cushions, etc; gaiters, leggings, etc, & pts thereof; all the foregoing of materials nesoi.
6505.00.01 | Hair-nets of any material, whether or not lined or trimmed.
6506.10.30 | Safety headgear of reinforced or laminated plastics, whether or not lined or trimmed.
6506.10.60 | Safety headgear, other than of reinforced or laminated plastics, whether or not lined or trimmed.
6601.10.00 | Garden or similar umbrellas.
6601.91.00 | Umbrellas, other than garden or similar umbrellas, having a telescopic shaft.
6601.99.00 | Umbrellas, other than garden or similar umbrellas, not having a telescopic shaft.
6602.00.00 | Walking-sticks, seat-sticks, whips, riding-crops and the like.
6603.20.30 | Umbrella frames, including frames mounted on shafts (sticks), for hand-held umbrellas chiefly used for protection against rain.
6603.20.90 | Umbrella frames, including frames mounted on shafts (sticks), other than for hand-held rain umbrellas, nesoi.
6603.90.41 | Umbrella handles, knobs, tips and caps.
6603.90.81 | Handles, knobs, other parts, trimmings or accessories for walking sticks, seat-sticks, whips, riding crops and the like.
6702.10.20 | Artificial flowers/foliage/fruit; articles of art. flowers, etc.; all of plastics, asmbld by binding/gluing/or similar methods.
6702.10.40 | Artificial flowers/foliage/fruit & pts of; articles of art. flowers, etc.; all of plastics, not asmbld by binding/gluing/or similar methods.
6702.90.10 | Artificial flowers/foliage/fruit & pts thereof; articles of artif. flowers, etc.; all the foregoing of feathers.
6702.90.35 | Artificial flowers/foliage/fruit & pts thereof; articles of artif. flowers, etc.; all the foregoing of man-made fibers.
6702.90.65 | Artificial flowers/foliage/fruit & pts thereof; articles of artif. flowers, etc.; all the foregoing of materials o/than plast./feath./mmf.
6703.00.30 | Human hair, dressed, thinned, bleached or otherwise worked, for use in making wigs or the like.
6703.00.60 | Wool or other animal hair or other textile materials, prepared for use in making wigs or the like.
6704.11.00 | Wigs (complete), of synthetic textile materials.
6704.19.00 | Wigs (partial), false beards, eyebrows and the like, of synthetic textile materials.
6704.20.00 | Wigs, false beards, eyebrows and the like, of human hair; articles of human hair, nesoi.
6704.90.00 | Wigs, false beards, eyebrows and the like, of animal hair or textile materials (other than synthetic textiles).
6910.10.00 | Porcelain or china ceramic sinks, washbasins, baths, bidets, water closet bowls, urinals & siml. sanitary fixtures.
6910.90.00 | Ceramic (o/than porcelain or china) sinks, washbasins, baths, bidets, water closet bowls, urinals & siml. sanitary fixtures.
6911.10.10 | Porcelain or china hotel, restaurant & nonhousehold table and kitchenware.
6911.10.15 | Bone china household table & kitchenware valued n/o $31.50/doz. pcs.
6911.10.25 | Bone china household table & kitchenware valued o/$31.50/doz. pcs..
6911.10.35 | Porcelain or china (o/than bone china) househld tabl. & kitch.ware in sets in which aggregate val. of arts./US note 6(b) n/o $56.
6911.10.37 | Porcelain or china (o/than bone china) househld tabl. & kitch.ware in sets in which aggregate val. of arts./US note 6(b) o/$56 n/o $200.
6911.10.38 | Porcelain or china (o/than bone china) househld tabl. & kitch.ware in sets in which aggregate val. of arts./US note 6(b) o/$200.
6911.10.41 | Porcelain or china (o/than bone china) hsehld steins w/pewter lids, decanters, punch bowls, spoons & rests, salt/pepper sets, etc.
6911.10.45 | Porcelain or china (o/than bone china) household mugs and steins w/o attached pewter lids.
6911.10.52 | Porcelain or china (o/than bone china) hsehld tabl/kit.ware n/in specif.sets,cups o/$8 but n/o $29/dz, saucers o/$5.25 but n/o $18.75/dz,etc.
6911.10.58 | Porcelain or china (o/than bone china) hsehld tabl/kit ware n/in specif. sets, cups o/$29/dz, saucers o/$18.75/dz, bowls o/$33/dz, etc.
6911.10.60 | Porcelain or china (o/than bone china) household serviette rings.
6911.10.80 | Porcelain or china (o/than bone china) household tableware & kitchenware, not in specified sets, nesoi.
6911.90.00 | Porcelain or china (o/than bone china) household and toilet articles (other than tableware or kitchenware), nesoi.
6912.00.10 | Course-grained earthen/stoneware tabl & kitchware; fine-grain earthenware tabl & kitch.ware w/reddish body & lustrous colored/mottled glaze.
6912.00.20 | Ceramic (o/than porcelain or china) hotel, restaurant or nonhousehold tableware and kitchenware.
6912.00.35 | Ceramic (o/than porcelain or china) household table and kitchenware, in sets in which aggregate val. of arts./US note 6(b) n/o $38.
6912.00.39 | Ceramic (o/than porcelain or china) household table and kitchenware, in sets in which aggregate val. of arts./US note 6(b) o/$38.
6912.00.41 | Ceramic (o/than porcelain or china) hsehld steins w/pewter lids, decanters, punch bowls, spoons & rests, salt/pepper sets, etc.
6912.00.44 | Ceramic (o/than porcelain or china) household mugs and steins w/o attached pewter lids.
6912.00.45 | Ceramic (o/than porcelain or china) household tabl/kitch.ware,n/in specif. sets, cups o/$5.25/dz, saucers o/$3/dz, etc.
6912.00.46 | Ceramic (o/than porcelain or china) household serviette rings.
6912.00.48 | Ceramic (o/than porcelain or china) household tableware and kitchenware, nesoi.
6912.00.50 | Ceramic (o/than porcelain or china) household articles and toilet articles (o/than table and kitchenware), nesoi.
6913.10.10 | Porcelain or china statues, statuettes & handmade flowers, valued o/$2.50 each, of original work by professional sculptors.
6913.10.20 | Bone china statuettes and other ornamental articles, nesoi.
6913.10.50 | Porcelain or china (o/than bone china) statuettes and other ornamental articles, nesoi.
6913.90.10 | Ceramic (o/than porcelain or china) statues, statuettes, handmade flowers, val. o/$2.50 each, of original work by professional sculptors.
6913.90.20 | Ornamental articles of ceramic tile.
6913.90.30 | Earthenware ornamental articles, having a reddish-colored body and a lustrous glaze of differing colors.
6913.90.50 | Ceramic (o/than porcelain, china or eartherware) ornamental articles, nesoi.
7013.10.10 | Transparent glass-ceramic kitchenware 75% by vol. crystallilne, of lithium aluminosilicate, w/low lin. coefficient of expansion.
7013.10.50 | Glass-ceramic ware of a kind used for household, office, indoor decoration or similar purposes, nesoi.
7013.22.10 | Stemware drinking glasses of lead crystal, valued n/over $1 each.
7013.22.20 | Stemware drinking glasses of lead crystal, valued o/$1 but n/over $3 each.
7013.22.30 | Stemware drinking glasses of lead crystal, valued o/$3 but n/over $5 each.
7013.22.50 | Stemware drinking glasses of lead crystal, valued over $5 each.
7013.28.05 | Stemware of pressed and toughened (specially tempered) glass, o/than lead crystal.
7013.28.10 | Stemware, o/than of pressed and toughened glass, o/than lead crystal, valued n/over $0.30 each.
7013.28.20 | Stemware, o/than of pressed and toughened glass, o/than lead crystal, valued o/$0.30 but n/over $3 each.
7013.28.30 | Stemware, o/than of pressed and toughened glass, o/than lead crystal, cut or engraved, valued o/$3 but n/over $5 each.
7013.28.40 | Stemware, o/than of pressed and toughened glass, o/than lead crystal, cut or engraved, valued over $5 each.
7013.28.50 | Stemware, o/than of pressed and toughened glass, o/than lead crystal, not cut or engraved, valued o/$3 but n/over $5 each.
7013.28.60 | Stemware, o/than of pressed and toughened glass, o/than lead crystal, not cut or engraved, valued over $5 each.
7013.33.10 | Drinking glasses, nesoi, of lead crystal, valued n/over $1 each.
7013.33.20 | Drinking glasses, nesoi, of lead crystal, valued o/$1 but n/over $3 each.
7013.33.30 | Drinking glasses, nesoi, of lead crystal, valued o/$3 but n/over $5 each.
7013.33.50 | Drinking glasses, nesoi, of lead crystal, valued over $5 each.
7013.37.05 | Drinking glasses, nesoi, of pressed and toughened (specially tempered) glass, o/than lead crystal.
7013.37.10 | Drinking glasses, nesoi, o/than of pressed and toughened glass, o/than lead crystal, valued n/over $0.30 each.
7013.37.20 | Drinking glasses, nesoi, o/than of pressed and toughened glass, o/than lead crystal, valued o/$0.30 but n/over $3 each.
7013.37.30 | Drinking glasses, nesoi, o/than of pressed and toughened glass, o/than lead crystal, cut or engraved, valued o/$3 but n/over $5 each.
7013.37.40 | Drinking glasses, nesoi, o/than of pressed and toughened glass, o/than lead crystal, cut or engraved, valued over $5 each.
7013.37.50 | Drinking glasses, nesoi, o/than of pressed and toughened glass, o/than lead crystal, not cut or engraved, valued o/$3 but n/over $5 each.
7013.37.60 | Drinking glasses, nesoi, o/than of pressed and toughened glass, o/than lead crystal, not cut or engraved, valued over $5 each.
7013.41.10 | Glassware for table or kitchen purposes (o/than drinking glasses), of lead crystal, valued n/over $1 each.
7013.41.20 | Glassware for table or kitchen purposes (o/than drinking glasses), of lead crystal, valued over $1 but n/over $3 each.
7013.41.30 | Glassware for table or kitchen purposes (o/than drinking glasses), of lead crystal, valued over $3 but n/over $5 each.
7013.41.50 | Glassware for table or kitchen purposes (o/than drinking glasses), of lead crystal, valued over $5 each.
7013.42.10 | Glassware for table or kitchen purposes (o/than drinking glasses), of pressed and toughened low coefficient of heat expansion glass.
7013.42.20 | Glassware for table or kitchen purposes (o/than drinking glasses), of low coefficient of heat expansion glass, n/o $3 each.
7013.42.30 | Glassware for table or kitchen purposes (o/than drinking glasses), of low coefficient of heat expansion glass, over $3 but n/o $5 each.
7013.42.40 | Glassware for table or kitchen purposes (o/than drinking glasses), of low coefficient of heat expansion, over $5 each.
7013.49.10 | Glassware for table or kitchen purposes (o/than drinking glasses), of pressed and toughened glass, nesoi.
7013.49.20 | Glassware for table or kitchen purposes (o/than drinking glasses), nesoi, valued n/over $3 each.
7013.49.30 | Glassware for table or kitchen purposes (o/than drinking glasses), nesoi, cut or engraved, valued over $3 but n/over $5 each.
7013.49.40 | Glassware for table or kitchen purposes (o/than drinking glasses), nesoi, cut or engraved, valued over $5 each.
7013.49.50 | Glassware for table or kitchen purposes (o/than drinking glasses), nesoi, n/cut or engraved, valued over $3 but n/o $5 each.
7013.49.60 | Glassware for table or kitchen purposes (o/than drinking glasses), nesoi, n/cut or engraved, valued over $5 each.
7013.91.10 | Glassware for toilet/office/indoor decor. & similar purposes, of lead crystal, valued n/over $1 each.
7013.91.20 | Glassware for toilet/office/indoor decor. & similar purposes, of lead crystal, valued over $1 but n/over $3 each.
7013.91.30 | Glassware for toilet/office/indoor decor. & similar purposes, of lead crystal, valued over $3 but n/over $5 each.
7013.91.50 | Glassware for toilet/office/indoor decor. & similar purposes, of lead crystal, valued over $5 each.
7013.99.10 | Glassware, nesoi, decorated/colored within the body prior to solidification; millefiori glassware; glassware colored & w/bubbles etc.
7013.99.20 | Glassware for toilet/office/indoor decor. & similar purposes, of pressed and toughened (specially tempered) glass.
7013.99.30 | Smokers' articles of glass, nesoi; perfume bottles of glass fitted with ground glass stoppersk, nesoi.
7013.99.35 | Votive-candle holders of glass, nesoi.
7013.99.40 | Glassware for toilet/office/indoor decor. or similar purposes, nesoi, valued n/over $0.30 each.
7013.99.50 | Glassware for toilet/office/indoor decor. or similar purposes, nesoi, valued over $0.30 but n/over $3 each.
7013.99.60 | Glassware for toilet/office/indoor decor. or similar purposes, nesoi, cut or engraved, valued over $3 but n/over $5 each.
7013.99.70 | Glassware for toilet/office/indoor decor. or similar purposes, nesoi, cut or engraved, valued over $5 each.
7013.99.80 | Glassware for toilet/office/indoor decor. or similar purposes, nesoi, n/cut or engraved, valued over $3 but n/over $5 each.
7013.99.90 | Glassware for toilet/office/indoor decor. or similar purposes, nesoi, n/cut or engraved, valued over $5 each.
7015.10.00 | Glasses, curved, bent, hollowed, or the like (but not optically worked), for corrective spectacles.
7015.90.10 | Watch glasses, round.
7015.90.20 | Watch glasses, not round.
7015.90.50 | Clock glasses; glasses curved, bent, hollowed, etc. for noncorrective spectacles; hollow spheres & segments for glasses; all n/opt. wkd.
7018.90.10 | Glass eyes, except prosthetic articles.
7019.19.30 | Glass fiber chopped strands of a length more than 50 mm.
7019.40.90 | Woven glass fiber fabrics of rovings, o/30 cm wide, colored, other than fiberglass tire cord fabric.
7101.10.30 | Natural pearls, graded and temporarily strung for convenence of transport.
7101.10.60 | Natural pearls, not strung, mounted or set.
7101.21.00 | Cultured pearls, unworked.
7101.22.30 | Cultured pearls, worked, graded and temporarily strung for convenience of transport.
7101.22.60 | Cultured pearls, worked, not strung, mounted or set.
7102.10.00 | Diamonds, unsorted, whether or not worked.
7102.31.00 | Nonindustrial diamonds, unworked or simply sawn, cleaved or bruted.
7102.39.00 | Nonindustrial diamonds, worked, but not mounted or set.
7103.10.20 | Precious stones (o/than diamonds) & semiprecious stones, unworked.
7103.10.40 | Precious stones (o/than diamonds) & semiprecious stones, simply sawn or roughly shaped.
7103.91.00 | Rubies, sapphires and emeralds, worked, whether or not graded, but n/strung (ex. ungraded temporarily strung), mounted or set.
7103.99.10 | Precious or semiprecious stones, nesoi, cut but not set and suitable for use in the manufacture of jewelry.
7103.99.50 | Precious or semiprecious stones, nesoi, worked, whether or not graded, but n/strung (ex. ungraded temporarily strung), mtd. or set.
7104.10.00 | Piezo-electric quartz.
7104.20.00 | Synthetic or reconstructed precious or semiprecious stones, unworked or simply sawn or roughly shaped.
7104.90.10 | Synthetic or reconstructed precious or semiprecious stones, cut but not set & suitable for use in the manufacture of jewelry.
7104.90.50 | Synth.or reconstruct. precious or semiprecious stones, wkd, whether or not graded, but n/strung (ex.ungraded temp. strung), mtd./set,nesoi.
7113.11.10 | Silver rope, curb, etc. in continuous lengths, whether or not plated/clad with other precious metal, suitable for jewelry manufacture.
7113.11.20 | Silver articles of jewelry and parts thereof, nesoi, valued not over $18 per dozen pieces or parts.
7113.11.50 | Silver articles of jewelry and parts thereof, nesoi, valued over $18 per dozen pieces or parts.
7113.19.10 | Precious metal (o/than silver) rope, curb, etc. in continuous lengths, whether or not plated/clad precious metal, for jewelry manufacture.
7113.19.21 | Gold rope necklaces and neck chains.
7113.19.25 | Gold mixed link necklaces and neck chains.
7113.19.29 | Gold necklaces and neck chains (o/than of rope or mixed links).
7113.19.30 | Precious metal (o/than silver) clasps and parts thereof.
7113.19.50 | Precious metal (o/than silver) articles of jewelry and parts thereo, whether or not plated or clad with precious metal,nesoi.
7113.20.10 | Base metal clad w/precious metal, rope, curb & like articles in continuous lengths, suitable for use in jewelry manufacture.
7113.20.21 | Base metal clad w/gold rope necklaces and neck chains.
7113.20.25 | Base metal clad w/gold mixed link necklaces and neck chains.
7113.20.29 | Base metal clad w/gold necklaces and neck chains, nesoi.
7113.20.30 | Base metal clad w/precious metal clasps and parts thereof.
7113.20.50 | Base metal clad w/precious metal articles of jewelry and parts thereof, nesoi.
7116.10.10 | Natural pearl articles.
7116.10.25 | Cultured pearl articles.
7116.20.05 | Jewelry articles of precious or semiprecious stones, valued not over $40 per piece.
7116.20.15 | Jewelry articles of precious or semiprecious stones, valued over $40 per piece.
7116.20.30 | Semiprecious stones (except rock crystal), graded and strung temporarily for convenience of transport.
7116.20.35 | Semiprecious stone (except rock crystal) figurines.
7116.20.40 | Semiprecious stone (except rock crystal) articles (other than jewelry and figurines).
7116.20.50 | Precious stone articles,nesoi.
7117.11.00 | Cuff links and studs of base metal (whether or not plated w/precious metal).
7117.19.05 | Toy jewelry rope, curb, cable, chain, etc, of base metal (whether or not plated w/prec. metal), val. n/o 8 cents each.
7117.19.15 | Rope, curb, cable, chain, etc., of base metal (whether or n/plated w/prec. metal), val. n/over 33 cents/meter for jewelry mfr.
7117.19.20 | Rope, curb, cable, chain, etc., of base metal (whether or n/plated w/prec. metal), val. o/33 cents/meter, for jewelry mfr.
7117.19.30 | Religious articles of a devotional character, design. to be carried on the person, of base metal (whether or not plated with precious metal).
7117.19.60 | Toy jewelry (o/than rope, curb, cable, chain, etc.) of base metal, val. not over 8 cents each.
7117.19.90 | Imitation jewelry (o/than toy jewelry & rope, curb, cable, chain, etc.), of base metal (wheth. or n/plated w/prec.metal), nesoi.
7117.90.10 | Necklaces wholly of plastic shapes on a fiber string, valued not over 30 cents per dozen.
7117.90.20 | Rosaries and chaplets of a purely devotional character for personal use, of a material o/than prec. or base metals, nesoi.
7117.90.30 | Religious articles of a purely devotional character designed to be carried on the person, nesoi.
7117.90.45 | Toy jewelry (except pts.), other than necklaces of plastic shapes, not of base metal, n/o 20 cents/dozen pcs.
7117.90.55 | Imitation jewelry nesoi, not of base metal, n/o 20 cents/doz. pcs or pts.
7117.90.60 | Toy jewelry (except pts.), not of base metal, n/o 8 cents each.
7117.90.75 | Imitation jewelry of plastics, nesoi, over 20 cents/dozen pcs or pts.
7117.90.90 | Imitation jewelry not of base metal or plastics, nesoi, over 20 cents/dozen pcs or pts.
7118.10.00 | Coin (other than gold coin), not being legal tender.
7118.90.00 | Coins, nesoi.
7206.10.00 | Iron and nonalloy steel ingots.
7206.90.00 | Iron and nonalloy steel in primary forms (o/than ingots).
7207.11.00 | Iron or nonalloy steel semifinished products, w/less than 0.25% carbon, w/rect. cross sect.(incl. sq.), w/width less than twice thickness.
7207.12.00 | Iron or nonalloy steel semifinished products, w/less than 0.25% carbon, w/rect. cross sect. (exclud. sq.), nesoi.
7207.19.00 | Iron or nonalloy steel semifinished products, w/less than 0.25% carbon, o/than w/rect. cross section.
7207.20.00 | Iron or nonalloy steel semifinished products, w/0.25% or more of carbon.
7208.10.15 | Iron/nonalloy steel, width 600mm+, hot-rolled flat-rolled products, w/patterns in relief, in coils, pickled, not clad/plated/coated.
7208.10.30 | Iron/nonalloy steel,width 600mm+,hot-rolled flat-rolled product,in coil,w/pattern in relief,w/thick 4.75mm+,not pickld,not clad/plated/coatd.
7208.10.60 | Iron/nonalloy steel,width 600mm+,hot-rolled flat-rolled product,in coil,w/pattern in relief,w/thick <4.75mm,not pickld,not clad/plated/coatd.
7208.25.30 | Nonalloy hi-strength steel, width 600mm+, hot-rolled flat-rolled products, in coils, w/thick 4.75mm+, pickled, not clad/plated/coated.
7208.25.60 | Iron/nonalloy steel, width 600mm+, hot-rolled flat-rolled products, in coils, w/thick 4.7mm or more, pickled, not clad/plated/coated.
7208.26.00 | Iron/nonalloy steel, width 600mm+, hot-rolled flat-rolled products, in coils, w/thick 3mm or mor but less 4.75mm, pickled, not clad/plated.
7208.27.00 | Iron/nonalloy steel, width 600mm+, hot-rolled flat-rolled products, in coils, w/thick less than 3mm, pickled, not clad/plated/coated.
7208.36.00 | Iron/nonalloy steel, width 600mm+, hot-rolled flat-rolled products, in coils, w/thick o/10mm, not pickled/clad/plated/coated.
7208.37.00 | Iron/nonalloy steel, width 600mm+, hot-rolled flat-rolled products, in coils, w/thick 4.75mm or more & n/o 10mm, not pickled/clad/plated.
7208.38.00 | Iron/nonalloy steel, width 600mm+, hot-rolled flat-rolled products, in coils, w/thick 3mm or more & less 4.75mm, not pickld/clad/plated.
7208.39.00 | Iron/nonalloy steel, width 600mm+, hot-rolled flat-rolled products, in coils, w/thick less than 3mm, not pickled/clad/plated/coated.
7208.40.30 | Iron/nonalloy steel, width 600mm+, hot-rolled flat-rolled products, w/pattern in relief,not coils,w/thick 4.75 or more, n/clad/plated/coated.
7208.40.60 | Iron/nonalloy steel, width 600mm+, hot-rolled flat-rolled products, w/pattern in relief,not coils,w/thick < 4.75mm, not clad/plated/coated.
7208.51.00 | Iron/nonalloy steel, width 600mm+, hot-rolled flat-rolled products, nesoi, not in coils, w/thick o/10mm, not clad/plated/coated.
7208.52.00 | Iron/nonalloy steel, width 600mm+, hot-rolled flat-rolled products, neosi, not in coils, w/thick 4.75mm+ but n/o 10mm, not clad/plated/.
7208.53.00 | Iron/nonalloy steel, width 600mm+, hot-rolled flat-rolled products, neosi, not in coils, w/thick 3mm+ but < 4.75mm, not clad/plated/coated.
7208.54.00 | Iron/nonalloy steel, width 600mm+, hot-rolled flat-rolled products, neosi, not in coils, w/thick less than 3mm, not clad/plated/coated.
7208.90.00 | Iron/nonalloy steel, width 600mm+, hot-rolled flat-rolled products, nesoi, not clad/plated/coated.
7209.15.00 | Iron/nonalloy steel, width 600mm+, cold-rolled flat-rolled products, in coils, w/thick 3mm+, not clad/plated/coated.
7209.16.00 | Iron/nonalloy steel, width 600mm+, cold-rolled flat-rolled products, in coils, w/thick o/1mm but less than 3mm, not clad/plated/coated.
7209.17.00 | Iron/nonalloy steel, width 600mm+, cold-rolled flat-rolled products, in coils, w/thick 0.5mm or more but n/o 1mm, not clad/plated/coated.
7209.18.15 | Nonalloy hi-strength steel, width 600mm+, cold-rolled flat-rolled products, in coils, w/thick less than 0.5mm, not clad/plated/coated.
7209.18.25 | Nonalloy steel(blackplate), width 600mm+, cold-rolled flat-rolled products, in coils, w/thick less than 0.361mm, not clad/plated/coated.
7209.18.60 | Iron/nonalloy steel, width 600mm+, cold-rolled flat-rolled products, in coils, w/thick 0.361mm+ but less 5mm, not clad/plated/coated.
7209.25.00 | Iron/nonalloy steel, width 600mm+, cold-rolled flat-rolled products, not in coils, w/thick 3mm or more, not clad/plated/coated.
7209.26.00 | Iron/nonalloy steel, width 600mm+, cold-rolled flat-rolled products, not in coils, w/thick o/1mm but less than 3mm, not clad/plated/coated.
7209.27.00 | Iron/nonalloy steel, width 600mm+, cold-rolled flat-rolled products, not in coils, w/thick 0.5mm+ but n/o 1mm, not clad/plated/coated.
7209.28.00 | Iron/nonalloy steel, width 600mm+, cold-rolled flat-rolled products, not in coils, w/thick less than 0.5mm, not clad/plated/coated.
7209.90.00 | Iron/nonalloy steel, width 600mm+, flat-rolled products further worked than cold-rolled, not clad/plated/coated, nesoi.
7210.11.00 | Iron/nonalloy steel, width 600mm+, flat-rolled products, plated or coated with tin, w/thick. 0.5 mm or more.
7210.12.00 | Iron/nonalloy steel, width 600mm+, flat-rolled products, plated or coated with tin, less than 0.5 mm thick.
7210.20.00 | Iron/nonalloy steel, width 600mm+, flat-rolled products, plated or coated with lead, including terneplate.
7210.30.00 | Iron/nonalloy steel, width 600mm+, flat-rolled products, electrolytically plated or coated with zinc.
7210.41.00 | Iron/nonalloy steel, width 600mm+, flat-rolled products, plated or coated with zinc (other than electrolytically), corrugated.
7210.49.00 | Iron/nonalloy steel, width 600mm+, flat-rolled products, plated or coated with zinc (other than electrolytically), not corrugated.
7210.50.00 | Iron/nonalloy steel, width 600mm+, flat-rolled products, plated or coated with chromium oxides or with chromium and chromium oxides.
7210.61.00 | Iron/nonalloy steel, width 600mm+, flat-rolled products, plated or coated with aluminum-zinc alloys.
7210.69.00 | Iron/nonalloy steel, width 600mm+, flat-rolled products, plated or coated with aluminum o/than aluminum-zinc alloy.
7210.70.30 | Iron/nonalloy steel, width 600mm+, flat-rolled products, painted/varnished or coated w/plastic but not plated/coated or clad w/metal.
7210.70.60 | Iron/nonalloy steel, width 600mm+, flat-rolled products, painted/varnished or coated w/plastic, nesoi.
7210.90.10 | Iron/nonalloy steel, width 600mm+, flat-rolled products, clad.
7210.90.60 | Iron/nonalloy steel, width 600mm+, flat-rolled products, electrolytically coated or plated with base metal, nesoi.
7210.90.90 | Iron/nonalloy steel, width 600mm+, flat-rolled products, plated or coated, nesoi.
7211.13.00 | Iron/nonalloy steel, width less th/600mm, hot-rolled flat-rolled universal mill plate, not clad/plated/coated.
7211.14.00 | Iron/nonalloy steel, width less th/600mm, hot-rolled flat-rolled products, nesoi, w/thick of 4.75mm or more, not clad/plated/coated.
7211.19.15 | Nonalloy hi-strength steel, width less th/300mm, hot-rolled flat-rolled products, not clad/plated/coated.
7211.19.20 | Iron/nonalloy steel, neosi, width less th/300mm, hot-rolled flat-rolled products, w/thick o/1.25 mm but n/o 4.75 mm, n/clad/plated/coated.
7211.19.30 | Iron/nonalloy steel, neosi, width less th/300mm, hot-rolled flat-rolled products, w/thick 1.25mm or less, not clad/plated/coated.
7211.19.45 | Nonalloy hi-strength steel, width 300mm+ but less th/600mm, hot-rolled flat-rolled products, not clad/plated/coated.
7211.19.60 | Iron/nonalloy steel, neosi, width 300mm+ but less th/600mm, hot-rolled flat-rolled products, pickled, not clad/plated/coated.
7211.19.75 | Iron/nonalloy steel, neosi, width 300mm+ but less th/600mm, hot-rolled flat-rolled products, not pickled, not clad/plated/coated.
7211.23.15 | Nonalloy hi-strength steel, width less th/300mm, cold-rolled flat-rolled, <0.25% carbon, w/thick o/1.25mm, not clad/plated/coated.
7211.23.20 | Iron/nonalloy steel, nesoi, width less th/300mm, cold-rolled flat-rolled, <0.25% carbon, w/thick o/1.25mm, not clad/plated/coated.
7211.23.30 | Iron/nonalloy steel, nesoi, width less th/300mm, cold-rolled flat-rolled, <0.25% carbon, w/thick o/0.25mm n/o 1.25mm, not clad/plated.
7211.23.45 | Iron/nonalloy steel, nesoi, width less th/300mm, cold-rolled flat-rolled, <0.25% carbon, w/thick n/o 0.25mm, not clad/plated/coated.
7211.23.60 | Iron/nonalloy steel, nesoi, width 300mm+ but less th/600mm, cold-rolled flat-rolled, <0.25% carbon, not clad/plated/coated.
7211.29.20 | Iron/nonalloy steel, width less th/300mm, cold-rolled flat-rolled, w/0.25% or more carbon, w/thick o/0.25mm, not clad/plated/coated.
7211.29.45 | Iron/nonalloy steel, width less th/300mm, cold-rolled flat-rolled, w/0.25% or more carbon, w/thick 0.25mm or less, not clad/plated/coated.
7211.29.60 | Iron/nonalloy steel, width 300mm+ but less th/600mm, cold-rolled flat-rolled, w/0.25% or more carbon, not clad/plated/coated.
7211.90.00 | Iron/nonalloy steel, width less th/600mm, flat-rolled further worked than cold-rolled, not clad, plated or coated.
7212.10.00 | Iron/nonalloy steel, width less th/600mm, flat-rolled products, plated or coated with tin.
7212.20.00 | Iron/nonalloy steel, width less th/600mm, flat-rolled products, electrolytically plated or coated with zinc.
7212.30.10 | Iron/nonalloy steel, width less th/300mm, flat-rolled products, plated/coated with zinc (other than electrolytically), w/thick o/0.25mm.
7212.30.30 | Iron/nonalloy steel, width less th/300mm, flat-rolled products, plated/coated w/zinc (other than electrolytically), w/thick 0.25mm or less.
7212.30.50 | Iron/nonalloy steel, width 300+ but less th/600mm, flat-rolled products, plated or coated with zinc (other than electrolytically).
7212.40.10 | Iron/nonalloy steel, width less th/300mm, flat-rolled products, painted, varnished or coated w/plastic.
7212.40.50 | Iron/nonalloy steel, width 300+ but less th/600mm, flat-rolled products, painted, varnished or coated w/plastic.
7212.50.00 | Iron/nonalloy steel, width less th/600mm, flat-rolled products, plated or coated nesoi.
7212.60.00 | Iron/nonalloy steel, width less th/600mm, flat-rolled products, clad.
7213.10.00 | Iron/nonalloy, concrete reinforcing bars and rods in irregularly wound coils, hot-rolled.
7213.20.00 | Free-cutting steel, bars and rods in irregularly wound coils, hot-rolled.
7213.91.30 | Iron/nonalloy steel, nesoi, hot-rolled bars & rods in irregularly wound coils, w/cir. x-sect. diam. <14mm, n/tempered/treated/partly mfd.
7213.91.45 | Iron/nonalloy steel, nesoi, hot-rolled bars & rods in irregularly wound coils, w/cir. x-sect. diam. <14mm, w/0.6%+ of carbon, nesoi.
7213.91.60 | Iron/nonalloy steel, nesoi, hot-rolled bars & rods in irregularly wound coils, w/cir. x-sect. diam. <14mm, w/less th/0.6% carbon, nesoi.
7213.99.00 | Iron/nonalloy steel, nesoi, hot-rolled bars & rods, w/cir. x-sect. diam 14+mm or non-circ. x-sect., in irregularly wound coils, nesoi.
7214.10.00 | Iron/nonalloy steel, forged bars and rods, not in coils.
7214.20.00 | Iron/nonalloy steel, concrete reinforcing bars and rods, not further worked than hot-rolled, hot-drawn or hot-extruded, n/coils.
7214.30.00 | Free-cutting steel, bars and rods, not further worked than hot-rolled, hot-drawn or hot-extruded, n/coils, nesoi.
7214.91.00 | Iron/nonalloy steel, bars and rods, not further worked than hot-rolled, hot-drawn or hot-extruded, w/rectangular (o/than square) X-section.
7214.99.00 | Iron/nonalloy steel, bars and rods, not further worked than hot-rolled, hot-drawn or hot-extruded, w/non-rectangular X-sect, not in coils.
7215.10.00 | Free-cutting steel, bars and rods, not further worked than cold-formed or cold-finished, not in coils.
7215.50.00 | Iron/nonalloy steel nesoi, bars and rods, not further wkd. than cold-formed or cold-finished, not in coils.
7215.90.10 | Iron/nonalloy steel, bars and rods, not cold-formed, plated or coated with metal.
7215.90.30 | Iron/nonalloy steel, bars and rods, cold-formed, plated or coated with metal.
7215.90.50 | Iron/nonalloy steel, bars and rods, further worked than cold-formed or cold-finished, nesoi.
7216.10.00 | Iron/nonalloy steel, U,I or H-sections, not further worked than hot-rolled, hot-drawn or extruded, w/height under 80 mm.
7216.21.00 | Iron/nonalloy steel, L-sections, not further worked than hot-rolled, hot-drawn or extruded, w/height under 80 mm.
7216.22.00 | Iron/nonalloy steel, T-sections, not further worked than hot-rolled, hot-drawn or extruded, w/height under 80 mm.
7216.31.00 | Iron/nonalloy steel, U-sections, not further worked than hot-rolled, hot-drawn or extruded, w/height of 80 mm or more.
7216.32.00 | Iron/nonalloy steel, I-sections (standard beams), not further worked than hot-rolled, hot-drawn or extruded, w/height 80 mm or more.
7216.33.00 | Iron/nonalloy steel, H-sections, not further worked than hot-rolled, hot-drawn or extruded, w/height 80 mm or more.
7216.40.00 | Iron/nonalloy steel, L or T-sections, not further worked than hot-rolled, hot-drawn or extruded, w/height 80 mm or more.
7216.50.00 | Iron/nonalloy steel, angles, shapes & sections nesoi, not further worked than hot-rolled, hot-drawn or extruded.
7216.99.00 | Iron/nonalloy steel, angles, shapes & sections nesoi, further wkd. than cold-formed or cold-finished and not from flat-rolled products.
7217.10.10 | Iron/nonalloy steel, flat wire, <0.25% carbon, not plated or coated, w/thick n/o 0.25 mm.
7217.10.20 | Iron/nonalloy steel, flat wire, <0.25% carbon, not plated or coated, w/thick o/0.25mm but n/o 1.25 mm.
7217.10.30 | Iron/nonalloy steel, flat wire, <0.25% carbon, not plated or coated, w/thick o/1.25 mm.
7217.10.40 | Iron/nonalloy steel, round wire, <0.25% carbon, not plated or coated, w/diameter less than 1.5 mm.
7217.10.50 | Iron/nonalloy steel, round wire, <0.25% carbon, not plated or coated, w/diameter of 1.5 mm or more.
7217.10.60 | Iron/nonalloy steel, wire (other than flat or round), <0.25% carbon, not plated or coated.
7217.10.70 | Iron/nonalloy steel, flat wire, w/0.25% or more carbon, not plated or coated.
7217.10.80 | Iron/nonalloy steel, round wire, w/0.25% or more carbon, not plated or coated.
7217.10.90 | Iron/nonalloy steel, wire (other than flat or round), w/0.25% or more of carbon, not plated or coated.
7217.20.15 | Iron/nonalloy steel, flat wire, plated or coated with zinc.
7217.20.30 | Iron/nonalloy steel, round wire, <0.25% carbon, plated or coated with zinc, w/diameter of 1.5 mm or more.
7217.20.45 | Iron/nonalloy steel, round wire, w/0.25% or more carbon and/or <1.5mm diam, plated or coated with zinc.
7217.20.60 | Iron/nonalloy steel, wire (other than flat or round), <0.25% carbon, plated or coated with zinc.
7217.20.75 | Iron/nonalloy steel, wire (other than flat or round), w/0.25% or more of carbon, plated or coated with zinc.
7217.30.15 | Iron/nonalloy steel, flat wire, plated or coated with base metal other than zinc.
7217.30.30 | Iron/nonalloy steel, round wire, <0.25% carbon, plated or coated with base metal other than zinc, w/diam. of 1.5 mm or more.
7217.30.45 | Iron/nonalloy steel, round wire, w/0.25% or more carbon and/or <1.5mm diam, plated or coated with base metal other than zinc.
7217.30.60 | Iron/nonalloy steel, wire (other than flat or round), <0.25% carbon, plated or coated with base metal other than zinc.
7217.30.75 | Iron/nonalloy steel, wire (other than flat or round), w/0.25% or more of carbon, plated or coated with base metal other than zinc.
7217.90.10 | Iron/nonalloy steel, wire, coated with plastics.
7217.90.50 | Iron/nonalloy steel, wire, plated or coated with materials other than base metals or plastics.
7218.10.00 | Stainless steel, ingots and other primary forms.
7218.91.00 | Stainless steel, semifinished products of rectangular (other than square) cross-section.
7218.99.00 | Stainless steel, semifinished products, other than of rectangular (other than square) cross-section.
7219.11.00 | Stainless steel, width 600mm+, hot-rolled flat-rolled products, in coils, w/thickness o/10 mm.
7219.12.00 | Stainless steel, width 600mm+, hot-rolled flat-rolled products, in coils, w/thick. 4.75 mm or more but n/o 10 mm.
7219.13.00 | Stainless steel, width 600mm+, hot-rolled flat-rolled products, in coils, w/thick. 3 mm or more but less than 4.75 mm.
7219.14.00 | Stainless steel, width 600mm+, hot-rolled flat-rolled products, in coils, w/thickness less than 3 mm.
7219.21.00 | Stainless steel, width 600mm+, hot-rolled flat-rolled products, not in coils, w/thickness o/10 mm.
7219.22.00 | Stainless steel, width 600mm+, hot-rolled flat-rolled products, not in coils, w/thick. 4.75 mm or more but n/o 10 mm.
7219.23.00 | Stainless steel, width 600mm+, hot-rolled flat-rolled products, not in coils, w/thick. 3 mm or more but less than 4.75 mm.
7219.24.00 | Stainless steel, width 600mm+, hot-rolled flat-rolled products, not in coils, w/thickness less than 3 mm.
7219.31.00 | Stainless steel, width 600mm+, cold-rolled flat-rolled products, w/thickness of 4.75 mm or more.
7219.32.00 | Stainless steel, width 600mm+, cold-rolled flat-rolled products, w/thickness of 3 mm or more but less than 4.75 mm.
7219.33.00 | Stainless steel, width 600mm+, cold-rolled flat-rolled products, w/thickness o/1 mm but less than 3 mm.
7219.34.00 | Stainless steel, width 600mm+, cold-rolled flat-rolled products, w/thickness of 0.5 mm or more but n/o 1 mm.
7219.35.00 | Stainless steel, width 600mm+, cold-rolled flat-rolled products, w/thickness of less than 0.5 mm.
7219.90.00 | Stainless steel, width 600mm+, flat-rolled products, nesoi, further worked than cold-rolled.
7220.11.00 | Stainless steel, width less th/600mm, hot-rolled flat-rolled products, w/thickness of 4.75 mm or more.
7220.12.10 | Stainless steel, width 300m+ but less th/600mm, hot-rolled flat-rolled products, w/thickness of less than 4.75 mm.
7220.12.50 | Stainless steel, width less th/300mm, hot-rolled flat-rolled products, w/thickness of less than 4.75 mm.
7220.20.10 | Stainless steel, width 300+ but less th/600mm, cold-rolled flat-rolled products.
7220.20.60 | Stainless steel, width less th/300mm, cold-rolled flat-rolled products, w/thickness o/1.25 mm.
7220.20.70 | Stainless steel, width less th/300mm, cold-rolled flat-rolled products, w/thickness of 0.25 mm but n/o 1.25 mm.
7220.20.80 | Stainless razor blade steel, width less th/300mm, cold-rolled flat-rolled, w/thickness n/o 0.25 mm.
7220.20.90 | Stainless steel (o/than razor blade steel), width less th/300mm, cold-rolled flat-rolled products, w/thickness n/o 0.25 mm.
7220.90.00 | Stainless steel, width less th/600mm, flat-rolled products further worked than cold-rolled.
7221.00.00 | Stainless steel, bars and rods in irregularly wound coils, hot-rolled.
7222.11.00 | Stainless steel, bars and rods, hot-rolled, hot-drawn or extruded, of circular cross-section.
7222.19.00 | Stainless steel, bars and rods, hot-rolled, hot-drawn or extruded, other than of circular cross-section.
7222.20.00 | Stainless steel, bars and rods, not further worked than cold-formed or cold-finished, nesoi.
7222.30.00 | Stainless steel, bars and rods, further worked than cold-formed or cold-finished, nesoi.
7222.40.30 | Stainless steel, angles, shapes & sections, hot-rolled, not drilled/punched or otherwise advanced.
7222.40.60 | Stainless steel, angles, shapes & sections, other than hot-rolled and not drilled/punched or otherwise advanced.
7223.00.10 | Stainless steel, round wire.
7223.00.50 | Stainless steel, flat wire.
7223.00.90 | Stainless steel, wire (other than round or flat wire).
7224.10.00 | Alloy (o/than stainless) steel, ingots and other primary forms.
7224.90.00 | Alloy (o/than stainless) steel, semifinished products.
7225.11.00 | Alloy silicon electrical steel (grain-oriented), width 600mm+, flat-rolled products.
7225.19.00 | Alloy silicon electrical steel (other than grain-oriented), width 600mm+, flat-rolled products.
7225.30.11 | Alloy tool steel, width 600mm+, hot-rolled flat-rolled products, in coils, w/thick. of 4.75 mm or more.
7225.30.30 | Alloy (o/th stainless, silicon elect., hi-speed, or tool) steel, width 600mm+, hot-rolled flat-rolled products, in coils, w/thick 4.75mm+.
7225.30.51 | Alloy tool steel, width 600mm+, hot-rolled flat-rolled products, in coils, w/thick. of less than 4.75 mm.
7225.30.70 | Alloy (o/th stainless, silicon elect., hi-speed, or tool) steel, width 600mm+, hot-rolled flat-rolled prod., in coils, w/thick less 4.75mm.
7225.40.11 | Alloy tool steel, width 600mm+, hot-rolled flat-rolled products, n/coils, w/thick. of 4.75 mm or more.
7225.40.30 | Alloy (o/th stainless, silicon elect., hi-speed, or tool) steel, width 600mm+, hot-rolled flat-rolled products, n/coils, w/thick 4.75mm+.
7225.40.51 | Alloy tool steel, width 600mm+, hot-rolled flat-rolled products, n/coils, w/thick. of less than 4.75 mm.
7225.40.70 | Alloy (o/th stainless, silicon elect., hi-speed, or tool) steel, width 600mm+, hot-rolled flat-rolled prod., n/coils, w/thick less 4.75mm.
7225.50.11 | Alloy tool steel, width 600mm+, cold-rolled flat-rolled products.
7225.50.60 | Alloy steel (o/than tool), width 600mm+, cold-rolled flat-rolled products, w/thickness 4.75 mm or more.
7225.50.70 | Alloy heat-resisting steel, width 600mm+, cold-rolled flat-rolled products, w/thickness less than 4.75 mm.
7225.50.80 | Alloy steel (o/th heat-resisting), width 600mm+, cold-rolled flat-rolled products, w/thickness less than 4.75 mm.
7225.91.00 | Alloy steel, width 600mm+, flat-rolled products further worked than cold-rolled, electrolytically plated or coated with zinc.
7225.92.00 | Alloy steel, width 600mm+, flat-rolled products further worked than cold-rolled, plated or coated with zinc (o/than electrolytically).
7225.99.00 | Alloy steel, width 600mm+, flat-rolled products further worked than cold-rolled, nesoi.
7226.11.10 | Alloy silicon electrical steel (grain-oriented), width 300mm+ but less th/600mm, flat-rolled products.
7226.11.90 | Alloy silicon electrical steel (grain-oriented), width less th/300mm, flat-rolled products.
7226.19.10 | Alloy silicon electrical steel (o/than grain-oriented), width 300mm+ but less th/600mm, flat-rolled products.
7226.19.90 | Alloy silicon electrical steel (o/than grain-oriented), width less th/300mm, flat-rolled products.
7226.20.00 | Alloy high-speed steel, width less th/600mm, flat-rolled products of high-speed steel.
7226.91.05 | Alloy chipper knife tool steel (o/than hi-speed), width less th/600mm, hot-rolled flat-rolled products.
7226.91.15 | Alloy tool steel (o/than hi-speed/chipper knife), width 300mm+ but less th/600mm, hot-rolled flat-rolled products.
7226.91.25 | Alloy tool steel (o/than hi-speed/chipper knife), width less th/300mm, hot-rolled flat-rolled products.
7226.91.50 | Alloy steel (o/than silicon elect./tool), width less th/600mm, hot-rolled flat-rolled products, w/thickness of 4.75 mm or more.
7226.91.70 | Alloy steel (o/than silicon elect./tool), width 300mm+ but less th/600mm, hot-rolled flat-rolled products, w/thickness less than 4.75 mm.
7226.91.80 | Alloy steel (o/than silicon elect./tool), width less th/300mm, hot-rolled flat-rolled products, w/thickness less than 4.75 mm.
7226.92.10 | Alloy tool steel (o/than hi-speed), width 300mm+ but less th/600mm, cold-rolled flat-rolled products.
7226.92.30 | Alloy tool steel (o/than hi-speed), width less th/300mm, cold-rolled flat-rolled products.
7226.92.50 | Alloy steel (o/than tool), width 300mm+ but less th/600mm, cold-rolled flat-rolled products.
7226.92.70 | Alloy steel (o/than tool), width less th/300mm, cold-rolled flat-rolled products, w/thickness n/o 0.25 mm.
7226.92.80 | Alloy steel (o/than tool), width less th/300mm, cold-rolled flat-rolled products, w/thickness o/0.25 mm.
7226.99.01 | Alloy steel, width less than 600mm, flat-rolled products further worked than cold-rolled, nesoi.
7227.10.00 | Alloy high-speed steel, bars and rods in irregularly wound coils, hmot-rolled.
7227.20.00 | Alloy silico-manganese steel, bars and rods in irregularly wound coils, hot-rolled.
7227.90.10 | Alloy tool steel (o/than hi-speed), bars & rods in irregular wound coils, hot-rolled, n/tempered, treated or partly manufactured.
7227.90.20 | Alloy tool steel (o/than hi-speed), bars and rods in irregularly wound coils, hot-rolled, nesoi.
7227.90.60 | Alloy steel (o/than hi-speed/silico-mang./tool) steel, bars and rods in irregularly wound coils, hot-rolled.
7228.10.00 | Alloy high-speed steel, bars and rods, o/than hot-rolled and in irregularly wound coils.
7228.20.10 | Alloy silico-manganese steel, bars and rods, not cold-formed, o/than hot-rolled and in irregularly wound coils.
7228.20.50 | Alloy silico-manganese steel, bars and rods, cold formed, o/than hot-rolled and in irregularly wound coils.
7228.30.20 | Alloy ball-bearing tool steel, bars and rods, not further worked than hot-rolled, hot-drawn or extruded.
7228.30.40 | Alloy chipper knife tool steel, bars and rods, not cold-formed & not further worked than hot-rolled, hot-drawn or extruded.
7228.30.60 | Alloy tool steel (o/than ball-bearing/chipper knife), bars and rods, not further worked than hot-rolled, hot-drawn or extruded.
7228.30.80 | Alloy steel (o/than hi-speed, silico-mang./tool), bars and rods, not further worked than hot-rolled, hot-drawn or extruded.
7228.40.00 | Alloy steel, bars and rods, not further worked than forged.
7228.50.10 | Alloy tool steel (o/than hi-speed), bars and rods, not further worked than cold-formed or cold-finished.
7228.50.50 | Alloy steel (o/than tool), bars and rods, not further worked than cold-formed or cold-finished.
7228.60.10 | Alloy tool steel (o/than hi-speed), bars and rods, further worked than hot-rolled, forged, cold-formed or cold-finished.
7228.60.60 | Alloy steel (o/than tool), bars and rods, further worked than hot-rolled, forged but not cold-formed.
7228.60.80 | Alloy steel (o/than tool), bars and rods, cold-formed.
7228.70.30 | Alloy steel, angles, shapes and sections, hot-rolled & not drilled/not punched and not otherwise advanced.
7228.70.60 | Alloy steel, angles, shapes and sections, o/than hot-rolled & not drilled/punced and not otherwise advanced.
7228.80.00 | Alloy steel hollow drill bars and rods.
7229.20.00 | Alloy silico-manganese steel, wire.
7229.90.05 | Alloy high-speed steel, wire.
7229.90.10 | Alloy steel (o/than hi-speed/silico-mang.), flat wire.
7229.90.50 | Alloy steel (o/than hi-speed/silico-mang.), round wire.
7229.90.90 | Alloy steel (o/than hi-speed/silico-mang.), wire (o/than flat or round wire).
7301.10.00 | Iron or steel sheet piling, whether or not drilled, punched or made from assembled elements.
7302.10.10 | Iron or nonalloy steel, rails for railway or tramway tracks.
7302.10.50 | Alloy steel, rails for railway or tramway tracks.
7302.40.00 | Iron or steel, fish plates and sole plates for jointing or fixing rails.
7302.90.10 | Sleepers (cross-ties) for railway or tramway track construction of iron or steel.
7302.90.90 | Railway or tramway track construction material and other materials specialized for joing or fixing rails, of iron or steel, nesoi.
7304.11.00 | Stainless steel, seamless line pipe used for oil or gas pipelines.
7304.19.10 | Iron (o/than cast) or nonalloy steel, seamless line pipe used for oil and gas pipelines.
7304.19.50 | Alloy (other than stainless) steel, seamless line pipe used for oil or gas pipelines.
7304.22.00 | Stainless steel, seamless drill pipe, of a kind used in drilling for oil or gas.
7304.23.30 | Iron (o/than cast) or nonalloy steel, seamless drill pipe, of a kind used in drilling for oil or gas.
7304.23.60 | Alloy (other than stainless) steel, seamless drill pipe, of a kind used in drilling for oil or gas.
7304.24.30 | Stainless steel, seamless casing pipe, threaded or coupled, of a kind used in drilling for oil or gas.
7304.24.40 | Stainless steel, seamless casing pipe, not threaded or coupled, of a kind used in drilling for oil or gas.
7304.24.60 | Stainless steel, seamless tubing, of a kind used in drilling for oil or gas.
7304.29.10 | Iron (o/than cast) or nonalloy steel, seamless casing pipe, threaded or coupled, of a kind used in drilling for oil or gas.
7304.29.20 | Iron (o/than cast) or nonalloy steel, seamless casing pipe, not threaded or coupled, of a kind used in drilling for oil or gas.
7304.29.31 | Alloy (other than stainless) steel, seamless casing pipe, threaded or coupled, of a kind used in drilling for oil or gas.
7304.29.41 | Alloy (other than stainless) steel, seamless casing pipe, not threaded or coupled, of a kind used in drilling for oil or gas.
7304.29.50 | Iron (o/than cast) or nonalloy, seamless tubing, of a kind used in drilling for oil or gas.
7304.29.61 | Alloy (other than stainless) steel, seamless tubing, of a kind used in drilling for oil or gas.
7304.31.30 | Iron (o/than cast) or nonalloy steel, seamless, cold-drawn or cold-rolled, hollow bars w/circular cross section.
7304.31.60 | Iron (o/than cast) or nonalloy steel, seamless, cold-drawn or cold-rolled, tubes, pipes & hollow profiles, w/circular cross section, nesoi.
7304.39.00 | Iron (o/than cast) or nonalloy steel, seamless, not cold-drawn or cold-rolled, tubes, pipes and hollow prof., w/circular cross sect., nesoi.
7304.41.30 | Stainless steel, seamless, cold-drawn/cold-rolled, tubes, pipes and hollow profiles, w/circular cross section & extern. diam less than 19mm.
7304.41.60 | Stainless steel, seamless, cold-drawn/cold-rolled, tubes, pipes and hollow profiles, w/circular cross section & extern. diam of 19mm or more.
7304.49.00 | Stainless steel, seamless, not cold-drawn/cold-rolled, tubes, pipes and hollow profiles, w/circular cross section.
7304.51.10 | Alloy steel (o/than stainless), seamless, cold-drawn/cold-rolled, tubes, pipes, etc., w/circ. cross sect., for mfr of ball/roller bearings.
7304.51.50 | Alloy steel (o/than stainless), seamless, cold-drawn/cold-rolled, tubes, pipes and hollow profiles, w/circular cross section, nesoi.
7304.59.10 | Alloy steel (o/than stainless), seamless, n/cold-drawn/cold-rolled, tubes, pipes, etc. w/circ. cross sect., for mfr ball/roller bearings.
7304.59.20 | Alloy steel (o/than stainless), seamless, n/cold-drawn/cold-rolled, tubes, pipes, etc. w/circ. cross sect., for boilers, heaters, etc.
7304.59.60 | Heat-resisting alloy steel (o/than stainless), seamless, n/cold-drawn/cold-rolled, tubes, pipes, etc., w/circ. cross sect., nesoi.
7304.59.80 | Alloy steel (o/than heat-resist or stainless), seamless, n/cold-drawn/cold-rolled, tubes, pipes and hollow prof., w/circ. cross sect., nesoi.
7304.90.10 | Iron (o/than cast) or nonalloy steel, seamless, tubes, pipes and hollow profiles, o/than circ. cross sect., w/wall thickness of 4 mm or more.
7304.90.30 | Alloy steel (o/than stainless), seamless, tubes, pipes and hollow profiles, o/than circ. cross sect., w/wall thickness of 4 mm or more.
7304.90.50 | Iron (o/than cast) or nonalloy steel, seamless, tubes, pipes and hollow profiles, o/than circ. cross sect., w/wall thickness less than 4 mm.
7304.90.70 | Alloy steel (o/than stainless), seamless, tubes, pipes and hollow profiles, o/than circ. cross sect., w/wall thickness less than 4 mm.
7305.11.10 | Iron or nonalloy steel, seamed, w/circ. cross sect. & ext. diam o/406.4mm, line pipe, long. submerg. arc weld., used for oil/gas.
7305.11.50 | Alloy steel, seamed, circ. w/cross sect. & ext. diam o/406.4mm, line pipe, long. submerg. arc weld., used for oil/gas pipelines.
7305.12.10 | Iron or nonalloy steel, seamed, w/circ. cross sect. & ext. diam o/406.4mm, line pipe, long. welded nesoi, used for oil/gas.
7305.12.50 | Alloy steel, seamed, w/circ. cross sect. & ext. diam o/406.4mm, line pipe, long. welded nesoi, used for oil/gas pipelines.
7305.19.10 | Iron or nonalloy steel, seamed, w/circ. cross sect.& ext. diam o/406.4mm, line pipe, not long. welded, used for oil/gas.
7305.19.50 | Alloy steel, seamed, w/circ. cross sect. & ext. diam o/406.4mm, line pipe, not long. welded, used for oil/gas pipelines.
7305.20.20 | Iron or nonalloy steel, seamed, w/circ. cross sect. & ext. diam. o/406.4mm, casing pipe, threaded/coupled, of kind for drilling for oil/gas.
7305.20.40 | Iron or nonalloy steel, seamed, w/circ. cross sect. & ext. diam. o/406.4mm, casing pipe, n/threaded/coupled, of kind for drill. for oil/gas.
7305.20.60 | Alloy steel, seamed, w/circ. cross sect. & ext. diam. o/406.4mm, casing pipe, threaded/coupled, of kind for drilling for oil/gas.
7305.20.80 | Alloy steel, seamed, w/circ. cross sect. & ext. diam. o/406.4mm, casing pipe, n/threaded/coupled, of kind for drilling for oil/gas.
7305.31.20 | Steel, long. welded, w/circ. cross sect & ext. diam o/406.4mm, tapered pipes and tubes principally used as pts of illuminating arts.
7305.31.40 | Iron or nonalloy steel, long. welded, w/circ. cross sect. & ext. diam. o/406.4mm, tubes and pipes, o/th used in oil/gas drill.etc.
7305.31.60 | Alloy steel, long. welded, w/circ. cross sect. & ext. diam. o/406.4mm, tubes and pipes, o/than used in oil/gas drill. or pipelines.
7305.39.10 | Iron or nonalloy steel, weld. o/than long. weld., w/circ. x-sect. & ext. diam. o/406.4mm, tubes and pipes, o/th used in oil/gas drill.etc.
7305.39.50 | Alloy steel, weld. o/than long. weld., w/circ. x-sect. & ext. diam. o/406.4mm, tubes and pipes, o/than used in oil/gas drill. or pipelines.
7305.90.10 | Iron or nonalloy steel, seamed, w/circ. cross sect. & ext. diam. o/406.4mm, not welded, tubes and pipes, o/th used in oil/gas drill.etc.
7305.90.50 | Alloy steel, seamed, w/circ. cross sect. & ext. diam. o/406.4mm, not welded, tubes and pipes, o/than used in oil/gas drill. or pipelines.
7306.11.00 | Welded stainless steel, w/ext. diam 406.4mm or less or o/than circ. x-sect, line pipe of a kind used for oil and gas pipelines.
7306.19.10 | Iron or nonalloy steel, seamed, w/ext. diam. 406.4mm or less or o/than circ. x-sect, line pipe of a kind used for oil and gas pipelines.
7306.19.51 | Alloy steel, seamed (o/than welded stainless steel), w/ext. diam 406.4mm or less or o/than circ. x-sect, line pipe of a kind used for oil an.
7306.21.30 | Welded stainless steel, w/ext. diam 406.4mm or less or o/than circ. x-sect, threaded/coupled, casing of kind used in drilling for oil/gas.
7306.21.40 | Welded stainless steel, w/ext. diam 406.4mm or less or o/than circ. x-sect, n/threaded/coupled, casing of kind used in drilling for oil/gas.
7306.21.80 | Welded stainless steel, w/ext. diam 406.4mm or less or o/than circ. x-sect, tubing of a kind used for drilling for oil/gas.
7306.29.10 | Iron or nonalloy steel, seamed, w/ext. diam 406.4mm or less or o/than circ. x-sect, threaded/coupled, casing of kind used in drill. oil/gas.
7306.29.20 | Iron or nonalloy steel, seamed, w/ext. diam 406.4mm or less or o/than circ. x-sect, n/threaded/coupled, casing kind used drill for oil/gas.
7306.29.31 | Alloy steel, seamed (o/than welded stainless steel), w/ext. diam 406.4mm or less or o/than circ. x-sect, threaded/coupled, casing of kind us.
7306.29.41 | Alloy steel, seamed (o/than welded stainless steel), w/ext. diam 406.4mm or less or o/than circ. x-sect, n/threaded/coupled, casing of kind.
7306.29.60 | Iron or nonalloy steel, seamed, w/ext. diam. 406.4mm or less or o/than circ. x-sect, tubing of a kind used for drilling for oil/gas.
7306.29.81 | Alloy steel, seamed (o/than welded stainless steel), w/ext. diam 406.4mm or less or o/than circ. x-sect, tubing of a kind used for drilling.
7306.30.10 | Iron or nonalloy steel, welded, w/circ. x-sect & ext. diam. 406.4mm or less, tubes, pipes, hollow profiles, w/wall thick. less than 1.65 mm.
7306.30.30 | Nonalloy steel, welded, w/circ. x-sect & ext. diam. 406.4mm or less, tapered pipes & tubes, w/wall thick. of 1.65 mm+, pts. of illum. arts.
7306.30.50 | Iron or nonalloy steel, welded, w/circ. x-sect & ext. diam. 406.4mm or less, pipes, tubes & holl. prof., w/wall thick. of 1.65 mm or more.
7306.40.10 | Stainless steel, welded, w/circ. x-sect & ext. diam. 406.4mm or less, tubes, pipes, hollow profiles, w/wall thick. less than 1.65 mm.
7306.40.50 | Stainless steel, welded, w/circ. x-sect & ext. diam. 406.4mm or less, tubes, pipes, hollow profiles, w/wall thick. of 1.65 mm or more.
7306.50.10 | Alloy steel (o/stainless), welded, w/circ. x-sect & ext. diam. 406.4mm or less, tubes, pipes, hollow prof., w/wall thick. less th/1.65 mm.
7306.50.30 | Alloy steel (o/stainless), welded, w/circ. x-sect & ext. diam. 406.4mm or less, tapered pipes & tubes, w/wall thick. of 1.65 mm+, pts. illum.
7306.50.50 | Alloy steel (o/stainless), welded, w/circ. x-sect & ext. diam. 406.4mm or less, tubes, pipes, hollow prof., w/wall thick. of 1.65 mm+.
7306.61.10 | Iron or nonalloy steel, welded, w/square or rectangular x-sect, tubes, pipes and hollow profiles, w/wall thickness of 4 mm or more.
7306.61.30 | Alloy steel, welded, w/square or rectangular x-sect, tubes, pipes and hollow profiles, w/wall thickness of 4 mm or more.
7306.61.50 | Iron or nonalloy steel, welded, w/square or rectangular x-sect, tubes, pipes and hollow profiles, w/wall thickness less than 4 mm.
7306.61.70 | Alloy steel, welded, w/square or rectangular x-sect, tubes, pipes and hollow profiles, w/wall thickness less than 4 mm.
7306.69.10 | Iron or nonalloy steel, welded, w/other non-circ. x-sect, tubes, pipes and hollow profiles, w/wall thickness of 4 mm or more.
7306.69.30 | Alloy steel, welded, w/other non-circ. x-sect, tubes, pipes and hollow profiles, w/wall thickness of 4 mm or more.
7306.69.50 | Iron or nonalloy steel, welded, w/other non-circ. x-sect, tubes, pipes and hollow profiles, w/wall thickness less than 4 mm.
7306.69.70 | Alloy steel, welded, w/other non-circ. x-sect, tubes, pipes and hollow profiles, w/wall thickness less than 4 mm.
7306.90.10 | Iron or nonalloy steel, seamed o/welded, w/non-circ. x-sect. or circ. x-sect. w/ext. diam. 406.4mm or less, tubes, pipes & hollow profiles.
7306.90.50 | Alloy steel, seamed o/than welded, w/non-circ. x-sect or circ. x-sect w/ext. diam. 406.4mm or less, tubes, pipes and hollow profiles.
7317.00.10 | Iron or steel, thumb tacks.
7318.16.00 | Iron or steel, nuts.
7319.40.20 | Iron or steel, safety pins.
7319.40.30 | Iron or steel, dressmakers' or common pins.
7319.40.50 | Iron or steel, pins (o/than safety pins, dressmakers' or common pins).
7319.90.10 | Iron or steel, sewing, darning or embroidery needles.
7319.90.90 | Iron or steel, knitting needles, bodkins, crochet hooks, embroidery stilettos and similar articles for use in the hand.
7320.20.10 | Iron or steel, helical springs, suitable for motor-vehicle suspension.
7320.20.50 | Iron or steel, helical springs (o/than suitable for motor-vehicle suspension).
7321.12.00 | Iron or steel, non-electric domestic cooking appliances and plate warmers, for liquid fuels.
7321.19.00 | Iron or steel, non-electric domestic cooking appliances and plate warmers, o/than for gas or liquid fuels.
7321.81.10 | Iron or steel, portable non-electric domestic grates & warming appl. (o/cooking/plate warmers), for gas fuel or both gas and other fuels.
7321.81.50 | Iron or steel, nonportable non-electric domestic grates & warming appl. (o/than cooking/plate warmers), for gas fuel/both gas & other fuels.
7321.82.10 | Iron or steel, portable non-electric domestic grates & warming appliances (o/than cooking/plate warmers) for liquid fuels.
7321.82.50 | Iron or steel, nonportable non-electric domestic grates & warming appliances (o/than cooking/plate warmers), for liquid fuels.
7321.89.00 | Iron or steel, non-electric domestic grates & warming appliances (o/than cooking/plate warmers), o/than for gas or liquid fuels.
7323.91.10 | Cast iron, table, kitchen or o/household arts. and parts thereof, not enameled but coated or plated with precious metals.
7323.91.50 | Cast iron, table, kitchen or o/household arts. and parts thereof, not enameled & not coated or plated with precious metals.
7323.92.00 | Cast iron, table, kitchen or o/household arts. and parts thereof, enameled.
7323.93.00 | Stainless steel, table, kitchen or o/household arts. and parts thereof.
7323.94.00 | Iron (o/than cast) or steel (o/than stainless), table, kitchen or o/household arts. and parts thereof, enameled.
7323.99.10 | Iron (o/th cast) or steel (o/th stainless), table, kitchen or o/household arts. & parts thereof, not enameled but plated/coat. w/silver.
7323.99.30 | Iron (o/th cast)/steel (o/th stainless), table/kitchen/household arts. & parts thereof, not enameled but plated/coat. w/prec metal o/silver.
7323.99.50 | Tinplate, table, kitchen or o/household arts. & parts thereof, not coated or plated w/precious metal.
7323.99.70 | Iron (o/th cast) or steel (o/than tinplate or stainless), cookingware, not coated or plated with precious metal.
7324.29.00 | Iron (o/than cast) or steel, baths (whether or not enameled).
7418.10.00 | Copper & copper alloy table, kitchen, household articles & parts; pot scourers, scouring & polishing pads, gloves, etc.
7601.10.30 | Aluminum (o/than alloy), unwrought, in coils, w/uniform x-section throughout length & w/least cross-sectional dimension n/o 9.5 mm.
7601.10.60 | Aluminum (o/than alloy), unwrought nesoi.
7601.20.30 | Aluminum alloys, unwrought, in coils, w/uniform x-section throughout length & w/least cross-sectional dimension n/o 9.5 mm.
7601.20.60 | Aluminum alloys, w/25% or more by weight of silicon, unwrought nesoi.
7601.20.90 | Aluminum alloys nesoi, unwrought nesoi.
7604.10.10 | Aluminum (o/than alloy), profiles.
7604.10.30 | Aluminum (o/than alloy), bar and rods, with a round cross section.
7604.10.50 | Aluminum (o/than alloy), bar and rods, other than with a round cross section.
7604.21.00 | Aluminum alloy, hollow profiles.
7604.29.10 | Aluminum alloy, profiles (o/than hollow profiles).
7604.29.30 | Aluminum alloy, bars and rods, having a round cross section.
7604.29.50 | Aluminum alloy, bars and rods, other than with a round cross section.
7605.11.00 | Aluminum (o/than alloy), wire, with a maximum cross-sectional dimension over 7 mm.
7605.19.00 | Aluminum (o/than alloy), wire, with a maximum cross-sectional dimension of 7 mm or less.
7605.21.00 | Aluminum alloy, wire, with a maximum cross-sectional dimension over 7 mm.
7605.29.00 | Aluminum alloy, wire, with a maximum cross-sectional dimension of 7 mm or less.
7606.11.30 | Aluminum (o/than alloy), plates/sheets/strip, w/thick. o/0.2mm, rectangular (incl. sq), not clad.
7606.11.60 | Aluminum (o/than alloy), plates/sheets/strip, w/thick. o/0.2mm, rectangular (incl. sq), clad.
7606.12.30 | Aluminum alloy, plates/sheets/strip, w/thick. o/0.2mm, rectangular (incl. sq), not clad.
7606.12.60 | Aluminum alloy, plates/sheets/strip, w/thick. o/0.2mm, rectangular (incl. sq), clad.
7606.91.30 | Aluminum (o/than alloy), plates/sheets/strip, w/thick. o/0.2mm, o/than rectangular (incl. sq), not clad.
7606.91.60 | Aluminum (o/than alloy), plates/sheets/strip, w/thick. o/0.2mm, o/than rectangular (incl. sq), clad.
7606.92.30 | Aluminum alloy, plates/sheets/strip, w/thick. o/0.2mm, o/than rectangular (incl. sq), not clad.
7606.92.60 | Aluminum alloy, plates/sheets/strip, w/thick. o/0.2mm, o/than rectangular (incl. sq), clad.
7607.11.30 | Aluminum, foil, w/thickness n/o 0.01 mm, rolled but not further worked, not backed.
7607.11.60 | Aluminum, foil, w/thickness over 0.01 mm but n/o 0.15 mm, rolled but not further worked, not backed.
7607.11.90 | Aluminum, foil, w/thickness over 0.15 mm but n/o 0.2 mm, rolled but not further worked, not backed.
7607.19.10 | Aluminum, etched capacitor foil, w/thickness n/o 0.2 mm, not rolled or rolled and further worked, not backed.
7607.19.30 | Aluminum, foil nesoi, w/thickness n/o 0.15 mm, cut to shape, not rolled, not backed.
7607.19.60 | Aluminum, foil nesoi, w/thickness o/0.15mm but n/o 0.2 mm or 0.15mm or less & not cut to shape, not rolled, not backed, nesoi.
7607.20.10 | Aluminum, foil, w/thickness n/o 0.2 mm, backed, covered or decorated with a character, design, fancy effect or pattern.
7607.20.50 | Aluminum, foil, w/thickness n/o 0.2 mm, backed, nesoi.
7608.10.00 | Aluminum (o/than alloy), tubes and pipes.
7608.20.00 | Aluminum alloy, tubes and pipes.
7609.00.00 | Aluminum, fittings for tubes and pipes.
7610.10.00 | Aluminum, doors, windows and their frames and thresholds for doors.
7615.10.11 | Aluminum, pot scourers, scouring or polishing pads, gloves and the like.
7615.10.20 | Aluminum, cast cooking and kitchen ware, enameled or glazed or containing nonstick interior finishes.
7615.10.30 | Aluminum, cooking and kitchen ware (o/than cast), enameled or glazed or containing nonstick interior finishes.
7615.10.50 | Aluminum, cast cooking and kitchen ware, not enameled or glazed and not containing nonstick interior finishes.
7615.10.71 | Aluminum, cooking and kitchen ware (o/than cast), not enameled or glazed and not containing nonstick interior finishes.
7615.10.91 | Aluminum, table, kitchen or other household articles (o/than cooking or kitchen ware) and parts thereof.
7907.00.10 | Zinc, household, table or kitchen use articles; zinc toilet and sanitary wares; zinc parts of all the foregoing.
8109.20.00 | Zirconium, unwrought; zirconium powders.
8112.92.60 | Germanium, unwrought.
8211.10.00 | Sets of assorted knives w/cutting blades serrated or not (including pruning knives).
8211.91.10 | Table knives with fixed blades and silver-plated handles.
8211.91.20 | Table knives w/fixed blades, w/stain. steel handles w/Ni or ov 10% by wt. of Mn, w/overall length 25.9cm or less & val. <than 25 cents ea.
8211.91.25 | Table knives w/fixed blades, w/stain. steel handles cont. Ni or ov 10% by wt of Mn, nesoi.
8211.91.30 | Table knives w/fixed blades, w/stain. steel handles, nesoi, not ov 25.9 cm in overall length & val less than 25 cents each.
8211.91.40 | Table knives w/fixed blades, w/stain. steel handles, nesoi.
8211.91.50 | Table knives w/fixed blades, with rubber or plastics handles.
8211.91.80 | Table knives w/fixed blades, w/handles other than of silver-plate, stainless steel, rubber or plastics.
8211.92.20 | Kitchen and butcher knives w/fixed blades, with rubber or plastics handles.
8211.92.40 | Knives w/fixed blades (o/than table or kitchen and butcher knives), with rubber or plastic handles.
8211.92.60 | Hunting knives w/fixed blades, with wood handles.
8211.92.90 | Knives w/fixed blades (o/than table knives, other knives w/rubb./plast. handles, or hunting knives w/wood handles).
8212.10.00 | Base metal razors.
8212.20.00 | Base metal safety razor blades (including razor blade blanks).
8212.90.00 | Base metal parts of razors and razor blades.
8213.00.30 | Base metal scissors, tailors' shears and similar shears, and blades thereof, valued n/o $1.75 per dozen.
8213.00.60 | Base metal pinking shears, and blades thereof, valued over $30 per dozen.
8213.00.90 | Base metal scissors, tailors' shears and similar shears (o/than pinking shears val o$30/dz), and base metal parts, val. o/$1.75 per dozen.
8214.10.00 | Base metal paper knives, letter openers, erasing knives, nonmechanical pencil sharpeners and blades and base metal parts thereof.
8214.20.30 | Base metal instruments for manicure or pedicure purposes, and base metal parts thereof.
8214.20.60 | Manicure and pedicure sets, and combinations thereof, in leather containers.
8214.20.90 | Manicure and pedicure sets, and combinations thereof, other than in leather containers.
8214.90.30 | Butchers' or kitchen cleavers with their handles, nesoi, and base metal parts thereof.
8214.90.60 | Butchers' or kitchen chopping or mincing knives (o/than cleavers w/their handles), and base metal parts thereof.
8214.90.90 | Articles of cutlery, nesoi, and base metal parts of cutlery, nesoi.
8215.10.00 | Sets of assted. base metal spoons, forks, ladles, etc. & similar kitchen or tableware, w/at least one article plated w/prec. metal.
8215.91.30 | Base metal forks plated with precious metal.
8215.91.60 | Base metal spoons and ladles plated with precious metal.
8215.91.90 | Base metal skimmers, cake-servers, fish-knives, etc. and similar kitchen or tableware and parts, plated with precious metal.
8215.99.01 | Base metal forks, w/stainless steel handles cont. Ni or o/10% by wt of Mn, w/overall length n/o 25.9cm, valued under 25 cents ea.
8215.99.10 | Base metal forks, w/stainless steel handles, nesoi, valued under 25 cents each.
8215.99.15 | Base metal forks, w/stainless steel handles, nesoi, valued at 25 cents each or more.
8215.99.20 | Base metal forks, with rubber or plastic handles.
8215.99.22 | Base metal forks, without their handles.
8215.99.24 | Base metal table forks and barbecue forks, with wood handles.
8215.99.26 | Base metal forks (o/than plated w/prec. metal, or w/handles of stain. steel, wood, rubber or plastics), nesoi.
8215.99.30 | Base metal spoons, w/stainless steel handles & valued under 25 cents each.
8215.99.35 | Base metal spoons, w/stainless steel handles & valued at 25 cents and over, and base metal ladles w/stainless steel handles.
8215.99.40 | Base metal spoons and ladles with handles of base metal (o/than stain. steel) or w/nonmetal handles.
8215.99.45 | Base metal spoons and ladles, nesoi.
8215.99.50 | Base metal skimmers/cake-servers/butter-knives/sugar tongs & similar kitchen or tableware, & base metal parts (incl. pts. of forks/spoons).
8301.10.20 | Padlocks, base metal, not of cylinder or pin tumbler construction, not ov 3.8cm wide.
8301.10.40 | Padlocks, base metal, not of cylinder or pin tumbler construction, ov 3.8cm but n/o 6.4cm wide.
8301.10.50 | Padlocks, base metal, not of cylinder or pin tumbler construction, ov 6.4cm wide.
8301.10.60 | Padlocks, base metal, of cylinder or pin tumbler construction, not ov 3.8cm wide.
8301.10.80 | Padlocks, base metal, of cylinder or pin tumbler construction, ov 3.8cm but n/o 6.4cm wide.
8301.10.90 | Padlocks, base metal, of cylinder or pin tumbler construction, ov 6.4cm wide.
8301.30.00 | Base metal locks, of a kind used for furniture.
8301.40.30 | Base metal luggage locks.
8301.40.60 | Base metal locks (o/than padlocks, locks for motor vehicles or furniture, luggage locks).
8301.50.00 | Base metal clasps and frames with clasps, incorporating locks.
8301.60.00 | Base metal parts of padlocks, other locks, and clasps and frames with clasps incorporating locks.
8301.70.00 | Base metal keys for padlocks, other locks, and clasps and frames with clasps incorporating locks.
8302.10.30 | Iron or steel, aluminum, or zinc hinges and base metal parts thereof, designed for motor vehicles.
8302.42.30 | Iron or steel, aluminum, or zinc mountings, fittings & similar articles, suitable for furniture, and base metal parts thereof.
8302.42.60 | Base metal (o/than iron/steel/aluminum/zinc) mountings, fittings & similar articles, suitable for furniture, and base metal parts thereof.
8304.00.00 | Base metal desk-top filing/card-index cabinets, paper trays, pen trays & similar office/desk equipment nesoi, and base metal parts thereof.
8305.10.00 | Base metal fittings for loose-leaf binders or files.
8305.20.00 | Base metal staples in strips (e.g., for offices, upholstery, packaging).
8305.90.30 | Base metal paper clips and base metal parts thereof.
8305.90.60 | Base metal letter clips, letter corners, indexing tags and similar office articles nesoi, and base metal parts thereof.
8306.10.00 | Base metal, nonelectric bells, gongs, and the like, and base metal parts thereof.
8306.21.00 | Base metal statuettes and other ornaments plated w/prec. metal, and base metal parts thereof.
8306.29.00 | Base metal statuettes and other ornaments not plated w/prec.metal, and base metal parts thereof.
8403.10.00 | Central heating boilers (other than those of heading 8402).
8403.90.00 | Parts of central heating boilers (other than those of heading 8402).
8414.51.30 | Ceiling fans for permanent installation, with a self-contained electric motor of an output not exceeding 125 W.
8414.51.90 | Table, floor, wall, window or roof fans, with a self-contained electric motor of an output not exceeding 125 W.
8415.90.40 | Chassis, chassis bases and other outer cabinets for air conditioning machines,.
8415.90.80 | Parts for air conditioning machines, nesoi.
8416.10.00 | Furnace burners for liquid fuel.
8416.20.00 | Furnace burners for pulverized solid fuel or for gas, including combination burners.
8417.20.00 | Bakery ovens, including biscuit ovens.
8419.81.50 | Cooking stoves, ranges & ovens, other than microwave, for making hot drinks or for cooking or heating food, not used for domestic purposes.
8419.81.90 | Machinery and equipment nesoi, for making hot drinks or for cooking or heating food, not used for domestic purposes.
8420.10.10 | Textile calendering or rolling machines.
8421.12.00 | Centrifugal clothes dryers.
8421.91.20 | Drying chambers for the clothes-dryers of subheading 8421.12 and other parts of clothes-dryers incorporating drying chambers.
8421.91.40 | Furniture designed to receive the clothes-dryers of subheading 8421.12.
8422.11.00 | Dishwashing machines of the household type.
8422.90.02 | Water containment chambers for the household dishwashing machines and other parts of the same incorporating water containment chambers.
8422.90.11 | Parts of can-sealing machines.
8422.90.21 | Parts of machines for packing tobacco, wrapping candy, cigarette packages and of combination candy cutting and wrapping machines.
8423.10.00 | Personal weighing machines, including baby scales; household scales.
8424.10.00 | Fire extinguishers, whether or not charged.
8424.90.05 | Parts of fire extinguishers.
8424.90.10 | Parts of simple piston pump sprays and powder bellows.
8426.11.00 | Overhead traveling cranes on fixed support.
8426.12.00 | Mobile lifting frames on tires and straddle carriers.
8426.19.00 | Transporter cranes, gantry cranes and bridge cranes.
8426.20.00 | Tower cranes.
8428.10.00 | Passenger or freight elevators other than continuous action; skip hoists.
8428.60.00 | Teleferics, chair lifts, ski draglines; traction mechanisms for funiculars.
8430.20.00 | Snowplows and snowblowers.
8433.11.00 | Mowers for lawns, parks or sports grounds, powered, with the cutting device rotating in a horizontal plane.
8433.19.00 | Mowers for lawns, parks or sports grounds, nesoi.
8434.10.00 | Milking machines.
8435.10.00 | Presses, crushers and similar machinery used in the manufacture of wine, cider, fruit juices or similar beverages.
8435.90.00 | Parts of presses, crushers and similar machinery used in the manufacture of wine, cider, fruit juices or similar beverages.
8438.10.00 | Bakery machinery and machinery for the manufacture of macaroni, spaghetti or similar products, nesoi.
8438.20.00 | Machinery for the manufacture of confectionery, cocoa or chocolate, nesoi.
8438.30.00 | Machinery for sugar manufacture, nesoi.
8438.40.00 | Brewery machinery, nesoi.
8438.90.10 | Parts of machinery for sugar manufacture, nesoi.
8440.10.00 | Bookbinding machinery, including book-sewing machines.
8440.90.00 | Parts for bookbinding machinery, including book-sewing machines.
8442.50.90 | Printing type, blocks, cylinders and other printing components; blocks, cylinders and lithographic stones, prepared for printing purposes.
8443.19.20 | Textile printing machinery.
8443.31.00 | Multifunction units (machines which perform two or more of the functions of printing, copying or facsimile transmission, capable of connecti.
8443.32.10 | Printer units, capable of connecting to an automatic data processing machine or to a network.
8443.32.50 | Single function units other than printer units (machines which perform only one of the functions of printing, copying or facsimile transmiss.
8443.39.10 | Electrostatic photocopying apparatus, operating by reproducing the original image directly onto the copy (direct process).
8443.39.60 | Copying machines, nesoi.
8443.39.90 | Other printers, copying machines or facsimile machines, nesoi.
8443.91.20 | Parts of textile printing machinery.
8443.91.30 | Parts for printing machinery other than textile printing machinery.
8443.99.25 | Parts and accessories of printers, nesoi.
8443.99.50 | Parts and acessories of other printing, copying or facsimile machines; nesoi.
8445.11.00 | Carding machines for preparing textile fibers.
8445.12.00 | Combing machines for preparing textile fibers.
8445.13.00 | Drawing or roving machines for preparing textile fibers.
8445.19.00 | Machines for preparing textile fibers, nesoi.
8445.20.00 | Textile spinning machines.
8445.30.00 | Textile doubling or twisting machines.
8445.40.00 | Textile winding (including weft-winding) or reeling machines.
8445.90.00 | Machinery for producing textile yarns nesoi; machines for preparing textile yarns for use on machines of heading 8446 or 8447.
8446.10.00 | Weaving machines (looms) for weaving fabrics of a width not exceeding 30 cm.
8446.21.10 | Shuttle type power looms for weaving fabrics of a width exceeding 4.9 m.
8446.21.50 | Shuttle type power looms for weaving fabrics of a width exceeding 30 cm, but not exceeding 4.9 m.
8446.29.00 | Weaving machines for weaving fabrics of a width exceeding 30 cm, shuttle type, nesoi.
8446.30.10 | Shuttleless type power looms, for weaving fabrics of a width exceeding 4.9 m, nesoi.
8447.11.10 | Circular knitting machines with cylinder diameter not exceeding 165 mm, for knitting hosiery.
8447.11.90 | Circular knitting machines with cylinder diameter not exceeding 165 mm, other than for knitting hosiery.
8447.12.10 | Circular knitting machines with cylinder diameter exceeding 165 mm, for knitting hosiery.
8447.12.90 | Circular knitting machines with cylinder diameter exceeding 165 mm, other than for knitting hosiery.
8447.20.20 | V-bed flat knitting machines, power driven, over 50.8 mm in width.
8447.20.30 | V-bed flat knitting machines, nesoi.
8447.20.40 | Warp knitting machines.
8447.20.60 | Flat knitting machines, other than V-bed or warp; stitch-bonding machines.
8447.90.10 | Braiding and lace-braiding machines.
8447.90.50 | Embroidery machines.
8447.90.90 | Knitting machines other than circular or flat knitting; machines for making gimped yarn, tulle, trimmings or net; machines for tufting.
8448.11.00 | Dobbies and Jacquards, card reducing, copying, punching or assembling machines for use with machines of heading 8444, 8445, 8446 or 8447.
8448.19.00 | Auxiliary machinery for machines of heading 8444, 8445, 8446 or 8447, nesoi.
8448.20.10 | Parts and accessories of machines for extruding or drawing man-made textile filaments.
8448.20.50 | Parts and accessories of machines of heading 8444 or of their auxiliary machinery, nesoi.
8448.31.00 | Card clothing as parts and accessories of machines of heading 8445 or of their auxiliary machinery.
8448.32.00 | Parts and accessories of machines for preparing textile fibers, other than card clothing.
8448.33.00 | Spindles, spindle flyers, spinning rings and ring travellers of machines of heading 8445 or of their auxiliary machines.
8448.39.10 | Parts of spinning, doubling or twisting machines of heading 8445 or of their auxiliary machinery.
8448.39.50 | Parts of winding or reeling machines of heading 8445 or of their auxiliary machinery.
8448.39.90 | Parts and accessories of machines of heading 8445 or their auxiliary machinery, nesoi.
8448.42.00 | Reeds for looms, healds and heald-frames of weaving machines (looms) or their auxiliary machinery.
8448.49.10 | Shuttles for weaving machines (looms).
8448.49.20 | Parts and accessories of weaving machines (looms) or of their auxiliary machinery, other than shuttles, reeds, healds and heald-frames.
8448.51.10 | Latch needles for knitting machines.
8448.51.30 | Needles for knitting machines other than latch needles or spring-beard needles.
8448.51.50 | Sinkers, needles and other articles used to form stitches, nesoi, for machines of heading 8447.
8448.59.10 | Parts of knitting machines of heading 8447 or of their auxiliary machinery, nesoi.
8448.59.50 | Accessories of machines of heading 8447 or of their auxiliary machinery, nesoi.
8449.00.10 | Finishing machinery for felt or nonwovens and parts thereof.
8449.00.50 | Machinery for making felt hats; blocks for making hats; parts thereof.
8450.11.00 | Household- or laundry-type washing machines, each of a dry linen capacity not exceeding 10 kg, fully automatic.
8450.12.00 | Household- or laundry-type washing machines, each of a dry linen capacity not exceeding 10 kg, with built-in centrifugal driers, nesoi.
8450.19.00 | Household- or laundry-type washing machines, each of a dry linen capacity not exceeding 10 kg, nesoi.
8450.20.00 | Household- or laundry-type washing machines, each of a dry linen capacity exceeding 10 kg.
8450.90.20 | Tub and tub assemblies for household- or laundry-type washing machines.
8450.90.40 | Furniture designed to receive household- or laundry-type washing machines.
8450.90.60 | Parts for household- or laundry-type washing machines, nesoi.
8452.10.00 | Sewing machines of the household type.
8452.21.10 | Sewing machines specially designed to join footwear soles to uppers, automatic.
8452.21.90 | Sewing machines, automatic, nesoi.
8452.29.10 | Sewing machines, other than automatic, specially designed to join footwear soles to uppers.
8452.30.00 | Sewing machine needles.
8452.90.10 | Furniture, bases and covers for sewing machines, and parts thereof.
8452.90.20 | Parts of sewing machines, nesoi.
8453.10.00 | Machinery for preparing, tanning or working hides, skins or leather.
8453.20.00 | Machinery for making or repairing footwear.
8453.80.00 | Machinery, nesoi, for making or repairing articles of hides, skins or leather.
8453.90.10 | Parts of machinery for making or repairing footwear.
8453.90.50 | Parts of machinery for preparing, tanning or working hides, skins or leather or making or repairing articles of same, nesoi.
8465.96.00 | Splitting, slicing or paring machines for working wood, cork, bone, hard rubber, hard plastics or similar hard materials.
8467.19.10 | Tools for working in the hand, pneumatic, other than rotary type, suitable for metal working.
8467.21.00 | Electromechanical drills of all kinds for working in the hand, with self-contained electric motor.
8467.22.00 | Electromechanical saws for working in the hand, with self-contained electric motor.
8467.29.00 | Electromechanical tools for working in the hand, other than drills or saws, with self-contained electric motor.
8467.81.00 | Chain saws for working in the hand, hydraulic or with self-contained nonelectric motor.
8467.89.10 | Other tools for working in the hand, hydraulic or with self-contained nonelectric motor, suitable for metal working, nesoi.
8467.89.50 | Other tools for working in the hand, hydraulic or with self-contained nonelectric motor, other than suitable for metal working, nesoi.
8467.91.01 | Parts of chain saws.
8467.92.00 | Parts of pneumatic tools for working in the hand.
8468.10.00 | Hand-held blow torches.
8470.50.00 | Cash registers.
8471.30.01 | Portable automatic data processing machines, not over 10 kg, consisting at least a central processing unit, keyboard and display.
8471.41.01 | ADP machines, nonportable or over 10 kg, comprise in the same housing least central processing unit and input & output unit.
8471.49.00 | ADP machines, nesoi, entered as a system (consisting of a central processing unit, an input unit, and an output unit).
8471.60.20 | Keyboards for automatic data processing machines not entered with the rest of a system.
8471.60.80 | Optical scanners and magnetic ink recognition devices not entered with the rest of a ADP system.
8472.90.40 | Pencil sharpeners.
8472.90.50 | Typewriters other than printers of heading 8443; word processing machines.
8476.89.00 | Automatic goods-vending (other than beverage-vending but incl. money-changing machines) not incorporating heating or refrigerating devices.
8478.10.00 | Machinery for preparing or making up tobacco, nesoi.
8478.90.00 | Parts of machinery for preparing or making up tobacco, nesoi.
8479.79.00 | Other passenger boarding bridges.
8479.89.55 | Electromechanical appliances with self-contained electric motor, trash compactors.
8479.89.65 | Electromechanical appliances with self-contained electric motor, nesoi.
8479.90.41 | Parts of floor polishers of subheading 8479.89.20; parts of carpet sweepers.
8479.90.45 | Parts of trash compactors, frame assemblies.
8479.90.55 | Parts of trash compactors, ram assemblies.
8479.90.65 | Parts of trash compactors, container assemblies.
8479.90.75 | Parts of trash compactors, cabinets or cases.
8479.90.85 | Parts of trash compactors, nesoi.
8480.60.00 | Molds for mineral materials.
8481.90.10 | Parts of hand operated and check appliances for pipes, boiler shells, tanks, vats or the like, of copper.
8481.90.30 | Parts of hand operated and check appliances for pipes, boiler shells, tanks, vats or the like, of iron or steel.
8481.90.50 | Parts of hand operated and check appliances for pipes, boiler shells, tanks, vats or the like, other than of copper or iron or steel.
8504.10.00 | Ballasts for discharge lamps or tubes.
8507.30.80 | Nickel-cadmium storage batteries, other than of a kind used as the primary source of power for electric vehicles.
8507.60.00 | Lithium-ion batteries.
8507.90.40 | Parts of lead-acid storage batteries, including separators therefor.
8509.40.00 | Electromechanical food grinders, processors, mixers, fruit or vegetable juice extractors, w self-contained electric motor, for domestic uses.
8509.80.10 | Electromechanical floor polishers, with self-contained electric motor, for domestic uses.
8509.80.50 | Electromechanical domestic appliances nesoi, with self-contained electric motor.
8510.10.00 | Shavers, with self-contained electric motor.
8510.30.00 | Hair-removing appliances with self-contained electric motor.
8512.10.20 | Electrical lighting equipment of a kind used on bicycles.
8512.10.40 | Electrical visual signaling equipment of a kind used on bicycles.
8513.10.20 | Flashlights.
8513.10.40 | Portable electric lamps designed to function by their own source of energy, other than flashlights.
8516.10.00 | Electric instantaneous or storage water heaters and immersion heaters.
8516.31.00 | Electrothermic hair dryers.
8516.32.00 | Electrothermic hairdressing apparatus other than hair dryers.
8516.33.00 | Electrothermic hand drying apparatus.
8516.40.20 | Electric flatirons, travel type.
8516.40.40 | Electric flatirons, other than travel type.
8516.50.00 | Microwave ovens of a kind used for domestic purposes.
8516.60.60 | Electrothermic cookers, cooking plates, boiling rings, grillers and roasters, nesoi, of a kind used for domestic purposes.
8516.71.00 | Electrothermic coffee or tea makers, for domestic purposes.
8516.72.00 | Electrothermic toasters, for domestic purposes.
8516.79.00 | Electrothermic appliances nesoi, of a kind used for domestic purposes.
8517.11.00 | Line telephone sets with cordless handsets.
8517.12.00 | Telephones for cellular networks or for other wireless networks.
8517.18.00 | Telephone sets, nesoi.
8517.61.00 | Base stations.
8517.70.00 | Parts of telephone sets; parts of other apparatus for the transmission or reception of voice, images or other data, including apparatus for.
8518.10.80 | Microphones and stands therefor, nesoi.
8518.21.00 | Single loudspeakers mounted in their enclosures.
8518.22.00 | Multiple loudspeakers mounted in the same enclosure.
8518.29.40 | Loudspeakers not mounted in their enclosures, with frequency range of 300Hz to 3.4kHz, with a diameter not over 50 mm, for telecommunication.
8518.29.80 | Loudspeakers nesoi, not mounted in their enclosures, nesoi.
8518.30.10 | Line telephone handsets.
8518.30.20 | Headphones, earphones and combined microphone/speaker sets, other than telephone handsets.
8519.20.00 | Sound recording or reproducing apparatus operated by coins, bank notes, bank cards, tokens or other means of payment.
8519.30.10 | Turntables with automatic record changing mechanism.
8519.30.20 | Turntables without automatic record changing mechanism.
8519.50.00 | Telephone answering machines.
8519.81.10 | Transcribing machines.
8519.81.20 | Cassette players (non-recording) designed exclusively for motor-vehicle installation.
8519.81.25 | Cassette players (non-recording), nesoi.
8519.81.40 | Sound recording and reproducing apparatus using magnetic tape, optical media, or semiconductor media.
8519.89.10 | Record players, other than coin- or token-operated, without loudspeaker.
8519.89.20 | Record players, other than coin- or token-operated, with loudspeakers.
8519.89.30 | Sound recording and reproducing apparatus, nesoi.
8521.10.30 | Color, cartridge or cassette magnetic tape-type video players.
8521.10.60 | Color, cartridge or cassette magnetic tape-type video recording and reproducing apparatus, nesoi.
8521.10.90 | Magnetic tape-type video recording or reproducing apparatus, other than color, cartridge or cassette type.
8521.90.00 | Video recording or reproducing apparatus, other than magnetic tape-type.
8523.29.10 | Unrecorded magnetic media.
8523.29.20 | Pre-recorded magnetic tapes for reproducing phenomena other than sound or image.
8523.29.30 | Pre-recorded magnetic tapes, of a width not exceeding 4 mm, of news sound recording relating to current events.
8523.29.40 | Pre-recorded magnetic tapes, of a width not exceeding 4 mm, nesoi.
8523.29.50 | Pre-recorded magnetic video tape recordings of a width exceeding 4 mm but not exceeding 6.5 mm.
8523.29.60 | Pre-recorded magnetic tapes of a width exceeding 4 mm but not exceeding 6.5 mm, nesoi.
8523.29.70 | Pre-recorded magnetic video tape recordings of a width exceeding 6.5 mm.
8523.29.80 | Pre-recorded magnetic tapes of a width exceeding 6.5 mm, nesoi.
8523.29.90 | Pre-recorded magnetic media other than tape, nesoi.
8523.41.00 | Unrecorded optical media.
8523.49.20 | Recorded optical media, for reproducing phenomena other than sound or image.
8523.49.30 | Recorded optical media, for reproducing sound only.
8523.49.50 | Recorded optical media, nesoi.
8523.51.00 | Semiconductor media, solid state non-volatile storage devices.
8523.80.10 | Phonograph records.
8523.80.20 | Discs, tapes, solid-state non-volatile storage devices, “smart cards” and other media for the recording of sound or of other phenomena, whet.
8525.50.10 | Television transmission set top boxes which have a communication function.
8525.80.40 | Digital still image video cameras.
8526.92.10 | Radio remote control apparatus for video game consoles.
8527.12.00 | Pocket-size radio cassette players.
8527.13.11 | Radio-tape player combination (other than pocket-size radio cassette type), nonrecording, capable of operating w/o an external source of power.
8527.13.20 | Radio-tape recorder combinations, capable of operating without an external source of power, nesoi.
8527.13.40 | Radio-phonograph combinations, capable of operating without external power source, nesoi.
8527.13.60 | Radiobroadcast receivers capable of operating without external power source, combined with sound recording or reproducing apparatus, nesoi.
8527.19.10 | Radiobroadcast receivers, able to operate w/o external power, with clock or clock-timer, valued not over $40, not for motor vehicles.
8527.19.50 | Radiobroadcast receivers, capable of operation w/o external power, nesoi.
8527.91.05 | Radiobroadcast receiver combined w/sound recording or reproducing apparatus for connection to telegraphic/telephonic apparatus/network.
8527.91.40 | Radiobroadcast receiver combinations incorporating tape players, nesoi.
8527.91.50 | Radiobroadcast receiver combinations incorporating tape recorders, nesoi.
8527.91.60 | Radiobroadcast receivers combined with sound recording or reproducing apparatus, nesoi.
8527.92.10 | Radiobroadcast receiver with clock or clock-timer, n/for m.v., n/combined w/sound recording or reproducing app., valued < or = $40 ea.
8527.92.50 | Radiobroadcast receiver with clock or clock timer, n/for m.v., n/combined w/sound recording or reproducing app., valued > $40 ea.
8527.99.10 | Infant nursery monitor systems, consisting, in the same package, of a radio transmitter, electrical adapter and radio receiver.
8528.49.05 | Incomplete or unfinished color video monitors, presented w/o a display device, incorp. VCR or player.
8528.49.10 | Incomplete or unfinished color video monitors, presented w/o a display device, not incorp. VCR or player.
8528.49.25 | Non-high definition color video monitors, nonprojection type, w/CRT, video display diagonal not over 34.29 cm, not incorp. VCR or player.
8528.49.30 | Non-high definition color video monitors, nonprojection, w/CRT, video display diag. ov 34.29 cm but n/ov 35.56 cm, not incorp. VCR or player.
8528.49.40 | Non-high definition color video monitors, nonprojection type, w/CRT, video display diagonal over 35.56 cm, not incorporating VCR or player.
8528.49.50 | Non-high definition color video monitors, projection type, with cathode-ray tube, not incorporating VCR or player.
8528.49.65 | High definition color video monitors, nonprojection type, with cathode-ray tube, not incorporating VCR or player.
8528.49.70 | High definition color video monitors, projection type, with cathode-ray tube, incorporating VCR or player.
8528.49.75 | High definition color video monitors, projection type, with cathode-ray tube, not incorporating VCR or player.
8528.52.00 | Other monitors capable of directly connecting to and designed for use with an automatic data processing machine of heading 8471.
8528.59.15 | Color video monitors w/flat panel screen, video display diagonal n/ov 34.29 cm, incorporate VCR or player.
8528.59.23 | Color video monitors w/flat panel screen, video display diagonal > 34.29 cm, incorporating VCR or player, not subject US note 13.
8528.59.25 | Color video monitors w/flat panel screen, video display diagonal n/ov 34.29 cm, not incorporate VCR or player.
8528.59.33 | Color video monitors w/flat panel screen, video display diagonal > 34.29 cm, not with VCR/player, not subj US note 13.
8528.59.35 | Color video monitors nesoi, with video display diagonal not over 34.29 cm, incorporating VCR or player.
8528.59.40 | Color video monitors nesoi, with video display diagonal over 34.29 cm, incorporating VCR or player.
8528.59.45 | Color video monitors nesoi, with video display diagonal not over 34.29 cm, not incorporating VCR or player.
8528.59.50 | Color video monitors nesoi, with video display diagonal over 34.29 cm, not incorporating VCR or player.
8528.59.60 | Black and white or other monochrome video monitors, other.
8528.62.00 | Projectors capable of directly connecting to and designed for use with an automatic data processing machine of heading 8471.
8528.69.15 | Non-high definition color video projectors, with a cathode-ray tube, incorporating VCR or player.
8528.69.25 | High definition color video projectors, with a cathode-ray tube, incorporating VCR or player.
8528.69.35 | Color video projectors w/flat panel screen, video display diagonal not over 34.29 cm, incorporating VCR or player.
8528.69.40 | Color video projectors w/flat panel screen, video display diagonal over 34.29 cm, incorporating VCR or player.
8528.69.45 | Color video projectors w/flat panel screen, video display diagonal not over 34.29 cm, not incorporating VCR or player.
8528.69.50 | Color video projectors w/flat panel screen, video display diagonal over 34.29 cm, not incorporating VCR or player.
8528.69.55 | Color video projectors nesoi, incorporating video recording or reproducing apparatus.
8528.69.60 | Color video projectors nesoi, not incorporating a video recording or reproducing apparatus.
8528.69.70 | Black and white or other monochrome video projectors.
8528.71.10 | Reception apparatus for television, not designed to incorporate a video display or screen, incorporating video recording or reproducing appa.
8528.71.20 | TV reception set top boxes with a communication function, nesoi.
8528.71.30 | TV reception printed circuit assemblies incorporating a tuner, of a kind used with ADP machines of heading 8471, nesoi.
8528.71.40 | TV reception apparatus, not designed to incorp. video display or screen, not incorp. video recording/reproducing apparatus, color.
8528.71.45 | TV reception apparatus, not designed to incorp. video display or screen, not incorp. video recording/reproducing apparatus, monochrome.
8528.72.08 | Incomplete or unfinished color tv reception apparatus, presented w/o a display device, n/incorp. VCR or player.
8528.72.16 | Non-high def. color television reception app., nonprojection, w/CRT, display diag. ov 34.29 cm but n/ov 35.56 cm, incorp. VCR or player.
8528.72.32 | Non-high definition color television reception apparatus, nonprojection, w/CRT, video display diag. ov 35.56 cm, not incorp. a VCR or player.
8528.72.48 | High definition color television reception apparatus, nonprojection, with cathode-ray tube, not incorporating a VCR or player.
8528.72.52 | High definition color television reception apparatus, projection type, with cathode-ray tube, incorporating a VCR or player.
8528.72.56 | High definition color television reception apparatus, projection type, with cathode-ray tube, not incorporating a VCR or player.
8528.72.62 | Color television reception apparatus w/flat panel screen, video display diagonal n/ov 34.29 cm, incorporating a VCR or player.
8528.72.64 | Color television reception apparatus w/flat panel screen, video display diagonal over 34.29 cm, incorporating a VCR or player.
8528.72.68 | Color television reception apparatus w/flat panel screen, video display diagonal n/o 34.29 cm, not incorporating a VCR or player.
8528.72.72 | Color television reception apparatus w/flat panel screen, video display diagonal over 34.29 cm, not incorporating a VCR or player.
8528.72.76 | Color television reception apparatus nesoi, video display diagonal not over 34.29 cm, incorporating a VCR or player.
8528.72.80 | Color television reception apparatus nesoi, video display diagonal over 34.29 cm, incorporating a VCR or player.
8528.72.84 | Color television reception apparatus nesoi, video display diagonal not over 34.29 cm, not incorporating a VCR or player.
8528.72.97 | Color television reception apparatus nesoi, video display diagonal over 34.29 cm, not incorporating a VCR or player, nesoi.
8529.90.13 | Printed circuit assemblies for television apparatus, nesoi.
8531.80.15 | Doorbells, chimes, buzzers, and similar apparatus.
8531.80.90 | Electric sound or visual signaling apparatus, nesoi.
8536.90.60 | Battery clamps used in motor vehicles of headings 8702, 8703, 8704, or 8711.
8539.22.40 | Electrical filament Christmas-tree lamps, of a power not exceeding 200 W and for a voltage exceeding 100 V.
8539.22.80 | Electrical filament lamps of a power not exceeding 200 W and for a voltage exceeding 100 V nesoi, excluding ultraviolet and infrared lamps.
8539.29.10 | Electrical filament Christmas-tree lamps, designed for a voltage not exceeding 100 V.
8539.29.20 | Electrical filament lamps, voltage not exceeding 100 V, having glass envelopes n/o 6.35 mm in diameter, suitable in surgical instruments.
8539.29.30 | Electrical filament lamps nesoi, designed for a voltage not exceeding 100 V, excluding ultraviolet and infrared lamps.
8539.29.40 | Electrical filament lamps, designed for a voltage exceeding 100 V, of a power exceeding 200 W.
8539.50.00 | Light-emitting diode (LED) lamps.
8543.70.87 | Electrical machines w/translation/dictionary; flatpanel displays except for heading 8528 (except 8528.51/61);infrared video game controller.
8543.70.89 | Portable battery operated electronic readers for recording text, still images or audio files.
8543.70.93 | Portable interactive electronic education devices for children.
8548.10.05 | Spent primary cells, spent primary batteries and spent electric storage batteries, entered for recovery of lead.
8548.10.15 | Spent primary cells, spent primary batteries and spent electric storage batteries, not entered for recovery of lead.
8548.10.25 | Waste and scrap of primary cells, primary batteries and electric storage batteries, entered for recovery of lead.
8548.10.35 | Waste and scrap of primary cells, primary batteries and electric storage batteries, not entered for recovery of lead.
8609.00.00 | Containers (including containers for transport of fluids) specially designed and equipped for carriage by one or more modes of transport.
8703.10.10 | Motor vehicles specially designed for traveling on snow.
8703.10.50 | Golf carts and similar motor vehicles.
8710.00.00 | Tanks & other armored fighting vehicles, motorized, whether or not fitted with weapons, and parts of such vehicles.
8711.20.00 | Motorcycles (incl. mopeds) and cycles, fitted w/recip. internal-combustion piston engine w/capacity o/50 but n/o 250 cc.
8711.30.00 | Motorcycles (incl. mopeds) and cycles, fitted w/recip. internal-combustion piston engine w/capacity o/250 but n/o 500 cc.
8711.40.30 | Motorcycles (incl. mopeds) and cycles, fitted w/recip. internal-combustion piston engine w/capacity o/500 cc but n/o 700 cc.
8711.40.60 | Motorcycles (incl. mopeds) and cycles, fitted w/recip. internal-combustion piston engine w/capacity o/700 cc but n/o 800 cc.
8714.10.00 | Pts. & access. for motorcycles (including mopeds).
8714.99.10 | Pts. & access. for bicycles & o/cycles, click twist grips and click stick levers.
8714.99.50 | Pts. & access. for bicycles & o/cycles, derailleurs and parts thereof.
8714.99.60 | Pts. & accs. for bicycles & o/cycl., trigger & twist grip cntrls for 3-spd hubs, alum. handlebar stems >$2.15 ea, & stem rotor assys. & pts..
8714.99.80 | Pts. & access. nesoi, for bicycles and other cycles of heading 8712.
8715.00.00 | Baby carriages (including strollers) and parts thereof.
8801.00.00 | Balloons, dirigibles and non-powered aircraft, gliders and hang gliders.
8905.90.10 | Floating docks.
8906.10.00 | Warships.
8907.90.00 | Floating structures nesoi (for example, rafts, other than inflatable rafts, tanks, cofferdams, landing stages, buoys and beacons).
9001.30.00 | Contact lenses.
9001.40.00 | Spectacle lenses of glass, unmounted.
9001.50.00 | Spectacle lenses of materials other than glass, unmounted.
9003.11.00 | Frames and mountings, of plastics, for spectacles, goggles or the like.
9003.19.00 | Frames and mountings, other than of plastics, for spectacles, goggles or the like.
9003.90.00 | Parts of frames and mountings for spectacles, goggles or the like.
9004.10.00 | Sunglasses, corrective, protective or other.
9004.90.00 | Spectacles, goggles and the like, corrective, protective or other, other than sunglasses.
9005.10.00 | Binoculars.
9005.80.40 | Optical telescopes, including monoculars.
9005.80.60 | Monoculars and astronomical instruments other than binoculars and optical telescopes but not including instruments for radio-astronomy.
9005.90.40 | Parts and accessories, for binoculars, monoculars, optical telescopes, or astronomical instruments, incorp. good or 9001 or 9002.
9005.90.80 | Parts and accessories, including mountings, for binoculars, monoculars, other optical telescopes, and other astronomical instruments, nesoi.
9006.40.40 | Fixed focus instant print cameras.
9006.40.60 | Instant print cameras, other than fixed focus, valued not over $10 each.
9006.40.90 | Instant print cameras, other than fixed focus, valued over $10 each.
9006.51.00 | Cameras with through-the-lens viewfinder, for roll film of a width not exceeding 35 mm, not cinematographic.
9006.52.10 | Fixed focus, hand held, 110 cameras.
9006.52.30 | Fixed focus, hand held cameras, other than 110 cameras, for roll film of a width less than 35 mm, not cinematographic.
9006.52.50 | Fixed focus cameras nesoi, for roll film of a width less than 35 mm, not cinematographic.
9006.52.60 | Cameras, other than fixed focus, nesoi, for roll film of a width less than 35 mm, valued not over $10 each, not cinematographic.
9006.52.91 | Cameras, other than fixed focus, nesoi, for roll film of a width less than 35 mm, valued over $10 each, not cinematographic.
9006.53.01 | Cameras nesoi, for roll film of a width of 35 mm, not cinematographic.
9006.59.20 | Cameras of a kind used for preparing printing plates or cylinders.
9006.59.40 | Fixed focus cameras, nesoi, not cinematographic.
9006.59.60 | Cameras nesoi, other than fixed focus, valued not over $10 each, not cinematographic.
9006.59.91 | Photographic cameras, other than fixed focus, valued over $10 each, nesoi.
9006.61.00 | Photographic discharge lamp (“electronic”) flashlight apparatus.
9006.69.01 | Photographic flashlight apparatus, nesoi.
9006.91.00 | Parts and accessories for photographic cameras, not cinematographic.
9006.99.00 | Parts and accessories for photographic flashlight apparatus and flashbulbs.
9007.91.40 | Parts for cinematographic cameras.
9007.91.80 | Accessories for cinematographic cameras.
9008.50.10 | Slide projectors.
9008.50.20 | Microfilm, microfiche or other microform readers, capable of producing copies.
9008.50.30 | Microfilm, microfiche or other microform readers, other than those capable of producing copies.
9008.50.40 | Image projectors, except slide projectors and microfilm, microfiche or other microform readers.
9013.10.10 | Telescopic sights for rifles not designed for use with infrared light.
9013.10.50 | Other telescopic sights for arms other than rifles; periscopes.
9013.80.90 | Liquid crystal devices nesoi, and optical appliances and instruments, nesoi.
9013.90.20 | Parts and accessories of telescopic sights for rifles.
9014.10.60 | Gyroscopic directing finding compasses, other than electrical.
9023.00.00 | Instruments, apparatus and models, designed for demonstrational purposes, unsuitable for other uses, and parts and accessories thereof.
9025.80.15 | Nonelectrical barometers, not combined with other instruments.
9025.80.35 | Hygrometers and psychrometers, non-electrical, non-recording.
9025.80.40 | Thermographs, barographs, hygrographs and other recording instruments, other than electrical.
9025.80.50 | Combinations of thermometers, barometers and similar temperature and atmosphere measuring and recording instruments, nonelectrical.
9026.10.40 | Flow meters, other than electrical, for measuring or checking the flow of liquids.
9026.10.60 | Instruments and apparatus for measuring or checking the level of liquids, other than flow meters, non-electrical.
9026.20.80 | Instruments and apparatus, other than electrical, for measuring or checking the pressure of liquids or gases.
9026.80.60 | Nonelectrical instruments and apparatus for measuring or checking variables of liquids or gases, nesoi.
9027.90.20 | Microtomes.
9029.90.60 | Parts and accessories of stroboscopes.
9101.11.40 | Wrist watches with cases of or clad with precious metal, electrically operated, with mechanical display only, with 0-1 jewel in mvmt.
9101.11.80 | Wrist watches with cases of or clad with precious metal, electrically operated, with mechanical display only, w/more than 1 jewel in mvmt.
9101.19.20 | Wrist watches with cases of or clad with precious metal, electrically operated, with opto-electronic display only.
9101.19.40 | Wrist watches with cases of or clad with precious metal, electrically operated, with both opto-electronic and mechanical displays, 0-1 jewel.
9101.19.80 | Wrist watches with cases of or clad with precious metal, electrically operated, w/both opto-electronic & mechanical displays, over 1 jewel.
9101.21.10 | Straps/bands/bracelets of tex. mat. or base metal, whether or not gold- or silver-plated entered with wrist watches of subheading 9101.21.50.
9101.21.30 | Straps, bands or bracelets, nesoi, entered with wrist watches of subheading 9101.21.50 and classifiable therewith.
9101.21.50 | Wrist watches with cases of or clad with precious metal, not electrically operated, with automatic winding, with over 17 jewels in mvmt.
9101.21.80 | Wrist watches with cases of or clad with precious metal, not electrically operated, with automatic winding, w/17 jewels or less in mvmt.
9101.29.10 | Wrist watches with cases of or clad with precious metal, not electrically operated, not automatic winding, with 0-1 jewel in mvmt.
9101.29.20 | Wrist watches with cases of or clad with precious metal, not electrically operated, not automatic winding, with 2-7 jewels in mvmt.
9101.29.30 | Wrist watches with cases of or clad with precious metal, not electrically operated, n/auto winding, 8-17 jewels, mvmt n/o $15 & n/o 15.2 mm.
9101.29.40 | Wrist watches with cases of or clad with precious metal, not electrically operated, n/auto winding, 8-17 jewels, mvmt n/o $15 & ov 15.2 mm.
9101.29.50 | Wrist watches with cases of or clad with precious metal, not electrically operated, not automatic winding, 8-17 jewels, movement over $15.
9101.29.70 | Straps/bands/bracelets of tex. mat. or base metal, whether or not gold- or silver-plated entered with wrist watches of subheading 9101.29.90.
9101.29.80 | Straps, bands or bracelets, nesoi, entered with wrist watches of subheading 9101.29.90 and classifiable therewith.
9101.29.90 | Wrist watches with cases of or clad with precious metal, not electrically operated, not automatic winding, w/over 17 jewels in the mvmt.
9101.91.20 | Watches (excl. wrist watches) with cases of or clad with precious metal, electrically operated, with opto-electronic display only.
9101.91.40 | Watches (excl. wrist watches) with cases of or clad with precious metal, electrically operated, with 0-1 jewel in mvmt, n/optoelec. display.
9101.91.80 | Watches (excl. wrist watches) with cases of or clad with precious metal, electrically operated, over 1 jewel in mvmt, n/optoelec. display.
9101.99.20 | Watches (excl. wrist watches) with cases of or clad with precious metal, not electrically operated, with 0-7 jewels in the mvmt.
9101.99.40 | Watches (excl. wrist watches) with cases of or clad with precious metal, not electrically operated, w/8-17 jewels in mvmt, mvmt n/o $15 ea.
9101.99.60 | Watches (excl. wrist watches) with cases of or clad with precious metal, not electrically operated, w/8-17 jewels in mvmt, mvmt over $15 ea.
9101.99.80 | Watches (excl. wrist watches) with cases of or clad with precious metal, not electrically operated, with over 17 jewels in the mvmt.
9102.11.10 | Wrist watches nesoi, electrically operated, mechanical display only, 0-1 jewel, gold/silver-plated case, band of textile mat. or base metal.
9102.11.25 | Wrist watches nesoi, electrically operated, mechanical display only, 0-1 jewel, case nesoi, with band of textile material or base metal.
9102.11.30 | Wrist watches nesoi, electrically operated, mechanical display only, 0-1 jewel, gold- or silver-plated case, with band of material nesoi.
9102.11.45 | Wrist watches nesoi, electrically operated, mechanical display only, 0-1 jewel, case nesoi, with band of material nesoi.
9102.11.50 | Wrist watches nesoi, electrically operated, mechanical display only, over 1 jewel, gold/silver-plated case, band of textile or base metal.
9102.11.65 | Wrist watches nesoi, electrically operated, mechanical display only, over 1 jewel, case nesoi, with band of textile material or base metal.
9102.11.70 | Wrist watches nesoi, electrically operated, mechanical display only, over 1 jewel, gold- or silver-case, with band of material nesoi.
9102.11.95 | Wrist watches nesoi, electrically operated, mechanical display only, over 1 jewel, case nesoi, with band of material nesoi.
9102.12.20 | Straps/bands/bracelets of tex. mat. or base metal, whether or not gold- or silver-plated entered with wrist watches of subheading 9102.12.80.
9102.12.40 | Straps, bands or bracelets, nesoi, entered with wrist watches of subheading 9102.12.80 and classifiable therewith.
9102.12.80 | Wrist watches nesoi, electrically operated, with opto-electronic display only.
9102.19.20 | Wrist watches nesoi, electrically operated, w/both optoelectronic & mechanical displays, 0-1 jewel, band of textile material or base metal.
9102.19.40 | Wrist watches nesoi, electrically operated, w/both optoelectronic & mechanical displays, 0-1 jewel, band of material nesoi.
9102.19.60 | Wrist watches nesoi, electrically operated, w/both optoelectronic & mechanical displays, over 1 jewel, band of textile mat. or base metal.
9102.19.80 | Wrist watches nesoi, electrically operated, w/both optoelectronic & mechanical displays, over 1 jewel, band of material nesoi.
9102.21.10 | Wrist watches nesoi, automatic winding, 0-1 jewel, watch band of textile material or base metal.
9102.21.25 | Wrist watches nesoi, automatic winding, 0-1 jewel, watch band not of textile material or base metal.
9102.21.30 | Wrist watches nesoi, automatic winding, 2-17 jewels, watch band of textile material or base metal.
9102.21.50 | Wrist watches nesoi, automatic winding, 2-17 jewels, watch band not of textile material or base metal.
9102.21.70 | Wrist watches nesoi, automatic winding, over 17 jewels, watch band of textile material or base metal.
9102.21.90 | Wrist watches nesoi, automatic winding, over 17 jewels, watch band not of textile material or base metal.
9102.29.02 | Straps/bands/bracelets of tex. mat. or base metal, whether or not gold- or silver-plated entered with wrist watches of subheading 9102.29.04.
9102.29.04 | Wrist watches nesoi, not electrically operated, not autowind, 0-1 jewel, entered with straps/bands/bracelet of tex. mat. or base metal.
9102.29.10 | Wrist watches nesoi, not electrically operated, not automatic winding, 0-1 jewel, with strap/band/bracelet of material nesoi.
9102.29.15 | Wrist watches nesoi, not electrically operated, not automatic winding, 2-7 jewels, with strap/band of textile material or base metal.
9102.29.20 | Wrist watches nesoi, not electrically operated, not automatic winding, 2-7 jewels, with strap/band/bracelet of material nesoi.
9102.29.25 | Wrist watches nesoi, not electrically operated, n/autowind, 8-17 jewels, mvmt n/o $15 & n/o 15.2 mm, band of textile material or base metal.
9102.29.30 | Wrist watches nesoi, not electrically operated, not automatic winding, 8-17 jewels, movement n/o $15 & n/o 15.2 mm, band of material nesoi.
9102.29.35 | Wrist watches nesoi, not electrically operated, n/autowinding, 8-17 jewel, mvmt n/o $15 & ov 15.2 mm, band of textile material or base metal.
9102.29.40 | Wrist watches nesoi, not electrically operated, n/autowinding, 8-17 jewel, mvmt n/o $15 & over 15.2 mm, with band of material nesoi.
9102.29.45 | Wrist watches nesoi, not electrically operated, not auto winding, 8-17 jewels, movement over $15 each, with band of textiles or base metal.
9102.29.50 | Wrist watches nesoi, not electrically operated, not auto winding, 8-17 jewels, mvmt over $15 each, with band of material nesoi.
9102.29.55 | Wrist watches nesoi, not electrically operated, not automatic winding, over 17 jewels in the mvmt, with band of textiles or base metal.
9102.29.60 | Wrist watches nesoi, not electrically operated, not automatic winding, over 17 jewels in the movement, with band of material nesoi.
9102.91.20 | Watches (excl. wrist watches) nesoi, electrically operated, with opto-electronic display only.
9102.91.40 | Watches (excl. wrist watches) nesoi, electrically operated, with 0-1 jewel in the movement.
9102.91.80 | Watches (excl. wrist watches) nesoi, electrically operated, with over 1 jewel in the movement.
9102.99.20 | Watches (excl. wrist watches) nesoi, not electrically operated, with 0-7 jewels in the movement.
9102.99.40 | Watches (excl. wrist watches) nesoi, not electrically operated, with 8-17 jewels in movement, movement valued not over $15 each.
9102.99.60 | Watches (excl. wrist watches) nesoi, not electrically operated, with 8-17 jewels in movement, movement valued over $15 each.
9102.99.80 | Watches (excl. wrist watches) nesoi, not electrically operated, having over 17 jewels in the movement.
9103.10.20 | Clocks with watch movements, excluding clocks of heading 9104, electrically operated, with opto-electronic display only.
9103.10.40 | Clocks with watch movements, excluding clocks of heading 9104, electrically operated, with 0-1 jewel in the movement.
9103.10.80 | Clocks with watch movements, excluding clocks of heading 9104, electrically operated, with over 1 jewel in the movement.
9103.90.00 | Clocks with watch movements, excluding clocks of heading 9104, not electrically operated.
9104.00.60 | Instrument panel clocks for vehicles, air/spacecraft or vessels, w/clock or watch movement < 50 mm wide, nonelectric.
9105.11.40 | Alarm clocks nesoi, electrically operated, with opto-electronic display only.
9105.11.80 | Alarm clocks nesoi, electrically operated, other than with opto-electronic display only.
9105.19.10 | Alarm clocks nesoi, not electrically operated, movement measuring not over 50 mm, not designed to operate over 47 hrs without rewinding.
9105.19.20 | Alarm clocks nesoi, not electrically operated, movement measuring n/o 50 mm, designed to operate over 47 hrs w/o rewinding, with 0-1 jewel.
9105.19.30 | Alarm clocks nesoi, not electrically operated, movement measuring n/o 50 mm, designed to operate over 47 hrs w/o rewinding, over 1 jewel.
9105.19.40 | Alarm clocks nesoi, not electrically operated, movement measuring over 50 mm in width or diameter, valued not over $5 each.
9105.19.50 | Alarm clocks nesoi, not electrically operated, movement measuring over 50 mm in width or diameter, valued over $5 each.
9105.21.40 | Wall clocks nesoi, electrically operated, with opto-electronic display only.
9105.21.80 | Wall clocks nesoi, electrically operated, other than with opto-electronic display only.
9105.29.10 | Wall clocks nesoi, not electrically operated, mvmt measuring n/o 50 mm, not designed or constr. to operate over 47 hrs without rewinding.
9105.29.20 | Wall clocks nesoi, not electrically operated, mvmt measuring n/o 50 mm, 0-1 jewel, constructed/designed to operate over 47 hrs w/o rewinding.
9105.29.30 | Wall clocks nesoi, not electrically operated, mvmt measuring n/o 50 mm, ov 1 jewel, constructed/designed to operate ov 47 hrs w/o rewinding.
9105.29.40 | Wall clocks nesoi, not electrically operated, movement measuring over 50 mm in width or diameter, valued not over $5 each.
9105.29.50 | Wall clocks nesoi, not electrically operated, movement measuring over 50 mm in width or diameter, valued over $5 each.
9105.91.40 | Clocks nesoi, electrically operated, with opto-electronic display only.
9105.91.80 | Clocks nesoi, electrically operated, other than with opto-electronic display only.
9105.99.10 | Standard marine chronometers nesoi, having spring-detent escapements.
9105.99.20 | Clocks nesoi, not electrically operated, mvmt not over 50 mm in width or diameter, not designed to operate for over 47 hrs without rewinding.
9105.99.30 | Clocks nesoi, not electrically operated, mvmt not over 50 mm in width or diameter, 0-1 jewel, designed to operate ov 47 hrs w/o rewinding.
9105.99.40 | Clocks nesoi, not electrically operated, mvmt not over 50 mm in width or diameter, over 1 jewel, designed to operate ov 47 hrs w/o rewinding.
9105.99.50 | Clocks nesoi, not electrically operated, movement measuring over 50 mm in width or diameter, valued not over $5 each.
9105.99.60 | Clocks nesoi, not electrically operated, movement measuring over 50 mm in width or diameter, valued over $5 each.
9108.11.40 | Watch movements, complete and assembled, electrically operated, with mechanical display or device to incorporate such display, 0-1 jewel.
9108.11.80 | Watch movements, complete and assembled, electrically operated, with mechanical display or device to incorporate such display, over 1 jewel.
9108.12.00 | Watch movements, complete and assembled, electrically operated, with opto-electronic display only.
9108.19.40 | Watch movements, complete and assembled, electrically operated, w/both optoelectronic & mechanical displays, having 0-1 jewels.
9108.19.80 | Watch movements, complete and assembled, electrically operated, w/both optoelectronic & mechanical displays, having over 1 jewel.
9108.20.40 | Watch movements, complete and assembled, with automatic winding, over 17 jewels.
9108.20.80 | Watch movements, complete and assembled, with automatic winding, 17 jewels or less.
9108.90.10 | Watch movements, complete and assembled, not electrically operated or automatic winding, measuring 33.8 mm or less, none or only 1 jewel.
9108.90.20 | Watch movements, complete and assembled, not electrically operated or automatic winding, measuring over 33.8 mm, none or only 1 jewel.
9108.90.30 | Watch movements, complete and assembled, not electrically operated or automatic winding, measuring 33.8 mm or less, over 1 but n/o 7 jewels.
9108.90.40 | Watch movements, complete and assembled, not electrically operated or automatic winding, measuring over 33.8 mm, ov 1 but not over 7 jewels.
9108.90.50 | Watch movements, complete and assembled, nesoi, measuring not over 15.2 mm, over 7 but n/o 17 jewels, valued not over $15 each.
9108.90.60 | Watch movements, complete and assembled, nesoi, measuring over 15.2 mm but not over 33.8 mm, over 7 but n/o 17 jewels, valued n/o $15 each.
9108.90.70 | Watch movements, complete and assembled, nesoi, measuring 33.8 mm or less, over 7 but not over 17 jewels, valued over $15 each.
9108.90.80 | Watch movements, complete and assembled, nesoi, measuring over 33.8 mm, over 7 but not over 17 jewels, valued not over $15 each.
9108.90.85 | Watch movements, complete and assembled, nesoi, measuring over 33.8 mm, over 7 but not over 17 jewels, valued over $15 each.
9108.90.90 | Watch movements, complete and assembled, not electrically operated or automatic winding, measuring 33.8 mm or less, over 17 jewels.
9108.90.95 | Watch movements, complete and assembled, not electrically operated or automatic winding, measuring over 33.8 mm, over 17 jewels.
9109.10.10 | Alarm clock movements, complete and assembled, electrically operated, with opto-electronic display only.
9109.10.20 | Alarm clock movements, complete and assembled, electrically operated, with display nesoi, measuring not over 50 mm in width or diameter.
9109.10.30 | Alarm clock movements, complete and assembled, electrically operated, with display nesoi, measuring over 50 mm, valued not over $5 each.
9109.10.40 | Alarm clock movements, complete and assembled, electrically operated, with display nesoi, measuring over 50 mm, valued over $5 each.
9109.10.50 | Clock movements nesoi, complete and assembled, electrically operated, with opto-electronic display only.
9109.10.60 | Clock movements nesoi, complete and assembled, electrically operated, with display nesoi, measuring not over 50 mm in width or diameter.
9109.10.70 | Clock movements nesoi, complete and assembled, electrically operated, with display nesoi, measuring over 50 mm, valued not over $5 each.
9109.10.80 | Clock movements nesoi, complete and assembled, electrically operated, with display nesoi, measuring over 50 mm, valued over $5 each.
9109.90.20 | Clock movements, complete and assembled, not electrically operated, measuring not over 50 mm in width or diameter.
9109.90.40 | Clock movements, complete and assembled, not electrically operated, measuring over 50 mm in width or diameter, valued not over $5 each.
9109.90.60 | Clock movements, complete and assembled, not electrically operated, measuring over 50 mm in width or diameter, valued over $5 each.
9110.11.00 | Complete watch movements, unassembled or partly assembled (movement sets).
9110.12.00 | Incomplete watch movements, assembled.
9110.19.00 | Rough watch movements.
9110.90.20 | Complete clock movements, unassembled or partly assembled (movement sets).
9110.90.40 | Incomplete clock movements consisting of 2 or more pieces or parts fastened or joined together.
9110.90.60 | Incomplete clock movements, nesoi.
9111.10.00 | Watch cases of precious metal or of metal clad with precious metal.
9111.20.20 | Watch cases of gold- or silver-plated base metal.
9111.20.40 | Watch cases of base metal not gold- or silver-plated.
9111.80.00 | Watch cases, not of precious metal, of metal clad with precious metal or of base metal.
9111.90.40 | Parts of watch cases, of precious metal or of metal clad with precious metal.
9111.90.50 | Bezels, backs and centers, of watch cases, not of precious metal or of metal clad with precious metal.
9111.90.70 | Parts of watch cases, other than bezels, backs and centers, not of precious metal or of metal clad with precious metal.
9112.20.40 | Clock cases and cases of a similar type for other goods of chapter 91, of metal.
9112.20.80 | Clock cases and cases of a similar type for other goods of chapter 91, other than cases of metal.
9112.90.00 | Parts of clock cases and cases of a similar type for other goods of chapter 91.
9113.10.00 | Watch straps, watch bands and watch bracelets, of precious metal or of metal clad with precious metal, and parts thereof.
9113.20.20 | Watch straps, watch bands and watch bracelets of base metal, whether or not gold- or silver-plated, valued not over $5 per dozen.
9113.20.40 | Watch straps, watch bands and watch bracelets of base metal, whether or not gold- or silver-plated, valued over $5 per dozen.
9113.20.60 | Parts of watch bracelet of base metal, whether or not gold- or silver-plated, valued not over $12 per dozen.
9113.20.90 | Parts of watch bracelets of base metal, whether or not gold- or silver-plated, valued over $12 per dozen.
9113.90.40 | Watch straps, watch bands and watch bracelets, of textile material, and parts thereof.
9113.90.80 | Watch straps, watch bands and watch bracelets, other than of precious metal, base metal or textile material, and parts thereof.
9114.10.40 | Springs, including hair-springs, for watches.
9114.10.80 | Springs, including hair-springs, for clocks.
9114.30.40 | Dials for watches and clocks, not exceeding 50 mm in width.
9114.30.80 | Dials for watches and clocks, exceeding 50 mm in width.
9114.40.20 | Watch movement bottom or pillar plates or their equivalent.
9114.40.40 | Any plate, or set of plates, suitable for assembling thereon a clock movement.
9114.40.60 | Plates and bridges for watches, nesoi.
9114.40.80 | Plates and bridges for clocks, nesoi.
9114.90.10 | Jewels for watch or clock movements.
9114.90.15 | Assemblies and subassemblies for watch movements consisting of 2 or more pieces or parts fastened or joined inseparably together.
9114.90.30 | Assemblies and subassemblies for clock movements consisting of 2 or more pieces or parts fastened or joined inseparably together.
9114.90.40 | Watch parts, nesoi.
9114.90.50 | Clock parts, nesoi.
9201.10.00 | Upright pianos.
9201.20.00 | Grand pianos.
9201.90.00 | Keybd string. musical instru., o/than w/elect. sound or ampl., pianos (incl. player pianos) nesoi; harpsichords & oth keybd string. instr..
9202.10.00 | String musical instruments, o/than w/elect. sound or ampl., played with a bow.
9202.90.20 | String musical instruments, o/than w/elect. sound or ampl., guitars, valued not over $100 each (excluding the value of the case).
9202.90.40 | String musical instruments, o/than w/elect. sound or ampl., guitars, valued over $100 each (excluding the value of the case).
9202.90.60 | String musical instruments (o/than guitars or instruments played with a bow), o/than w/elect. sound or ampl.
9205.10.00 | Wind musical instruments, o/than w/elect. sound or ampl., brass-wind instruments.
9205.90.12 | Keyboard musical instruments, o/than w/elect. sound or ampl., pipe organs.
9205.90.14 | Keyboard musical instruments, o/than w/elect. sound or ampl., harmoniums and similar keyboard instruments with free metal reeds.
9205.90.15 | Piano accordions, o/than w/elect. sound or ampl..
9205.90.18 | Accordions (o/than piano accordions) and similar instruments, o/than w/elect. sound or ampl..
9205.90.19 | Mouth organs.
9205.90.20 | Wind musical instruments, o/than w/elect. sound or ampl., bagpipes.
9205.90.40 | Wind musical instruments, o/than w/elect. sound or ampl., woodwind instruments (o/than bagpipes).
9205.90.60 | Wind musical instruments (o/than brass-wind or woodwind) nesoi, o/than w/elect. sound or ampl..
9206.00.20 | Percussion musical instruments, o/than w/elect. sound or ampl., drums.
9206.00.40 | Percussion musical instruments, o/than w/elect. sound or ampl., cymbals.
9206.00.60 | Percussion musical instruments, o/than w/elect. sound or ampl., sets of tuned bells known as chimes, peals or carillons.
9206.00.80 | Percussion musical instruments (o/than drums, cymbals, chimes, peals or carillons) nesoi (e.g., xylophones, castanets, maracas).
9207.10.00 | Keyboard musical instruments (o/than accordions), the sound of which is produced, or must be amplified, electrically.
9207.90.00 | Musical instruments (o/than keyboard except accordions) nesoi, the sound of which is produced, or must be amplified, electrically.
9208.10.00 | Music boxes.
9208.90.00 | Musical instruments nesoi in chapter 92; decoy calls; whistles, and o/mouth-blown sound signaling instruments.
9209.30.00 | Strings for musical instruments.
9209.91.40 | Tuning pins for pianos.
9209.91.80 | Parts & access. for pianos (o/than tuning pins and strings) nesoi.
9209.92.20 | Mutes, collapsible musical instru. stands, & music holders for attachment to instru., all the foregoing, for stringed music. instru. of 9202.
9209.92.40 | Tuning pins for stringed musical instruments of heading 9202.
9209.92.60 | Bows, parts of bows, bow hair, chin rests and other parts and accessories for stringed musical instru. of 9202.
9209.92.80 | Parts & access. nesoi, for stringed musical instruments of heading 9202.
9209.94.40 | Collapsible musical instrument stands, for the instruments w/elect sound or ampl. of heading 9207.
9209.94.80 | Parts & access. nesoi, for the musical instruments w/elect. sound or ampl. of heading 9207 nesoi.
9209.99.05 | Metronomes, tuning forks and pitch pipes of all kinds.
9209.99.10 | Mutes nesoi; pedals, dampers & spurs for drums; pedals & holders for cymbals; music holders nesoi; collapsible music instru stands, nesoi.
9209.99.16 | Parts & access. nesoi, for pipe organs.
9209.99.18 | Parts & access. nesoi, for harmoniums and similar keyboard instruments with free metal reeds of heading 9203, nesoi.
9209.99.20 | Parts & access. nesoi, for bagpipes.
9209.99.40 | Parts & access. nesoi, for woodwind and brass-wind musical instruments.
9209.99.61 | Parts for music boxes.
9209.99.80 | Parts & access. nesoi, for musical instruments, nesoi.
9301.10.00 | Artillery weapons (for example, guns, howitzers, and mortars).
9301.20.00 | Rocket launchers; flame-throwers; grenade launchers; torpedo tubes and similar projectors.
9301.90.30 | Rifles, military.
9301.90.60 | Shotguns, military.
9301.90.90 | Military weapons, nesoi.
9302.00.00 | Revolvers and pistols (o/than of heading 9303 or 9304).
9303.10.00 | Muzzle-loading firearms.
9303.20.00 | Shotguns (incl. comb. shotgun-rifles), for sport, hunting or target-shooting.
9303.30.40 | Rifles (o/than muzzle-loading), for sport, hunting or target-shootings, valued o/$25 but n/or $50 each.
9303.30.80 | Rifles (o/than muzzle-loading), for sport, hunting or target-shooting rifles, valued at $25 and under or o/$50 each.
9303.90.40 | Revolvers and pistols, designed to fire only blank cartridges or blank ammunition.
9303.90.80 | Firearms and similar devices that operate by the firing of an explosive charge, nesoi.
9304.00.20 | Rifles that eject missiles by release of compressed air or gas, or by the release of a spring mechanism or rubber held under tension.
9304.00.40 | Pistols & other guns (o/than rifles) that eject missiles by release of comp. air or gas, a spring mechanism or rubber held under tension.
9304.00.60 | Arms (o/than those of heading 9307) nesoi.
9305.10.20 | Parts and accessories nesoi, for revolvers or pistols of heading 9302.
9305.10.40 | Parts and accessories nesoi, for revolvers or pistols designed to fire only blank cartridges or blank ammunition.
9305.10.60 | Parts and accessories nesoi, for muzzle-loading revolvers and pistols.
9305.10.80 | Parts and accessories nesoi, for revolvers or pistols nesoi.
9305.20.05 | Stocks, for rifles of heading 9303.
9305.20.80 | Other parts and accessories of shotguns or rifles of heading 9303.
9305.91.10 | Parts and accessories for military rifles of heading 9301.
9305.91.20 | Parts and accessories for military shotguns of heading 9301.
9305.91.30 | Parts and accessories for military weapons (other than rifles and shotguns) of heading 9301.
9305.99.40 | Parts and accessories for articles of heading 9303 other than shotguns or rifles.
9305.99.50 | Parts and accessories for articles of subheading 9304.00.20 or 9304.00.40.
9305.99.60 | Parts and accessories for articles of headings 9301 to 9304, nesoi.
9306.21.00 | Cartridges, for shotguns.
9306.29.00 | Parts of cartridges for shotguns; air gun pellets.
9306.30.41 | Cartridges nesoi and empty cartridge shells.
9306.30.80 | Parts of cartridges nesoi.
9306.90.00 | Bombs, grenades, torpedoes, mines, missiles and similar munitions of war and pts thereof; other ammunition projectiles & pts. thereof.
9307.00.00 | Swords, cutlasses, bayonets, lances and similar arms, parts thereof and scabbards and sheaths therefor.
9401.10.40 | Seats, of a kind used for aircraft, leather upholstered.
9401.10.80 | Seats, of a kind used for aircraft (o/than leather upholstered).
9401.90.10 | Parts of seats nesoi, for seats of a kind used for motor vehicles.
9401.90.15 | Parts of seats nesoi, for bent-wood seats.
9401.90.25 | Parts of seats (o/than of 9402) nesoi, of cane, osier, bamboo or similar materials.
9404.30.40 | Sleeping bags, containing 20% or more by weight of feathers and/or down.
9404.30.80 | Sleeping bags, not containing 20% or more by weight of feathers and/or down.
9404.90.10 | Pillows, cushions and similar furnishings, of cotton.
9404.90.20 | Pillows, cushions and similar furnishings, other than of cotton.
9404.90.80 | Arts. of bedding & similar furnishings stuffed or internally fitted w/any material nesoi, of cotton, w/o embroidery/lace/braid/edging, etc.
9404.90.85 | Quilts, eiderdowns, comforters and similar articles, not of cotton.
9404.90.95 | Arts. of bedding & similar furnishings stuffed or internally fitted w/any material nesoi.
9503.00.00 | Toys, including riding toys o/than bicycles, puzzles, reduced scale models.
9504.20.20 | Balls, for billiards.
9504.20.40 | Chalk, for billiards.
9504.20.60 | Tables, for billiards.
9504.20.80 | Articles nesoi and parts and accessories, for billiards.
9504.30.00 | Coin- or token-operated games for arcade, table or parlor (o/than bowling alley equipment) nesoi and parts and accessories thereof.
9504.40.00 | Playing cards.
9504.50.00 | Video game consoles and machines, other than those of heading 9504.30.
9504.90.40 | Game machines (o/than coin- or token-operated) and parts and accessories thereof.
9504.90.60 | Chess, checkers, backgammon, darts and o/table and parlor games played on boards of a special design and parts thereof; poker chips and dice.
9504.90.90 | Articles nesoi for arcade, table or parlor games & parts & access.; automatic bowling alley equipment & parts and accessories thereof.
9505.10.10 | Arts. for Christmas festivities, ornaments of glass.
9505.10.15 | Arts. for Christmas festivities, ornaments of wood.
9505.10.25 | Arts. for Christmas festivities, ornaments, not of glass or wood.
9505.10.30 | Arts. for Christmas festivities, nativity scenes and figures thereof.
9505.10.40 | Arts. for Christmas festivities (o/than ornaments & nativity scenes) nesoi, of plastics.
9505.10.50 | Arts. for Christmas festivities (o/than ornaments & nativity scenes) nesoi, not of plastics.
9505.90.20 | Magic tricks and practical joke articles, and parts & accessories thereof nesoi.
9505.90.40 | Confetti, paper spirals or streamers, party favors, and noisemakers, and parts & accessories thereof nesoi.
9505.90.60 | Festive, carnival or other entertainment articles nesoi and parts & accessories thereof nesoi.
9506.11.20 | Skis, cross-country snow-skis.
9506.11.40 | Skis, snow-skis (o/than cross-country).
9506.11.60 | Parts and accessories (o/than poles) for snow-skis.
9506.12.40 | Bindings and parts & accessories thereof, for cross-country snow skis.
9506.12.80 | Bindings and parts & accessories thereof, for snow-skis (o/than cross-country).
9506.19.40 | Cross country snow-ski equipment nesoi, and parts & accessories thereof nesoi.
9506.19.80 | Snow-ski (o/than cross country) equipment nesoi, and parts & accessories thereof nesoi.
9506.21.40 | Sailboards.
9506.21.80 | Parts and accessories for sailboards.
9506.29.00 | Water-skis, surf boards, and other water sport equipment (o/than sailboards) and parts & accessories thereof nesoi.
9506.31.00 | Golf clubs, complete.
9506.32.00 | Golf balls.
9506.39.00 | Golf equipment (o/than golf footwear) nesoi and parts & accessories thereof.
9506.40.00 | Articles and equipment for table-tennis and parts & accessories thereof.
9506.51.20 | Lawn-tennis rackets, strung.
9506.51.40 | Lawn-tennis rackets, not strung.
9506.51.60 | Parts and accessories for lawn-tennis rackets.
9506.59.40 | Badminton rackets and parts and accessories thereof.
9506.59.80 | Rackets for games (o/than for lawn-tennis or badminton) and parts & accessories thereof.
9506.61.00 | Lawn-tennis balls.
9506.62.40 | Inflatable footballs and soccer balls.
9506.62.80 | Inflatable balls (o/than footballs and soccer balls) nesoi.
9506.69.20 | Baseballs and softballs.
9506.69.40 | Noninflatable hollow balls nesoi, w/diameter of 19 cm or less.
9506.69.60 | Noninflatable balls nesoi.
9506.70.20 | Roller skates and parts & accessories thereof.
9506.70.40 | Ice skates w/footwear permanently attached.
9506.70.60 | Skates (o/than roller or ice) nesoi and parts & access. thereof (incl. parts and accessories for ice skates w/perm. attach. footwear).
9506.91.00 | Arts. and equip. for general physical exercise, gymnastics or athletics and parts & accessories thereof.
9506.99.05 | Archery articles and equipment, and parts & accessories thereof.
9506.99.08 | Badminton nets, of cotton.
9506.99.12 | Badminton articles and equipment (o/than rackets and cotton nets) and parts & accessories thereof.
9506.99.15 | Baseball articles and equipment (o/than baseballs) and parts & accessories thereof.
9506.99.20 | Football, soccer and polo articles and equipment (o/than balls), and parts & accessories thereof.
9506.99.25 | Ice-hockey and field-hockey articles and equipment (o/than balls and skates), and parts & accessories thereof.
9506.99.28 | Lacrosse sticks.
9506.99.30 | Lawn-tennis articles and equipment (o/than balls and rackets), and parts & accessories thereof.
9506.99.35 | Skeet targets.
9506.99.40 | Toboggans; bobsleds and luges of a kind used in international competition.
9506.99.45 | Sleds and bobsleds (o/than bobsleds & luges for intl. competition) and parts & accessories for toboggans, sleds, bobsled, luges and the like.
9506.99.50 | Snowshoes and parts & accessories thereof.
9506.99.55 | Swimming pools and wading pools and parts & accessories thereof.
9506.99.60 | Athletic and sports articles and equipment nesoi, and parts & accessories thereof nesoi.
9507.10.00 | Fishing rods and parts & accessories thereof.
9507.20.40 | Fish hooks, snelled.
9507.20.80 | Fish hooks, not snelled.
9507.30.20 | Fishing reels, valued not over $2.70 each.
9507.30.40 | Fishing reels, valued over $2.70 but not over $8.45 each.
9507.30.60 | Fishing reels, valued over $8.45 each.
9507.30.80 | Parts and accessories for fishing reels.
9507.90.20 | Fishing line, put up and packaged for retail sale.
9507.90.40 | Fishing casts or leaders.
9507.90.60 | Fish landing nets, butterfly nets and similar nets.
9507.90.70 | Artificial baits and flies.
9507.90.80 | Line fishing tackle nesoi, decoy “birds” & similar hunting or shooting equip., and parts & access. thereof.
9508.10.00 | Traveling circuses and traveling menageries; parts and accessories thereof.
9508.90.00 | Merry-go-rounds, boat-swings, shooting galleries and other fairground amusements; traveling theaters; parts and accessories thereof.
9601.10.00 | Ivory, worked and articles thereof.
9601.90.20 | Shell, worked and articles thereof.
9601.90.40 | Coral, cut but not set, and cameos, suitable for use in jewelry.
9601.90.60 | Bone, horn, hoof, whalebone, quill, or any combination thereof, worked and articles thereof.
9601.90.80 | Carving materials of animal parts, worked and articles thereof, nesoi.
9602.00.10 | Unhardened gelatin, worked and articles thereof.
9602.00.40 | Wax, molded or carved articles.
9602.00.50 | Vegetable, mineral or gum materials, worked and articles of these materials.
9603.10.05 | Whiskbrooms, wholly or pt. of broom corn, n/o $0.96 each, first 61,655 doz in calendar year classif. In 9603.10.05-9603.10.35.
9603.10.15 | Whiskbrooms, wholly or pt. of broom corn, n/o $0.96 each, >first 61,655 dz in calendar year classif. In 9603.10.05-9603.10.35.
9603.10.35 | Whiskbrooms, wholly or pt. of broom corn, over $0.96 each.
9603.10.40 | Brooms (o/than whiskbrooms), wholly or in part broom corn, val. n/o 96 cents ea, first 121478 dz in calendar yr, class. in 9603.10.
9603.10.50 | Brooms (o/than whiskbrooms), wholly or in part broom corn, val. n/o 96 cents ea, in excess of 121478 dz in calendar yr., class in 9603.10.
9603.10.60 | Brooms (o/than whiskbrooms), wholly or in part broom corn, val. ov 96 cents each.
9603.10.90 | Brooms & brushes of twigs or vegetable materials (o/than broom corn) bound together, w/or w/o handles.
9603.21.00 | Toothbrushes, including dental-plate brushes.
9603.29.40 | Shaving brushes, hair brushes, nail brushes, eyelash and other toilet brushes (o/than tooth brushes), valued n/o 40 cents each.
9603.29.80 | Shaving brushes, hair brushes, nail brushes, eyelash and other toilet brushes (o/than tooth brushes), valued o/40 cents each.
9603.30.20 | Artists' brushes, writing brushes and similar brushes for the application of cosmetics, valued n/o 5 cents each.
9603.30.40 | Artists' brushes, writing brushes and similar brushes for the application of cosmetics, valued o/5 cents but n/o 10 cents each.
9603.30.60 | Artists' brushes, writing brushes and similar brushes for the application of cosmetics, valued o/10 cents each.
9603.40.20 | Paint rollers.
9603.40.40 | Paint, distemper, varnish or similar brushes (o/than artists' brushes); paint pads.
9603.50.00 | Brushes, constituting parts of machines, appliances or vehicles, nesoi.
9603.90.40 | Feather dusters.
9603.90.80 | Brooms & brushes nesoi, mops, hand-operated mechanical floor sweepers, squeegees and similar articles, nesoi.
9604.00.00 | Hand sieves and hand riddles.
9605.00.00 | Travel sets for personal toilet, sewing, shoe or clothes cleaning (o/than manicure and pedicure sets of 8214).
9608.10.00 | Pens, w/ball point.
9608.20.00 | Pens and markers, w/felt tip or other porous-tip.
9608.30.00 | Pens, fountain, stylograph and other pens, nesoi.
9608.40.40 | Pencils, propelling or sliding, w/mechanical action for extending, or for extending and retracting, the lead.
9608.40.80 | Pencils, propelling or sliding pencils, not w/mechanical action for extending, or for extending and retracting, the lead.
9608.50.00 | Sets of pens, mechanical pencils, etc. from two or more subheadings 9608.10-9608.40.
9608.60.00 | Refills for ball point pens, comprising the ball point and ink reservoir.
9608.91.00 | Pen nibs and nib points.
9608.99.20 | Refill cartridges for pens (o/than ball point pens).
9608.99.30 | Balls for ball point pens.
9608.99.40 | Parts, of pens, mechanical pencils, etc. provided for in 9608.10, 9608.31, and 9608.39 (o/than balls for ball point pens).
9608.99.60 | Duplicating stylos, pen-holders, pencil-holders and similar holders & pts. thereof, and parts of pens, mech. pencils, etc. of 9608 nesoi.
9609.10.00 | Pencils & crayons, with leads encased in a rigid sheath.
9609.20.20 | Pencil leads, black or colored, n/o 1.5 mm in maximum cross-sectional dimension.
9609.20.40 | Pencil leads, black or colored, o/1.5 mm in maximum cross-sectional dimension.
9609.90.40 | Tailors' chalks.
9609.90.80 | Pencils & crayons (o/than in rigid sheath), pastels, drawing charcoals and writing or drawing chalks, nesoi.
9610.00.00 | Slates and boards, with writing or drawing surfaces (whether or not framed).
9611.00.00 | Date, sealing or numbering stamps and the like, designed for operating in the hand; hand-operated composing sticks and hand printing sets.
9612.10.10 | Ribbons, inked or otherwise prepared, less than 30 mm wide, put up in plastic/metal cart., of a kind used in typewriters, ADP or other mach.
9612.10.90 | Ribbons, inked or otherwise prepared (whether or not on spools) nesoi, for typewriters and similar uses.
9612.20.00 | Ink pads (whether or not inked and with or without boxes).
9613.10.00 | Cigarette lighters and similar lighters, gas fueled, not refillable, for the pocket.
9613.20.00 | Cigarette lighters and similar lighters, gas fueled, refillable, for the pocket.
9613.80.10 | Cigarette lighters and similar lighters, for the table.
9613.80.20 | Cigarette lighters and similar lighters (other than pocket or table), electrical.
9613.80.40 | Cigarette lighters & similar lighters (o/than pocket or table), n/elect., of prec. metal (o/than silver), precious/semiprec. stones, or comb.
9613.80.60 | Cigarette lighters & similar lighters (o/than pocket or table), n/elect., nesoi, valued n/o $5/dozen pieces.
9613.80.80 | Cigarette lighters & similar lighters (o/than pocket or table), n/elect., nesoi, valued over $5/dozen pieces.
9613.90.40 | Parts for electrical cigarette lighters and similar lighters.
9613.90.80 | Parts for nonelectrical cigarette lighters and similar lighters.
9614.00.21 | Roughly shaped blocks of wood or root, for the manufacture of smoking pipes.
9614.00.25 | Smoking pipes (o/than roughly shaped blocks of wood or root for the manufacture of smoking pipes) and pipe bowls of wood or root.
9614.00.26 | Smoking pipes and bowls, wholly of clay, and other smoking pipes w/bowls wholly of clay.
9614.00.28 | Smoking pipes and pipe bowls (o/than wood, root or wholly of clay).
9614.00.94 | Cigar or cigarette holders of metal; parts of metal for smoking pipes & bowls or for cigar or cigarette holders.
9614.00.98 | Cigar or cigarette holders o/than of metal; parts o/than of metal for smoking pipes & bowls or for cigar or cigarette holders.
9615.11.10 | Combs, of hard rubber or plastics, valued n/o $4.50 per gross.
9615.11.20 | Combs, of hard rubber, valued over $4.50 per gross.
9615.11.30 | Combs, of plastics, valued over $4.50 per gross.
9615.11.40 | Hair slides and the like, of hard rubber or plastics, not set with imitation pearls or imitation gemstones.
9615.11.50 | Hair slides and the like, of hard rubber or plastics, set w/imitation pearls or imit. gemstones.
9615.19.20 | Combs, not of hard rubber or plastics, valued n/o $4.50 per gross.
9615.19.40 | Combs, not of hard rubber or plastics, valued over $4.50 per gross.
9615.19.60 | Hair-slides and the like, not of hard rubber or plastics.
9615.90.20 | Nonthermic, nonornamental devices for curling the hair.
9615.90.30 | Hair pins.
9615.90.40 | Hair accessories and pts thereof, and pts. of combs, hair slides, etc. nesoi, of rubber or plastics, n/set w/imit. pearls or imit. gemstones.
9615.90.60 | Hair accessories and pts thereof, and pts. of combs, hair slides, etc. nesoi.
9616.10.00 | Scent sprayers and similar toilet sprayers, and mounts and heads therefor.
9616.20.00 | Powder puffs and pads for the application of cosmetics or toilet preparations.
9617.00.10 | Vacuum flasks and vessels, complete with cases, w/capacity n/o 1 liter.
9617.00.30 | Vacuum flasks and vessels, complete with cases, w/capacity o/1 liter but n/o 2 liters.
9617.00.40 | Vacuum flasks and vessels, complete with cases, w/capacity o/2 liters.
9617.00.60 | Vacuum flask and vacuum vessel parts (o/than glass liners).
9618.00.00 | Tailors' dummies and other mannequins; automatons and other animated displays used for shop window dressing.
9619.00.05 | Sanitary napkins and tampons, diapers and diaper liners and similar sanitary articles, of plastics.
9619.00.11 | Sanitary napkins and tampons, diapers and diaper liners and similar sanitary articles, of paper pulp.
9619.00.15 | Sanitary napkins and tampons, diapers and diaper liners and similar sanitary articles, other than of paper pulp.
9619.00.21 | Sanitary towels and tampons, diapers and diaper liners for babies and similar sanitary articles, of wadding of cotton.
9619.00.25 | Sanitary towels and tampons, diapers and diaper liners for babies & similar sanitary articles, of wadding of other textile materials, nesoi.
9619.00.31 | Babies' diapers, knitted or crocheted, of cotton, nesoi.
9619.00.33 | Babies' diapers nesoi, of cotton, not knitted or crocheted.
9619.00.41 | Babies' diapers, not knitted or crocheted, nesoi, of synthetic fibers.
9619.00.43 | Babies' diapers, not knitted or crocheted, nesoi, of artificial fibers.
9619.00.46 | Babies diapers, of textile materials (except wool, cotton or mmf), containing under 70% by weight of silk, k/c.
9619.00.48 | Babies' diapers, of textile mats (except wool, cotton or mmf), cont under 70% by wt of silk or silk waste, not k/c.
9619.00.61 | Other sanitary garments nesoi, knitted or crocheted, of cotton.
9619.00.64 | Other sanitary garments nesoi, knitted or crocheted, of man-made fibers.
9619.00.68 | Other sanitary garments, nesoi, of textile materials (except wool, cotton or mmf), <70% by wt of silk or silk waste, knitted/crocheted.
9619.00.71 | Other sanitary garments nesoi, not knitted or crocheted, of cotton.
9619.00.74 | Other sanitary garments nesoi, not knitted or crocheted, of man-made fibers.
9619.00.78 | Men's or boys' other sanitary garments, nesoi, of tex mat (except wool, cotton or mmf), cont under 70% by wt of silk, not k/c.
9619.00.79 | Women's or girls' other sanitary garments, nesoi, of tex mat (except wool, cotton or mmf), cont under 70% by wt of silk, not k/c.
9619.00.90 | Other sanitary included articles of textile materials, nesoi.
9701.10.00 | Paintings, drawings (o/than of 4906) and pastels, executed entirely by hand, whether or not framed.
9701.90.00 | Collages and similar decorative plaques, executed entirely by hand, whether or not framed.
9702.00.00 | Original engravings, prints and lithographs, whether or not framed.
9703.00.00 | Original sculptures and statuary, in any material.
9704.00.00 | Postage or revenue stamps, stamp-postmarks, first-day covers, postal stationery, and the like, used or unused, other than heading 4907.
9705.00.00 | Collections and collectors' pieces of zoological, botanical, mineralogical, anatomical, historical, archaeological etc. interest.
9706.00.00 | Antiques of an age exceeding one hundred years.

Section 2
[All products that are classified in the 10-digit statistical reporting numbers of the HTS that are listed in Section 2 of this Annex are covered by the proposed action. The product descriptions that are contained in Section 2 of this Annex are provided for informational purposes only, and are not intended to delimit in any way the scope of the proposed action. Any questions regarding the scope of a particular HTS subheading should be referred to U.S. Customs and Border Protection. In the product descriptions, the abbreviation “nesoi” means “not elsewhere specified or included”.]
HTS statistical reporting No. | Product description
2931.90.9051 | NON-AROMATIC ORGANO-INORGANIC COMPOUNDS, NESOI.
8517.62.0090 | MACHINES FOR THE RECEPTION, CONVERSION AND TRANSMISSION OR REGENERATION OF VOICE, IMAGES OR OTHER DATA, NESOI.
9401.61.4001 | CHAIRS FOR CHILDREN, INCLUDING HIGHCHAIRS, UPHOLSTERED, WITH WOODEN FRAMES, NESOI.
9401.69.6001 | CHAIRS FOR CHILDREN, INCLUDING HIGHCHAIRS, WITH WOODEN FRAMES, NESOI.
9401.71.0001 | HIGHCHAIRS AND BOOSTER SEATS, UPHOLSTERED, WITH METAL FRAMES.
9401.71.0005 | INFANT WALKERS, UPHOLSTERED, WITH METAL FRAMES.
9401.71.0006 | BOUNCERS WITH SEATS, UPHOLSTERED, WITH METAL FRAMES.
9401.71.0007 | SWINGS FOR CHILDREN, UPHOLSTERED, WITH METAL FRAMES.
9401.79.0001 | HIGHCHAIRS AND BOOSTER SEATS WITH METAL FRAMES, NESOI.
9401.79.0002 | INFANT WALKERS WITH METAL FRAMES, NESOI.
9401.79.0003 | BOUNCERS WITH SEATS, WITH METAL FRAMES, NESOI.
9401.79.0004 | SWINGS FOR CHILDREN, WITH METAL FRAMES, NESOI.
9401.80.2001 | HIGHCHAIRS, BOOSTER SEATS EXC FOR MOTOR VEHICLES, BATH SEATS, INFANT WALKERS, BOUNCERS W/SEATS, SWINGS FOR CHILDREN, OF REINFORCED/LAMINATED PLASTICS.
9401.80.4001 | HIGHCHAIRS, BOOSTER SEATS EXCEPT FOR MOTOR VEHICLES, BATH SEATS, INFANT WALKERS, BOUNCERS WITH SEATS, SWINGS FOR CHILDREN, OF RUBBER OR PLASTICS NESOI.
9401.80.6021 | CHILD SAFETY SEATS WITH DETACHABLE HARD-SHELL SEAT.
9401.80.6023 | CHILD SAFETY SEATS, NESOI.
9403.70.4003 | PLAY YARDS AND OTHER ENCLOSURES FOR CONFINING CHILDREN, OF REINFORCED OR LAMINATED PLASTICS.
9403.70.8003 | PLAY YARDS AND OTHER ENCLOSURES FOR CONFINING CHILDREN, OF PLASTICS, NESOI.

[FR Doc. 2019-10191 Filed 5-16-19; 8:45 am]

BILLING CODE 3290-F9-P